DEPARTMENT OF HEALTH AND HUMAN SERVICES

Centers for Medicare & Medicaid Services

42 CFR Parts 410, 411, 412, 413, 414, 416, 419, 482, and 485

[(CMS-1392-CN), (CMS-1533-CN), and (CMS-1531-CN)]

RIN 0938-AO71, RIN 0938-AO70, and RIN 0938-AO35

Medicare Program; Changes to the Hospital Outpatient Prospective Payment System and CY 2008 Payment Rates, the Ambulatory Surgical Center Payment System and CY 2008 Payment Rates, the Hospital Inpatient Prospective Payment System and FY 2008 Payment Rates; and Payments for Graduate Medical Education for Affiliated Teaching Hospitals in Certain Emergency Situations Medicare and Medicaid Programs: Hospital Conditions of Participation; Necessary Provider Designations of Critical Access Hospitals; Correction

AGENCY: Centers for Medicare & Medicaid Services (CMS), HHS.

ACTION: Correction of final rule with comment period.

SUMMARY: This document corrects technical errors that appeared in the final rule with comment period published in the Federal Register (FR) on November 27, 2007, entitled “Changes to the Hospital Outpatient Prospective Payment System and CY 2008 Payment Rates, the Ambulatory Surgical Center Payment System and CY 2008 Payment Rates, the Hospital Inpatient Prospective Payment System and FY 2008 Payment Rates; and Payments for Graduate Medical Education for Affiliated Teaching Hospitals in Certain Emergency Situations Medicare and Medicaid Programs: Hospital Conditions of Participation; Necessary Provider Designations of Critical Access Hospitals.”

DATES: Effective Date: January 1, 2008 except that the correction to §485.610(e) is effective February 22, 2008.

FOR FURTHER INFORMATION CONTACT: Alberta Dwivedi, (410) 786-0378.

SUPPLEMENTARY INFORMATION:

I. Background

In FR Doc. 07-5507 of November 27, 2007 (72 FR 66579), we have identified a number of technical and typographical errors that we describe in the “Summary of Errors” section and correct in the “Correction of Errors” section below. The provisions in this correction notice are effective as if they had been included in the document published on November 27, 2007. Accordingly, the corrections are effective January 1, 2008.

II. Summary of Errors

On November 27, 2007, we published a final rule with comment period entitled, “Changes to the Hospital Outpatient Prospective Payment System and CY 2008 Payment Rates, the Ambulatory Surgical Center Payment System and CY 2008 Payment Rates, the Hospital Inpatient Prospective Payment System and FY 2008 Payment Rates; and Payments for Graduate Medical Education for Affiliated Teaching Hospitals in Certain Emergency Situations Medicare and Medicaid Programs: Hospital Conditions of Participation; Necessary Provider Designations of Critical Access Hospitals,” (hereinafter referred to as the OPPS/ASC final rule with comment period). Included in that document were technical and typographical errors.

We incorrectly stated that the application deadline for submitting applications for a new class of new technology intraocular lenses in the “Dates” section under Application Deadline—New Class of New Technology Intraocular Lens was April 1, 2008. In the preamble to the OPPS/ASC final rule with comment period (72 FR 66855), we stated the correct application deadline date as March 14, 2008. We are changing the application deadline in the “Dates” section to reflect the correct date of March 14, 2008. We also stated that approximately 131 million final action claims were used for hospital outpatient department services furnished on or after January 1, 2006 and before January 1, 2007 for the purpose of recalibrating the OPPS relative weights for CY 2008. The actual number of final action claims used was 141 million. In addition, we stated that we would provide further instructions about reporting echocardiography procedures with and without contrast in the January 2007 OPPS update. The correct reference should have been to the January 2008 OPPS update and we are correcting the statement. Furthermore, we are correcting the typographical errors that mistakenly reversed the listings for the composite APC procedure codes for APC 8001 and APC 8000.

We also inadvertently failed to address in the OPPS/ASC final rule with comment period two timely public comments. This document includes summaries of those public comments and our responses.

The OPPS/ASC final rule with comment period included several addenda. We are adding three HCPCS codes (CPT codes 90650, 90681, and 90696) to Addendum B because they are new active CPT codes for CY 2008 that we omitted from the CY 2008 OPPS/ASC final rule with comment period. In publishing Addenda A and B, we inadvertently published incorrect minimum unadjusted copayment rates for several pass-through drugs and biologicals. Additionally, for several HCPCS codes where payment is based on mean costs from hospital claims, we inadvertently published CY 2007 payment rates instead of CY 2008 payment rates. In addition, in Addendum B, we inadvertently assigned status indicator “L” to new CPT codes 90661, 90662, and 90663 that indicated these codes would be paid in CY 2008. These three CPT codes actually describe vaccines where there are currently no FDA-approved products and, therefore, these codes are noncovered by Medicare as of January 2008. We are changing the status indicator to “E”, to reflect the correct status. Furthermore, we inadvertently assigned a payable status indicator to HCPCS code G0377. We note that this is a noncovered service under Medicare Part B in accordance with the statute as of January 1, 2008. Also, in Addendum B, we incorrectly assigned status indicator “M”, indicating services not billable to the fiscal intermediary, to new CY 2008 HCPCS code G9140, when this service may be paid off another fee schedule by fiscal intermediaries.

In addition, we are republishing Addenda AA and BB to take into account updated Medicare Physician Fee Schedule (MPFS) CY 2008 information. As required at 42 CFR § 416.171(d), the revised ASC payment system limits payment for office-based procedures and covered ancillary radiology services to the lesser of the ASC rate or the amount calculated by multiplying the nonfacility practice expense (PE) relative value units (RVUs) for the service by the conversion factor under the MPFS. However, the PE RVUs listed for many CPT codes in Addendum B of the CY 2008 MPFS final rule (72 FR 66222) were incorrect due to a methodological error and consequently, have been corrected in a correction notice to that final rule (73 FR 2568). Since the ASC payment amounts for office-based procedures and covered ancillary services are determined using the amounts in the MPFS final rule, we must correct the CY 2008 payment amounts for ASC procedures and services using the corrected MPFS amounts. The corrected payment amounts are reflected in Addenda AA and BB to this correction notice. Lastly, we inadvertently labeled two Addendum as Addendum DD2 and are correcting “Addendum DD2-OPPS Comment Indicators” to read “Addendum D2-OPPS Comment Indicators.” In Addendum M, we inadvertently assigned incorrect APCs to HCPCS codes 90862, 96102, and M0064. The APC assignments of these individual services were correct in Addendum B to the CY 2008 OPPS/ASC final rule with comment period (72 FR 67096, 67103, and 67160) that identified OPPS payment by HCPCS code. Therefore, we are correcting their assignments in Addendum M that identified HCPCS codes that may be paid through composite APCs to reflect their correct OPPS treatment if they are paid through a single code APC.

III. Correction of Errors

In FR Doc. 07-5507 (72 FR 66579), we are making the following corrections:

1. On page 66580, in the second column, line 6 of the paragraph entitled, “Application Deadline—New Class of New Technology Intraocular Lens:” in the “Dates” section, the application deadline date “April 1, 2008” is corrected to read “March 14, 2008”.

2. On page 66589, in the first column, in line 15, the number “131 million” is corrected to read “141 million.”

3. On page 66644, in the third column, in lines 12 and 13, the date “January 2007” is corrected to read “January 2008.”

4. On page 66669, in the third column, fourth full paragraph, the paragraph is deleted and replaced in its entirety to read as follows:

We received one comment related to our proposal.

Comment: A commenter disagreed with the statement in the CY 2008 OPPS/ASC proposed rule that the circumstances in which total body hypothermia would be provided to a Medicare beneficiary would be extremely rare. The commenter stated that approximately 72 percent of all U.S. hospitals do not have cardiac catheterization or open heart surgery capabilities. The commenter also stated that it would be common for many post-cardiac arrest patients who are treated in these hospitals to be transferred to another facility that can provide the necessary services. The commenter also disagreed that low-cost methods to induce hypothermia, such as applying ice packs to the patient, are viable alternatives to technologically advanced methods of inducing hypothermia, specifically because the low-cost methods are ineffective and inconvenient. According to the commenter, the small number of claims (39 in CY 2006) and low median cost ($35) for CPT code 99816 (Hypothermia; total body) mean that a hospital receives no additional payment when providing hypothermia. The commenter recommended that CMS create a Level II HCPCS G-code for technologically advanced methods of inducing hypothermia, and that CMS pay separately for this new code.

Response: We proposed to package payment for CPT code 99816 for CY 2008. We continue to believe that when a patient presents to one hospital and then is cooled and transported to another hospital without admission to the first hospital, payment for the hypothermia service would be most appropriately packaged into payment for the many other separately payable services that it most likely accompanied and that would be paid to the first hospital under the OPPS. To the extent that technologically advanced methods to induce hypothermia may become an adopted standard of care by more hospitals over time based on the evolution of clinical practice, the median cost for CPT code 99186 may change to reflect contemporary utilization patterns. In general, if a service is described by an existing CPT code, we do not create an additional Level II HCPCS code for payment. Instead, the commenter may wish to discuss the hypothermia service with the AMA's CPT Editorial Panel in order to assess the need for any changes to CPT codes. Therefore, we are finalizing our proposal to maintain the packaged status of CPT code 99186 for CY 2008.

5. On page 66726, in the second column, first full paragraph, under the heading “b. Endovenous Ablation (APC 0092)”, the paragraph is deleted and replaced in its entirety to read as follows:

“For CY 2008, we proposed to pay approximately $1,684 for CPT codes 36476 (Endovenous ablation therapy of incompetent vein, extremity, inclusive of all imaging guidance and monitoring, percutaneous, radiofrequency; second and subsequent veins treated in a single extremity, each through separate access sites) and 36478 (Endovenous ablation therapy of incompetent vein, extremity, inclusive of all imaging guidance and monitoring, percutaneous, laser; first vein treated) through their proposed assignment to APC 0092 (Level I Vascular Ligation). In CY 2007, CPT code 36476 is assigned to APC 0091 (Level II Vascular Ligation), which has a proposed CY 2008 payment rate of $2,781. The proposed APC assignment for CPT code 36478 is the same as its CY 2007 APC assignment.

6. On page 66726, in the second column, second full paragraph, under the heading “b. Endovenous Ablation (APC 0092)”, the paragraph is deleted and replaced in its entirety to read as follows:

``We received several public comments on the proposed CY 2008 payment for CPT codes 36476 and 36478. A summary of the public comments and our response follow.''

Comment: A commenter disagreed with our proposed reassignment of add-on CPT code 36476 (Endovenous ablation therapy of incompetent vein, extremity, inclusive of all imaging guidance and monitoring, percutaneous, radiofrequency; second and subsequent veins treated in a single extremity, each through separate access sites) from APC 0091 (Level II Vascular Ligation), with a proposed CY 2008 payment of approximately $2,781, to APC 0092 (Level I Vascular Ligation), with a proposed CY 2008 payment of approximately $1,684. According to the commenter, CPT code 36476 should remain in APC 0091, the same APC to which its associated primary CPT code, 36475 (Endovenous ablation therapy of incompetent vein, extremity, inclusive of all imaging guidance and monitoring, percutaneous, radiofrequency; first vein treated), was proposed for assignment in CY 2008. The commenter asserted that the procedures described by CPT codes 36475 and 36476 are clinically similar and use comparable resources, and that the application of the multiple procedure reduction to lower-paying APC 0092 would result in inaccurate payment for the CPT code 36476 add-on procedure, which always must be performed in conjunction with the primary procedure.

Response: We proposed to reassign 36476 from APC 0091 to APC 0092 because proposed rule claims data indicated that the costs associated with CPT code 36476 are more similar to the costs of other procedures assigned to APC 0092, taking into account the multiple surgical procedure 50 percent payment reduction that would be applied in the typical cases where CPT code 36476 was reported in conjunction with CPT code 36475. Final rule claims data support this reassignment; the median cost for CPT code 36476 is approximately $971, while the CY 2008 payment rate for APC 0092 is approximately $1,646, and the payment rate for APC 0091 is approximately $2,714. The median cost for the first vessel CPT code 36475 is much higher than that of CPT code 36476, at approximately $2,396, which we believe to be a reflection of the significantly higher relative cost of furnishing the initial service described by CPT code 36475 compared to the additional service described by CPT code 36476, likely due in part to the radiofrequency catheter cost that is associated with the initial service. We disagree with the commenter that CPT codes 36475 and 36476 are similar in terms of resource utilization based on this cost data.

The application of the multiple procedure reduction of 50 percent to APC 0092 when CPT code 36476 is billed with another procedure with status indicator ``T,'' such as CPT code 36475, would result in a payment of approximately $823, a sum that is only slightly less than the approximate $971 median cost of CPT code 36476. In contrast, if CPT code 36476 were assigned to APC 0091, the payment with the multiple procedure reduction would be approximately $1,357, a substantial overpayment. Therefore, we disagree with the commenter that assignment of CPT code 36476 to APC 0092 would result in inaccurate payment, even with application of the multiple procedure reduction. While it is true that the procedure described by CPT code 36476 is clinically similar to the procedure described by CPT code 36475 which is assigned to APC 0091 as the commenter asserts, it also is clinically similar to other procedures in APC 0092, which includes a variety of surgical procedures involving veins.

In summary, we continue to believe that the procedure described by CPT code 36476 is similar both clinically and in terms of resource utilization to other procedures assigned to APC 0092, even with application of the multiple procedure reduction. Therefore, after review of the public comment received, we are finalizing our proposal, without modification, to reassign CPT code 36476 to APC 0092 for CY 2008.

7. On page 66726, in the third column, the third full paragraph, the paragraph is deleted and replaced in its entirety to read as follows:

``After consideration of the public comments received, we are finalizing our CY 2008 proposal, without modification, to assign CPT codes 36476 and 36478 to APC 0092, with a median cost of about $1,626''.

8. On page 66906, in the third column, in the first full paragraph—

A. In line 16, the APC code “8000” is corrected to read “8001.”

B. In line 24, the APC code, “8001” is corrected to read “8000.”

Correction to Regulations Text

On page 66934, the introductory text of § 485.610(e) is revised to read as follows:

§ 485.610 Conditions of participation: Status and location.

* * * * *

(e) Standard: Off-campus and co-location requirements for CAHs. A CAH may continue to meet the location requirements of paragraph (c) of this section only if the CAH meets the following:

* * * * *

Corrections to Addenda

Addendum A.—OPPS APCS for CY 2008

1. On page 66939, for APC 0825, in line 74, in column 7, the minimum unadjusted copayment “$17.37” is corrected to read “$17.20.”

2. On page 66940, for APC 0911, in line 43—

A. In column 5, the payment rate “$129.75” is corrected to read “$20.89.”

B. In column 7, the minimum unadjusted copayment “25.95” is corrected to read “$4.18.”

3. On page 66940, for APC 0951, in line 7 from the bottom of the page, in column 7, the minimum unadjusted copayment “$44.16” is corrected to read “$43.74.”

4. On page 66941, for APC 0998, in line 11—

A. In column 5, the payment rate “$88.15” is corrected to read “$12.24.”

B. In column 7, the minimum unadjusted copayment “$17.63” is corrected to read “$2.45.”

5. On page 66941, for APC 1041, in line 27—

A. In column 5, the payment rate “$172.41” is corrected to read “$19.81.”

B. In column 7, the minimum unadjusted copayment “$34.48” is corrected to read “$3.96.”

6. On page 66941, for APC 1141, in line 36—

A. In column 5, the payment rate “$67.96” is corrected to read “$42.24.”

B. In column 7, the minimum unadjusted copayment “$13.59” is corrected to read “$8.37.”

7. On page 66941, for APC 1168, in line 42, in column 7, the minimum unadjusted copayment “$9.68” is corrected to read “$9.59.”

8. On page 66941, for APC 1169, in line 43—

A. In column 5, the payment rate “$482.56” is corrected to read “$407.56.”

B. In column 7, the minimum unadjusted copayment “$96.51” is corrected to read “$80.74.”

9. On page 66942, for APC 1606, in line 52—

A. In column 5, the payment rate “$2,693.80” is corrected to read “$1,706.04.”

B. In column 7, the minimum unadjusted copayment “$538.76” is corrected to read “$341.21.”

10. On page 66943, for APC 2940, in line 37—

A. In column 5, the payment rate “$168.90” is corrected to read “$42.69.”

B. In column 7, the minimum unadjusted copayment “$33.78” is corrected to read “$8.54.”

11. On page 66944, for APC 9051, in line 5—

A. In column 5, the payment rate “$74.16” is corrected to read “$23.23.”

B. In column 7, the minimum unadjusted copayment “$14.83” is corrected to read “$4.65.”

12. On page 66944, for APC 9126, in line 17, in column 7, the minimum unadjusted copayment “$1.50” is corrected to read “$1.49.”

13. On page 66944, for APC 9140, in line 23—

A. In column 5, the payment rate “$119.86” is corrected to read “$118.82.”

B. In column 7, the minimum unadjusted copayment “$23.97” is corrected to read “$23.76.”

14. On page 66944, for APC 9141, in line 24—

A. In column 5, the payment rate “$45.53” is corrected to read “$66.38.”

B. In column 7, the minimum unadjusted copayment “$9.11” is corrected to read “$13.28.”

15. On page 66944, for APC 9167, in line 29—

A. In column 5, the payment rate “$77.96” is corrected to read “$219.39.”

B. In column 7, the minimum unadjusted copayment “$15.59” is corrected to read “$43.88.”

16. On page 66944—

A. For APC 9227, in line 43, in column 7, the minimum unadjusted copayment “$0.29” is corrected to read “$0.28.”

B. For APC 9229, in line 45, in column 7, the minimum unadjusted copayment “$27.79” is corrected to read “$27.53.”

C. For APC 9230, in line 46, in column 7, the minimum unadjusted copayment “$3.74” is corrected to read “$3.70.”

D. For APC 9232, in line 48, in column 7, the minimum unadjusted copayment “$91.01” is corrected to read “$90.15.”

E. For APC 9233, in line 49, in column 7, the minimum unadjusted copayment “$406.05” is corrected to read “$402.22.”

F. For APC 9235, in line 51, in column 7, the minimum unadjusted copayment “$16.63” is corrected to read “$16.47.”

G. For APC 9236, in line 52, in column 7, the minimum unadjusted copayment “$35.28” is corrected to read “$34.94.”

17. On page 66944, for APC 9350, in line 55—

A. In column 5, the payment rate “$482.56” is corrected to read “$496.87.”

B. In column 7, the minimum unadjusted copayment “$96.51” is corrected to read “$98.44.”

18. On page 66944, for APC 9351, in line 56—

A. In column 5, the payment rate “$67.96” is corrected to read “$95.32.”

B. In column 7, the minimum unadjusted copayment “$13.59” is corrected to read “$18.88.”

ADDENDUM AA.—ASC COVERED SURGICAL PROCEDURES FOR CY 2008

We are republishing Addendum AA in its entirety. See attached chart.

ADDENDUM B.—OPPS PAYMENT BY HCPCS CODE FOR CY 2008

1. On page 67095, the chart for HCPCS codes starting with HCPCS code 90649 through HCPCS code 90708 should read as follows:

HCPCS code | Short descriptor | CI | SI | APC | Relative weight | Payment rate | National unadjusted copayment | Minimum unadjusted copayment
90650 | Hpv typ bival 3 dose, im | NI | E |  |  |  |  |
90655 | Flu vaccine no preserv 6-35m |  | L |  |  |  |  |
90656 | Flu vaccine no preserv 3 & > |  | L |  |  |  |  |
90657 | Flu vaccine, 3 yrs, im |  | L |  |  |  |  |
90658 | Flu vaccine, 3 yrs & >, im |  | L |  |  |  |  |
90660 | Flu vaccine, nasal |  | L |  |  |  |  |
90661 | Flu vacc cell cult prsv free | NI | E |  |  |  |  |
90662 | Flu vacc prsv free inc antig | NI | E |  |  |  |  |
90663 | Flu vacc pandemic | NI | E |  |  |  |  |
90665 | Lyme disease vaccine, im |  | N |  |  |  |  |
90669 | Pneumococcal vacc, ped <5 | CH | L |  |  |  |  |
90675 | Rabies vaccine, im |  | K | 9139 |  | $150.80 |  | $30.16
90676 | Rabies vaccine, id |  | K | 9140 |  | $118.82 |  | $23.76
90680 | Rotavirus vacc 3 dose, oral |  | N |  |  |  |  |
90681 | Rotavirus vacc 2 dose, oral | NI | E |  |  |  |  |
90690 | Typhoid vaccine, oral |  | N |  |  |  |  |
90691 | Typhoid vaccine, im |  | N |  |  |  |  |
90692 | Typhoid vaccine, h-p, sc/id |  | N |  |  |  |  |
90693 | Typhoid vaccine, akd, sc |  | B |  |  |  |  |
90696 | Dtap-ipv vacc 4-6 yr, im | NI | E |  |  |  |  |
90698 | Dtap-hib-ip vaccine, im |  | N |  |  |  |  |
90700 | Dtap vaccine, < 7 yrs, im |  | N |  |  |  |  |
90701 | Dtp vaccine, im |  | N |  |  |  |  |
90702 | Dt vaccine < 7, im |  | N |  |  |  |  |
90703 | Tetanus vaccine, im |  | N |  |  |  |  |
90704 | Mumps vaccine, sc |  | N |  |  |  |  |
90705 | Measles vaccine, sc |  | N |  |  |  |  |
90706 | Rubella vaccine, sc |  | N |  |  |  |  |
90707 | Mmr vaccine, sc |  | N |  |  |  |  |
90708 | Measles-rubella vaccine, sc |  | K | 9141 |  | $66.38 |  | $13.28

2. On page 67118, for HCPCS code C9239, in line 25, in column 9, the minimum unadjusted copayment “$9.68” is corrected to read “$9.59.”

3. On page 67118, for HCPCS code C9352, in line 28—

A. In column 7, the payment rate “$482.56” is corrected to read “$496.87.”

B. In column 9, the minimum unadjusted copayment “$96.51” is corrected to read “$98.44.”

4. On page 67118, for HCPCS code C9353, in line 29—

A. In column 7, the payment rate “$482.56” is corrected to read “$407.56.”

B. In column 9, the minimum unadjusted copayment “$96.51” is corrected to read “$80.74.”

5. On page 67134, for HCPCS code G0377, in line 47—

A. In column 4, the SI code “S” is corrected to read “E.”

B. In column 5, the APC code “0437” is removed.

C. In column 6, the relative weight number “0.3945” is removed.

D. In column 7, the payment rate “$25.13” is removed.

E. In column 9, the minimum unadjusted copayment “$5.03” is removed.

6. On page 67139, for HCPCS code G9140, in line 40, in column 4, the SI code “M” is corrected to read “A”.

7. On page 67139, for HCPCS code J0129, in line 43, in column 9, the minimum unadjusted copayment “$3.74” is corrected to read “$3.70.”

8. On page 67139, for HCPCS code J0190, in line 52—

A. In column 7, the payment rate “$88.15” is corrected to read “$12.24.”

B. In column 9, the minimum unadjusted copayment “$17.63” is corrected to read “$2.45.”

9. On page 67139, for HCPCS code J0350, in line 74—

A. In column 7, the payment rate “$2,693.80” is corrected to read “$1,706.04.”

B. In column 9, the minimum unadjusted copayment “$538.76” is corrected to read “$341.21.”

10. On page 67141, for HCPCS code J1300, in line 17, in column 9, the minimum unadjusted copayment “$35.28” is corrected to read “$34.94.”

11. On page 67142—

A. For HCPCS code J1740, in line 4, in column 9, the minimum unadjusted copayment “$27.79” is corrected to read “$27.53.”

B. For HCPCS code J1743, in line 6, in column 9, the minimum unadjusted copayment “$91.01” is corrected to read “$90.15.”

C. For HCPCS code J2248, in line 43, in column 9, the minimum unadjusted copayment “$0.29” is corrected to read “$0.28.”

D. For HCPCS code J2323, in line 57, in column 9, the minimum unadjusted copayment “$1.50” is corrected to read “$1.49.”

12. On page 67143 for HCPCS code J2778, in line 21, in column 9, the minimum unadjusted copayment “$406.05” is corrected to read “$402.22.”

13. On page 67143, for HCPCS code J2940, in line 39—

A. In column 7, the payment rate “$168.90” is corrected to read “$42.69.”

B. In column 9, the minimum unadjusted copayment “$33.78” is corrected to read “$8.54.”

14. On page 67143, for HCPCS code J2995, in line 43—

A. In column 7, the payment rate “$129.75” is corrected to read “$20.89.”

B. In column 9, the minimum unadjusted copayment “$25.95” is corrected to read “$4.18.”

15. On page 67143, for HCPCS code J3350, in line 72—

A. In column 7, the payment rate “$74.16” is corrected to read “$23.23.”

B. In column 9, the minimum unadjusted copayment “$14.83” is corrected to read “$4.65.”

16. On page 67144, for HCPCS code J3488, in line 15, in column 9, the minimum unadjusted copayment “$44.16” is corrected to read “$43.74.”

17. On page 67144, for HCPCS code J7348, in line 65—

A. In column 7, the payment rate “$67.96” is corrected to read “$95.32,”

B. In column 9, the minimum unadjusted copayment “$13.59” is corrected to read “$18.88.”

18. On page 67144, for HCPCS code J7349, in line 66—

A. In column 7, the payment rate “$67.96” is corrected to read “$42.24,”

B. In column 9, the minimum unadjusted copayment “$13.59” is corrected to read “$8.37.”

19. On page 67146, for HCPCS code J9261, in line 65, in column 9, the minimum unadjusted copayment “$17.37” is corrected to read “$17.20.”

20. On page 67146, for HCPCS code J9270, in line 71—

A. In column 7, the payment rate “$172.41” is corrected to read “$19.81.”

B. In column 9, the minimum unadjusted copayment “$34.48” is corrected to read “$3.96.”

21. On page 67146, for HCPCS code J9303, in line 77, in column 9, the minimum unadjusted copayment “$16.63” is corrected to read “$16.47.”

22. On page 67147, for HCPCS code J9357, in line 4—

A. In column 7, the payment rate “$77.96” is corrected to read “$219.39.”

B. In column 9, the minimum unadjusted copayment “$15.59” is corrected to read “$43.88.”

ADDENDUM BB.—ASC COVERED ANCILLARY SERVICES INTEGRAL TO COVERED SURGICAL PROCEDURES FOR CY 2008

We are republishing Addendum BB in its entirety, see attached chart.

ADDENDUM DD2.—OPPS COMMENT INDICATORS

On page 67190, in line 1, the header “ADDENDUM DD2—OPPS COMMENT INDICATORS” is corrected to read “ADDENDUM D2—OPPS COMMENT INDICATORS.”

ADDENDUM M.—HCPCS CODES FOR ASSIGNMENT TO COMPOSITE APCS FOR CY 2008

On page 67225—

A. For HCPCS code 90862, in line 19, in column 5, the single code APC assignment number “0605” is corrected to read “0606.”

B. For HCPCS code 96102, in line 24, in column 5, the single code APC assignment number “0373” is corrected to read “0382.”

C. For HCPCS code M0064, in line 37, in column 5, the single code APC assignment number “0605” is corrected to read “0606.”

IV. Waiver of Proposed Rulemaking and Delay in Effective Date

We ordinarily publish a notice of proposed rulemaking in the Federal Register to provide a period for public comment before the provisions of a notice such as this takes effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that it is impracticable, unnecessary or contrary to the public interest, and incorporates a statement of the finding and the reasons therefore in the notice. The policies and payment methodology finalized in the CY 2008 OPPS/ASC final rule with comment period have previously been subjected to notice and comment procedures.

This correction notice merely provides technical corrections to the CY 2008 OPPS/ASC final rule with comment period that was promulgated through notice and comment rulemaking, and does not make substantive changes to the policies or payment methodologies that were finalized in the final rule with comment period. For example, in order to conform the document to the final policies of the CY 2008 OPPS/ASC final rule with comment period, this notice corrects typographical errors, makes clarifications to the preamble text, and revises inaccurate tabular data. Therefore, we find it unnecessary to undertake further notice and comment procedures with respect to this correction notice. For the reasons stated above, we find that both notice and comment and the 30-day delay in effective date for this correction notice are unnecessary. Therefore, we find there is good cause to waive notice and comment procedures and the 30-day delay in effective date for this correction notice.

(Catalog of Federal Domestic Assistance Program No. 93.774, Medicare—Supplementary Medical Insurance Program)

Dated: February 5, 2008.
Ann Agnew,
Executive Secretary to the Department.

Addendum AA.—ASC Covered Surgical Procedures for CY 2008
[Including Surgical Procedures for Which Payment Is Packaged]
HCPCS code | Short descriptor | Subject to multiple procedure discounting | Comment indicator | Payment indicator | CY 2007 ASC payment rate | CY 2008 fully implemented payment weight | CY 2008 fully implemented payment | CY 2008 first transition year payment
0016T | Thermotx choroid vasc lesion | Y |  | R2 |  | 4.1331 | $171.11 | $171.11
0017T | Photocoagulat macular drusen | Y |  | R2 |  | 4.1331 | $171.11 | $171.11
0027T | Endoscopic epidural lysis | Y |  | G2 |  | 18.0518 | $747.36 | $747.36
0031T | Speculoscopy | N |  | N1 |  |  |  |
0032T | Speculoscopy w/direct sample | N |  | N1 |  |  |  |
0046T | Cath lavage, mammary duct(s) | Y |  | R2 |  | 16.1001 | $666.56 | $666.56
0047T | Cath lavage, mammary duct(s) | Y |  | R2 |  | 16.1001 | $666.56 | $666.56
0062T | Rep intradisc annulus;1 lev | Y |  | G2 |  | 29.19 | $1,208.50 | $1,208.50
0063T | Rep intradisc annulus; >1 lev | Y |  | G2 |  | 29.19 | $1,208.50 | $1,208.50
0084T | Temp prostate urethral stent | Y |  | G2 |  | 2.0077 | $83.12 | $83.12
0088T | Rf tongue base vol reduxn | Y | CH | G2 |  | 16.3288 | $676.03 | $676.03
0099T * | Implant corneal ring | Y |  | R2 |  | 16.171 | $669.50 | $669.50
0100T | Prosth retina receive & gen | Y |  | G2 |  | 37.2078 | $1,540.44 | $1,540.44
0101T | Extracorp shockwv tx,hi enrg | Y |  | G2 |  | 29.19 | $1,208.50 | $1,208.50
0102T | Extracorp shockwv tx,anesth | Y |  | G2 |  | 29.19 | $1,208.50 | $1,208.50
0123T | Scleral fistulization | Y |  | G2 |  | 23.1758 | $959.50 | $959.50
0124T * | Conjunctival drug placement | Y |  | R2 |  | 5.1169 | $211.84 | $211.84
0137T | Prostate saturation sampling | Y | CH | G2 |  | 11.0338 | $456.81 | $456.81
0170T | Anorectal fistula plug rpr | Y | CH | G2 |  | 30.1606 | $1,248.68 | $1,248.68
0176T | Aqu canal dilat w/o retent | Y |  | A2 | $1,339.00 | 39.7101 | $1,644.04 | $1,415.26
0177T | Aqu canal dilat w retent | Y |  | A2 | $1,339.00 | 39.7101 | $1,644.04 | $1,415.26
0186T | Suprachoroidal drug delivery | Y | NI | G2 |  | 18.235 | $754.95 | $754.95
10021 | Fna w/o image | Y |  | P2 |  | 1.1097 | $45.94 | $45.94
10022 | Fna w/image | Y |  | G2 |  | 4.327 | $179.14 | $179.14
10040 | Acne surgery | Y |  | P2 |  | 0.793 | $32.83 | $32.83
10060 | Drainage of skin abscess | Y |  | P3 |  | 1.1191 | $46.33 | $46.33
10061 | Drainage of skin abscess | Y |  | P2 |  | 1.4066 | $58.23 | $58.23
10080 | Drainage of pilonidal cyst | Y |  | P2 |  | 1.4066 | $58.23 | $58.23
10081 | Drainage of pilonidal cyst | Y |  | P3 |  | 3.1106 | $128.78 | $128.78
10120 | Remove foreign body | Y |  | P2 |  | 1.4066 | $58.23 | $58.23
10121 | Remove foreign body | Y |  | A2 | $446.00 | 16.1001 | $666.56 | $501.14
10140 | Drainage of hematoma/fluid | Y |  | P3 |  | 1.6623 | $68.82 | $68.82
10160 | Puncture drainage of lesion | Y |  | P2 |  | 1.4066 | $58.23 | $58.23
10180 | Complex drainage, wound | Y |  | A2 | $446.00 | 18.3197 | $758.45 | $524.11
11000 | Debride infected skin | Y |  | P3 |  | 0.5348 | $22.14 | $22.14
11001 | Debride infected skin add-on | Y |  | P3 |  | 0.1894 | $7.84 | $7.84
11010 | Debride skin, fx | Y |  | A2 | $251.52 | 4.3039 | $178.19 | $233.19
11011 | Debride skin/muscle, fx | Y |  | A2 | $251.52 | 4.3039 | $178.19 | $233.19
11012 | Debride skin/muscle/bone, fx | Y |  | A2 | $251.52 | 4.3039 | $178.19 | $233.19
11040 | Debride skin, partial | Y |  | P3 |  | 0.4937 | $20.44 | $20.44
11041 | Debride skin, full | Y |  | P3 |  | 0.5679 | $23.51 | $23.51
11042 | Debride skin/tissue | Y |  | A2 | $164.42 | 2.6604 | $110.14 | $150.85
11043 | Debride tissue/muscle | Y |  | A2 | $164.42 | 2.6604 | $110.14 | $150.85
11044 | Debride tissue/muscle/bone | Y |  | A2 | $423.10 | 6.8816 | $284.91 | $388.55
11055 | Trim skin lesion | Y |  | P3 |  | 0.5596 | $23.17 | $23.17
11056 | Trim skin lesions, 2 to 4 | Y |  | P3 |  | 0.6253 | $25.89 | $25.89
11057 | Trim skin lesions, over 4 | Y |  | P3 |  | 0.7077 | $29.30 | $29.30
11100 | Biopsy, skin lesion | Y |  | P2 |  | 0.793 | $32.83 | $32.83
11101 | Biopsy, skin add-on | Y |  | P3 |  | 0.3046 | $12.61 | $12.61
11200 | Removal of skin tags | Y | CH | P2 |  | 0.793 | $32.83 | $32.83
11201 | Remove skin tags add-on | Y |  | P3 |  | 0.1316 | $5.45 | $5.45
11300 | Shave skin lesion | Y |  | P2 |  | 0.793 | $32.83 | $32.83
11301 | Shave skin lesion | Y |  | P2 |  | 0.793 | $32.83 | $32.83
11302 | Shave skin lesion | Y |  | P2 |  | 0.793 | $32.83 | $32.83
11303 | Shave skin lesion | Y |  | P2 |  | 1.4595 | $60.42 | $60.42
11305 | Shave skin lesion | Y |  | P3 |  | 0.7901 | $32.71 | $32.71
11306 | Shave skin lesion | Y | CH | P2 |  | 0.793 | $32.83 | $32.83
11307 | Shave skin lesion | Y |  | P2 |  | 0.793 | $32.83 | $32.83
11308 | Shave skin lesion | Y |  | P2 |  | 0.793 | $32.83 | $32.83
11310 | Shave skin lesion | Y | CH | P2 |  | 0.793 | $32.83 | $32.83
11311 | Shave skin lesion | Y |  | P2 |  | 0.793 | $32.83 | $32.83
11312 | Shave skin lesion | Y |  | P2 |  | 0.793 | $32.83 | $32.83
11313 | Shave skin lesion | Y | CH | P2 |  | 0.793 | $32.83 | $32.83
11400 | Exc tr-ext b9+marg 0.5 < cm | Y |  | P3 |  | 1.5963 | $66.09 | $66.09
11401 | Exc tr-ext b9+marg 0.6-1 cm | Y |  | P3 |  | 1.7444 | $72.22 | $72.22
11402 | Exc tr-ext b9+marg 1.1-2 cm | Y |  | P3 |  | 1.9009 | $78.70 | $78.70
11403 | Exc tr-ext b9+marg 2.1-3 cm | Y |  | P3 |  | 2.0408 | $84.49 | $84.49
11404 | Exc tr-ext b9+marg 3.1-4 cm | Y |  | A2 | $333.00 | 16.1001 | $666.56 | $416.39
11406 | Exc tr-ext b9+marg > 4.0 cm | Y |  | A2 | $446.00 | 16.1001 | $666.56 | $501.14
11420 | Exc h-f-nk-sp b9+marg 0.5 < | Y |  | P3 |  | 1.4811 | $61.32 | $61.32
11421 | Exc h-f-nk-sp b9+marg 0.6-1 | Y |  | P3 |  | 1.7611 | $72.91 | $72.91
11422 | Exc h-f-nk-sp b9+marg 1.1-2 | Y |  | P3 |  | 1.9338 | $80.06 | $80.06
11423 | Exc h-f-nk-sp b9+marg 2.1-3 | Y |  | P3 |  | 2.1642 | $89.60 | $89.60
11424 | Exc h-f-nk-sp b9+marg 3.1-4 | Y |  | A2 | $446.00 | 16.1001 | $666.56 | $501.14
11426 | Exc h-f-nk-sp b9+marg > 4 cm | Y |  | A2 | $446.00 | 21.1098 | $873.97 | $552.99
11440 | Exc face-mm b9+marg 0.5 < cm | Y |  | P3 |  | 1.728 | $71.54 | $71.54
11441 | Exc face-mm b9+marg 0.6-1 cm | Y |  | P3 |  | 1.942 | $80.40 | $80.40
11442 | Exc face-mm b9+marg 1.1-2 cm | Y |  | P3 |  | 2.1313 | $88.24 | $88.24
11443 | Exc face-mm b9+marg 2.1-3 cm | Y |  | P3 |  | 2.3864 | $98.80 | $98.80
11444 | Exc face-mm b9+marg 3.1-4 cm | Y |  | A2 | $333.00 | 8.685 | $359.57 | $339.64
11446 | Exc face-mm b9+marg > 4 cm | Y |  | A2 | $446.00 | 21.1098 | $873.97 | $552.99
11450 | Removal, sweat gland lesion | Y |  | A2 | $446.00 | 21.1098 | $873.97 | $552.99
11451 | Removal, sweat gland lesion | Y |  | A2 | $446.00 | 21.1098 | $873.97 | $552.99
11462 | Removal, sweat gland lesion | Y |  | A2 | $446.00 | 21.1098 | $873.97 | $552.99
11463 | Removal, sweat gland lesion | Y |  | A2 | $446.00 | 21.1098 | $873.97 | $552.99
11470 | Removal, sweat gland lesion | Y |  | A2 | $446.00 | 21.1098 | $873.97 | $552.99
11471 | Removal, sweat gland lesion | Y |  | A2 | $446.00 | 21.1098 | $873.97 | $552.99
11600 | Exc tr-ext mlg+marg 0.5 < cm | Y |  | P3 |  | 2.2135 | $91.64 | $91.64
11601 | Exc tr-ext mlg+marg 0.6-1 cm | Y |  | P3 |  | 2.5263 | $104.59 | $104.59
11602 | Exc tr-ext mlg+marg 1.1-2 cm | Y |  | P3 |  | 2.7485 | $113.79 | $113.79
11603 | Exc tr-ext mlg+marg 2.1-3 cm | Y |  | P3 |  | 2.9294 | $121.28 | $121.28
11604 | Exc tr-ext mlg+marg 3.1-4 cm | Y |  | A2 | $418.49 | 8.685 | $359.57 | $403.76
11606 | Exc tr-ext mlg+marg > 4 cm | Y |  | A2 | $446.00 | 16.1001 | $666.56 | $501.14
11620 | Exc h-f-nk-sp mlg+marg 0.5 < | Y |  | P3 |  | 2.2384 | $92.67 | $92.67
11621 | Exc h-f-nk-sp mlg+marg 0.6-1 | Y |  | P3 |  | 2.5509 | $105.61 | $105.61
11622 | Exc h-f-nk-sp mlg+marg 1.1-2 | Y |  | P3 |  | 2.8224 | $116.85 | $116.85
11623 | Exc h-f-nk-sp mlg+marg 2.1-3 | Y |  | P3 |  | 3.0692 | $127.07 | $127.07
11624 | Exc h-f-nk-sp mlg+marg 3.1-4 | Y |  | A2 | $446.00 | 16.1001 | $666.56 | $501.14
11626 | Exc h-f-nk-sp mlg+mar > 4 cm | Y |  | A2 | $446.00 | 21.1098 | $873.97 | $552.99
11640 | Exc face-mm malig+marg 0.5 < | Y |  | P3 |  | 2.3536 | $97.44 | $97.44
11641 | Exc face-mm malig+marg 0.6-1 | Y |  | P3 |  | 2.7403 | $113.45 | $113.45
11642 | Exc face-mm malig+marg 1.1-2 | Y |  | P3 |  | 3.061 | $126.73 | $126.73
11643 | Exc face-mm malig+marg 2.1-3 | Y |  | P3 |  | 3.3246 | $137.64 | $137.64
11644 | Exc face-mm malig+marg 3.1-4 | Y |  | A2 | $446.00 | 16.1001 | $666.56 | $501.14
11646 | Exc face-mm mlg+marg > 4 cm | Y |  | A2 | $446.00 | 21.1098 | $873.97 | $552.99
11719 | Trim nail(s) | Y |  | P3 |  | 0.2551 | $10.56 | $10.56
11720 | Debride nail, 1-5 | Y |  | P3 |  | 0.3292 | $13.63 | $13.63
11721 | Debride nail, 6 or more | Y |  | P3 |  | 0.4031 | $16.69 | $16.69
11730 | Removal of nail plate | Y | CH | P2 |  | 0.793 | $32.83 | $32.83
11732 | Remove nail plate, add-on | Y |  | P3 |  | 0.4031 | $16.69 | $16.69
11740 | Drain blood from under nail | Y | CH | P2 |  | 0.2963 | $12.27 | $12.27
11750 | Removal of nail bed | Y |  | P3 |  | 2.1065 | $87.21 | $87.21
11752 | Remove nail bed/finger tip | Y |  | P3 |  | 2.9048 | $120.26 | $120.26
11755 | Biopsy, nail unit | Y |  | P3 |  | 1.4811 | $61.32 | $61.32
11760 | Repair of nail bed | Y |  | G2 |  | 2.1051 | $87.15 | $87.15
11762 | Reconstruction of nail bed | Y | CH | P3 |  | 2.7072 | $112.08 | $112.08
11765 | Excision of nail fold, toe | Y |  | P2 |  | 1.4595 | $60.42 | $60.42
11770 | Removal of pilonidal lesion | Y |  | A2 | $510.00 | 21.1098 | $873.97 | $600.99
11771 | Removal of pilonidal lesion | Y |  | A2 | $510.00 | 21.1098 | $873.97 | $600.99
11772 | Removal of pilonidal lesion | Y |  | A2 | $510.00 | 21.1098 | $873.97 | $600.99
11900 | Injection into skin lesions | Y |  | P3 |  | 0.6418 | $26.57 | $26.57
11901 | Added skin lesions injection | Y |  | P3 |  | 0.6831 | $28.28 | $28.28
11920 | Correct skin color defects | Y |  | P2 |  | 2.1051 | $87.15 | $87.15
11921 | Correct skin color defects | Y |  | P2 |  | 2.1051 | $87.15 | $87.15
11922 | Correct skin color defects | Y |  | P3 |  | 0.8476 | $35.09 | $35.09
11950 | Therapy for contour defects | Y |  | P3 |  | 0.8311 | $34.41 | $34.41
11951 | Therapy for contour defects | Y |  | P3 |  | 0.9874 | $40.88 | $40.88
11952 | Therapy for contour defects | Y | CH | P2 |  | 1.2792 | $52.96 | $52.96
11954 | Therapy for contour defects | Y |  | P2 |  | 1.2792 | $52.96 | $52.96
11960 | Insert tissue expander(s) | Y |  | A2 | $446.00 | 20.2069 | $836.59 | $543.65
11970 | Replace tissue expander | Y |  | A2 | $510.00 | 42.985 | $1,779.62 | $827.41
11971 | Remove tissue expander(s) | Y |  | A2 | $333.00 | 21.1098 | $873.97 | $468.24
11976 | Removal of contraceptive cap | Y |  | P3 |  | 1.4154 | $58.60 | $58.60
11980 | Implant hormone pellet(s) | N |  | P2 |  | 0.631 | $26.12 | $26.12
11981 | Insert drug implant device | N |  | P2 |  | 0.631 | $26.12 | $26.12
11982 | Remove drug implant device | N |  | P2 |  | 0.631 | $26.12 | $26.12
11983 | Remove/insert drug implant | N |  | P2 |  | 0.631 | $26.12 | $26.12
12001 | Repair superficial wound(s) | Y |  | P2 |  | 1.2792 | $52.96 | $52.96
12002 | Repair superficial wound(s) | Y |  | P2 |  | 1.2792 | $52.96 | $52.96
12004 | Repair superficial wound(s) | Y |  | P2 |  | 1.2792 | $52.96 | $52.96
12005 | Repair superficial wound(s) | Y |  | A2 | $91.24 | 1.2792 | $52.96 | $81.67
12006 | Repair superficial wound(s) | Y |  | A2 | $91.24 | 1.2792 | $52.96 | $81.67
12007 | Repair superficial wound(s) | Y |  | A2 | $91.24 | 1.2792 | $52.96 | $81.67
12011 | Repair superficial wound(s) | Y |  | P2 |  | 1.2792 | $52.96 | $52.96
12013 | Repair superficial wound(s) | Y |  | P2 |  | 1.2792 | $52.96 | $52.96
12014 | Repair superficial wound(s) | Y |  | P2 |  | 1.2792 | $52.96 | $52.96
12015 | Repair superficial wound(s) | Y |  | G2 |  | 1.2792 | $52.96 | $52.96
12016 | Repair superficial wound(s) | Y |  | A2 | $91.24 | 1.2792 | $52.96 | $81.67
12017 | Repair superficial wound(s) | Y |  | A2 | $91.24 | 1.2792 | $52.96 | $81.67
12018 | Repair superficial wound(s) | Y |  | A2 | $91.24 | 1.2792 | $52.96 | $81.67
12020 | Closure of split wound | Y |  | A2 | $91.24 | 4.5263 | $187.39 | $115.28
12021 | Closure of split wound | Y |  | A2 | $91.24 | 4.5263 | $187.39 | $115.28
12031 | Layer closure of wound(s) | Y |  | P2 |  | 2.1051 | $87.15 | $87.15
12032 | Layer closure of wound(s) | Y |  | P2 |  | 2.1051 | $87.15 | $87.15
12034 | Layer closure of wound(s) | Y |  | A2 | $91.24 | 2.1051 | $87.15 | $90.22
12035 | Layer closure of wound(s) | Y |  | A2 | $91.24 | 2.1051 | $87.15 | $90.22
12036 | Layer closure of wound(s) | Y |  | A2 | $91.24 | 2.1051 | $87.15 | $90.22
12037 | Layer closure of wound(s) | Y |  | A2 | $323.28 | 2.1051 | $87.15 | $264.25
12041 | Layer closure of wound(s) | Y |  | P2 |  | 2.1051 | $87.15 | $87.15
12042 | Layer closure of wound(s) | Y |  | P2 |  | 2.1051 | $87.15 | $87.15
12044 | Layer closure of wound(s) | Y |  | A2 | $91.24 | 2.1051 | $87.15 | $90.22
12045 | Layer closure of wound(s) | Y |  | A2 | $91.24 | 2.1051 | $87.15 | $90.22
12046 | Layer closure of wound(s) | Y |  | A2 | $91.24 | 2.1051 | $87.15 | $90.22
12047 | Layer closure of wound(s) | Y |  | A2 | $323.28 | 2.1051 | $87.15 | $264.25
12051 | Layer closure of wound(s) | Y |  | P2 |  | 2.1051 | $87.15 | $87.15
12052 | Layer closure of wound(s) | Y |  | P2 |  | 2.1051 | $87.15 | $87.15
12053 | Layer closure of wound(s) | Y |  | P2 |  | 2.1051 | $87.15 | $87.15
12054 | Layer closure of wound(s) | Y |  | A2 | $91.24 | 2.1051 | $87.15 | $90.22
12055 | Layer closure of wound(s) | Y |  | A2 | $91.24 | 2.1051 | $87.15 | $90.22
12056 | Layer closure of wound(s) | Y |  | A2 | $91.24 | 2.1051 | $87.15 | $90.22
12057 | Layer closure of wound(s) | Y |  | A2 | $323.28 | 2.1051 | $87.15 | $264.25
13100 | Repair of wound or lesion | Y |  | A2 | $323.28 | 4.5263 | $187.39 | $289.31
13101 | Repair of wound or lesion | Y |  | A2 | $323.28 | 4.5263 | $187.39 | $289.31
13102 | Repair wound/lesion add-on | Y |  | A2 | $91.24 | 4.5263 | $187.39 | $115.28
13120 | Repair of wound or lesion | Y |  | A2 | $91.24 | 2.1051 | $87.15 | $90.22
13121 | Repair of wound or lesion | Y |  | A2 | $91.24 | 4.5263 | $187.39 | $115.28
13122 | Repair wound/lesion add-on | Y |  | A2 | $91.24 | 2.1051 | $87.15 | $90.22
13131 | Repair of wound or lesion | Y |  | A2 | $91.24 | 4.5263 | $187.39 | $115.28
13132 | Repair of wound or lesion | Y |  | A2 | $91.24 | 4.5263 | $187.39 | $115.28
13133 | Repair wound/lesion add-on | Y |  | A2 | $91.24 | 4.5263 | $187.39 | $115.28
13150 | Repair of wound or lesion | Y |  | A2 | $323.28 | 4.5263 | $187.39 | $289.31
13151 | Repair of wound or lesion | Y |  | A2 | $323.28 | 4.5263 | $187.39 | $289.31
13152 | Repair of wound or lesion | Y |  | A2 | $323.28 | 4.5263 | $187.39 | $289.31
13153 | Repair wound/lesion add-on | Y |  | A2 | $91.24 | 2.1051 | $87.15 | $90.22
13160 | Late closure of wound | Y |  | A2 | $446.00 | 20.2069 | $836.59 | $543.65
14000 | Skin tissue rearrangement | Y |  | A2 | $446.00 | 15.0458 | $622.91 | $490.23
14001 | Skin tissue rearrangement | Y |  | A2 | $510.00 | 15.0458 | $622.91 | $538.23
14020 | Skin tissue rearrangement | Y |  | A2 | $510.00 | 15.0458 | $622.91 | $538.23
14021 | Skin tissue rearrangement | Y |  | A2 | $510.00 | 15.0458 | $622.91 | $538.23
14040 | Skin tissue rearrangement | Y |  | A2 | $446.00 | 15.0458 | $622.91 | $490.23
14041 | Skin tissue rearrangement | Y |  | A2 | $510.00 | 15.0458 | $622.91 | $538.23
14060 | Skin tissue rearrangement | Y |  | A2 | $510.00 | 15.0458 | $622.91 | $538.23
14061 | Skin tissue rearrangement | Y |  | A2 | $510.00 | 15.0458 | $622.91 | $538.23
14300 | Skin tissue rearrangement | Y |  | A2 | $630.00 | 20.2069 | $836.59 | $681.65
14350 | Skin tissue rearrangement | Y |  | A2 | $510.00 | 20.2069 | $836.59 | $591.65
15002 | Wnd prep, ch/inf, trk/arm/lg | Y |  | A2 | $323.28 | 4.5263 | $187.39 | $289.31
15003 | Wnd prep, ch/inf addl 100 cm | Y |  | A2 | $323.28 | 4.5263 | $187.39 | $289.31
15004 | Wnd prep ch/inf, f/n/hf/g | Y |  | A2 | $323.28 | 4.5263 | $187.39 | $289.31
15005 | Wnd prep, f/n/hf/g, addl cm | Y |  | A2 | $323.28 | 4.5263 | $187.39 | $289.31
15040 | Harvest cultured skin graft | Y |  | A2 | $91.24 | 2.1051 | $87.15 | $90.22
15050 | Skin pinch graft | Y |  | A2 | $323.28 | 4.5263 | $187.39 | $289.31
15100 | Skin splt grft, trnk/arm/leg | Y |  | A2 | $446.00 | 20.2069 | $836.59 | $543.65
15101 | Skin splt grft t/a/l, add-on | Y |  | A2 | $510.00 | 20.2069 | $836.59 | $591.65
15110 | Epidrm autogrft trnk/arm/leg | Y |  | A2 | $446.00 | 4.5263 | $187.39 | $381.35
15111 | Epidrm autogrft t/a/l add-on | Y |  | A2 | $333.00 | 4.5263 | $187.39 | $296.60
15115 | Epidrm a-grft face/nck/hf/g | Y |  | A2 | $446.00 | 4.5263 | $187.39 | $381.35
15116 | Epidrm a-grft f/n/hf/g addl | Y |  | A2 | $333.00 | 4.5263 | $187.39 | $296.60
15120 | Skn splt a-grft fac/nck/hf/g | Y |  | A2 | $446.00 | 20.2069 | $836.59 | $543.65
15121 | Skn splt a-grft f/n/hf/g add | Y |  | A2 | $510.00 | 20.2069 | $836.59 | $591.65
15130 | Derm autograft, trnk/arm/leg | Y |  | A2 | $446.00 | 15.0458 | $622.91 | $490.23
15131 | Derm autograft t/a/l add-on | Y |  | A2 | $333.00 | 15.0458 | $622.91 | $405.48
15135 | Derm autograft face/nck/hf/g | Y |  | A2 | $446.00 | 15.0458 | $622.91 | $490.23
15136 | Derm autograft, f/n/hf/g add | Y |  | A2 | $333.00 | 15.0458 | $622.91 | $405.48
15150 | Cult epiderm grft t/arm/leg | Y |  | A2 | $446.00 | 4.5263 | $187.39 | $381.35
15151 | Cult epiderm grft t/a/l addl | Y |  | A2 | $333.00 | 4.5263 | $187.39 | $296.60
15152 | Cult epiderm graft t/a/l +% | Y |  | A2 | $333.00 | 4.5263 | $187.39 | $296.60
15155 | Cult epiderm graft, f/n/hf/g | Y |  | A2 | $446.00 | 4.5263 | $187.39 | $381.35
15156 | Cult epidrm grft f/n/hfg add | Y |  | A2 | $333.00 | 4.5263 | $187.39 | $296.60
15157 | Cult epiderm grft f/n/hfg +% | Y |  | A2 | $333.00 | 4.5263 | $187.39 | $296.60
15200 | Skin full graft, trunk | Y |  | A2 | $510.00 | 15.0458 | $622.91 | $538.23
15201 | Skin full graft trunk add-on | Y |  | A2 | $323.28 | 15.0458 | $622.91 | $398.19
15220 | Skin full graft sclp/arm/leg | Y |  | A2 | $446.00 | 15.0458 | $622.91 | $490.23
15221 | Skin full graft add-on | Y |  | A2 | $323.28 | 4.5263 | $187.39 | $289.31
15240 | Skin full grft face/genit/hf | Y |  | A2 | $510.00 | 15.0458 | $622.91 | $538.23
15241 | Skin full graft add-on | Y |  | A2 | $323.28 | 4.5263 | $187.39 | $289.31
15260 | Skin full graft een & lips | Y |  | A2 | $446.00 | 15.0458 | $622.91 | $490.23
15261 | Skin full graft add-on | Y |  | A2 | $323.28 | 15.0458 | $622.91 | $398.19
15300 | Apply skinallogrft, t/arm/lg | Y |  | A2 | $323.28 | 4.5263 | $187.39 | $289.31
15301 | Apply sknallogrft t/a/l addl | Y |  | A2 | $323.28 | 4.5263 | $187.39 | $289.31
15320 | Apply skin allogrft f/n/hf/g | Y |  | A2 | $323.28 | 4.5263 | $187.39 | $289.31
15321 | Aply sknallogrft f/n/hfg add | Y |  | A2 | $323.28 | 4.5263 | $187.39 | $289.31
15330 | Aply acell alogrft t/arm/leg | Y |  | A2 | $323.28 | 4.5263 | $187.39 | $289.31
15331 | Aply acell grft t/a/l add-on | Y |  | A2 | $323.28 | 4.5263 | $187.39 | $289.31
15335 | Apply acell graft, f/n/hf/g | Y |  | A2 | $323.28 | 4.5263 | $187.39 | $289.31
15336 | Aply acell grft f/n/hf/g add | Y |  | A2 | $323.28 | 4.5263 | $187.39 | $289.31
15340 | Apply cult skin substitute | Y | CH | G2 |  | 2.1051 | $87.15 | $87.15
15341 | Apply cult skin sub add-on | Y |  | G2 |  | 2.1051 | $87.15 | $87.15
15360 | Apply cult derm sub, t/a/l | Y |  | G2 |  | 2.1051 | $87.15 | $87.15
15361 | Aply cult derm sub t/a/l add | Y |  | G2 |  | 2.1051 | $87.15 | $87.15
15365 | Apply cult derm sub f/n/hf/g | Y |  | G2 |  | 2.1051 | $87.15 | $87.15
15366 | Apply cult derm f/hf/g add | Y |  | G2 |  | 2.1051 | $87.15 | $87.15
15400 | Apply skin xenograft, t/a/l | Y |  | A2 | $323.28 | 4.5263 | $187.39 | $289.31
15401 | Apply skn xenogrft t/a/l add | Y |  | A2 | $323.28 | 4.5263 | $187.39 | $289.31
15420 | Apply skin xgraft, f/n/hf/g | Y |  | A2 | $323.28 | 4.5263 | $187.39 | $289.31
15421 | Apply skn xgrft f/n/hf/g add | Y |  | A2 | $323.28 | 4.5263 | $187.39 | $289.31
15430 | Apply acellular xenograft | Y |  | A2 | $323.28 | 4.5263 | $187.39 | $289.31
15431 | Apply acellular xgraft add | Y |  | A2 | $323.28 | 4.5263 | $187.39 | $289.31
15570 | Form skin pedicle flap | Y |  | A2 | $510.00 | 20.2069 | $836.59 | $591.65
15572 | Form skin pedicle flap | Y |  | A2 | $510.00 | 20.2069 | $836.59 | $591.65
15574 | Form skin pedicle flap | Y |  | A2 | $510.00 | 20.2069 | $836.59 | $591.65
15576 | Form skin pedicle flap | Y |  | A2 | $510.00 | 20.2069 | $836.59 | $591.65
15600 | Skin graft | Y |  | A2 | $510.00 | 20.2069 | $836.59 | $591.65
15610 | Skin graft | Y |  | A2 | $510.00 | 20.2069 | $836.59 | $591.65
15620 | Skin graft | Y |  | A2 | $630.00 | 20.2069 | $836.59 | $681.65
15630 | Skin graft | Y |  | A2 | $510.00 | 20.2069 | $836.59 | $591.65
15650 | Transfer skin pedicle flap | Y |  | A2 | $717.00 | 20.2069 | $836.59 | $746.90
15731 | Forehead flap w/vasc pedicle | Y |  | A2 | $510.00 | 20.2069 | $836.59 | $591.65
15732 | Muscle-skin graft, head/neck | Y |  | A2 | $510.00 | 20.2069 | $836.59 | $591.65
15734 | Muscle-skin graft, trunk | Y |  | A2 | $510.00 | 20.2069 | $836.59 | $591.65
15736 | Muscle-skin graft, arm | Y |  | A2 | $510.00 | 20.2069 | $836.59 | $591.65
15738 | Muscle-skin graft, leg | Y |  | A2 | $510.00 | 20.2069 | $836.59 | $591.65
15740 | Island pedicle flap graft | Y |  | A2 | $446.00 | 15.0458 | $622.91 | $490.23
15750 | Neurovascular pedicle graft | Y |  | A2 | $446.00 | 20.2069 | $836.59 | $543.65
15760 | Composite skin graft | Y |  | A2 | $446.00 | 20.2069 | $836.59 | $543.65
15770 | Derma-fat-fascia graft | Y |  | A2 | $510.00 | 20.2069 | $836.59 | $591.65
15775 | Hair transplant punch grafts | Y |  | A2 | $323.28 | 1.2792 | $52.96 | $255.70
15776 | Hair transplant punch grafts | Y |  | A2 | $323.28 | 1.2792 | $52.96 | $255.70
15780 | Abrasion treatment of skin | Y |  | P3 |  | 9.3645 | $387.70 | $387.70
15781 | Abrasion treatment of skin | Y |  | P2 |  | 4.3039 | $178.19 | $178.19
15782 | Abrasion treatment of skin | Y |  | P2 |  | 4.3039 | $178.19 | $178.19
15783 | Abrasion treatment of skin | Y |  | P2 |  | 2.6604 | $110.14 | $110.14
15786 | Abrasion, lesion, single | Y |  | P2 |  | 0.793 | $32.83 | $32.83
15787 | Abrasion, lesions, add-on | Y |  | P3 |  | 0.7901 | $32.71 | $32.71
15788 | Chemical peel, face, epiderm | Y |  | P2 |  | 0.793 | $32.83 | $32.83
15789 | Chemical peel, face, dermal | Y |  | P2 |  | 1.4595 | $60.42 | $60.42
15792 | Chemical peel, nonfacial | Y |  | P2 |  | 1.4595 | $60.42 | $60.42
15793 | Chemical peel, nonfacial | Y |  | P2 |  | 0.793 | $32.83 | $32.83
15819 | Plastic surgery, neck | Y |  | G2 |  | 2.1051 | $87.15 | $87.15
15820 | Revision of lower eyelid | Y |  | A2 | $510.00 | 20.2069 | $836.59 | $591.65
15821 | Revision of lower eyelid | Y |  | A2 | $510.00 | 20.2069 | $836.59 | $591.65
15822 | Revision of upper eyelid | Y |  | A2 | $510.00 | 20.2069 | $836.59 | $591.65
15823 | Revision of upper eyelid | Y |  | A2 | $717.00 | 20.2069 | $836.59 | $746.90
15824 | Removal of forehead wrinkles | Y |  | A2 | $510.00 | 20.2069 | $836.59 | $591.65
15825 | Removal of neck wrinkles | Y |  | A2 | $510.00 | 20.2069 | $836.59 | $591.65
15826 | Removal of brow wrinkles | Y |  | A2 | $510.00 | 20.2069 | $836.59 | $591.65
15828 | Removal of face wrinkles | Y |  | A2 | $510.00 | 20.2069 | $836.59 | $591.65
15829 | Removal of skin wrinkles | Y |  | A2 | $717.00 | 20.2069 | $836.59 | $746.90
15830 | Exc skin abd | Y |  | A2 | $510.00 | 21.1098 | $873.97 | $600.99
15832 | Excise excessive skin tissue | Y |  | A2 | $510.00 | 21.1098 | $873.97 | $600.99
15833 | Excise excessive skin tissue | Y |  | A2 | $510.00 | 21.1098 | $873.97 | $600.99
15834 | Excise excessive skin tissue | Y |  | A2 | $510.00 | 21.1098 | $873.97 | $600.99
15835 | Excise excessive skin tissue | Y |  | A2 | $323.28 | 21.1098 | $873.97 | $460.95
15836 | Excise excessive skin tissue | Y |  | A2 | $510.00 | 16.1001 | $666.56 | $549.14
15837 | Excise excessive skin tissue | Y |  | G2 |  | 16.1001 | $666.56 | $666.56
15838 | Excise excessive skin tissue | Y |  | G2 |  | 16.1001 | $666.56 | $666.56
15839 | Excise excessive skin tissue | Y |  | A2 | $510.00 | 16.1001 | $666.56 | $549.14
15840 | Graft for face nerve palsy | Y |  | A2 | $630.00 | 20.2069 | $836.59 | $681.65
15841 | Graft for face nerve palsy | Y |  | A2 | $630.00 | 20.2069 | $836.59 | $681.65
15842 | Flap for face nerve palsy | Y |  | G2 |  | 20.2069 | $836.59 | $836.59
15845 | Skin and muscle repair, face | Y |  | A2 | $630.00 | 20.2069 | $836.59 | $681.65
15847 | Exc skin abd add-on | Y |  | A2 | $510.00 | 21.1098 | $873.97 | $600.99
15850 | Removal of sutures | Y |  | G2 |  | 2.6604 | $110.14 | $110.14
15851 | Removal of sutures | Y |  | P3 |  | 1.2425 | $51.44 | $51.44
15852 | Dressing change not for burn | N |  | G2 |  | 0.631 | $26.12 | $26.12
15860 | Test for blood flow in graft | N |  | G2 |  | 0.631 | $26.12 | $26.12
15876 | Suction assisted lipectomy | Y |  | A2 | $510.00 | 20.2069 | $836.59 | $591.65
15877 | Suction assisted lipectomy | Y |  | A2 | $510.00 | 20.2069 | $836.59 | $591.65
15878 | Suction assisted lipectomy | Y |  | A2 | $510.00 | 20.2069 | $836.59 | $591.65
15879 | Suction assisted lipectomy | Y |  | A2 | $510.00 | 20.2069 | $836.59 | $591.65
15920 | Removal of tail bone ulcer | Y |  | A2 | $251.52 | 4.3039 | $178.19 | $233.19
15922 | Removal of tail bone ulcer | Y |  | A2 | $630.00 | 20.2069 | $836.59 | $681.65
15931 | Remove sacrum pressure sore | Y |  | A2 | $510.00 | 21.1098 | $873.97 | $600.99
15933 | Remove sacrum pressure sore | Y |  | A2 | $510.00 | 21.1098 | $873.97 | $600.99
15934 | Remove sacrum pressure sore | Y |  | A2 | $510.00 | 20.2069 | $836.59 | $591.65
15935 | Remove sacrum pressure sore | Y |  | A2 | $630.00 | 20.2069 | $836.59 | $681.65
15936 | Remove sacrum pressure sore | Y |  | A2 | $630.00 | 15.0458 | $622.91 | $628.23
15937 | Remove sacrum pressure sore | Y |  | A2 | $630.00 | 20.2069 | $836.59 | $681.65
15940 | Remove hip pressure sore | Y |  | A2 | $510.00 | 21.1098 | $873.97 | $600.99
15941 | Remove hip pressure sore | Y |  | A2 | $510.00 | 21.1098 | $873.97 | $600.99
15944 | Remove hip pressure sore | Y |  | A2 | $510.00 | 20.2069 | $836.59 | $591.65
15945 | Remove hip pressure sore | Y |  | A2 | $630.00 | 20.2069 | $836.59 | $681.65
15946 | Remove hip pressure sore | Y |  | A2 | $630.00 | 20.2069 | $836.59 | $681.65
15950 | Remove thigh pressure sore | Y |  | A2 | $510.00 | 21.1098 | $873.97 | $600.99
15951 | Remove thigh pressure sore | Y |  | A2 | $630.00 | 21.1098 | $873.97 | $690.99
15952 | Remove thigh pressure sore | Y |  | A2 | $510.00 | 15.0458 | $622.91 | $538.23
15953 | Remove thigh pressure sore | Y |  | A2 | $630.00 | 15.0458 | $622.91 | $628.23
15956 | Remove thigh pressure sore | Y |  | A2 | $510.00 | 15.0458 | $622.91 | $538.23
15958 | Remove thigh pressure sore | Y |  | A2 | $630.00 | 15.0458 | $622.91 | $628.23
16000 | Initial treatment of burn(s) | Y |  | P3 |  | 0.65 | $26.91 | $26.91
16020 | Dress/debrid p-thick burn, s | Y |  | P3 |  | 0.9874 | $40.88 | $40.88
16025 | Dress/debrid p-thick burn, m | Y |  | A2 | $67.11 | 2.6604 | $110.14 | $77.87
16030 | Dress/debrid p-thick burn, l | Y |  | A2 | $99.83 | 2.6604 | $110.14 | $102.41
16035 | Incision of burn scab, initi | Y |  | G2 |  | 2.6604 | $110.14 | $110.14
17000 | Destruct premalg lesion | Y |  | P2 |  | 0.793 | $32.83 | $32.83
17003 | Destruct premalg les, 2-14 | Y |  | P3 |  | 0.0906 | $3.75 | $3.75
17004 | Destroy premlg lesions 15+ | Y |  | P3 |  | 1.9502 | $80.74 | $80.74
17106 | Destruction of skin lesions | Y |  | P2 |  | 2.6604 | $110.14 | $110.14
17107 | Destruction of skin lesions | Y |  | P2 |  | 2.6604 | $110.14 | $110.14
17108 | Destruction of skin lesions | Y |  | P2 |  | 2.6604 | $110.14 | $110.14
17110 | Destruct b9 lesion, 1-14 | Y |  | P2 |  | 0.793 | $32.83 | $32.83
17111 | Destruct lesion, 15 or more | Y |  | P2 |  | 1.4595 | $60.42 | $60.42
17250 | Chemical cautery, tissue | Y |  | P3 |  | 1.0451 | $43.27 | $43.27
17260 | Destruction of skin lesions | Y |  | P3 |  | 1.1026 | $45.65 | $45.65
17261 | Destruction of skin lesions | Y |  | P2 |  | 1.4595 | $60.42 | $60.42
17262 | Destruction of skin lesions | Y |  | P2 |  | 1.4595 | $60.42 | $60.42
17263 | Destruction of skin lesions | Y |  | P2 |  | 1.4595 | $60.42 | $60.42
17264 | Destruction of skin lesions | Y |  | P2 |  | 1.4595 | $60.42 | $60.42
17266 | Destruction of skin lesions | Y |  | P3 |  | 2.4685 | $102.20 | $102.20
17270 | Destruction of skin lesions | Y |  | P2 |  | 1.4595 | $60.42 | $60.42
17271 | Destruction of skin lesions | Y |  | P2 |  | 1.4595 | $60.42 | $60.42
17272 | Destruction of skin lesions | Y |  | P2 |  | 1.4595 | $60.42 | $60.42
17273 | Destruction of skin lesions | Y | CH | P3 |  | 2.2299 | $92.32 | $92.32
17274 | Destruction of skin lesions | Y |  | P3 |  | 2.5427 | $105.27 | $105.27
17276 | Destruction of skin lesions | Y |  | P2 |  | 2.6604 | $110.14 | $110.14
17280 | Destruction of skin lesions | Y | CH | P2 |  | 1.4595 | $60.42 | $60.42
17281 | Destruction of skin lesions | Y | CH | P3 |  | 1.9091 | $79.04 | $79.04
17282 | Destruction of skin lesions | Y | CH | P3 |  | 2.1806 | $90.28 | $90.28
17283 | Destruction of skin lesions | Y | CH | P3 |  | 2.5098 | $103.91 | $103.91
17284 | Destruction of skin lesions | Y |  | P2 |  | 2.6604 | $110.14 | $110.14
17286 | Destruction of skin lesions | Y |  | P2 |  | 2.6604 | $110.14 | $110.14
17311 | Mohs, 1 stage, h/n/hf/g | Y |  | P2 |  | 3.6321 | $150.37 | $150.37
17312 | Mohs addl stage | Y |  | P2 |  | 3.6321 | $150.37 | $150.37
17313 | Mohs, 1 stage, t/a/l | Y |  | P2 |  | 3.6321 | $150.37 | $150.37
17314 | Mohs, addl stage, t/a/l | Y |  | P2 |  | 3.6321 | $150.37 | $150.37
17315 | Mohs surg, addl block | Y |  | P3 |  | 0.9381 | $38.84 | $38.84
17340 | Cryotherapy of skin | Y |  | P3 |  | 0.2961 | $12.26 | $12.26
17360 | Skin peel therapy | Y |  | P2 |  | 0.793 | $32.83 | $32.83
17380 | Hair removal by electrolysis | Y |  | R2 |  | 0.793 | $32.83 | $32.83
19000 | Drainage of breast lesion | Y |  | P3 |  | 1.6046 | $66.43 | $66.43
19001 | Drain breast lesion add-on | Y |  | P3 |  | 0.2058 | $8.52 | $8.52
19020 | Incision of breast lesion | Y |  | A2 | $446.00 | 18.3197 | $758.45 | $524.11
19030 | Injection for breast x-ray | N |  | N1 |  |  |  |
19100 | Bx breast percut w/o image | Y |  | A2 | $240.00 | 4.327 | $179.14 | $224.79
19101 | Biopsy of breast, open | Y |  | A2 | $446.00 | 20.6417 | $854.59 | $548.15
19102 | Bx breast percut w/image | Y |  | A2 | $240.00 | 7.1147 | $294.56 | $253.64
19103 | Bx breast percut w/device | Y |  | A2 | $395.77 | 13.5764 | $562.08 | $437.35
19105 | Cryosurg ablate fa, each | Y |  | G2 |  | 31.7134 | $1,312.97 | $1,312.97
19110 | Nipple exploration | Y |  | A2 | $446.00 | 20.6417 | $854.59 | $548.15
19112 | Excise breast duct fistula | Y |  | A2 | $510.00 | 20.6417 | $854.59 | $596.15
19120 | Removal of breast lesion | Y |  | A2 | $510.00 | 20.6417 | $854.59 | $596.15
19125 | Excision, breast lesion | Y |  | A2 | $510.00 | 20.6417 | $854.59 | $596.15
19126 | Excision, addl breast lesion | Y |  | A2 | $510.00 | 20.6417 | $854.59 | $596.15
19290 | Place needle wire, breast | N |  | N1 |  |  |  |
19291 | Place needle wire, breast | N |  | N1 |  |  |  |
19295 | Place breast clip, percut | N | CH | N1 |  |  |  |
19296 | Place po breast cath for rad | Y |  | A2 | $1,339.00 | 56.5774 | $2,342.36 | $1,589.84
19297 | Place breast cath for rad | Y |  | A2 | $1,339.00 | 56.5774 | $2,342.36 | $1,589.84
19298 | Place breast rad tube/caths | Y |  | A2 | $1,339.00 | 56.5774 | $2,342.36 | $1,589.84
19300 | Removal of breast tissue | Y |  | A2 | $630.00 | 20.6417 | $854.59 | $686.15
19301 | Partical mastectomy | Y |  | A2 | $510.00 | 20.6417 | $854.59 | $596.15
19302 | P-mastectomy w/ln removal | Y |  | A2 | $995.00 | 39.8191 | $1,648.55 | $1,158.39
19303 | Mast, simple, complete | Y |  | A2 | $630.00 | 31.7134 | $1,312.97 | $800.74
19304 | Mast, subq | Y |  | A2 | $630.00 | 31.7134 | $1,312.97 | $800.74
19316 | Suspension of breast | Y |  | A2 | $630.00 | 31.7134 | $1,312.97 | $800.74
19318 | Reduction of large breast | Y |  | A2 | $630.00 | 39.8191 | $1,648.55 | $884.64
19324 | Enlarge breast | Y |  | A2 | $630.00 | 39.8191 | $1,648.55 | $884.64
19325 | Enlarge breast with implant | Y |  | A2 | $1,339.00 | 56.5774 | $2,342.36 | $1,589.84
19328 | Removal of breast implant | Y |  | A2 | $333.00 | 31.7134 | $1,312.97 | $577.99
19330 | Removal of implant material | Y |  | A2 | $333.00 | 31.7134 | $1,312.97 | $577.99
19340 | Immediate breast prosthesis | Y |  | A2 | $446.00 | 39.8191 | $1,648.55 | $746.64
19342 | Delayed breast prosthesis | Y |  | A2 | $510.00 | 56.5774 | $2,342.36 | $968.09
19350 | Breast reconstruction | Y |  | A2 | $630.00 | 20.6417 | $854.59 | $686.15
19355 | Correct inverted nipple(s) | Y |  | A2 | $630.00 | 31.7134 | $1,312.97 | $800.74
19357 | Breast reconstruction | Y |  | A2 | $717.00 | 56.5774 | $2,342.36 | $1,123.34
19366 | Breast reconstruction | Y |  | A2 | $717.00 | 31.7134 | $1,312.97 | $865.99
19370 | Surgery of breast capsule | Y |  | A2 | $630.00 | 31.7134 | $1,312.97 | $800.74
19371 | Removal of breast capsule | Y |  | A2 | $630.00 | 31.7134 | $1,312.97 | $800.74
19380 | Revise breast reconstruction | Y |  | A2 | $717.00 | 39.8191 | $1,648.55 | $949.89
19396 | Design custom breast implant | Y |  | G2 |  | 31.7134 | $1,312.97 | $1,312.97
20000 | Incision of abscess | Y |  | P2 |  | 1.4066 | $58.23 | $58.23
20005 | Incision of deep abscess | Y |  | A2 | $446.00 | 21.2689 | $880.55 | $554.64
20103 | Explore wound, extremity | Y |  | G2 |  | 9.6341 | $398.86 | $398.86
20150 | Excise epiphyseal bar | Y |  | G2 |  | 42.985 | $1,779.62 | $1,779.62
20200 | Muscle biopsy | Y |  | A2 | $446.00 | 16.1001 | $666.56 | $501.14
20205 | Deep muscle biopsy | Y |  | A2 | $510.00 | 16.1001 | $666.56 | $549.14
20206 | Needle biopsy, muscle | Y |  | A2 | $240.00 | 7.1147 | $294.56 | $253.64
20220 | Bone biopsy, trocar/needle | Y |  | A2 | $251.52 | 8.685 | $359.57 | $278.53
20225 | Bone biopsy, trocar/needle | Y |  | A2 | $418.49 | 8.685 | $359.57 | $403.76
20240 | Bone biopsy, excisional | Y |  | A2 | $446.00 | 21.1098 | $873.97 | $552.99
20245 | Bone biopsy, excisional | Y |  | A2 | $510.00 | 21.1098 | $873.97 | $600.99
20250 | Open bone biopsy | Y |  | A2 | $510.00 | 21.2689 | $880.55 | $602.64
20251 | Open bone biopsy | Y |  | A2 | $510.00 | 21.2689 | $880.55 | $602.64
20500 | Injection of sinus tract | Y |  | P3 |  | 1.4811 | $61.32 | $61.32
20501 | Inject sinus tract for x-ray | N |  | N1 |  |  |  |
20520 | Removal of foreign body | Y |  | P3 |  | 2.2712 | $94.03 | $94.03
20525 | Removal of foreign body | Y |  | A2 | $510.00 | 21.1098 | $873.97 | $600.99
20526 | Ther injection, carp tunnel | Y |  | P3 |  | 0.7323 | $30.32 | $30.32
20550 | Inj tendon sheath/ligament | Y |  | P3 |  | 0.5514 | $22.83 | $22.83
20551 | Inj tendon origin/insertion | Y |  | P3 |  | 0.5432 | $22.49 | $22.49
20552 | Inj trigger point, 1/2 muscl | Y |  | P3 |  | 0.5348 | $22.14 | $22.14
20553 | Inject trigger points, =/> 3 | Y |  | P3 |  | 0.6007 | $24.87 | $24.87
20555 | Place ndl musc/tis for rt | Y | NI | G2 |  | 29.19 | $1,208.50 | $1,208.50
20600 | Drain/inject, joint/bursa | Y |  | P3 |  | 0.5432 | $22.49 | $22.49
20605 | Drain/inject, joint/bursa | Y |  | P3 |  | 0.6171 | $25.55 | $25.55
20610 | Drain/inject, joint/bursa | Y |  | P3 |  | 0.8311 | $34.41 | $34.41
20612 | Aspirate/inj ganglion cyst | Y |  | P3 |  | 0.5761 | $23.85 | $23.85
20615 | Treatment of bone cyst | Y | CH | P3 |  | 2.5591 | $105.95 | $105.95
20650 | Insert and remove bone pin | Y |  | A2 | $510.00 | 21.2689 | $880.55 | $602.64
20662 | Application of pelvis brace | Y |  | R2 |  | 21.2689 | $880.55 | $880.55
20663 | Application of thigh brace | Y |  | R2 |  | 21.2689 | $880.55 | $880.55
20665 | Removal of fixation device | N |  | G2 |  | 0.631 | $26.12 | $26.12
20670 | Removal of support implant | Y |  | A2 | $333.00 | 16.1001 | $666.56 | $416.39
20680 | Removal of support implant | Y |  | A2 | $510.00 | 21.1098 | $873.97 | $600.99
20690 | Apply bone fixation device | Y |  | A2 | $446.00 | 29.19 | $1,208.50 | $636.63
20692 | Apply bone fixation device | Y |  | A2 | $510.00 | 29.19 | $1,208.50 | $684.63
20693 | Adjust bone fixation device | Y |  | A2 | $510.00 | 21.2689 | $880.55 | $602.64
20694 | Remove bone fixation device | Y |  | A2 | $333.00 | 21.2689 | $880.55 | $469.89
20822 | Replantation digit, complete | Y |  | G2 |  | 26.3105 | $1,089.28 | $1,089.28
20900 | Removal of bone for graft | Y |  | A2 | $510.00 | 29.19 | $1,208.50 | $684.63
20902 | Removal of bone for graft | Y |  | A2 | $630.00 | 29.19 | $1,208.50 | $774.63
20910 | Remove cartilage for graft | Y |  | A2 | $510.00 | 20.2069 | $836.59 | $591.65
20912 | Remove cartilage for graft | Y |  | A2 | $510.00 | 20.2069 | $836.59 | $591.65
20920 | Removal of fascia for graft | Y |  | A2 | $630.00 | 15.0458 | $622.91 | $628.23
20922 | Removal of fascia for graft | Y |  | A2 | $510.00 | 15.0458 | $622.91 | $538.23
20924 | Removal of tendon for graft | Y |  | A2 | $630.00 | 29.19 | $1,208.50 | $774.63
20926 | Removal of tissue for graft | Y |  | A2 | $630.00 | 4.5263 | $187.39 | $519.35
20950 | Fluid pressure, muscle | Y |  | G2 |  | 1.4066 | $58.23 | $58.23
20972 | Bone/skin graft, metatarsal | Y |  | G2 |  | 44.2687 | $1,832.77 | $1,832.77
20973 | Bone/skin graft, great toe | Y |  | R2 |  | 44.2687 | $1,832.77 | $1,832.77
20975 | Electrical bone stimulation | N | CH | N1 |  |  |  |
20979 | Us bone stimulation | N |  | P3 |  | 0.5843 | $24.19 | $24.19
20982 | Ablate, bone tumor(s) perq | Y |  | G2 |  | 42.985 | $1,779.62 | $1,779.62
20985 | Cptr-asst dir ms px | N | NI | N1 |  |  |  |
20986 | Cptr-asst dir ms px io img | N | NI | N1 |  |  |  |
20987 | Cptr-asst dir ms px pre img | N | NI | N1 |  |  |  |
21010 | Incision of jaw joint | Y |  | A2 | $446.00 | 23.9765 | $992.65 | $582.66
21015 | Resection of facial tumor | Y |  | A2 | $510.00 | 16.3288 | $676.03 | $551.51
21025 | Excision of bone, lower jaw | Y |  | A2 | $446.00 | 39.8776 | $1,650.97 | $747.24
21026 | Excision of facial bone(s) | Y |  | A2 | $446.00 | 39.8776 | $1,650.97 | $747.24
21029 | Contour of face bone lesion | Y |  | A2 | $446.00 | 39.8776 | $1,650.97 | $747.24
21030 | Excise max/zygoma b9 tumor | Y |  | P3 |  | 5.5627 | $230.30 | $230.30
21031 | Remove exostosis, mandible | Y |  | P3 |  | 4.5588 | $188.74 | $188.74
21032 | Remove exostosis, maxilla | Y |  | P3 |  | 4.6905 | $194.19 | $194.19
21034 | Excise max/zygoma mlg tumor | Y |  | A2 | $510.00 | 39.8776 | $1,650.97 | $795.24
21040 | Excise mandible lesion | Y |  | A2 | $446.00 | 23.9765 | $992.65 | $582.66
21044 | Removal of jaw bone lesion | Y |  | A2 | $446.00 | 39.8776 | $1,650.97 | $747.24
21046 | Remove mandible cyst complex | Y |  | A2 | $446.00 | 39.8776 | $1,650.97 | $747.24
21047 | Excise lwr jaw cyst w/repair | Y |  | A2 | $446.00 | 39.8776 | $1,650.97 | $747.24
21048 | Remove maxilla cyst complex | Y |  | R2 |  | 39.8776 | $1,650.97 | $1,650.97
21050 | Removal of jaw joint | Y |  | A2 | $510.00 | 39.8776 | $1,650.97 | $795.24
21060 | Remove jaw joint cartilage | Y |  | A2 | $446.00 | 39.8776 | $1,650.97 | $747.24
21070 | Remove coronoid process | Y |  | A2 | $510.00 | 39.8776 | $1,650.97 | $795.24
21073 * | Mnpj of tmj w/anesth | Y | NI | P3 |  | 4.526 | $187.38 | $187.38
21076 | Prepare face/oral prosthesis | Y |  | P3 |  | 8.3851 | $347.15 | $347.15
21077 | Prepare face/oral prosthesis | Y |  | P3 |  | 20.4816 | $847.96 | $847.96
21079 | Prepare face/oral prosthesis | Y |  | P3 |  | 14.598 | $604.37 | $604.37
21080 | Prepare face/oral prosthesis | Y |  | P3 |  | 16.7293 | $692.61 | $692.61
21081 | Prepare face/oral prosthesis | Y |  | P3 |  | 15.3632 | $636.05 | $636.05
21082 | Prepare face/oral prosthesis | Y |  | P3 |  | 14.096 | $583.59 | $583.59
21083 | Prepare face/oral prosthesis | Y |  | P3 |  | 13.8738 | $574.39 | $574.39
21084 | Prepare face/oral prosthesis | Y |  | P3 |  | 16.1697 | $669.44 | $669.44
21085 | Prepare face/oral prosthesis | Y |  | P3 |  | 6.2622 | $259.26 | $259.26
21086 | Prepare face/oral prosthesis | Y |  | P3 |  | 15.0917 | $624.81 | $624.81
21087 | Prepare face/oral prosthesis | Y |  | P3 |  | 14.9518 | $619.02 | $619.02
21088 | Prepare face/oral prosthesis | Y |  | R2 |  | 39.8776 | $1,650.97 | $1,650.97
21100 | Maxillofacial fixation | Y |  | A2 | $446.00 | 39.8776 | $1,650.97 | $747.24
21110 | Interdental fixation | Y |  | P2 |  | 7.4474 | $308.33 | $308.33
21116 | Injection, jaw joint x-ray | N |  | N1 |  |  |  |
21120 | Reconstruction of chin | Y |  | A2 | $995.00 | 23.9765 | $992.65 | $994.41
21121 | Reconstruction of chin | Y |  | A2 | $995.00 | 23.9765 | $992.65 | $994.41
21122 | Reconstruction of chin | Y |  | A2 | $995.00 | 23.9765 | $992.65 | $994.41
21123 | Reconstruction of chin | Y |  | A2 | $995.00 | 23.9765 | $992.65 | $994.41
21125 | Augmentation, lower jaw bone | Y |  | A2 | $995.00 | 23.9765 | $992.65 | $994.41
21127 | Augmentation, lower jaw bone | Y |  | A2 | $1,339.00 | 39.8776 | $1,650.97 | $1,416.99
21137 | Reduction of forehead | Y |  | G2 |  | 23.9765 | $992.65 | $992.65
21138 | Reduction of forehead | Y |  | G2 |  | 39.8776 | $1,650.97 | $1,650.97
21139 | Reduction of forehead | Y |  | G2 |  | 39.8776 | $1,650.97 | $1,650.97
21150 | Reconstruct midface, lefort | Y |  | G2 |  | 39.8776 | $1,650.97 | $1,650.97
21181 | Contour cranial bone lesion | Y |  | A2 | $995.00 | 23.9765 | $992.65 | $994.41
21198 | Reconstr lwr jaw segment | Y |  | G2 |  | 39.8776 | $1,650.97 | $1,650.97
21199 | Reconstr lwr jaw w/advance | Y |  | G2 |  | 39.8776 | $1,650.97 | $1,650.97
21206 | Reconstruct upper jaw bone | Y |  | A2 | $717.00 | 39.8776 | $1,650.97 | $950.49
21208 | Augmentation of facial bones | Y |  | A2 | $995.00 | 39.8776 | $1,650.97 | $1,158.99
21209 | Reduction of facial bones | Y |  | A2 | $717.00 | 39.8776 | $1,650.97 | $950.49
21210 | Face bone graft | Y |  | A2 | $995.00 | 39.8776 | $1,650.97 | $1,158.99
21215 | Lower jaw bone graft | Y |  | A2 | $995.00 | 39.8776 | $1,650.97 | $1,158.99
21230 | Rib cartilage graft | Y |  | A2 | $995.00 | 39.8776 | $1,650.97 | $1,158.99
21235 | Ear cartilage graft | Y |  | A2 | $995.00 | 23.9765 | $992.65 | $994.41
21240 | Reconstruction of jaw joint | Y |  | A2 | $630.00 | 39.8776 | $1,650.97 | $885.24
21242 | Reconstruction of jaw joint | Y |  | A2 | $717.00 | 39.8776 | $1,650.97 | $950.49
21243 | Reconstruction of jaw joint | Y |  | A2 | $717.00 | 39.8776 | $1,650.97 | $950.49
21244 | Reconstruction of lower jaw | Y |  | A2 | $995.00 | 39.8776 | $1,650.97 | $1,158.99
21245 | Reconstruction of jaw | Y |  | A2 | $995.00 | 39.8776 | $1,650.97 | $1,158.99
21246 | Reconstruction of jaw | Y |  | A2 | $995.00 | 39.8776 | $1,650.97 | $1,158.99
21248 | Reconstruction of jaw | Y |  | A2 | $995.00 | 39.8776 | $1,650.97 | $1,158.99
21249 | Reconstruction of jaw | Y |  | A2 | $995.00 | 39.8776 | $1,650.97 | $1,158.99
21260 | Revise eye sockets | Y |  | G2 |  | 39.8776 | $1,650.97 | $1,650.97
21267 | Revise eye sockets | Y |  | A2 | $995.00 | 39.8776 | $1,650.97 | $1,158.99
21270 | Augmentation, cheek bone | Y |  | A2 | $717.00 | 39.8776 | $1,650.97 | $950.49
21275 | Revision, orbitofacial bones | Y |  | A2 | $995.00 | 39.8776 | $1,650.97 | $1,158.99
21280 | Revision of eyelid | Y |  | A2 | $717.00 | 39.8776 | $1,650.97 | $950.49
21282 | Revision of eyelid | Y |  | A2 | $717.00 | 16.3288 | $676.03 | $706.76
21295 | Revision of jaw muscle/bone | Y |  | A2 | $333.00 | 7.4474 | $308.33 | $326.83
21296 | Revision of jaw muscle/bone | Y |  | A2 | $333.00 | 23.9765 | $992.65 | $497.91
21310 | Treatment of nose fracture | Y |  | A2 | $150.72 | 2.5002 | $103.51 | $138.92
21315 | Treatment of nose fracture | Y |  | A2 | $150.72 | 2.5002 | $103.51 | $138.92
21320 | Treatment of nose fracture | Y |  | A2 | $446.00 | 16.3288 | $676.03 | $503.51
21325 | Treatment of nose fracture | Y |  | A2 | $630.00 | 23.9765 | $992.65 | $720.66
21330 | Treatment of nose fracture | Y |  | A2 | $717.00 | 23.9765 | $992.65 | $785.91
21335 | Treatment of nose fracture | Y |  | A2 | $995.00 | 23.9765 | $992.65 | $994.41
21336 | Treat nasal septal fracture | Y |  | A2 | $630.00 | 26.1592 | $1,083.02 | $743.26
21337 | Treat nasal septal fracture | Y |  | A2 | $446.00 | 16.3288 | $676.03 | $503.51
21338 | Treat nasoethmoid fracture | Y |  | A2 | $630.00 | 23.9765 | $992.65 | $720.66
21339 | Treat nasoethmoid fracture | Y |  | A2 | $717.00 | 23.9765 | $992.65 | $785.91
21340 | Treatment of nose fracture | Y |  | A2 | $630.00 | 39.8776 | $1,650.97 | $885.24
21345 | Treat nose/jaw fracture | Y |  | A2 | $995.00 | 23.9765 | $992.65 | $994.41
21355 | Treat cheek bone fracture | Y |  | A2 | $510.00 | 39.8776 | $1,650.97 | $795.24
21356 | Treat cheek bone fracture | Y |  | A2 | $510.00 | 23.9765 | $992.65 | $630.66
21360 | Treat cheek bone fracture | Y | CH | G2 |  | 23.9765 | $992.65 | $992.65
21390 | Treat eye socket fracture | Y |  | G2 |  | 39.8776 | $1,650.97 | $1,650.97
21400 | Treat eye socket fracture | Y |  | A2 | $446.00 | 7.4474 | $308.33 | $411.58
21401 | Treat eye socket fracture | Y |  | A2 | $510.00 | 16.3288 | $676.03 | $551.51
21406 | Treat eye socket fracture | Y |  | G2 |  | 39.8776 | $1,650.97 | $1,650.97
21407 | Treat eye socket fracture | Y |  | G2 |  | 39.8776 | $1,650.97 | $1,650.97
21421 | Treat mouth roof fracture | Y |  | A2 | $630.00 | 23.9765 | $992.65 | $720.66
21440 | Treat dental ridge fracture | Y |  | P3 |  | 7.0687 | $292.65 | $292.65
21445 | Treat dental ridge fracture | Y |  | A2 | $630.00 | 23.9765 | $992.65 | $720.66
21450 | Treat lower jaw fracture | Y |  | A2 | $150.72 | 2.5002 | $103.51 | $138.92
21451 | Treat lower jaw fracture | Y |  | A2 | $464.15 | 7.4474 | $308.33 | $425.20
21452 | Treat lower jaw fracture | Y |  | A2 | $446.00 | 16.3288 | $676.03 | $503.51
21453 | Treat lower jaw fracture | Y |  | A2 | $510.00 | 39.8776 | $1,650.97 | $795.24
21454 | Treat lower jaw fracture | Y |  | A2 | $717.00 | 23.9765 | $992.65 | $785.91
21461 | Treat lower jaw fracture | Y |  | A2 | $630.00 | 39.8776 | $1,650.97 | $885.24
21462 | Treat lower jaw fracture | Y |  | A2 | $717.00 | 39.8776 | $1,650.97 | $950.49
21465 | Treat lower jaw fracture | Y |  | A2 | $630.00 | 39.8776 | $1,650.97 | $885.24
21480 | Reset dislocated jaw | Y |  | A2 | $150.72 | 2.5002 | $103.51 | $138.92
21485 | Reset dislocated jaw | Y |  | A2 | $446.00 | 16.3288 | $676.03 | $503.51
21490 | Repair dislocated jaw | Y |  | A2 | $510.00 | 39.8776 | $1,650.97 | $795.24
21495 | Treat hyoid bone fracture | Y |  | G2 |  | 16.3288 | $676.03 | $676.03
21497 | Interdental wiring | Y |  | A2 | $446.00 | 16.3288 | $676.03 | $503.51
21501 | Drain neck/chest lesion | Y |  | A2 | $446.00 | 18.3197 | $758.45 | $524.11
21502 | Drain chest lesion | Y |  | A2 | $446.00 | 21.2689 | $880.55 | $554.64
21550 | Biopsy of neck/chest | Y |  | G2 |  | 8.685 | $359.57 | $359.57
21555 | Remove lesion, neck/chest | Y |  | A2 | $446.00 | 21.1098 | $873.97 | $552.99
21556 | Remove lesion, neck/chest | Y |  | A2 | $446.00 | 21.1098 | $873.97 | $552.99
21557 | Remove tumor, neck/chest | Y |  | G2 |  | 21.1098 | $873.97 | $873.97
21600 | Partial removal of rib | Y |  | A2 | $446.00 | 29.19 | $1,208.50 | $636.63
21610 | Partial removal of rib | Y |  | A2 | $446.00 | 29.19 | $1,208.50 | $636.63
21685 | Hyoid myotomy & suspension | Y |  | G2 |  | 7.4474 | $308.33 | $308.33
21700 | Revision of neck muscle | Y |  | A2 | $446.00 | 21.2689 | $880.55 | $554.64
21720 | Revision of neck muscle | Y |  | A2 | $510.00 | 21.2689 | $880.55 | $602.64
21725 | Revision of neck muscle | Y |  | A2 | $88.46 | 1.4066 | $58.23 | $80.90
21800 | Treatment of rib fracture | Y |  | A2 | $103.62 | 1.7682 | $73.21 | $96.02
21805 | Treatment of rib fracture | Y |  | A2 | $446.00 | 26.1592 | $1,083.02 | $605.26
21820 | Treat sternum fracture | Y |  | A2 | $103.62 | 1.7682 | $73.21 | $96.02
21920 | Biopsy soft tissue of back | Y |  | P3 |  | 3.1763 | $131.50 | $131.50
21925 | Biopsy soft tissue of back | Y |  | A2 | $446.00 | 21.1098 | $873.97 | $552.99
21930 | Remove lesion, back or flank | Y |  | A2 | $446.00 | 21.1098 | $873.97 | $552.99
21935 | Remove tumor, back | Y |  | A2 | $510.00 | 21.1098 | $873.97 | $600.99
22102 | Remove part, lumbar vertebra | Y |  | G2 |  | 46.7724 | $1,936.42 | $1,936.42
22103 | Remove extra spine segment | Y |  | G2 |  | 46.7724 | $1,936.42 | $1,936.42
22305 | Treat spine process fracture | Y |  | A2 | $103.62 | 1.7682 | $73.21 | $96.02
22310 | Treat spine fracture | Y |  | A2 | $103.62 | 1.7682 | $73.21 | $96.02
22315 | Treat spine fracture | Y |  | A2 | $103.62 | 1.7682 | $73.21 | $96.02
22505 | Manipulation of spine | Y |  | A2 | $446.00 | 14.7658 | $611.32 | $487.33
22520 | Percut vertebroplasty thor | Y |  | A2 | $1,339.00 | 29.19 | $1,208.50 | $1,306.38
22521 | Percut vertebroplasty lumb | Y |  | A2 | $1,339.00 | 29.19 | $1,208.50 | $1,306.38
22522 | Percut vertebroplasty add?l | Y |  | A2 | $1,339.00 | 29.19 | $1,208.50 | $1,306.38
22523 | Percut kyphoplasty, thor | Y |  | G2 |  | 79.4244 | $3,288.25 | $3,288.25
22524 | Percut kyphoplasty, lumbar | Y |  | G2 |  | 79.4244 | $3,288.25 | $3,288.25
22525 | Percut kyphoplasty, add-on | Y |  | G2 |  | 79.4244 | $3,288.25 | $3,288.25
22526 | Idet, single level | Y | CH | G2 |  | 29.19 | $1,208.50 | $1,208.50
22527 | Idet, 1 or more levels | Y | CH | G2 |  | 29.19 | $1,208.50 | $1,208.50
22900 | Remove abdominal wall lesion | Y |  | A2 | $630.00 | 21.1098 | $873.97 | $690.99
23000 | Removal of calcium deposits | Y |  | A2 | $446.00 | 16.1001 | $666.56 | $501.14
23020 | Release shoulder joint | Y |  | A2 | $446.00 | 42.985 | $1,779.62 | $779.41
23030 | Drain shoulder lesion | Y |  | A2 | $333.00 | 18.3197 | $758.45 | $439.36
23031 | Drain shoulder bursa | Y |  | A2 | $510.00 | 18.3197 | $758.45 | $572.11
23035 | Drain shoulder bone lesion | Y |  | A2 | $510.00 | 21.2689 | $880.55 | $602.64
23040 | Exploratory shoulder surgery | Y |  | A2 | $510.00 | 29.19 | $1,208.50 | $684.63
23044 | Exploratory shoulder surgery | Y |  | A2 | $630.00 | 29.19 | $1,208.50 | $774.63
23065 | Biopsy shoulder tissues | Y |  | P3 |  | 2.2384 | $92.67 | $92.67
23066 | Biopsy shoulder tissues | Y |  | A2 | $446.00 | 21.1098 | $873.97 | $552.99
23075 | Removal of shoulder lesion | Y |  | A2 | $446.00 | 16.1001 | $666.56 | $501.14
23076 | Removal of shoulder lesion | Y |  | A2 | $446.00 | 21.1098 | $873.97 | $552.99
23077 | Remove tumor of shoulder | Y |  | A2 | $510.00 | 21.1098 | $873.97 | $600.99
23100 | Biopsy of shoulder joint | Y |  | A2 | $446.00 | 21.2689 | $880.55 | $554.64
23101 | Shoulder joint surgery | Y |  | A2 | $995.00 | 29.19 | $1,208.50 | $1,048.38
23105 | Remove shoulder joint lining | Y |  | A2 | $630.00 | 29.19 | $1,208.50 | $774.63
23106 | Incision of collarbone joint | Y |  | A2 | $630.00 | 29.19 | $1,208.50 | $774.63
23107 | Explore treat shoulder joint | Y |  | A2 | $630.00 | 29.19 | $1,208.50 | $774.63
23120 | Partial removal, collar bone | Y |  | A2 | $717.00 | 29.19 | $1,208.50 | $839.88
23125 | Removal of collar bone | Y |  | A2 | $717.00 | 29.19 | $1,208.50 | $839.88
23130 | Remove shoulder bone, part | Y |  | A2 | $717.00 | 42.985 | $1,779.62 | $982.66
23140 | Removal of bone lesion | Y |  | A2 | $630.00 | 21.2689 | $880.55 | $692.64
23145 | Removal of bone lesion | Y |  | A2 | $717.00 | 29.19 | $1,208.50 | $839.88
23146 | Removal of bone lesion | Y |  | A2 | $717.00 | 29.19 | $1,208.50 | $839.88
23150 | Removal of humerus lesion | Y |  | A2 | $630.00 | 29.19 | $1,208.50 | $774.63
23155 | Removal of humerus lesion | Y |  | A2 | $717.00 | 29.19 | $1,208.50 | $839.88
23156 | Removal of humerus lesion | Y |  | A2 | $717.00 | 29.19 | $1,208.50 | $839.88
23170 | Remove collar bone lesion | Y |  | A2 | $446.00 | 29.19 | $1,208.50 | $636.63
23172 | Remove shoulder blade lesion | Y |  | A2 | $446.00 | 29.19 | $1,208.50 | $636.63
23174 | Remove humerus lesion | Y |  | A2 | $446.00 | 29.19 | $1,208.50 | $636.63
23180 | Remove collar bone lesion | Y |  | A2 | $630.00 | 29.19 | $1,208.50 | $774.63
23182 | Remove shoulder blade lesion | Y |  | A2 | $630.00 | 29.19 | $1,208.50 | $774.63
23184 | Remove humerus lesion | Y |  | A2 | $630.00 | 29.19 | $1,208.50 | $774.63
23190 | Partial removal of scapula | Y |  | A2 | $630.00 | 29.19 | $1,208.50 | $774.63
23195 | Removal of head of humerus | Y |  | A2 | $717.00 | 29.19 | $1,208.50 | $839.88
23330 | Remove shoulder foreign body | Y |  | A2 | $333.00 | 8.685 | $359.57 | $339.64
23331 | Remove shoulder foreign body | Y |  | A2 | $333.00 | 21.1098 | $873.97 | $468.24
23350 | Injection for shoulder x-ray | N |  | N1 |  |  |  |
23395 | Muscle transfer,shoulder/arm | Y |  | A2 | $717.00 | 42.985 | $1,779.62 | $982.66
23397 | Muscle transfers | Y |  | A2 | $995.00 | 79.4244 | $3,288.25 | $1,568.31
23400 | Fixation of shoulder blade | Y |  | A2 | $995.00 | 29.19 | $1,208.50 | $1,048.38
23405 | Incision of tendon & muscle | Y |  | A2 | $446.00 | 29.19 | $1,208.50 | $636.63
23406 | Incise tendon(s) & muscle(s) | Y |  | A2 | $446.00 | 29.19 | $1,208.50 | $636.63
23410 | Repair rotator cuff, acute | Y |  | A2 | $717.00 | 42.985 | $1,779.62 | $982.66
23412 | Repair rotator cuff, chronic | Y |  | A2 | $995.00 | 42.985 | $1,779.62 | $1,191.16
23415 | Release of shoulder ligament | Y |  | A2 | $717.00 | 42.985 | $1,779.62 | $982.66
23420 | Repair of shoulder | Y |  | A2 | $995.00 | 42.985 | $1,779.62 | $1,191.16
23430 | Repair biceps tendon | Y |  | A2 | $630.00 | 42.985 | $1,779.62 | $917.41
23440 | Remove/transplant tendon | Y |  | A2 | $630.00 | 42.985 | $1,779.62 | $917.41
23450 | Repair shoulder capsule | Y |  | A2 | $717.00 | 79.4244 | $3,288.25 | $1,359.81
23455 | Repair shoulder capsule | Y |  | A2 | $995.00 | 79.4244 | $3,288.25 | $1,568.31
23460 | Repair shoulder capsule | Y |  | A2 | $717.00 | 79.4244 | $3,288.25 | $1,359.81
23462 | Repair shoulder capsule | Y |  | A2 | $995.00 | 42.985 | $1,779.62 | $1,191.16
23465 | Repair shoulder capsule | Y |  | A2 | $717.00 | 79.4244 | $3,288.25 | $1,359.81
23466 | Repair shoulder capsule | Y |  | A2 | $995.00 | 42.985 | $1,779.62 | $1,191.16
23480 | Revision of collar bone | Y |  | A2 | $630.00 | 42.985 | $1,779.62 | $917.41
23485 | Revision of collar bone | Y |  | A2 | $995.00 | 79.4244 | $3,288.25 | $1,568.31
23490 | Reinforce clavicle | Y |  | A2 | $510.00 | 42.985 | $1,779.62 | $827.41
23491 | Reinforce shoulder bones | Y |  | A2 | $510.00 | 79.4244 | $3,288.25 | $1,204.56
23500 | Treat clavicle fracture | Y |  | A2 | $103.62 | 1.7682 | $73.21 | $96.02
23505 | Treat clavicle fracture | Y |  | A2 | $103.62 | 1.7682 | $73.21 | $96.02
23515 | Treat clavicle fracture | Y |  | A2 | $510.00 | 59.2233 | $2,451.90 | $995.48
23520 | Treat clavicle dislocation | Y |  | A2 | $103.62 | 1.7682 | $73.21 | $96.02
23525 | Treat clavicle dislocation | Y |  | A2 | $103.62 | 1.7682 | $73.21 | $96.02
23530 | Treat clavicle dislocation | Y |  | A2 | $510.00 | 41.1091 | $1,701.96 | $807.99
23532 | Treat clavicle dislocation | Y |  | A2 | $630.00 | 26.1592 | $1,083.02 | $743.26
23540 | Treat clavicle dislocation | Y |  | A2 | $103.62 | 1.7682 | $73.21 | $96.02
23545 | Treat clavicle dislocation | Y |  | A2 | $103.62 | 1.7682 | $73.21 | $96.02
23550 | Treat clavicle dislocation | Y |  | A2 | $510.00 | 41.1091 | $1,701.96 | $807.99
23552 | Treat clavicle dislocation | Y |  | A2 | $630.00 | 41.1091 | $1,701.96 | $897.99
23570 | Treat shoulder blade fx | Y |  | A2 | $103.62 | 1.7682 | $73.21 | $96.02
23575 | Treat shoulder blade fx | Y |  | A2 | $103.62 | 1.7682 | $73.21 | $96.02
23585 | Treat scapula fracture | Y |  | A2 | $510.00 | 59.2233 | $2,451.90 | $995.48
23600 | Treat humerus fracture | Y |  | P2 |  | 1.7682 | $73.21 | $73.21
23605 | Treat humerus fracture | Y |  | A2 | $103.62 | 1.7682 | $73.21 | $96.02
23615 | Treat humerus fracture | Y |  | A2 | $630.00 | 59.2233 | $2,451.90 | $1,085.48
23616 | Treat humerus fracture | Y |  | A2 | $630.00 | 59.2233 | $2,451.90 | $1,085.48
23620 | Treat humerus fracture | Y |  | P2 |  | 1.7682 | $73.21 | $73.21
23625 | Treat humerus fracture | Y |  | A2 | $103.62 | 1.7682 | $73.21 | $96.02
23630 | Treat humerus fracture | Y |  | A2 | $717.00 | 59.2233 | $2,451.90 | $1,150.73
23650 | Treat shoulder dislocation | Y |  | A2 | $103.62 | 1.7682 | $73.21 | $96.02
23655 | Treat shoulder dislocation | Y |  | A2 | $333.00 | 14.7658 | $611.32 | $402.58
23660 | Treat shoulder dislocation | Y |  | A2 | $510.00 | 41.1091 | $1,701.96 | $807.99
23665 | Treat dislocation/fracture | Y |  | A2 | $103.62 | 1.7682 | $73.21 | $96.02
23670 | Treat dislocation/fracture | Y |  | A2 | $510.00 | 59.2233 | $2,451.90 | $995.48
23675 | Treat dislocation/fracture | Y |  | A2 | $103.62 | 1.7682 | $73.21 | $96.02
23680 | Treat dislocation/fracture | Y |  | A2 | $510.00 | 41.1091 | $1,701.96 | $807.99
23700 | Fixation of shoulder | Y |  | A2 | $333.00 | 14.7658 | $611.32 | $402.58
23800 | Fusion of shoulder joint | Y |  | A2 | $630.00 | 79.4244 | $3,288.25 | $1,294.56
23802 | Fusion of shoulder joint | Y |  | A2 | $995.00 | 42.985 | $1,779.62 | $1,191.16
23921 | Amputation follow-up surgery | Y |  | A2 | $323.28 | 15.0458 | $622.91 | $398.19
23930 | Drainage of arm lesion | Y |  | A2 | $333.00 | 18.3197 | $758.45 | $439.36
23931 | Drainage of arm bursa | Y |  | A2 | $446.00 | 18.3197 | $758.45 | $524.11
23935 | Drain arm/elbow bone lesion | Y |  | A2 | $446.00 | 21.2689 | $880.55 | $554.64
24000 | Exploratory elbow surgery | Y |  | A2 | $630.00 | 29.19 | $1,208.50 | $774.63
24006 | Release elbow joint | Y |  | A2 | $630.00 | 29.19 | $1,208.50 | $774.63
24065 | Biopsy arm/elbow soft tissue | Y |  | P3 |  | 3.0282 | $125.37 | $125.37
24066 | Biopsy arm/elbow soft tissue | Y |  | A2 | $446.00 | 16.1001 | $666.56 | $501.14
24075 | Remove arm/elbow lesion | Y |  | A2 | $446.00 | 16.1001 | $666.56 | $501.14
24076 | Remove arm/elbow lesion | Y |  | A2 | $446.00 | 21.1098 | $873.97 | $552.99
24077 | Remove tumor of arm/elbow | Y |  | A2 | $510.00 | 21.1098 | $873.97 | $600.99
24100 | Biopsy elbow joint lining | Y |  | A2 | $333.00 | 21.2689 | $880.55 | $469.89
24101 | Explore/treat elbow joint | Y |  | A2 | $630.00 | 29.19 | $1,208.50 | $774.63
24102 | Remove elbow joint lining | Y |  | A2 | $630.00 | 29.19 | $1,208.50 | $774.63
24105 | Removal of elbow bursa | Y |  | A2 | $510.00 | 21.2689 | $880.55 | $602.64
24110 | Remove humerus lesion | Y |  | A2 | $446.00 | 21.2689 | $880.55 | $554.64
24115 | Remove/graft bone lesion | Y |  | A2 | $510.00 | 29.19 | $1,208.50 | $684.63
24116 | Remove/graft bone lesion | Y |  | A2 | $510.00 | 29.19 | $1,208.50 | $684.63
24120 | Remove elbow lesion | Y |  | A2 | $510.00 | 21.2689 | $880.55 | $602.64
24125 | Remove/graft bone lesion | Y |  | A2 | $510.00 | 29.19 | $1,208.50 | $684.63
24126 | Remove/graft bone lesion | Y |  | A2 | $510.00 | 29.19 | $1,208.50 | $684.63
24130 | Removal of head of radius | Y |  | A2 | $510.00 | 29.19 | $1,208.50 | $684.63
24134 | Removal of arm bone lesion | Y |  | A2 | $446.00 | 29.19 | $1,208.50 | $636.63
24136 | Remove radius bone lesion | Y |  | A2 | $446.00 | 29.19 | $1,208.50 | $636.63
24138 | Remove elbow bone lesion | Y |  | A2 | $446.00 | 29.19 | $1,208.50 | $636.63
24140 | Partial removal of arm bone | Y |  | A2 | $510.00 | 29.19 | $1,208.50 | $684.63
24145 | Partial removal of radius | Y |  | A2 | $510.00 | 29.19 | $1,208.50 | $684.63
24147 | Partial removal of elbow | Y |  | A2 | $446.00 | 29.19 | $1,208.50 | $636.63
24149 | Radical resection of elbow | Y |  | G2 |  | 29.19 | $1,208.50 | $1,208.50
24152 | Extensive radius surgery | Y |  | G2 |  | 42.985 | $1,779.62 | $1,779.62
24153 | Extensive radius surgery | Y |  | G2 |  | 79.4244 | $3,288.25 | $3,288.25
24155 | Removal of elbow joint | Y |  | A2 | $510.00 | 42.985 | $1,779.62 | $827.41
24160 | Remove elbow joint implant | Y |  | A2 | $446.00 | 29.19 | $1,208.50 | $636.63
24164 | Remove radius head implant | Y |  | A2 | $510.00 | 29.19 | $1,208.50 | $684.63
24200 | Removal of arm foreign body | Y |  | P3 |  | 2.5345 | $104.93 | $104.93
24201 | Removal of arm foreign body | Y |  | A2 | $446.00 | 16.1001 | $666.56 | $501.14
24220 | Injection for elbow x-ray | N |  | N1 |  |  |  |
24300 | Manipulate elbow w/anesth | Y |  | G2 |  | 14.7658 | $611.32 | $611.32
24301 | Muscle/tendon transfer | Y |  | A2 | $630.00 | 29.19 | $1,208.50 | $774.63
24305 | Arm tendon lengthening | Y |  | A2 | $630.00 | 29.19 | $1,208.50 | $774.63
24310 | Revision of arm tendon | Y |  | A2 | $510.00 | 21.2689 | $880.55 | $602.64
24320 | Repair of arm tendon | Y |  | A2 | $510.00 | 42.985 | $1,779.62 | $827.41
24330 | Revision of arm muscles | Y |  | A2 | $510.00 | 79.4244 | $3,288.25 | $1,204.56
24331 | Revision of arm muscles | Y |  | A2 | $510.00 | 42.985 | $1,779.62 | $827.41
24332 | Tenolysis, triceps | Y |  | G2 |  | 21.2689 | $880.55 | $880.55
24340 | Repair of biceps tendon | Y |  | A2 | $510.00 | 42.985 | $1,779.62 | $827.41
24341 | Repair arm tendon/muscle | Y |  | A2 | $510.00 | 42.985 | $1,779.62 | $827.41
24342 | Repair of ruptured tendon | Y |  | A2 | $510.00 | 42.985 | $1,779.62 | $827.41
24343 | Repr elbow lat ligmnt w/tiss | Y |  | G2 |  | 29.19 | $1,208.50 | $1,208.50
24344 | Reconstruct elbow lat ligmnt | Y |  | G2 |  | 79.4244 | $3,288.25 | $3,288.25
24345 | Repr elbw med ligmnt w/tissu | Y |  | A2 | $446.00 | 29.19 | $1,208.50 | $636.63
24346 | Reconstruct elbow med ligmnt | Y |  | G2 |  | 42.985 | $1,779.62 | $1,779.62
24350 | Repair of tennis elbow | N | CH | D5 |  |  |  |
24351 | Repair of tennis elbow | N | CH | D5 |  |  |  |
24352 | Repair of tennis elbow | N | CH | D5 |  |  |  |
24354 | Repair of tennis elbow | N | CH | D5 |  |  |  |
24356 | Revision of tennis elbow | N | CH | D5 |  |  |  |
24357 | Repair elbow, perc | Y | NI | G2 |  | 29.19 | $1,208.50 | $1,208.50
24358 | Repair elbow w/deb, open | Y | NI | G2 |  | 29.19 | $1,208.50 | $1,208.50
24359 | Repair elbow deb/attch open | Y | NI | G2 |  | 29.19 | $1,208.50 | $1,208.50
24360 | Reconstruct elbow joint | Y |  | A2 | $717.00 | 35.904 | $1,486.46 | $909.37
24361 | Reconstruct elbow joint | Y |  | A2 | $717.00 | 122.2057 | $5,059.44 | $1,802.61
24362 | Reconstruct elbow joint | Y |  | A2 | $717.00 | 50.8876 | $2,106.80 | $1,064.45
24363 | Replace elbow joint | Y |  | A2 | $995.00 | 122.2057 | $5,059.44 | $2,011.11
24365 | Reconstruct head of radius | Y |  | A2 | $717.00 | 35.904 | $1,486.46 | $909.37
24366 | Reconstruct head of radius | Y |  | A2 | $717.00 | 122.2057 | $5,059.44 | $1,802.61
24400 | Revision of humerus | Y |  | A2 | $630.00 | 29.19 | $1,208.50 | $774.63
24410 | Revision of humerus | Y |  | A2 | $630.00 | 29.19 | $1,208.50 | $774.63
24420 | Revision of humerus | Y |  | A2 | $510.00 | 42.985 | $1,779.62 | $827.41
24430 | Repair of humerus | Y |  | A2 | $510.00 | 79.4244 | $3,288.25 | $1,204.56
24435 | Repair humerus with graft | Y |  | A2 | $630.00 | 79.4244 | $3,288.25 | $1,294.56
24470 | Revision of elbow joint | Y |  | A2 | $510.00 | 42.985 | $1,779.62 | $827.41
24495 | Decompression of forearm | Y |  | A2 | $446.00 | 29.19 | $1,208.50 | $636.63
24498 | Reinforce humerus | Y |  | A2 | $510.00 | 79.4244 | $3,288.25 | $1,204.56
24500 | Treat humerus fracture | Y |  | A2 | $103.62 | 1.7682 | $73.21 | $96.02
24505 | Treat humerus fracture | Y |  | A2 | $103.62 | 1.7682 | $73.21 | $96.02
24515 | Treat humerus fracture | Y |  | A2 | $630.00 | 59.2233 | $2,451.90 | $1,085.48
24516 | Treat humerus fracture | Y |  | A2 | $630.00 | 59.2233 | $2,451.90 | $1,085.48
24530 | Treat humerus fracture | Y |  | A2 | $103.62 | 1.7682 | $73.21 | $96.02
24535 | Treat humerus fracture | Y |  | A2 | $103.62 | 1.7682 | $73.21 | $96.02
24538 | Treat humerus fracture | Y |  | A2 | $446.00 | 26.1592 | $1,083.02 | $605.26
24545 | Treat humerus fracture | Y |  | A2 | $630.00 | 59.2233 | $2,451.90 | $1,085.48
24546 | Treat humerus fracture | Y |  | A2 | $717.00 | 59.2233 | $2,451.90 | $1,150.73
24560 | Treat humerus fracture | Y |  | A2 | $103.62 | 1.7682 | $73.21 | $96.02
24565 | Treat humerus fracture | Y |  | A2 | $103.62 | 1.7682 | $73.21 | $96.02
24566 | Treat humerus fracture | Y |  | A2 | $446.00 | 26.1592 | $1,083.02 | $605.26
24575 | Treat humerus fracture | Y |  | A2 | $510.00 | 59.2233 | $2,451.90 | $995.48
24576 | Treat humerus fracture | Y |  | A2 | $103.62 | 1.7682 | $73.21 | $96.02
24577 | Treat humerus fracture | Y |  | A2 | $103.62 | 1.7682 | $73.21 | $96.02
24579 | Treat humerus fracture | Y |  | A2 | $510.00 | 59.2233 | $2,451.90 | $995.48
24582 | Treat humerus fracture | Y |  | A2 | $446.00 | 26.1592 | $1,083.02 | $605.26
24586 | Treat elbow fracture | Y |  | A2 | $630.00 | 59.2233 | $2,451.90 | $1,085.48
24587 | Treat elbow fracture | Y |  | A2 | $717.00 | 59.2233 | $2,451.90 | $1,150.73
24600 | Treat elbow dislocation | Y |  | A2 | $103.62 | 1.7682 | $73.21 | $96.02
24605 | Treat elbow dislocation | Y |  | A2 | $446.00 | 14.7658 | $611.32 | $487.33
24615 | Treat elbow dislocation | Y |  | A2 | $510.00 | 59.2233 | $2,451.90 | $995.48
24620 | Treat elbow fracture | Y |  | A2 | $103.62 | 1.7682 | $73.21 | $96.02
24635 | Treat elbow fracture | Y |  | A2 | $510.00 | 59.2233 | $2,451.90 | $995.48
24640 | Treat elbow dislocation | Y | CH | P3 |  | 1.3908 | $57.58 | $57.58
24650 | Treat radius fracture | Y |  | P2 |  | 1.7682 | $73.21 | $73.21
24655 | Treat radius fracture | Y |  | A2 | $103.62 | 1.7682 | $73.21 | $96.02
24665 | Treat radius fracture | Y |  | A2 | $630.00 | 41.1091 | $1,701.96 | $897.99
24666 | Treat radius fracture | Y |  | A2 | $630.00 | 59.2233 | $2,451.90 | $1,085.48
24670 | Treat ulnar fracture | Y |  | A2 | $103.62 | 1.7682 | $73.21 | $96.02
24675 | Treat ulnar fracture | Y |  | A2 | $103.62 | 1.7682 | $73.21 | $96.02
24685 | Treat ulnar fracture | Y |  | A2 | $510.00 | 41.1091 | $1,701.96 | $807.99
24800 | Fusion of elbow joint | Y |  | A2 | $630.00 | 42.985 | $1,779.62 | $917.41
24802 | Fusion/graft of elbow joint | Y |  | A2 | $717.00 | 42.985 | $1,779.62 | $982.66
24925 | Amputation follow-up surgery | Y |  | A2 | $510.00 | 21.2689 | $880.55 | $602.64
25000 | Incision of tendon sheath | Y |  | A2 | $510.00 | 21.2689 | $880.55 | $602.64
25001 | Incise flexor carpi radialis | Y |  | G2 |  | 21.2689 | $880.55 | $880.55
25020 | Decompress forearm 1 space | Y |  | A2 | $510.00 | 21.2689 | $880.55 | $602.64
25023 | Decompress forearm 1 space | Y |  | A2 | $510.00 | 29.19 | $1,208.50 | $684.63
25024 | Decompress forearm 2 spaces | Y |  | A2 | $510.00 | 29.19 | $1,208.50 | $684.63
25025 | Decompress forearm 2 spaces | Y |  | A2 | $510.00 | 29.19 | $1,208.50 | $684.63
25028 | Drainage of forearm lesion | Y |  | A2 | $333.00 | 21.2689 | $880.55 | $469.89
25031 | Drainage of forearm bursa | Y |  | A2 | $446.00 | 21.2689 | $880.55 | $554.64
25035 | Treat forearm bone lesion | Y |  | A2 | $446.00 | 21.2689 | $880.55 | $554.64
25040 | Explore/treat wrist joint | Y |  | A2 | $717.00 | 29.19 | $1,208.50 | $839.88
25065 | Biopsy forearm soft tissues | Y |  | P3 |  | 3.1106 | $128.78 | $128.78
25066 | Biopsy forearm soft tissues | Y |  | A2 | $446.00 | 21.1098 | $873.97 | $552.99
25075 | Removal forearm lesion subcu | Y |  | A2 | $446.00 | 16.1001 | $666.56 | $501.14
25076 | Removal forearm lesion deep | Y |  | A2 | $510.00 | 21.1098 | $873.97 | $600.99
25077 | Remove tumor, forearm/wrist | Y |  | A2 | $510.00 | 21.1098 | $873.97 | $600.99
25085 | Incision of wrist capsule | Y |  | A2 | $510.00 | 21.2689 | $880.55 | $602.64
25100 | Biopsy of wrist joint | Y |  | A2 | $446.00 | 21.2689 | $880.55 | $554.64
25101 | Explore/treat wrist joint | Y |  | A2 | $510.00 | 29.19 | $1,208.50 | $684.63
25105 | Remove wrist joint lining | Y |  | A2 | $630.00 | 29.19 | $1,208.50 | $774.63
25107 | Remove wrist joint cartilage | Y |  | A2 | $510.00 | 29.19 | $1,208.50 | $684.63
25109 | Excise tendon forearm/wrist | Y |  | G2 |  | 21.2689 | $880.55 | $880.55
25110 | Remove wrist tendon lesion | Y |  | A2 | $510.00 | 21.2689 | $880.55 | $602.64
25111 | Remove wrist tendon lesion | Y |  | A2 | $510.00 | 16.4637 | $681.61 | $552.90
25112 | Reremove wrist tendon lesion | Y |  | A2 | $630.00 | 16.4637 | $681.61 | $642.90
25115 | Remove wrist/forearm lesion | Y |  | A2 | $630.00 | 21.2689 | $880.55 | $692.64
25116 | Remove wrist/forearm lesion | Y |  | A2 | $630.00 | 21.2689 | $880.55 | $692.64
25118 | Excise wrist tendon sheath | Y |  | A2 | $446.00 | 29.19 | $1,208.50 | $636.63
25119 | Partial removal of ulna | Y |  | A2 | $510.00 | 29.19 | $1,208.50 | $684.63
25120 | Removal of forearm lesion | Y |  | A2 | $510.00 | 29.19 | $1,208.50 | $684.63
25125 | Remove/graft forearm lesion | Y |  | A2 | $510.00 | 29.19 | $1,208.50 | $684.63
25126 | Remove/graft forearm lesion | Y |  | A2 | $510.00 | 29.19 | $1,208.50 | $684.63
25130 | Removal of wrist lesion | Y |  | A2 | $510.00 | 29.19 | $1,208.50 | $684.63
25135 | Remove & graft wrist lesion | Y |  | A2 | $510.00 | 29.19 | $1,208.50 | $684.63
25136 | Remove & graft wrist lesion | Y |  | A2 | $510.00 | 29.19 | $1,208.50 | $684.63
25145 | Remove forearm bone lesion | Y |  | A2 | $446.00 | 29.19 | $1,208.50 | $636.63
25150 | Partial removal of ulna | Y |  | A2 | $446.00 | 29.19 | $1,208.50 | $636.63
25151 | Partial removal of radius | Y |  | A2 | $446.00 | 29.19 | $1,208.50 | $636.63
25210 | Removal of wrist bone | Y |  | A2 | $510.00 | 26.3105 | $1,089.28 | $654.82
25215 | Removal of wrist bones | Y |  | A2 | $630.00 | 26.3105 | $1,089.28 | $744.82
25230 | Partial removal of radius | Y |  | A2 | $630.00 | 29.19 | $1,208.50 | $774.63
25240 | Partial removal of ulna | Y |  | A2 | $630.00 | 29.19 | $1,208.50 | $774.63
25246 | Injection for wrist x-ray | N |  | N1 |  |  |  |
25248 | Remove forearm foreign body | Y |  | A2 | $446.00 | 21.2689 | $880.55 | $554.64
25250 | Removal of wrist prosthesis | Y |  | A2 | $333.00 | 29.19 | $1,208.50 | $551.88
25251 | Removal of wrist prosthesis | Y |  | A2 | $333.00 | 29.19 | $1,208.50 | $551.88
25259 | Manipulate wrist w/anesthes | Y |  | G2 |  | 1.7682 | $73.21 | $73.21
25260 | Repair forearm tendon/muscle | Y |  | A2 | $630.00 | 29.19 | $1,208.50 | $774.63
25263 | Repair forearm tendon/muscle | Y |  | A2 | $446.00 | 29.19 | $1,208.50 | $636.63
25265 | Repair forearm tendon/muscle | Y |  | A2 | $510.00 | 29.19 | $1,208.50 | $684.63
25270 | Repair forearm tendon/muscle | Y |  | A2 | $630.00 | 29.19 | $1,208.50 | $774.63
25272 | Repair forearm tendon/muscle | Y |  | A2 | $510.00 | 29.19 | $1,208.50 | $684.63
25274 | Repair forearm tendon/muscle | Y |  | A2 | $630.00 | 29.19 | $1,208.50 | $774.63
25275 | Repair forearm tendon sheath | Y |  | A2 | $630.00 | 29.19 | $1,208.50 | $774.63
25280 | Revise wrist/forearm tendon | Y |  | A2 | $630.00 | 29.19 | $1,208.50 | $774.63
25290 | Incise wrist/forearm tendon | Y |  | A2 | $510.00 | 29.19 | $1,208.50 | $684.63
25295 | Release wrist/forearm tendon | Y |  | A2 | $510.00 | 21.2689 | $880.55 | $602.64
25300 | Fusion of tendons at wrist | Y |  | A2 | $510.00 | 29.19 | $1,208.50 | $684.63
25301 | Fusion of tendons at wrist | Y |  | A2 | $510.00 | 29.19 | $1,208.50 | $684.63
25310 | Transplant forearm tendon | Y |  | A2 | $510.00 | 42.985 | $1,779.62 | $827.41
25312 | Transplant forearm tendon | Y |  | A2 | $630.00 | 42.985 | $1,779.62 | $917.41
25315 | Revise palsy hand tendon(s) | Y |  | A2 | $510.00 | 42.985 | $1,779.62 | $827.41
25316 | Revise palsy hand tendon(s) | Y |  | A2 | $510.00 | 79.4244 | $3,288.25 | $1,204.56
25320 | Repair/revise wrist joint | Y |  | A2 | $510.00 | 42.985 | $1,779.62 | $827.41
25332 | Revise wrist joint | Y |  | A2 | $717.00 | 35.904 | $1,486.46 | $909.37
25335 | Realignment of hand | Y |  | A2 | $510.00 | 42.985 | $1,779.62 | $827.41
25337 | Reconstruct ulna/radioulnar | Y |  | A2 | $717.00 | 42.985 | $1,779.62 | $982.66
25350 | Revision of radius | Y |  | A2 | $510.00 | 79.4244 | $3,288.25 | $1,204.56
25355 | Revision of radius | Y |  | A2 | $510.00 | 42.985 | $1,779.62 | $827.41
25360 | Revision of ulna | Y |  | A2 | $510.00 | 29.19 | $1,208.50 | $684.63
25365 | Revise radius & ulna | Y |  | A2 | $510.00 | 29.19 | $1,208.50 | $684.63
25370 | Revise radius or ulna | Y |  | A2 | $510.00 | 42.985 | $1,779.62 | $827.41
25375 | Revise radius & ulna | Y |  | A2 | $630.00 | 42.985 | $1,779.62 | $917.41
25390 | Shorten radius or ulna | Y |  | A2 | $510.00 | 29.19 | $1,208.50 | $684.63
25391 | Lengthen radius or ulna | Y |  | A2 | $630.00 | 42.985 | $1,779.62 | $917.41
25392 | Shorten radius & ulna | Y |  | A2 | $510.00 | 29.19 | $1,208.50 | $684.63
25393 | Lengthen radius & ulna | Y |  | A2 | $630.00 | 42.985 | $1,779.62 | $917.41
25394 | Repair carpal bone, shorten | Y |  | G2 |  | 16.4637 | $681.61 | $681.61
25400 | Repair radius or ulna | Y |  | A2 | $510.00 | 79.4244 | $3,288.25 | $1,204.56
25405 | Repair/graft radius or ulna | Y |  | A2 | $630.00 | 79.4244 | $3,288.25 | $1,294.56
25415 | Repair radius & ulna | Y |  | A2 | $510.00 | 79.4244 | $3,288.25 | $1,204.56
25420 | Repair/graft radius & ulna | Y |  | A2 | $630.00 | 79.4244 | $3,288.25 | $1,294.56
25425 | Repair/graft radius or ulna | Y |  | A2 | $510.00 | 42.985 | $1,779.62 | $827.41
25426 | Repair/graft radius & ulna | Y |  | A2 | $630.00 | 42.985 | $1,779.62 | $917.41
25430 | Vasc graft into carpal bone | Y |  | G2 |  | 26.3105 | $1,089.28 | $1,089.28
25431 | Repair nonunion carpal bone | Y |  | G2 |  | 26.3105 | $1,089.28 | $1,089.28
25440 | Repair/graft wrist bone | Y |  | A2 | $630.00 | 79.4244 | $3,288.25 | $1,294.56
25441 | Reconstruct wrist joint | Y |  | A2 | $717.00 | 122.2057 | $5,059.44 | $1,802.61
25442 | Reconstruct wrist joint | Y |  | A2 | $717.00 | 122.2057 | $5,059.44 | $1,802.61
25443 | Reconstruct wrist joint | Y |  | A2 | $717.00 | 50.8876 | $2,106.80 | $1,064.45
25444 | Reconstruct wrist joint | Y |  | A2 | $717.00 | 50.8876 | $2,106.80 | $1,064.45
25445 | Reconstruct wrist joint | Y |  | A2 | $717.00 | 50.8876 | $2,106.80 | $1,064.45
25446 | Wrist replacement | Y |  | A2 | $995.00 | 122.2057 | $5,059.44 | $2,011.11
25447 | Repair wrist joint(s) | Y |  | A2 | $717.00 | 35.904 | $1,486.46 | $909.37
25449 | Remove wrist joint implant | Y |  | A2 | $717.00 | 35.904 | $1,486.46 | $909.37
25450 | Revision of wrist joint | Y |  | A2 | $510.00 | 42.985 | $1,779.62 | $827.41
25455 | Revision of wrist joint | Y |  | A2 | $510.00 | 42.985 | $1,779.62 | $827.41
25490 | Reinforce radius | Y |  | A2 | $510.00 | 42.985 | $1,779.62 | $827.41
25491 | Reinforce ulna | Y |  | A2 | $510.00 | 42.985 | $1,779.62 | $827.41
25492 | Reinforce radius and ulna | Y |  | A2 | $510.00 | 42.985 | $1,779.62 | $827.41
25500 | Treat fracture of radius | Y |  | P2 |  | 1.7682 | $73.21 | $73.21
25505 | Treat fracture of radius | Y |  | A2 | $103.62 | 1.7682 | $73.21 | $96.02
25515 | Treat fracture of radius | Y |  | A2 | $510.00 | 41.1091 | $1,701.96 | $807.99
25520 | Treat fracture of radius | Y |  | A2 | $103.62 | 1.7682 | $73.21 | $96.02
25525 | Treat fracture of radius | Y |  | A2 | $630.00 | 41.1091 | $1,701.96 | $897.99
25526 | Treat fracture of radius | Y |  | A2 | $717.00 | 41.1091 | $1,701.96 | $963.24
25530 | Treat fracture of ulna | Y |  | P2 |  | 1.7682 | $73.21 | $73.21
25535 | Treat fracture of ulna | Y |  | A2 | $103.62 | 1.7682 | $73.21 | $96.02
25545 | Treat fracture of ulna | Y |  | A2 | $510.00 | 41.1091 | $1,701.96 | $807.99
25560 | Treat fracture radius & ulna | Y |  | P2 |  | 1.7682 | $73.21 | $73.21
25565 | Treat fracture radius & ulna | Y |  | A2 | $103.62 | 1.7682 | $73.21 | $96.02
25574 | Treat fracture radius & ulna | Y |  | A2 | $510.00 | 59.2233 | $2,451.90 | $995.48
25575 | Treat fracture radius/ulna | Y |  | A2 | $510.00 | 59.2233 | $2,451.90 | $995.48
25600 | Treat fracture radius/ulna | Y |  | P2 |  | 1.7682 | $73.21 | $73.21
25605 | Treat fracture radius/ulna | Y |  | A2 | $103.62 | 1.7682 | $73.21 | $96.02
25606 | Treat fx distal radial | Y |  | A2 | $510.00 | 26.1592 | $1,083.02 | $653.26
25607 | Treat fx rad extra-articul | Y |  | A2 | $717.00 | 59.2233 | $2,451.90 | $1,150.73
25608 | Treat fx rad intra-articul | Y |  | A2 | $717.00 | 59.2233 | $2,451.90 | $1,150.73
25609 | Treat fx radial 3+ frag | Y |  | A2 | $717.00 | 59.2233 | $2,451.90 | $1,150.73
25622 | Treat wrist bone fracture | Y |  | P2 |  | 1.7682 | $73.21 | $73.21
25624 | Treat wrist bone fracture | Y |  | A2 | $103.62 | 1.7682 | $73.21 | $96.02
25628 | Treat wrist bone fracture | Y |  | A2 | $510.00 | 41.1091 | $1,701.96 | $807.99
25630 | Treat wrist bone fracture | Y |  | P2 |  | 1.7682 | $73.21 | $73.21
25635 | Treat wrist bone fracture | Y |  | A2 | $103.62 | 1.7682 | $73.21 | $96.02
25645 | Treat wrist bone fracture | Y |  | A2 | $510.00 | 41.1091 | $1,701.96 | $807.99
25650 | Treat wrist bone fracture | Y |  | P2 |  | 1.7682 | $73.21 | $73.21
25651 | Pin ulnar styloid fracture | Y |  | G2 |  | 26.1592 | $1,083.02 | $1,083.02
25652 | Treat fracture ulnar styloid | Y |  | G2 |  | 41.1091 | $1,701.96 | $1,701.96
25660 | Treat wrist dislocation | Y |  | A2 | $103.62 | 1.7682 | $73.21 | $96.02
25670 | Treat wrist dislocation | Y |  | A2 | $510.00 | 26.1592 | $1,083.02 | $653.26
25671 | Pin radioulnar dislocation | Y |  | A2 | $333.00 | 26.1592 | $1,083.02 | $520.51
25675 | Treat wrist dislocation | Y |  | A2 | $103.62 | 1.7682 | $73.21 | $96.02
25676 | Treat wrist dislocation | Y |  | A2 | $446.00 | 26.1592 | $1,083.02 | $605.26
25680 | Treat wrist fracture | Y |  | A2 | $103.62 | 1.7682 | $73.21 | $96.02
25685 | Treat wrist fracture | Y |  | A2 | $510.00 | 26.1592 | $1,083.02 | $653.26
25690 | Treat wrist dislocation | Y |  | A2 | $103.62 | 1.7682 | $73.21 | $96.02
25695 | Treat wrist dislocation | Y |  | A2 | $446.00 | 26.1592 | $1,083.02 | $605.26
25800 | Fusion of wrist joint | Y |  | A2 | $630.00 | 79.4244 | $3,288.25 | $1,294.56
25805 | Fusion/graft of wrist joint | Y |  | A2 | $717.00 | 42.985 | $1,779.62 | $982.66
25810 | Fusion/graft of wrist joint | Y |  | A2 | $717.00 | 79.4244 | $3,288.25 | $1,359.81
25820 | Fusion of hand bones | Y |  | A2 | $630.00 | 16.4637 | $681.61 | $642.90
25825 | Fuse hand bones with graft | Y |  | A2 | $717.00 | 79.4244 | $3,288.25 | $1,359.81
25830 | Fusion, radioulnar jnt/ulna | Y |  | A2 | $717.00 | 79.4244 | $3,288.25 | $1,359.81
25907 | Amputation follow-up surgery | Y |  | A2 | $510.00 | 21.2689 | $880.55 | $602.64
25922 | Amputate hand at wrist | Y |  | A2 | $510.00 | 21.2689 | $880.55 | $602.64
25929 | Amputation follow-up surgery | Y |  | A2 | $510.00 | 15.0458 | $622.91 | $538.23
25931 | Amputation follow-up surgery | Y | CH | G2 |  | 21.2689 | $880.55 | $880.55
26010 | Drainage of finger abscess | Y |  | P2 |  | 1.4066 | $58.23 | $58.23
26011 | Drainage of finger abscess | Y |  | A2 | $333.00 | 11.5594 | $478.57 | $369.39
26020 | Drain hand tendon sheath | Y |  | A2 | $446.00 | 16.4637 | $681.61 | $504.90
26025 | Drainage of palm bursa | Y |  | A2 | $333.00 | 16.4637 | $681.61 | $420.15
26030 | Drainage of palm bursa(s) | Y |  | A2 | $446.00 | 16.4637 | $681.61 | $504.90
26034 | Treat hand bone lesion | Y |  | A2 | $446.00 | 16.4637 | $681.61 | $504.90
26035 | Decompress fingers/hand | Y |  | G2 |  | 16.4637 | $681.61 | $681.61
26040 | Release palm contracture | Y |  | A2 | $630.00 | 26.3105 | $1,089.28 | $744.82
26045 | Release palm contracture | Y |  | A2 | $510.00 | 26.3105 | $1,089.28 | $654.82
26055 | Incise finger tendon sheath | Y |  | A2 | $446.00 | 16.4637 | $681.61 | $504.90
26060 | Incision of finger tendon | Y |  | A2 | $446.00 | 16.4637 | $681.61 | $504.90
26070 | Explore/treat hand joint | Y |  | A2 | $446.00 | 16.4637 | $681.61 | $504.90
26075 | Explore/treat finger joint | Y |  | A2 | $630.00 | 16.4637 | $681.61 | $642.90
26080 | Explore/treat finger joint | Y |  | A2 | $630.00 | 16.4637 | $681.61 | $642.90
26100 | Biopsy hand joint lining | Y |  | A2 | $446.00 | 16.4637 | $681.61 | $504.90
26105 | Biopsy finger joint lining | Y |  | A2 | $333.00 | 16.4637 | $681.61 | $420.15
26110 | Biopsy finger joint lining | Y |  | A2 | $333.00 | 16.4637 | $681.61 | $420.15
26115 | Removal hand lesion subcut | Y |  | A2 | $446.00 | 21.1098 | $873.97 | $552.99
26116 | Removal hand lesion, deep | Y |  | A2 | $446.00 | 21.1098 | $873.97 | $552.99
26117 | Remove tumor, hand/finger | Y |  | A2 | $510.00 | 21.1098 | $873.97 | $600.99
26121 | Release palm contracture | Y |  | A2 | $630.00 | 26.3105 | $1,089.28 | $744.82
26123 | Release palm contracture | Y |  | A2 | $630.00 | 26.3105 | $1,089.28 | $744.82
26125 | Release palm contracture | Y |  | A2 | $630.00 | 16.4637 | $681.61 | $642.90
26130 | Remove wrist joint lining | Y |  | A2 | $510.00 | 16.4637 | $681.61 | $552.90
26135 | Revise finger joint, each | Y |  | A2 | $630.00 | 26.3105 | $1,089.28 | $744.82
26140 | Revise finger joint, each | Y |  | A2 | $446.00 | 16.4637 | $681.61 | $504.90
26145 | Tendon excision, palm/finger | Y |  | A2 | $510.00 | 16.4637 | $681.61 | $552.90
26160 | Remove tendon sheath lesion | Y |  | A2 | $510.00 | 16.4637 | $681.61 | $552.90
26170 | Removal of palm tendon, each | Y |  | A2 | $510.00 | 16.4637 | $681.61 | $552.90
26180 | Removal of finger tendon | Y |  | A2 | $510.00 | 16.4637 | $681.61 | $552.90
26185 | Remove finger bone | Y |  | A2 | $630.00 | 16.4637 | $681.61 | $642.90
26200 | Remove hand bone lesion | Y |  | A2 | $446.00 | 16.4637 | $681.61 | $504.90
26205 | Remove/graft bone lesion | Y |  | A2 | $510.00 | 26.3105 | $1,089.28 | $654.82
26210 | Removal of finger lesion | Y |  | A2 | $446.00 | 16.4637 | $681.61 | $504.90
26215 | Remove/graft finger lesion | Y |  | A2 | $510.00 | 16.4637 | $681.61 | $552.90
26230 | Partial removal of hand bone | Y |  | A2 | $992.95 | 16.4637 | $681.61 | $915.12
26235 | Partial removal, finger bone | Y |  | A2 | $510.00 | 16.4637 | $681.61 | $552.90
26236 | Partial removal, finger bone | Y |  | A2 | $510.00 | 16.4637 | $681.61 | $552.90
26250 | Extensive hand surgery | Y |  | A2 | $510.00 | 16.4637 | $681.61 | $552.90
26255 | Extensive hand surgery | Y |  | A2 | $510.00 | 26.3105 | $1,089.28 | $654.82
26260 | Extensive finger surgery | Y |  | A2 | $510.00 | 16.4637 | $681.61 | $552.90
26261 | Extensive finger surgery | Y |  | A2 | $510.00 | 16.4637 | $681.61 | $552.90
26262 | Partial removal of finger | Y |  | A2 | $446.00 | 16.4637 | $681.61 | $504.90
26320 | Removal of implant from hand | Y |  | A2 | $446.00 | 16.1001 | $666.56 | $501.14
26340 | Manipulate finger w/anesth | Y |  | G2 |  | 1.7682 | $73.21 | $73.21
26350 | Repair finger/hand tendon | Y |  | A2 | $333.00 | 26.3105 | $1,089.28 | $522.07
26352 | Repair/graft hand tendon | Y |  | A2 | $630.00 | 26.3105 | $1,089.28 | $744.82
26356 | Repair finger/hand tendon | Y |  | A2 | $630.00 | 26.3105 | $1,089.28 | $744.82
26357 | Repair finger/hand tendon | Y |  | A2 | $630.00 | 26.3105 | $1,089.28 | $744.82
26358 | Repair/graft hand tendon | Y |  | A2 | $630.00 | 26.3105 | $1,089.28 | $744.82
26370 | Repair finger/hand tendon | Y |  | A2 | $630.00 | 26.3105 | $1,089.28 | $744.82
26372 | Repair/graft hand tendon | Y |  | A2 | $630.00 | 26.3105 | $1,089.28 | $744.82
26373 | Repair finger/hand tendon | Y |  | A2 | $510.00 | 26.3105 | $1,089.28 | $654.82
26390 | Revise hand/finger tendon | Y |  | A2 | $630.00 | 26.3105 | $1,089.28 | $744.82
26392 | Repair/graft hand tendon | Y |  | A2 | $510.00 | 26.3105 | $1,089.28 | $654.82
26410 | Repair hand tendon | Y |  | A2 | $510.00 | 16.4637 | $681.61 | $552.90
26412 | Repair/graft hand tendon | Y |  | A2 | $510.00 | 26.3105 | $1,089.28 | $654.82
26415 | Excision, hand/finger tendon | Y |  | A2 | $630.00 | 26.3105 | $1,089.28 | $744.82
26416 | Graft hand or finger tendon | Y |  | A2 | $510.00 | 26.3105 | $1,089.28 | $654.82
26418 | Repair finger tendon | Y |  | A2 | $630.00 | 16.4637 | $681.61 | $642.90
26420 | Repair/graft finger tendon | Y |  | A2 | $630.00 | 26.3105 | $1,089.28 | $744.82
26426 | Repair finger/hand tendon | Y |  | A2 | $510.00 | 26.3105 | $1,089.28 | $654.82
26428 | Repair/graft finger tendon | Y |  | A2 | $510.00 | 26.3105 | $1,089.28 | $654.82
26432 | Repair finger tendon | Y |  | A2 | $510.00 | 16.4637 | $681.61 | $552.90
26433 | Repair finger tendon | Y |  | A2 | $510.00 | 16.4637 | $681.61 | $552.90
26434 | Repair/graft finger tendon | Y |  | A2 | $510.00 | 26.3105 | $1,089.28 | $654.82
26437 | Realignment of tendons | Y |  | A2 | $510.00 | 16.4637 | $681.61 | $552.90
26440 | Release palm/finger tendon | Y |  | A2 | $510.00 | 16.4637 | $681.61 | $552.90
26442 | Release palm & finger tendon | Y |  | A2 | $510.00 | 26.3105 | $1,089.28 | $654.82
26445 | Release hand/finger tendon | Y |  | A2 | $510.00 | 16.4637 | $681.61 | $552.90
26449 | Release forearm/hand tendon | Y |  | A2 | $510.00 | 26.3105 | $1,089.28 | $654.82
26450 | Incision of palm tendon | Y |  | A2 | $510.00 | 16.4637 | $681.61 | $552.90
26455 | Incision of finger tendon | Y |  | A2 | $510.00 | 16.4637 | $681.61 | $552.90
26460 | Incise hand/finger tendon | Y |  | A2 | $510.00 | 16.4637 | $681.61 | $552.90
26471 | Fusion of finger tendons | Y |  | A2 | $446.00 | 16.4637 | $681.61 | $504.90
26474 | Fusion of finger tendons | Y |  | A2 | $446.00 | 16.4637 | $681.61 | $504.90
26476 | Tendon lengthening | Y |  | A2 | $333.00 | 16.4637 | $681.61 | $420.15
26477 | Tendon shortening | Y |  | A2 | $333.00 | 16.4637 | $681.61 | $420.15
26478 | Lengthening of hand tendon | Y |  | A2 | $333.00 | 16.4637 | $681.61 | $420.15
26479 | Shortening of hand tendon | Y |  | A2 | $333.00 | 16.4637 | $681.61 | $420.15
26480 | Transplant hand tendon | Y |  | A2 | $510.00 | 26.3105 | $1,089.28 | $654.82
26483 | Transplant/graft hand tendon | Y |  | A2 | $510.00 | 26.3105 | $1,089.28 | $654.82
26485 | Transplant palm tendon | Y |  | A2 | $446.00 | 26.3105 | $1,089.28 | $606.82
26489 | Transplant/graft palm tendon | Y |  | A2 | $510.00 | 26.3105 | $1,089.28 | $654.82
26490 | Revise thumb tendon | Y |  | A2 | $510.00 | 26.3105 | $1,089.28 | $654.82
26492 | Tendon transfer with graft | Y |  | A2 | $510.00 | 26.3105 | $1,089.28 | $654.82
26494 | Hand tendon/muscle transfer | Y |  | A2 | $510.00 | 26.3105 | $1,089.28 | $654.82
26496 | Revise thumb tendon | Y |  | A2 | $510.00 | 26.3105 | $1,089.28 | $654.82
26497 | Finger tendon transfer | Y |  | A2 | $510.00 | 26.3105 | $1,089.28 | $654.82
26498 | Finger tendon transfer | Y |  | A2 | $630.00 | 26.3105 | $1,089.28 | $744.82
26499 | Revision of finger | Y |  | A2 | $510.00 | 26.3105 | $1,089.28 | $654.82
26500 | Hand tendon reconstruction | Y |  | A2 | $630.00 | 16.4637 | $681.61 | $642.90
26502 | Hand tendon reconstruction | Y |  | A2 | $630.00 | 26.3105 | $1,089.28 | $744.82
26508 | Release thumb contracture | Y |  | A2 | $510.00 | 16.4637 | $681.61 | $552.90
26510 | Thumb tendon transfer | Y |  | A2 | $510.00 | 26.3105 | $1,089.28 | $654.82
26516 | Fusion of knuckle joint | Y |  | A2 | $333.00 | 26.3105 | $1,089.28 | $522.07
26517 | Fusion of knuckle joints | Y |  | A2 | $510.00 | 26.3105 | $1,089.28 | $654.82
26518 | Fusion of knuckle joints | Y |  | A2 | $510.00 | 26.3105 | $1,089.28 | $654.82
26520 | Release knuckle contracture | Y |  | A2 | $510.00 | 16.4637 | $681.61 | $552.90
26525 | Release finger contracture | Y |  | A2 | $510.00 | 16.4637 | $681.61 | $552.90
26530 | Revise knuckle joint | Y |  | A2 | $510.00 | 35.904 | $1,486.46 | $754.12
26531 | Revise knuckle with implant | Y |  | A2 | $995.00 | 50.8876 | $2,106.80 | $1,272.95
26535 | Revise finger joint | Y |  | A2 | $717.00 | 35.904 | $1,486.46 | $909.37
26536 | Revise/implant finger joint | Y |  | A2 | $717.00 | 50.8876 | $2,106.80 | $1,064.45
26540 | Repair hand joint | Y |  | A2 | $630.00 | 16.4637 | $681.61 | $642.90
26541 | Repair hand joint with graft | Y |  | A2 | $995.00 | 26.3105 | $1,089.28 | $1,018.57
26542 | Repair hand joint with graft | Y |  | A2 | $630.00 | 16.4637 | $681.61 | $642.90
26545 | Reconstruct finger joint | Y |  | A2 | $630.00 | 26.3105 | $1,089.28 | $744.82
26546 | Repair nonunion hand | Y |  | A2 | $630.00 | 26.3105 | $1,089.28 | $744.82
26548 | Reconstruct finger joint | Y |  | A2 | $630.00 | 26.3105 | $1,089.28 | $744.82
26550 | Construct thumb replacement | Y |  | A2 | $446.00 | 26.3105 | $1,089.28 | $606.82
26555 | Positional change of finger | Y |  | A2 | $510.00 | 26.3105 | $1,089.28 | $654.82
26560 | Repair of web finger | Y |  | A2 | $446.00 | 16.4637 | $681.61 | $504.90
26561 | Repair of web finger | Y |  | A2 | $510.00 | 26.3105 | $1,089.28 | $654.82
26562 | Repair of web finger | Y |  | A2 | $630.00 | 26.3105 | $1,089.28 | $744.82
26565 | Correct metacarpal flaw | Y |  | A2 | $717.00 | 26.3105 | $1,089.28 | $810.07
26567 | Correct finger deformity | Y |  | A2 | $717.00 | 26.3105 | $1,089.28 | $810.07
26568 | Lengthen metacarpal/finger | Y |  | A2 | $510.00 | 26.3105 | $1,089.28 | $654.82
26580 | Repair hand deformity | Y |  | A2 | $717.00 | 16.4637 | $681.61 | $708.15
26587 | Reconstruct extra finger | Y |  | A2 | $717.00 | 16.4637 | $681.61 | $708.15
26590 | Repair finger deformity | Y |  | A2 | $717.00 | 16.4637 | $681.61 | $708.15
26591 | Repair muscles of hand | Y |  | A2 | $510.00 | 26.3105 | $1,089.28 | $654.82
26593 | Release muscles of hand | Y |  | A2 | $510.00 | 16.4637 | $681.61 | $552.90
26596 | Excision constricting tissue | Y |  | A2 | $446.00 | 16.4637 | $681.61 | $504.90
26600 | Treat metacarpal fracture | Y |  | P2 |  | 1.7682 | $73.21 | $73.21
26605 | Treat metacarpal fracture | Y |  | A2 | $103.62 | 1.7682 | $73.21 | $96.02
26607 | Treat metacarpal fracture | Y |  | A2 | $103.62 | 1.7682 | $73.21 | $96.02
26608 | Treat metacarpal fracture | Y |  | A2 | $630.00 | 26.1592 | $1,083.02 | $743.26
26615 | Treat metacarpal fracture | Y |  | A2 | $630.00 | 41.1091 | $1,701.96 | $897.99
26641 | Treat thumb dislocation | Y | CH | P2 |  | 1.7682 | $73.21 | $73.21
26645 | Treat thumb fracture | Y |  | A2 | $103.62 | 1.7682 | $73.21 | $96.02
26650 | Treat thumb fracture | Y |  | A2 | $446.00 | 26.1592 | $1,083.02 | $605.26
26665 | Treat thumb fracture | Y |  | A2 | $630.00 | 41.1091 | $1,701.96 | $897.99
26670 | Treat hand dislocation | Y | CH | P2 |  | 1.7682 | $73.21 | $73.21
26675 | Treat hand dislocation | Y |  | A2 | $103.62 | 1.7682 | $73.21 | $96.02
26676 | Pin hand dislocation | Y |  | A2 | $446.00 | 26.1592 | $1,083.02 | $605.26
26685 | Treat hand dislocation | Y |  | A2 | $510.00 | 26.1592 | $1,083.02 | $653.26
26686 | Treat hand dislocation | Y |  | A2 | $510.00 | 59.2233 | $2,451.90 | $995.48
26700 | Treat knuckle dislocation | Y | CH | P2 |  | 1.7682 | $73.21 | $73.21
26705 | Treat knuckle dislocation | Y |  | A2 | $103.62 | 1.7682 | $73.21 | $96.02
26706 | Pin knuckle dislocation | Y |  | A2 | $103.62 | 1.7682 | $73.21 | $96.02
26715 | Treat knuckle dislocation | Y |  | A2 | $630.00 | 26.1592 | $1,083.02 | $743.26
26720 | Treat finger fracture, each | Y |  | P2 |  | 1.7682 | $73.21 | $73.21
26725 | Treat finger fracture, each | Y |  | P2 |  | 1.7682 | $73.21 | $73.21
26727 | Treat finger fracture, each | Y |  | A2 | $995.00 | 26.1592 | $1,083.02 | $1,017.01
26735 | Treat finger fracture, each | Y |  | A2 | $630.00 | 26.1592 | $1,083.02 | $743.26
26740 | Treat finger fracture, each | Y |  | P2 |  | 1.7682 | $73.21 | $73.21
26742 | Treat finger fracture, each | Y |  | A2 | $103.62 | 1.7682 | $73.21 | $96.02
26746 | Treat finger fracture, each | Y |  | A2 | $717.00 | 26.1592 | $1,083.02 | $808.51
26750 | Treat finger fracture, each | Y |  | P2 |  | 1.7682 | $73.21 | $73.21
26755 | Treat finger fracture, each | Y |  | G2 |  | 1.7682 | $73.21 | $73.21
26756 | Pin finger fracture, each | Y |  | A2 | $446.00 | 26.1592 | $1,083.02 | $605.26
26765 | Treat finger fracture, each | Y |  | A2 | $630.00 | 26.1592 | $1,083.02 | $743.26
26770 | Treat finger dislocation | Y |  | G2 |  | 1.7682 | $73.21 | $73.21
26775 | Treat finger dislocation | Y | CH | P3 |  | 4.0402 | $167.27 | $167.27
26776 | Pin finger dislocation | Y |  | A2 | $446.00 | 26.1592 | $1,083.02 | $605.26
26785 | Treat finger dislocation | Y |  | A2 | $446.00 | 26.1592 | $1,083.02 | $605.26
26820 | Thumb fusion with graft | Y |  | A2 | $717.00 | 26.3105 | $1,089.28 | $810.07
26841 | Fusion of thumb | Y |  | A2 | $630.00 | 26.3105 | $1,089.28 | $744.82
26842 | Thumb fusion with graft | Y |  | A2 | $630.00 | 26.3105 | $1,089.28 | $744.82
26843 | Fusion of hand joint | Y |  | A2 | $510.00 | 26.3105 | $1,089.28 | $654.82
26844 | Fusion/graft of hand joint | Y |  | A2 | $510.00 | 26.3105 | $1,089.28 | $654.82
26850 | Fusion of knuckle | Y |  | A2 | $630.00 | 26.3105 | $1,089.28 | $744.82
26852 | Fusion of knuckle with graft | Y |  | A2 | $630.00 | 26.3105 | $1,089.28 | $744.82
26860 | Fusion of finger joint | Y |  | A2 | $510.00 | 26.3105 | $1,089.28 | $654.82
26861 | Fusion of finger jnt, add-on | Y |  | A2 | $446.00 | 26.3105 | $1,089.28 | $606.82
26862 | Fusion/graft of finger joint | Y |  | A2 | $630.00 | 26.3105 | $1,089.28 | $744.82
26863 | Fuse/graft added joint | Y |  | A2 | $510.00 | 26.3105 | $1,089.28 | $654.82
26910 | Amputate metacarpal bone | Y |  | A2 | $510.00 | 26.3105 | $1,089.28 | $654.82
26951 | Amputation of finger/thumb | Y |  | A2 | $446.00 | 16.4637 | $681.61 | $504.90
26952 | Amputation of finger/thumb | Y |  | A2 | $630.00 | 16.4637 | $681.61 | $642.90
26990 | Drainage of pelvis lesion | Y |  | A2 | $333.00 | 21.2689 | $880.55 | $469.89
26991 | Drainage of pelvis bursa | Y |  | A2 | $333.00 | 21.2689 | $880.55 | $469.89
27000 | Incision of hip tendon | Y |  | A2 | $446.00 | 21.2689 | $880.55 | $554.64
27001 | Incision of hip tendon | Y |  | A2 | $510.00 | 29.19 | $1,208.50 | $684.63
27003 | Incision of hip tendon | Y |  | A2 | $510.00 | 29.19 | $1,208.50 | $684.63
27033 | Exploration of hip joint | Y |  | A2 | $510.00 | 42.985 | $1,779.62 | $827.41
27035 | Denervation of hip joint | Y |  | A2 | $630.00 | 42.985 | $1,779.62 | $917.41
27040 | Biopsy of soft tissues | Y |  | A2 | $333.00 | 8.685 | $359.57 | $339.64
27041 | Biopsy of soft tissues | Y |  | A2 | $418.49 | 8.685 | $359.57 | $403.76
27047 | Remove hip/pelvis lesion | Y |  | A2 | $446.00 | 21.1098 | $873.97 | $552.99
27048 | Remove hip/pelvis lesion | Y |  | A2 | $510.00 | 21.1098 | $873.97 | $600.99
27049 | Remove tumor, hip/pelvis | Y |  | A2 | $510.00 | 21.1098 | $873.97 | $600.99
27050 | Biopsy of sacroiliac joint | Y |  | A2 | $510.00 | 21.2689 | $880.55 | $602.64
27052 | Biopsy of hip joint | Y |  | A2 | $510.00 | 21.2689 | $880.55 | $602.64
27060 | Removal of ischial bursa | Y |  | A2 | $717.00 | 21.2689 | $880.55 | $757.89
27062 | Remove femur lesion/bursa | Y |  | A2 | $717.00 | 21.2689 | $880.55 | $757.89
27065 | Removal of hip bone lesion | Y |  | A2 | $717.00 | 21.2689 | $880.55 | $757.89
27066 | Removal of hip bone lesion | Y |  | A2 | $717.00 | 29.19 | $1,208.50 | $839.88
27067 | Remove/graft hip bone lesion | Y |  | A2 | $717.00 | 29.19 | $1,208.50 | $839.88
27080 | Removal of tail bone | Y |  | A2 | $446.00 | 29.19 | $1,208.50 | $636.63
27086 | Remove hip foreign body | Y |  | A2 | $333.00 | 8.685 | $359.57 | $339.64
27087 | Remove hip foreign body | Y |  | A2 | $510.00 | 21.2689 | $880.55 | $602.64
27093 | Injection for hip x-ray | N |  | N1 |  |  |  |
27095 | Injection for hip x-ray | N |  | N1 |  |  |  |
27097 | Revision of hip tendon | Y |  | A2 | $510.00 | 29.19 | $1,208.50 | $684.63
27098 | Transfer tendon to pelvis | Y |  | A2 | $510.00 | 29.19 | $1,208.50 | $684.63
27100 | Transfer of abdominal muscle | Y |  | A2 | $630.00 | 42.985 | $1,779.62 | $917.41
27105 | Transfer of spinal muscle | Y |  | A2 | $630.00 | 42.985 | $1,779.62 | $917.41
27110 | Transfer of iliopsoas muscle | Y |  | A2 | $630.00 | 42.985 | $1,779.62 | $917.41
27111 | Transfer of iliopsoas muscle | Y |  | A2 | $630.00 | 42.985 | $1,779.62 | $917.41
27193 | Treat pelvic ring fracture | Y |  | A2 | $103.62 | 1.7682 | $73.21 | $96.02
27194 | Treat pelvic ring fracture | Y |  | A2 | $446.00 | 14.7658 | $611.32 | $487.33
27200 | Treat tail bone fracture | Y |  | P2 |  | 1.7682 | $73.21 | $73.21
27202 | Treat tail bone fracture | Y |  | A2 | $446.00 | 41.1091 | $1,701.96 | $759.99
27220 | Treat hip socket fracture | Y |  | G2 |  | 1.7682 | $73.21 | $73.21
27230 | Treat thigh fracture | Y |  | A2 | $103.62 | 1.7682 | $73.21 | $96.02
27238 | Treat thigh fracture | Y |  | A2 | $103.62 | 1.7682 | $73.21 | $96.02
27246 | Treat thigh fracture | Y |  | A2 | $103.62 | 1.7682 | $73.21 | $96.02
27250 | Treat hip dislocation | Y |  | A2 | $103.62 | 1.7682 | $73.21 | $96.02
27252 | Treat hip dislocation | Y |  | A2 | $446.00 | 14.7658 | $611.32 | $487.33
27256 | Treat hip dislocation | Y |  | G2 |  | 1.7682 | $73.21 | $73.21
27257 | Treat hip dislocation | Y |  | A2 | $510.00 | 14.7658 | $611.32 | $535.33
27265 | Treat hip dislocation | Y |  | A2 | $103.62 | 1.7682 | $73.21 | $96.02
27266 | Treat hip dislocation | Y |  | A2 | $446.00 | 14.7658 | $611.32 | $487.33
27267 | Cltx thigh fx | Y | NI | G2 |  | 1.7682 | $73.21 | $73.21
27275 | Manipulation of hip joint | Y |  | A2 | $446.00 | 14.7658 | $611.32 | $487.33
27301 | Drain thigh/knee lesion | Y |  | A2 | $510.00 | 18.3197 | $758.45 | $572.11
27305 | Incise thigh tendon & fascia | Y |  | A2 | $446.00 | 21.2689 | $880.55 | $554.64
27306 | Incision of thigh tendon | Y |  | A2 | $510.00 | 21.2689 | $880.55 | $602.64
27307 | Incision of thigh tendons | Y |  | A2 | $510.00 | 21.2689 | $880.55 | $602.64
27310 | Exploration of knee joint | Y |  | A2 | $630.00 | 29.19 | $1,208.50 | $774.63
27323 | Biopsy, thigh soft tissues | Y |  | A2 | $333.00 | 8.685 | $359.57 | $339.64
27324 | Biopsy, thigh soft tissues | Y |  | A2 | $333.00 | 21.1098 | $873.97 | $468.24
27325 | Neurectomy, hamstring | Y |  | A2 | $446.00 | 18.0518 | $747.36 | $521.34
27326 | Neurectomy, popliteal | Y |  | A2 | $446.00 | 18.0518 | $747.36 | $521.34
27327 | Removal of thigh lesion | Y |  | A2 | $446.00 | 21.1098 | $873.97 | $552.99
27328 | Removal of thigh lesion | Y |  | A2 | $510.00 | 21.1098 | $873.97 | $600.99
27329 | Remove tumor, thigh/knee | Y |  | A2 | $630.00 | 21.1098 | $873.97 | $690.99
27330 | Biopsy, knee joint lining | Y |  | A2 | $630.00 | 29.19 | $1,208.50 | $774.63
27331 | Explore/treat knee joint | Y |  | A2 | $630.00 | 29.19 | $1,208.50 | $774.63
27332 | Removal of knee cartilage | Y |  | A2 | $630.00 | 29.19 | $1,208.50 | $774.63
27333 | Removal of knee cartilage | Y |  | A2 | $630.00 | 29.19 | $1,208.50 | $774.63
27334 | Remove knee joint lining | Y |  | A2 | $630.00 | 29.19 | $1,208.50 | $774.63
27335 | Remove knee joint lining | Y |  | A2 | $630.00 | 29.19 | $1,208.50 | $774.63
27340 | Removal of kneecap bursa | Y |  | A2 | $510.00 | 21.2689 | $880.55 | $602.64
27345 | Removal of knee cyst | Y |  | A2 | $630.00 | 21.2689 | $880.55 | $692.64
27347 | Remove knee cyst | Y |  | A2 | $630.00 | 21.2689 | $880.55 | $692.64
27350 | Removal of kneecap | Y |  | A2 | $630.00 | 29.19 | $1,208.50 | $774.63
27355 | Remove femur lesion | Y |  | A2 | $510.00 | 29.19 | $1,208.50 | $684.63
27356 | Remove femur lesion/graft | Y |  | A2 | $630.00 | 29.19 | $1,208.50 | $774.63
27357 | Remove femur lesion/graft | Y |  | A2 | $717.00 | 29.19 | $1,208.50 | $839.88
27358 | Remove femur lesion/fixation | Y |  | A2 | $717.00 | 29.19 | $1,208.50 | $839.88
27360 | Partial removal, leg bone(s) | Y |  | A2 | $717.00 | 29.19 | $1,208.50 | $839.88
27370 | Injection for knee x-ray | N |  | N1 |  |  |  |
27372 | Removal of foreign body | Y |  | A2 | $995.00 | 21.1098 | $873.97 | $964.74
27380 | Repair of kneecap tendon | Y |  | A2 | $333.00 | 21.2689 | $880.55 | $469.89
27381 | Repair/graft kneecap tendon | Y |  | A2 | $510.00 | 21.2689 | $880.55 | $602.64
27385 | Repair of thigh muscle | Y |  | A2 | $510.00 | 21.2689 | $880.55 | $602.64
27386 | Repair/graft of thigh muscle | Y |  | A2 | $510.00 | 21.2689 | $880.55 | $602.64
27390 | Incision of thigh tendon | Y |  | A2 | $333.00 | 21.2689 | $880.55 | $469.89
27391 | Incision of thigh tendons | Y |  | A2 | $446.00 | 21.2689 | $880.55 | $554.64
27392 | Incision of thigh tendons | Y |  | A2 | $510.00 | 21.2689 | $880.55 | $602.64
27393 | Lengthening of thigh tendon | Y |  | A2 | $446.00 | 29.19 | $1,208.50 | $636.63
27394 | Lengthening of thigh tendons | Y |  | A2 | $510.00 | 29.19 | $1,208.50 | $684.63
27395 | Lengthening of thigh tendons | Y |  | A2 | $510.00 | 42.985 | $1,779.62 | $827.41
27396 | Transplant of thigh tendon | Y |  | A2 | $510.00 | 29.19 | $1,208.50 | $684.63
27397 | Transplants of thigh tendons | Y |  | A2 | $510.00 | 42.985 | $1,779.62 | $827.41
27400 | Revise thigh muscles/tendons | Y |  | A2 | $510.00 | 42.985 | $1,779.62 | $827.41
27403 | Repair of knee cartilage | Y |  | A2 | $630.00 | 29.19 | $1,208.50 | $774.63
27405 | Repair of knee ligament | Y |  | A2 | $630.00 | 42.985 | $1,779.62 | $917.41
27407 | Repair of knee ligament | Y |  | A2 | $630.00 | 79.4244 | $3,288.25 | $1,294.56
27409 | Repair of knee ligaments | Y |  | A2 | $630.00 | 42.985 | $1,779.62 | $917.41
27416 | Osteochondral knee autograft | Y | NI | G2 |  | 42.985 | $1,779.62 | $1,779.62
27418 | Repair degenerated kneecap | Y |  | A2 | $510.00 | 42.985 | $1,779.62 | $827.41
27420 | Revision of unstable kneecap | Y |  | A2 | $510.00 | 42.985 | $1,779.62 | $827.41
27422 | Revision of unstable kneecap | Y |  | A2 | $995.00 | 42.985 | $1,779.62 | $1,191.16
27424 | Revision/removal of kneecap | Y |  | A2 | $510.00 | 42.985 | $1,779.62 | $827.41
27425 | Lat retinacular release open | Y |  | A2 | $995.00 | 29.19 | $1,208.50 | $1,048.38
27427 | Reconstruction, knee | Y |  | A2 | $510.00 | 42.985 | $1,779.62 | $827.41
27428 | Reconstruction, knee | Y |  | A2 | $630.00 | 79.4244 | $3,288.25 | $1,294.56
27429 | Reconstruction, knee | Y |  | A2 | $630.00 | 79.4244 | $3,288.25 | $1,294.56
27430 | Revision of thigh muscles | Y |  | A2 | $630.00 | 42.985 | $1,779.62 | $917.41
27435 | Incision of knee joint | Y |  | A2 | $630.00 | 42.985 | $1,779.62 | $917.41
27437 | Revise kneecap | Y |  | A2 | $630.00 | 35.904 | $1,486.46 | $844.12
27438 | Revise kneecap with implant | Y |  | A2 | $717.00 | 50.8876 | $2,106.80 | $1,064.45
27440 | Revision of knee joint | Y |  | G2 |  | 35.904 | $1,486.46 | $1,486.46
27441 | Revision of knee joint | Y |  | A2 | $717.00 | 35.904 | $1,486.46 | $909.37
27442 | Revision of knee joint | Y |  | A2 | $717.00 | 35.904 | $1,486.46 | $909.37
27443 | Revision of knee joint | Y |  | A2 | $717.00 | 35.904 | $1,486.46 | $909.37
27446 | Revision of knee joint | Y |  | G2 |  | 274.6715 | $11,371.67 | $11,371.67
27496 | Decompression of thigh/knee | Y |  | A2 | $717.00 | 21.2689 | $880.55 | $757.89
27497 | Decompression of thigh/knee | Y |  | A2 | $510.00 | 21.2689 | $880.55 | $602.64
27498 | Decompression of thigh/knee | Y |  | A2 | $510.00 | 21.2689 | $880.55 | $602.64
27499 | Decompression of thigh/knee | Y |  | A2 | $510.00 | 21.2689 | $880.55 | $602.64
27500 | Treatment of thigh fracture | Y |  | A2 | $103.62 | 1.7682 | $73.21 | $96.02
27501 | Treatment of thigh fracture | Y |  | A2 | $103.62 | 1.7682 | $73.21 | $96.02
27502 | Treatment of thigh fracture | Y |  | A2 | $103.62 | 1.7682 | $73.21 | $96.02
27503 | Treatment of thigh fracture | Y |  | A2 | $103.62 | 1.7682 | $73.21 | $96.02
27508 | Treatment of thigh fracture | Y |  | A2 | $103.62 | 1.7682 | $73.21 | $96.02
27509 | Treatment of thigh fracture | Y |  | A2 | $510.00 | 26.1592 | $1,083.02 | $653.26
27510 | Treatment of thigh fracture | Y |  | A2 | $103.62 | 1.7682 | $73.21 | $96.02
27516 | Treat thigh fx growth plate | Y |  | A2 | $103.62 | 1.7682 | $73.21 | $96.02
27517 | Treat thigh fx growth plate | Y |  | A2 | $103.62 | 1.7682 | $73.21 | $96.02
27520 | Treat kneecap fracture | Y |  | A2 | $103.62 | 1.7682 | $73.21 | $96.02
27530 | Treat knee fracture | Y |  | A2 | $103.62 | 1.7682 | $73.21 | $96.02
27532 | Treat knee fracture | Y |  | A2 | $103.62 | 1.7682 | $73.21 | $96.02
27538 | Treat knee fracture(s) | Y |  | A2 | $103.62 | 1.7682 | $73.21 | $96.02
27550 | Treat knee dislocation | Y |  | A2 | $103.62 | 1.7682 | $73.21 | $96.02
27552 | Treat knee dislocation | Y |  | A2 | $333.00 | 14.7658 | $611.32 | $402.58
27560 | Treat kneecap dislocation | Y |  | A2 | $103.62 | 1.7682 | $73.21 | $96.02
27562 | Treat kneecap dislocation | Y |  | A2 | $333.00 | 14.7658 | $611.32 | $402.58
27566 | Treat kneecap dislocation | Y |  | A2 | $446.00 | 41.1091 | $1,701.96 | $759.99
27570 | Fixation of knee joint | Y |  | A2 | $333.00 | 14.7658 | $611.32 | $402.58
27594 | Amputation follow-up surgery | Y |  | A2 | $510.00 | 21.2689 | $880.55 | $602.64
27600 | Decompression of lower leg | Y |  | A2 | $510.00 | 21.2689 | $880.55 | $602.64
27601 | Decompression of lower leg | Y |  | A2 | $510.00 | 21.2689 | $880.55 | $602.64
27602 | Decompression of lower leg | Y |  | A2 | $510.00 | 21.2689 | $880.55 | $602.64
27603 | Drain lower leg lesion | Y |  | A2 | $446.00 | 18.3197 | $758.45 | $524.11
27604 | Drain lower leg bursa | Y |  | A2 | $446.00 | 21.2689 | $880.55 | $554.64
27605 | Incision of achilles tendon | Y |  | A2 | $333.00 | 20.8284 | $862.32 | $465.33
27606 | Incision of achilles tendon | Y |  | A2 | $333.00 | 21.2689 | $880.55 | $469.89
27607 | Treat lower leg bone lesion | Y |  | A2 | $446.00 | 21.2689 | $880.55 | $554.64
27610 | Explore/treat ankle joint | Y |  | A2 | $446.00 | 29.19 | $1,208.50 | $636.63
27612 | Exploration of ankle joint | Y |  | A2 | $510.00 | 29.19 | $1,208.50 | $684.63
27613 | Biopsy lower leg soft tissue | Y |  | P3 |  | 2.9376 | $121.62 | $121.62
27614 | Biopsy lower leg soft tissue | Y |  | A2 | $446.00 | 21.1098 | $873.97 | $552.99
27615 | Remove tumor, lower leg | Y |  | A2 | $510.00 | 29.19 | $1,208.50 | $684.63
27618 | Remove lower leg lesion | Y |  | A2 | $446.00 | 16.1001 | $666.56 | $501.14
27619 | Remove lower leg lesion | Y |  | A2 | $510.00 | 21.1098 | $873.97 | $600.99
27620 | Explore/treat ankle joint | Y |  | A2 | $630.00 | 29.19 | $1,208.50 | $774.63
27625 | Remove ankle joint lining | Y |  | A2 | $630.00 | 29.19 | $1,208.50 | $774.63
27626 | Remove ankle joint lining | Y |  | A2 | $630.00 | 29.19 | $1,208.50 | $774.63
27630 | Removal of tendon lesion | Y |  | A2 | $510.00 | 21.2689 | $880.55 | $602.64
27635 | Remove lower leg bone lesion | Y |  | A2 | $510.00 | 29.19 | $1,208.50 | $684.63
27637 | Remove/graft leg bone lesion | Y |  | A2 | $510.00 | 29.19 | $1,208.50 | $684.63
27638 | Remove/graft leg bone lesion | Y |  | A2 | $510.00 | 29.19 | $1,208.50 | $684.63
27640 | Partial removal of tibia | Y |  | A2 | $446.00 | 42.985 | $1,779.62 | $779.41
27641 | Partial removal of fibula | Y |  | A2 | $446.00 | 29.19 | $1,208.50 | $636.63
27647 | Extensive ankle/heel surgery | Y |  | A2 | $510.00 | 42.985 | $1,779.62 | $827.41
27648 | Injection for ankle x-ray | N |  | N1 |  |  |  |
27650 | Repair achilles tendon | Y |  | A2 | $510.00 | 42.985 | $1,779.62 | $827.41
27652 | Repair/graft achilles tendon | Y |  | A2 | $510.00 | 79.4244 | $3,288.25 | $1,204.56
27654 | Repair of achilles tendon | Y |  | A2 | $510.00 | 42.985 | $1,779.62 | $827.41
27656 | Repair leg fascia defect | Y |  | A2 | $446.00 | 21.2689 | $880.55 | $554.64
27658 | Repair of leg tendon, each | Y |  | A2 | $333.00 | 21.2689 | $880.55 | $469.89
27659 | Repair of leg tendon, each | Y |  | A2 | $446.00 | 21.2689 | $880.55 | $554.64
27664 | Repair of leg tendon, each | Y |  | A2 | $446.00 | 21.2689 | $880.55 | $554.64
27665 | Repair of leg tendon, each | Y |  | A2 | $446.00 | 29.19 | $1,208.50 | $636.63
27675 | Repair lower leg tendons | Y |  | A2 | $446.00 | 21.2689 | $880.55 | $554.64
27676 | Repair lower leg tendons | Y |  | A2 | $510.00 | 29.19 | $1,208.50 | $684.63
27680 | Release of lower leg tendon | Y |  | A2 | $510.00 | 29.19 | $1,208.50 | $684.63
27681 | Release of lower leg tendons | Y |  | A2 | $446.00 | 29.19 | $1,208.50 | $636.63
27685 | Revision of lower leg tendon | Y |  | A2 | $510.00 | 29.19 | $1,208.50 | $684.63
27686 | Revise lower leg tendons | Y |  | A2 | $510.00 | 29.19 | $1,208.50 | $684.63
27687 | Revision of calf tendon | Y |  | A2 | $510.00 | 29.19 | $1,208.50 | $684.63
27690 | Revise lower leg tendon | Y |  | A2 | $630.00 | 42.985 | $1,779.62 | $917.41
27691 | Revise lower leg tendon | Y |  | A2 | $630.00 | 42.985 | $1,779.62 | $917.41
27692 | Revise additional leg tendon | Y |  | A2 | $510.00 | 42.985 | $1,779.62 | $827.41
27695 | Repair of ankle ligament | Y |  | A2 | $446.00 | 29.19 | $1,208.50 | $636.63
27696 | Repair of ankle ligaments | Y |  | A2 | $446.00 | 29.19 | $1,208.50 | $636.63
27698 | Repair of ankle ligament | Y |  | A2 | $446.00 | 29.19 | $1,208.50 | $636.63
27700 | Revision of ankle joint | Y |  | A2 | $717.00 | 35.904 | $1,486.46 | $909.37
27704 | Removal of ankle implant | Y |  | A2 | $446.00 | 21.2689 | $880.55 | $554.64
27705 | Incision of tibia | Y |  | A2 | $446.00 | 42.985 | $1,779.62 | $779.41
27707 | Incision of fibula | Y |  | A2 | $446.00 | 21.2689 | $880.55 | $554.64
27709 | Incision of tibia & fibula | Y |  | A2 | $446.00 | 29.19 | $1,208.50 | $636.63
27726 | Repair fibula nonunion | Y | NI | G2 |  | 26.1592 | $1,083.02 | $1,083.02
27730 | Repair of tibia epiphysis | Y |  | A2 | $446.00 | 29.19 | $1,208.50 | $636.63
27732 | Repair of fibula epiphysis | Y |  | A2 | $446.00 | 29.19 | $1,208.50 | $636.63
27734 | Repair lower leg epiphyses | Y |  | A2 | $446.00 | 29.19 | $1,208.50 | $636.63
27740 | Repair of leg epiphyses | Y |  | A2 | $446.00 | 29.19 | $1,208.50 | $636.63
27742 | Repair of leg epiphyses | Y |  | A2 | $446.00 | 42.985 | $1,779.62 | $779.41
27745 | Reinforce tibia | Y |  | A2 | $510.00 | 79.4244 | $3,288.25 | $1,204.56
27750 | Treatment of tibia fracture | Y |  | A2 | $103.62 | 1.7682 | $73.21 | $96.02
27752 | Treatment of tibia fracture | Y |  | A2 | $103.62 | 1.7682 | $73.21 | $96.02
27756 | Treatment of tibia fracture | Y |  | A2 | $510.00 | 26.1592 | $1,083.02 | $653.26
27758 | Treatment of tibia fracture | Y |  | A2 | $630.00 | 41.1091 | $1,701.96 | $897.99
27759 | Treatment of tibia fracture | Y |  | A2 | $630.00 | 59.2233 | $2,451.90 | $1,085.48
27760 | Cltx medial ankle fx | Y |  | A2 | $103.62 | 1.7682 | $73.21 | $96.02
27762 | Cltx med ankle fx w/mnpj | Y |  | A2 | $103.62 | 1.7682 | $73.21 | $96.02
27766 | Optx medial ankle fx | Y |  | A2 | $510.00 | 41.1091 | $1,701.96 | $807.99
27767 | Cltx post ankle fx | Y | NI | G2 |  | 1.7682 | $73.21 | $73.21
27768 | Cltx post ankle fx w/mnpj | Y | NI | G2 |  | 1.7682 | $73.21 | $73.21
27769 | Optx post ankle fx | Y | NI | G2 |  | 41.1091 | $1,701.96 | $1,701.96
27780 | Treatment of fibula fracture | Y |  | A2 | $103.62 | 1.7682 | $73.21 | $96.02
27781 | Treatment of fibula fracture | Y |  | A2 | $103.62 | 1.7682 | $73.21 | $96.02
27784 | Treatment of fibula fracture | Y |  | A2 | $510.00 | 41.1091 | $1,701.96 | $807.99
27786 | Treatment of ankle fracture | Y |  | A2 | $103.62 | 1.7682 | $73.21 | $96.02
27788 | Treatment of ankle fracture | Y |  | A2 | $103.62 | 1.7682 | $73.21 | $96.02
27792 | Treatment of ankle fracture | Y |  | A2 | $510.00 | 41.1091 | $1,701.96 | $807.99
27808 | Treatment of ankle fracture | Y |  | A2 | $103.62 | 1.7682 | $73.21 | $96.02
27810 | Treatment of ankle fracture | Y |  | A2 | $103.62 | 1.7682 | $73.21 | $96.02
27814 | Treatment of ankle fracture | Y |  | A2 | $510.00 | 41.1091 | $1,701.96 | $807.99
27816 | Treatment of ankle fracture | Y |  | A2 | $103.62 | 1.7682 | $73.21 | $96.02
27818 | Treatment of ankle fracture | Y |  | A2 | $103.62 | 1.7682 | $73.21 | $96.02
27822 | Treatment of ankle fracture | Y |  | A2 | $510.00 | 41.1091 | $1,701.96 | $807.99
27823 | Treatment of ankle fracture | Y |  | A2 | $510.00 | 59.2233 | $2,451.90 | $995.48
27824 | Treat lower leg fracture | Y |  | A2 | $103.62 | 1.7682 | $73.21 | $96.02
27825 | Treat lower leg fracture | Y |  | A2 | $103.62 | 1.7682 | $73.21 | $96.02
27826 | Treat lower leg fracture | Y |  | A2 | $510.00 | 41.1091 | $1,701.96 | $807.99
27827 | Treat lower leg fracture | Y |  | A2 | $510.00 | 59.2233 | $2,451.90 | $995.48
27828 | Treat lower leg fracture | Y |  | A2 | $630.00 | 59.2233 | $2,451.90 | $1,085.48
27829 | Treat lower leg joint | Y |  | A2 | $446.00 | 41.1091 | $1,701.96 | $759.99
27830 | Treat lower leg dislocation | Y |  | A2 | $103.62 | 1.7682 | $73.21 | $96.02
27831 | Treat lower leg dislocation | Y |  | A2 | $103.62 | 1.7682 | $73.21 | $96.02
27832 | Treat lower leg dislocation | Y |  | A2 | $446.00 | 41.1091 | $1,701.96 | $759.99
27840 | Treat ankle dislocation | Y |  | A2 | $103.62 | 1.7682 | $73.21 | $96.02
27842 | Treat ankle dislocation | Y |  | A2 | $333.00 | 14.7658 | $611.32 | $402.58
27846 | Treat ankle dislocation | Y |  | A2 | $510.00 | 41.1091 | $1,701.96 | $807.99
27848 | Treat ankle dislocation | Y |  | A2 | $510.00 | 41.1091 | $1,701.96 | $807.99
27860 | Fixation of ankle joint | Y |  | A2 | $333.00 | 14.7658 | $611.32 | $402.58
27870 | Fusion of ankle joint, open | Y |  | A2 | $630.00 | 79.4244 | $3,288.25 | $1,294.56
27871 | Fusion of tibiofibular joint | Y |  | A2 | $630.00 | 79.4244 | $3,288.25 | $1,294.56
27884 | Amputation follow-up surgery | Y |  | A2 | $510.00 | 21.2689 | $880.55 | $602.64
27889 | Amputation of foot at ankle | Y |  | A2 | $510.00 | 29.19 | $1,208.50 | $684.63
27892 | Decompression of leg | Y |  | A2 | $510.00 | 21.2689 | $880.55 | $602.64
27893 | Decompression of leg | Y |  | A2 | $510.00 | 21.2689 | $880.55 | $602.64
27894 | Decompression of leg | Y |  | A2 | $510.00 | 21.2689 | $880.55 | $602.64
28001 | Drainage of bursa of foot | Y |  | P3 |  | 2.8719 | $118.90 | $118.90
28002 | Treatment of foot infection | Y |  | A2 | $510.00 | 21.2689 | $880.55 | $602.64
28003 | Treatment of foot infection | Y |  | A2 | $510.00 | 21.2689 | $880.55 | $602.64
28005 | Treat foot bone lesion | Y |  | A2 | $510.00 | 20.8284 | $862.32 | $598.08
28008 | Incision of foot fascia | Y |  | A2 | $510.00 | 20.8284 | $862.32 | $598.08
28010 | Incision of toe tendon | Y |  | P3 |  | 2.156 | $89.26 | $89.26
28011 | Incision of toe tendons | Y |  | A2 | $510.00 | 20.8284 | $862.32 | $598.08
28020 | Exploration of foot joint | Y |  | A2 | $446.00 | 20.8284 | $862.32 | $550.08
28022 | Exploration of foot joint | Y |  | A2 | $446.00 | 20.8284 | $862.32 | $550.08
28024 | Exploration of toe joint | Y |  | A2 | $446.00 | 20.8284 | $862.32 | $550.08
28035 | Decompression of tibia nerve | Y |  | A2 | $630.00 | 18.0518 | $747.36 | $659.34
28043 | Excision of foot lesion | Y |  | A2 | $446.00 | 21.1098 | $873.97 | $552.99
28045 | Excision of foot lesion | Y |  | A2 | $510.00 | 20.8284 | $862.32 | $598.08
28046 | Resection of tumor, foot | Y |  | A2 | $510.00 | 20.8284 | $862.32 | $598.08
28050 | Biopsy of foot joint lining | Y |  | A2 | $446.00 | 20.8284 | $862.32 | $550.08
28052 | Biopsy of foot joint lining | Y |  | A2 | $446.00 | 20.8284 | $862.32 | $550.08
28054 | Biopsy of toe joint lining | Y |  | A2 | $446.00 | 20.8284 | $862.32 | $550.08
28055 | Neurectomy, foot | Y |  | A2 | $630.00 | 18.0518 | $747.36 | $659.34
28060 | Partial removal, foot fascia | Y |  | A2 | $446.00 | 20.8284 | $862.32 | $550.08
28062 | Removal of foot fascia | Y |  | A2 | $510.00 | 20.8284 | $862.32 | $598.08
28070 | Removal of foot joint lining | Y |  | A2 | $510.00 | 20.8284 | $862.32 | $598.08
28072 | Removal of foot joint lining | Y |  | A2 | $510.00 | 20.8284 | $862.32 | $598.08
28080 | Removal of foot lesion | Y |  | A2 | $510.00 | 20.8284 | $862.32 | $598.08
28086 | Excise foot tendon sheath | Y |  | A2 | $446.00 | 20.8284 | $862.32 | $550.08
28088 | Excise foot tendon sheath | Y |  | A2 | $446.00 | 20.8284 | $862.32 | $550.08
28090 | Removal of foot lesion | Y |  | A2 | $510.00 | 20.8284 | $862.32 | $598.08
28092 | Removal of toe lesions | Y |  | A2 | $510.00 | 20.8284 | $862.32 | $598.08
28100 | Removal of ankle/heel lesion | Y |  | A2 | $446.00 | 20.8284 | $862.32 | $550.08
28102 | Remove/graft foot lesion | Y |  | A2 | $510.00 | 44.2687 | $1,832.77 | $840.69
28103 | Remove/graft foot lesion | Y |  | A2 | $510.00 | 44.2687 | $1,832.77 | $840.69
28104 | Removal of foot lesion | Y |  | A2 | $446.00 | 20.8284 | $862.32 | $550.08
28106 | Remove/graft foot lesion | Y |  | A2 | $510.00 | 44.2687 | $1,832.77 | $840.69
28107 | Remove/graft foot lesion | Y |  | A2 | $510.00 | 44.2687 | $1,832.77 | $840.69
28108 | Removal of toe lesions | Y |  | A2 | $446.00 | 20.8284 | $862.32 | $550.08
28110 | Part removal of metatarsal | Y |  | A2 | $510.00 | 20.8284 | $862.32 | $598.08
28111 | Part removal of metatarsal | Y |  | A2 | $510.00 | 20.8284 | $862.32 | $598.08
28112 | Part removal of metatarsal | Y |  | A2 | $510.00 | 20.8284 | $862.32 | $598.08
28113 | Part removal of metatarsal | Y |  | A2 | $510.00 | 20.8284 | $862.32 | $598.08
28114 | Removal of metatarsal heads | Y |  | A2 | $510.00 | 20.8284 | $862.32 | $598.08
28116 | Revision of foot | Y |  | A2 | $510.00 | 20.8284 | $862.32 | $598.08
28118 | Removal of heel bone | Y |  | A2 | $630.00 | 20.8284 | $862.32 | $688.08
28119 | Removal of heel spur | Y |  | A2 | $630.00 | 20.8284 | $862.32 | $688.08
28120 | Part removal of ankle/heel | Y |  | A2 | $995.00 | 20.8284 | $862.32 | $961.83
28122 | Partial removal of foot bone | Y |  | A2 | $510.00 | 20.8284 | $862.32 | $598.08
28124 | Partial removal of toe | Y |  | P3 |  | 4.8385 | $200.32 | $200.32
28126 | Partial removal of toe | Y |  | A2 | $510.00 | 20.8284 | $862.32 | $598.08
28130 | Removal of ankle bone | Y |  | A2 | $510.00 | 20.8284 | $862.32 | $598.08
28140 | Removal of metatarsal | Y |  | A2 | $510.00 | 20.8284 | $862.32 | $598.08
28150 | Removal of toe | Y |  | A2 | $510.00 | 20.8284 | $862.32 | $598.08
28153 | Partial removal of toe | Y |  | A2 | $510.00 | 20.8284 | $862.32 | $598.08
28160 | Partial removal of toe | Y |  | A2 | $510.00 | 20.8284 | $862.32 | $598.08
28171 | Extensive foot surgery | Y |  | A2 | $510.00 | 20.8284 | $862.32 | $598.08
28173 | Extensive foot surgery | Y |  | A2 | $510.00 | 20.8284 | $862.32 | $598.08
28175 | Extensive foot surgery | Y |  | A2 | $510.00 | 20.8284 | $862.32 | $598.08
28190 | Removal of foot foreign body | Y |  | P3 |  | 3.0446 | $126.05 | $126.05
28192 | Removal of foot foreign body | Y |  | A2 | $446.00 | 16.1001 | $666.56 | $501.14
28193 | Removal of foot foreign body | Y |  | A2 | $418.49 | 8.685 | $359.57 | $403.76
28200 | Repair of foot tendon | Y |  | A2 | $510.00 | 20.8284 | $862.32 | $598.08
28202 | Repair/graft of foot tendon | Y |  | A2 | $510.00 | 20.8284 | $862.32 | $598.08
28208 | Repair of foot tendon | Y |  | A2 | $510.00 | 20.8284 | $862.32 | $598.08
28210 | Repair/graft of foot tendon | Y |  | A2 | $510.00 | 44.2687 | $1,832.77 | $840.69
28220 | Release of foot tendon | Y |  | P3 |  | 4.5588 | $188.74 | $188.74
28222 | Release of foot tendons | Y |  | A2 | $333.00 | 20.8284 | $862.32 | $465.33
28225 | Release of foot tendon | Y |  | A2 | $333.00 | 20.8284 | $862.32 | $465.33
28226 | Release of foot tendons | Y |  | A2 | $333.00 | 20.8284 | $862.32 | $465.33
28230 | Incision of foot tendon(s) | Y |  | P3 |  | 4.5011 | $186.35 | $186.35
28232 | Incision of toe tendon | Y |  | P3 |  | 4.3038 | $178.18 | $178.18
28234 | Incision of foot tendon | Y |  | A2 | $446.00 | 20.8284 | $862.32 | $550.08
28238 | Revision of foot tendon | Y |  | A2 | $510.00 | 44.2687 | $1,832.77 | $840.69
28240 | Release of big toe | Y |  | A2 | $446.00 | 20.8284 | $862.32 | $550.08
28250 | Revision of foot fascia | Y |  | A2 | $510.00 | 20.8284 | $862.32 | $598.08
28260 | Release of midfoot joint | Y |  | A2 | $510.00 | 20.8284 | $862.32 | $598.08
28261 | Revision of foot tendon | Y |  | A2 | $510.00 | 20.8284 | $862.32 | $598.08
28262 | Revision of foot and ankle | Y |  | A2 | $630.00 | 20.8284 | $862.32 | $688.08
28264 | Release of midfoot joint | Y |  | A2 | $333.00 | 44.2687 | $1,832.77 | $707.94
28270 | Release of foot contracture | Y |  | A2 | $510.00 | 20.8284 | $862.32 | $598.08
28272 | Release of toe joint, each | Y |  | P3 |  | 4.1226 | $170.68 | $170.68
28280 | Fusion of toes | Y |  | A2 | $446.00 | 20.8284 | $862.32 | $550.08
28285 | Repair of hammertoe | Y |  | A2 | $510.00 | 20.8284 | $862.32 | $598.08
28286 | Repair of hammertoe | Y |  | A2 | $630.00 | 20.8284 | $862.32 | $688.08
28288 | Partial removal of foot bone | Y |  | A2 | $510.00 | 20.8284 | $862.32 | $598.08
28289 | Repair hallux rigidus | Y |  | A2 | $510.00 | 20.8284 | $862.32 | $598.08
28290 | Correction of bunion | Y |  | A2 | $446.00 | 29.4167 | $1,217.88 | $638.97
28292 | Correction of bunion | Y |  | A2 | $446.00 | 29.4167 | $1,217.88 | $638.97
28293 | Correction of bunion | Y |  | A2 | $510.00 | 29.4167 | $1,217.88 | $686.97
28294 | Correction of bunion | Y |  | A2 | $510.00 | 29.4167 | $1,217.88 | $686.97
28296 | Correction of bunion | Y |  | A2 | $510.00 | 29.4167 | $1,217.88 | $686.97
28297 | Correction of bunion | Y |  | A2 | $510.00 | 29.4167 | $1,217.88 | $686.97
28298 | Correction of bunion | Y |  | A2 | $510.00 | 29.4167 | $1,217.88 | $686.97
28299 | Correction of bunion | Y |  | A2 | $717.00 | 29.4167 | $1,217.88 | $842.22
28300 | Incision of heel bone | Y |  | A2 | $446.00 | 44.2687 | $1,832.77 | $792.69
28302 | Incision of ankle bone | Y |  | A2 | $446.00 | 20.8284 | $862.32 | $550.08
28304 | Incision of midfoot bones | Y |  | A2 | $446.00 | 44.2687 | $1,832.77 | $792.69
28305 | Incise/graft midfoot bones | Y |  | A2 | $510.00 | 44.2687 | $1,832.77 | $840.69
28306 | Incision of metatarsal | Y |  | A2 | $630.00 | 20.8284 | $862.32 | $688.08
28307 | Incision of metatarsal | Y |  | A2 | $630.00 | 20.8284 | $862.32 | $688.08
28308 | Incision of metatarsal | Y |  | A2 | $446.00 | 20.8284 | $862.32 | $550.08
28309 | Incision of metatarsals | Y |  | A2 | $630.00 | 44.2687 | $1,832.77 | $930.69
28310 | Revision of big toe | Y |  | A2 | $510.00 | 20.8284 | $862.32 | $598.08
28312 | Revision of toe | Y |  | A2 | $510.00 | 20.8284 | $862.32 | $598.08
28313 | Repair deformity of toe | Y |  | A2 | $446.00 | 20.8284 | $862.32 | $550.08
28315 | Removal of sesamoid bone | Y |  | A2 | $630.00 | 20.8284 | $862.32 | $688.08
28320 | Repair of foot bones | Y |  | A2 | $630.00 | 44.2687 | $1,832.77 | $930.69
28322 | Repair of metatarsals | Y |  | A2 | $630.00 | 44.2687 | $1,832.77 | $930.69
28340 | Resect enlarged toe tissue | Y |  | A2 | $630.00 | 20.8284 | $862.32 | $688.08
28341 | Resect enlarged toe | Y |  | A2 | $630.00 | 20.8284 | $862.32 | $688.08
28344 | Repair extra toe(s) | Y |  | A2 | $630.00 | 20.8284 | $862.32 | $688.08
28345 | Repair webbed toe(s) | Y |  | A2 | $630.00 | 20.8284 | $862.32 | $688.08
28400 | Treatment of heel fracture | Y |  | A2 | $103.62 | 1.7682 | $73.21 | $96.02
28405 | Treatment of heel fracture | Y |  | A2 | $103.62 | 1.7682 | $73.21 | $96.02
28406 | Treatment of heel fracture | Y |  | A2 | $446.00 | 26.1592 | $1,083.02 | $605.26
28415 | Treat heel fracture | Y |  | A2 | $510.00 | 59.2233 | $2,451.90 | $995.48
28420 | Treat/graft heel fracture | Y |  | A2 | $630.00 | 41.1091 | $1,701.96 | $897.99
28430 | Treatment of ankle fracture | Y |  | P2 |  | 1.7682 | $73.21 | $73.21
28435 | Treatment of ankle fracture | Y |  | A2 | $103.62 | 1.7682 | $73.21 | $96.02
28436 | Treatment of ankle fracture | Y |  | A2 | $446.00 | 26.1592 | $1,083.02 | $605.26
28445 | Treat ankle fracture | Y |  | A2 | $510.00 | 41.1091 | $1,701.96 | $807.99
28446 | Osteochondral talus autogrft | Y | NI | G2 |  | 44.2687 | $1,832.77 | $1,832.77
28450 | Treat midfoot fracture, each | Y |  | P2 |  | 1.7682 | $73.21 | $73.21
28455 | Treat midfoot fracture, each | Y |  | P2 |  | 1.7682 | $73.21 | $73.21
28456 | Treat midfoot fracture | Y |  | A2 | $446.00 | 26.1592 | $1,083.02 | $605.26
28465 | Treat midfoot fracture, each | Y |  | A2 | $510.00 | 41.1091 | $1,701.96 | $807.99
28470 | Treat metatarsal fracture | Y |  | P2 |  | 1.7682 | $73.21 | $73.21
28475 | Treat metatarsal fracture | Y |  | P2 |  | 1.7682 | $73.21 | $73.21
28476 | Treat metatarsal fracture | Y |  | A2 | $446.00 | 26.1592 | $1,083.02 | $605.26
28485 | Treat metatarsal fracture | Y |  | A2 | $630.00 | 41.1091 | $1,701.96 | $897.99
28490 | Treat big toe fracture | Y |  | P3 |  | 1.6869 | $69.84 | $69.84
28495 | Treat big toe fracture | Y |  | P2 |  | 1.7682 | $73.21 | $73.21
28496 | Treat big toe fracture | Y |  | A2 | $446.00 | 26.1592 | $1,083.02 | $605.26
28505 | Treat big toe fracture | Y |  | A2 | $510.00 | 26.1592 | $1,083.02 | $653.26
28510 | Treatment of toe fracture | Y |  | P3 |  | 1.3248 | $54.85 | $54.85
28515 | Treatment of toe fracture | Y |  | P3 |  | 1.6951 | $70.18 | $70.18
28525 | Treat toe fracture | Y |  | A2 | $510.00 | 26.1592 | $1,083.02 | $653.26
28530 | Treat sesamoid bone fracture | Y |  | P3 |  | 1.2589 | $52.12 | $52.12
28531 | Treat sesamoid bone fracture | Y |  | A2 | $510.00 | 26.1592 | $1,083.02 | $653.26
28540 | Treat foot dislocation | Y |  | P2 |  | 1.7682 | $73.21 | $73.21
28545 | Treat foot dislocation | Y |  | A2 | $333.00 | 26.1592 | $1,083.02 | $520.51
28546 | Treat foot dislocation | Y |  | A2 | $446.00 | 26.1592 | $1,083.02 | $605.26
28555 | Repair foot dislocation | Y |  | A2 | $446.00 | 41.1091 | $1,701.96 | $759.99
28570 | Treat foot dislocation | Y |  | P2 |  | 1.7682 | $73.21 | $73.21
28575 | Treat foot dislocation | Y |  | A2 | $103.62 | 1.7682 | $73.21 | $96.02
28576 | Treat foot dislocation | Y |  | A2 | $510.00 | 26.1592 | $1,083.02 | $653.26
28585 | Repair foot dislocation | Y |  | A2 | $510.00 | 26.1592 | $1,083.02 | $653.26
28600 | Treat foot dislocation | Y |  | P2 |  | 1.7682 | $73.21 | $73.21
28605 | Treat foot dislocation | Y |  | A2 | $103.62 | 1.7682 | $73.21 | $96.02
28606 | Treat foot dislocation | Y |  | A2 | $446.00 | 26.1592 | $1,083.02 | $605.26
28615 | Repair foot dislocation | Y |  | A2 | $510.00 | 41.1091 | $1,701.96 | $807.99
28630 | Treat toe dislocation | Y | CH | P3 |  | 1.4072 | $58.26 | $58.26
28635 | Treat toe dislocation | Y |  | A2 | $333.00 | 14.7658 | $611.32 | $402.58
28636 | Treat toe dislocation | Y |  | A2 | $510.00 | 26.1592 | $1,083.02 | $653.26
28645 | Repair toe dislocation | Y |  | A2 | $510.00 | 26.1592 | $1,083.02 | $653.26
28660 | Treat toe dislocation | Y | CH | P3 |  | 1.0534 | $43.61 | $43.61
28665 | Treat toe dislocation | Y |  | A2 | $333.00 | 14.7658 | $611.32 | $402.58
28666 | Treat toe dislocation | Y |  | A2 | $510.00 | 26.1592 | $1,083.02 | $653.26
28675 | Repair of toe dislocation | Y |  | A2 | $510.00 | 26.1592 | $1,083.02 | $653.26
28705 | Fusion of foot bones | Y |  | A2 | $630.00 | 44.2687 | $1,832.77 | $930.69
28715 | Fusion of foot bones | Y |  | A2 | $630.00 | 79.4244 | $3,288.25 | $1,294.56
28725 | Fusion of foot bones | Y |  | A2 | $630.00 | 44.2687 | $1,832.77 | $930.69
28730 | Fusion of foot bones | Y |  | A2 | $630.00 | 44.2687 | $1,832.77 | $930.69
28735 | Fusion of foot bones | Y |  | A2 | $630.00 | 44.2687 | $1,832.77 | $930.69
28737 | Revision of foot bones | Y |  | A2 | $717.00 | 44.2687 | $1,832.77 | $995.94
28740 | Fusion of foot bones | Y |  | A2 | $630.00 | 44.2687 | $1,832.77 | $930.69
28750 | Fusion of big toe joint | Y |  | A2 | $630.00 | 44.2687 | $1,832.77 | $930.69
28755 | Fusion of big toe joint | Y |  | A2 | $630.00 | 20.8284 | $862.32 | $688.08
28760 | Fusion of big toe joint | Y |  | A2 | $630.00 | 44.2687 | $1,832.77 | $930.69
28810 | Amputation toe & metatarsal | Y |  | A2 | $446.00 | 20.8284 | $862.32 | $550.08
28820 | Amputation of toe | Y |  | A2 | $446.00 | 20.8284 | $862.32 | $550.08
28825 | Partial amputation of toe | Y |  | A2 | $446.00 | 20.8284 | $862.32 | $550.08
28890 * | High energy eswt, plantar f | Y | CH | P3 |  | 4.2296 | $175.11 | $175.11
29000 | Application of body cast | N |  | G2 |  | 1.0931 | $45.26 | $45.26
29010 | Application of body cast | N |  | P2 |  | 2.291 | $94.85 | $94.85
29015 | Application of body cast | N |  | P2 |  | 2.291 | $94.85 | $94.85
29020 | Application of body cast | N |  | G2 |  | 1.0931 | $45.26 | $45.26
29025 | Application of body cast | N |  | P2 |  | 1.0931 | $45.26 | $45.26
29035 | Application of body cast | N | CH | P2 |  | 2.291 | $94.85 | $94.85
29040 | Application of body cast | N |  | G2 |  | 1.0931 | $45.26 | $45.26
29044 | Application of body cast | N |  | P2 |  | 2.291 | $94.85 | $94.85
29046 | Application of body cast | N |  | G2 |  | 2.291 | $94.85 | $94.85
29049 | Application of figure eight | N |  | P3 |  | 0.9956 | $41.22 | $41.22
29055 | Application of shoulder cast | N |  | P2 |  | 2.291 | $94.85 | $94.85
29058 | Application of shoulder cast | N |  | P2 |  | 1.0931 | $45.26 | $45.26
29065 | Application of long arm cast | N |  | P3 |  | 1.0698 | $44.29 | $44.29
29075 | Application of forearm cast | N |  | P3 |  | 1.0287 | $42.59 | $42.59
29085 | Apply hand/wrist cast | N |  | P3 |  | 1.0451 | $43.27 | $43.27
29086 | Apply finger cast | N |  | P3 |  | 0.8394 | $34.75 | $34.75
29105 | Apply long arm splint | N |  | P3 |  | 0.9546 | $39.52 | $39.52
29125 | Apply forearm splint | N |  | P3 |  | 0.8147 | $33.73 | $33.73
29126 | Apply forearm splint | N |  | P3 |  | 0.9135 | $37.82 | $37.82
29130 | Application of finger splint | N |  | P3 |  | 0.3703 | $15.33 | $15.33
29131 | Application of finger splint | N |  | P3 |  | 0.5432 | $22.49 | $22.49
29200 | Strapping of chest | N |  | P3 |  | 0.5432 | $22.49 | $22.49
29220 | Strapping of low back | N |  | P3 |  | 0.5679 | $23.51 | $23.51
29240 | Strapping of shoulder | N |  | P3 |  | 0.6253 | $25.89 | $25.89
29260 | Strapping of elbow or wrist | N |  | P3 |  | 0.5843 | $24.19 | $24.19
29280 | Strapping of hand or finger | N |  | P3 |  | 0.6007 | $24.87 | $24.87
29305 | Application of hip cast | N | CH | P2 |  | 2.291 | $94.85 | $94.85
29325 | Application of hip casts | N | CH | P2 |  | 2.291 | $94.85 | $94.85
29345 | Application of long leg cast | N |  | P3 |  | 1.4154 | $58.60 | $58.60
29355 | Application of long leg cast | N |  | P3 |  | 1.3659 | $56.55 | $56.55
29358 | Apply long leg cast brace | N |  | P3 |  | 1.6787 | $69.50 | $69.50
29365 | Application of long leg cast | N |  | P3 |  | 1.3331 | $55.19 | $55.19
29405 | Apply short leg cast | N |  | P3 |  | 0.9956 | $41.22 | $41.22
29425 | Apply short leg cast | N |  | P3 |  | 1.0121 | $41.90 | $41.90
29435 | Apply short leg cast | N |  | P3 |  | 1.2674 | $52.47 | $52.47
29440 | Addition of walker to cast | N |  | P3 |  | 0.5514 | $22.83 | $22.83
29445 | Apply rigid leg cast | N |  | P3 |  | 1.3823 | $57.23 | $57.23
29450 | Application of leg cast | N |  | P2 |  | 1.0931 | $45.26 | $45.26
29505 | Application, long leg splint | N | CH | P3 |  | 0.9299 | $38.50 | $38.50
29515 | Application lower leg splint | N | CH | P3 |  | 0.7488 | $31.00 | $31.00
29520 | Strapping of hip | N |  | P3 |  | 0.6171 | $25.55 | $25.55
29530 | Strapping of knee | N |  | P3 |  | 0.5925 | $24.53 | $24.53
29540 | Strapping of ankle and/or ft | N |  | P3 |  | 0.3949 | $16.35 | $16.35
29550 | Strapping of toes | N |  | P3 |  | 0.4031 | $16.69 | $16.69
29580 | Application of paste boot | N |  | P3 |  | 0.5596 | $23.17 | $23.17
29590 | Application of foot splint | N |  | P3 |  | 0.4526 | $18.74 | $18.74
29700 | Removal/revision of cast | N |  | P3 |  | 0.757 | $31.34 | $31.34
29705 | Removal/revision of cast | N |  | P3 |  | 0.65 | $26.91 | $26.91
29710 | Removal/revision of cast | N |  | P3 |  | 1.1768 | $48.72 | $48.72
29715 | Removal/revision of cast | N |  | P3 |  | 0.9792 | $40.54 | $40.54
29720 | Repair of body cast | N |  | P3 |  | 0.9546 | $39.52 | $39.52
29730 | Windowing of cast | N |  | P3 |  | 0.6336 | $26.23 | $26.23
29740 | Wedging of cast | N |  | P3 |  | 0.8968 | $37.13 | $37.13
29750 | Wedging of clubfoot cast | N |  | P3 |  | 0.8722 | $36.11 | $36.11
29800 | Jaw arthroscopy/surgery | Y |  | A2 | $510.00 | 28.7803 | $1,191.53 | $680.38
29804 | Jaw arthroscopy/surgery | Y |  | A2 | $510.00 | 28.7803 | $1,191.53 | $680.38
29805 | Shoulder arthroscopy, dx | Y |  | A2 | $510.00 | 28.7803 | $1,191.53 | $680.38
29806 | Shoulder arthroscopy/surgery | Y |  | A2 | $510.00 | 45.7072 | $1,892.32 | $855.58
29807 | Shoulder arthroscopy/surgery | Y |  | A2 | $510.00 | 45.7072 | $1,892.32 | $855.58
29819 | Shoulder arthroscopy/surgery | Y |  | A2 | $510.00 | 45.7072 | $1,892.32 | $855.58
29820 | Shoulder arthroscopy/surgery | Y |  | A2 | $510.00 | 45.7072 | $1,892.32 | $855.58
29821 | Shoulder arthroscopy/surgery | Y |  | A2 | $510.00 | 45.7072 | $1,892.32 | $855.58
29822 | Shoulder arthroscopy/surgery | Y |  | A2 | $510.00 | 28.7803 | $1,191.53 | $680.38
29823 | Shoulder arthroscopy/surgery | Y |  | A2 | $510.00 | 45.7072 | $1,892.32 | $855.58
29824 | Shoulder arthroscopy/surgery | Y |  | A2 | $717.00 | 28.7803 | $1,191.53 | $835.63
29825 | Shoulder arthroscopy/surgery | Y |  | A2 | $510.00 | 45.7072 | $1,892.32 | $855.58
29826 | Shoulder arthroscopy/surgery | Y |  | A2 | $510.00 | 45.7072 | $1,892.32 | $855.58
29827 | Arthroscop rotator cuff repr | Y |  | A2 | $717.00 | 45.7072 | $1,892.32 | $1,010.83
29828 | Arthroscopy biceps tenodesis | Y | NI | G2 |  | 45.7072 | $1,892.32 | $1,892.32
29830 | Elbow arthroscopy | Y |  | A2 | $510.00 | 28.7803 | $1,191.53 | $680.38
29834 | Elbow arthroscopy/surgery | Y |  | A2 | $510.00 | 28.7803 | $1,191.53 | $680.38
29835 | Elbow arthroscopy/surgery | Y |  | A2 | $510.00 | 28.7803 | $1,191.53 | $680.38
29836 | Elbow arthroscopy/surgery | Y |  | A2 | $510.00 | 28.7803 | $1,191.53 | $680.38
29837 | Elbow arthroscopy/surgery | Y |  | A2 | $510.00 | 28.7803 | $1,191.53 | $680.38
29838 | Elbow arthroscopy/surgery | Y |  | A2 | $510.00 | 28.7803 | $1,191.53 | $680.38
29840 | Wrist arthroscopy | Y |  | A2 | $510.00 | 28.7803 | $1,191.53 | $680.38
29843 | Wrist arthroscopy/surgery | Y |  | A2 | $510.00 | 28.7803 | $1,191.53 | $680.38
29844 | Wrist arthroscopy/surgery | Y |  | A2 | $510.00 | 28.7803 | $1,191.53 | $680.38
29845 | Wrist arthroscopy/surgery | Y |  | A2 | $510.00 | 28.7803 | $1,191.53 | $680.38
29846 | Wrist arthroscopy/surgery | Y |  | A2 | $510.00 | 28.7803 | $1,191.53 | $680.38
29847 | Wrist arthroscopy/surgery | Y |  | A2 | $510.00 | 45.7072 | $1,892.32 | $855.58
29848 | Wrist endoscopy/surgery | Y |  | A2 | $1,339.00 | 28.7803 | $1,191.53 | $1,302.13
29850 | Knee arthroscopy/surgery | Y |  | A2 | $630.00 | 28.7803 | $1,191.53 | $770.38
29851 | Knee arthroscopy/surgery | Y |  | A2 | $630.00 | 45.7072 | $1,892.32 | $945.58
29855 | Tibial arthroscopy/surgery | Y |  | A2 | $630.00 | 45.7072 | $1,892.32 | $945.58
29856 | Tibial arthroscopy/surgery | Y |  | A2 | $630.00 | 45.7072 | $1,892.32 | $945.58
29860 | Hip arthroscopy, dx | Y |  | A2 | $630.00 | 45.7072 | $1,892.32 | $945.58
29861 | Hip arthroscopy/surgery | Y |  | A2 | $630.00 | 45.7072 | $1,892.32 | $945.58
29862 | Hip arthroscopy/surgery | Y |  | A2 | $1,339.00 | 45.7072 | $1,892.32 | $1,477.33
29863 | Hip arthroscopy/surgery | Y |  | A2 | $630.00 | 45.7072 | $1,892.32 | $945.58
29866 | Autgrft implnt, knee w/scope | Y | CH | G2 |  | 45.7072 | $1,892.32 | $1,892.32
29870 | Knee arthroscopy, dx | Y |  | A2 | $510.00 | 28.7803 | $1,191.53 | $680.38
29871 | Knee arthroscopy/drainage | Y |  | A2 | $510.00 | 28.7803 | $1,191.53 | $680.38
29873 | Knee arthroscopy/surgery | Y |  | A2 | $510.00 | 28.7803 | $1,191.53 | $680.38
29874 | Knee arthroscopy/surgery | Y |  | A2 | $510.00 | 28.7803 | $1,191.53 | $680.38
29875 | Knee arthroscopy/surgery | Y |  | A2 | $630.00 | 28.7803 | $1,191.53 | $770.38
29876 | Knee arthroscopy/surgery | Y |  | A2 | $630.00 | 28.7803 | $1,191.53 | $770.38
29877 | Knee arthroscopy/surgery | Y |  | A2 | $630.00 | 28.7803 | $1,191.53 | $770.38
29879 | Knee arthroscopy/surgery | Y |  | A2 | $510.00 | 28.7803 | $1,191.53 | $680.38
29880 | Knee arthroscopy/surgery | Y |  | A2 | $630.00 | 28.7803 | $1,191.53 | $770.38
29881 | Knee arthroscopy/surgery | Y |  | A2 | $630.00 | 28.7803 | $1,191.53 | $770.38
29882 | Knee arthroscopy/surgery | Y |  | A2 | $510.00 | 28.7803 | $1,191.53 | $680.38
29883 | Knee arthroscopy/surgery | Y |  | A2 | $510.00 | 28.7803 | $1,191.53 | $680.38
29884 | Knee arthroscopy/surgery | Y |  | A2 | $510.00 | 28.7803 | $1,191.53 | $680.38
29885 | Knee arthroscopy/surgery | Y |  | A2 | $510.00 | 45.7072 | $1,892.32 | $855.58
29886 | Knee arthroscopy/surgery | Y |  | A2 | $510.00 | 28.7803 | $1,191.53 | $680.38
29887 | Knee arthroscopy/surgery | Y |  | A2 | $510.00 | 28.7803 | $1,191.53 | $680.38
29888 | Knee arthroscopy/surgery | Y |  | A2 | $510.00 | 45.7072 | $1,892.32 | $855.58
29889 | Knee arthroscopy/surgery | Y |  | A2 | $510.00 | 45.7072 | $1,892.32 | $855.58
29891 | Ankle arthroscopy/surgery | Y |  | A2 | $510.00 | 45.7072 | $1,892.32 | $855.58
29892 | Ankle arthroscopy/surgery | Y |  | A2 | $510.00 | 45.7072 | $1,892.32 | $855.58
29893 | Scope, plantar fasciotomy | Y |  | A2 | $1,255.56 | 20.8284 | $862.32 | $1,157.25
29894 | Ankle arthroscopy/surgery | Y |  | A2 | $510.00 | 28.7803 | $1,191.53 | $680.38
29895 | Ankle arthroscopy/surgery | Y |  | A2 | $510.00 | 28.7803 | $1,191.53 | $680.38
29897 | Ankle arthroscopy/surgery | Y |  | A2 | $510.00 | 28.7803 | $1,191.53 | $680.38
29898 | Ankle arthroscopy/surgery | Y |  | A2 | $510.00 | 28.7803 | $1,191.53 | $680.38
29899 | Ankle arthroscopy/surgery | Y |  | A2 | $510.00 | 45.7072 | $1,892.32 | $855.58
29900 | Mcp joint arthroscopy, dx | Y |  | A2 | $510.00 | 28.7803 | $1,191.53 | $680.38
29901 | Mcp joint arthroscopy, surg | Y |  | A2 | $510.00 | 28.7803 | $1,191.53 | $680.38
29902 | Mcp joint arthroscopy, surg | Y |  | A2 | $510.00 | 28.7803 | $1,191.53 | $680.38
29904 | Subtalar arthro w/fb rmvl | Y | NI | G2 |  | 28.7803 | $1,191.53 | $1,191.53
29905 | Subtalar arthro w/exc | Y | NI | G2 |  | 28.7803 | $1,191.53 | $1,191.53
29906 | Subtalar arthro w/deb | Y | NI | G2 |  | 28.7803 | $1,191.53 | $1,191.53
29907 | Subtalar arthro w/fusion | Y | NI | G2 |  | 45.7072 | $1,892.32 | $1,892.32
30000 | Drainage of nose lesion | Y |  | P2 |  | 2.5002 | $103.51 | $103.51
30020 | Drainage of nose lesion | Y |  | P2 |  | 2.5002 | $103.51 | $103.51
30100 | Intranasal biopsy | Y |  | P3 |  | 1.8763 | $77.68 | $77.68
30110 | Removal of nose polyp(s) | Y |  | P3 |  | 2.9376 | $121.62 | $121.62
30115 | Removal of nose polyp(s) | Y |  | A2 | $446.00 | 16.3288 | $676.03 | $503.51
30117 | Removal of intranasal lesion | Y |  | A2 | $510.00 | 16.3288 | $676.03 | $551.51
30118 | Removal of intranasal lesion | Y |  | A2 | $510.00 | 23.9765 | $992.65 | $630.66
30120 | Revision of nose | Y |  | A2 | $333.00 | 16.3288 | $676.03 | $418.76
30124 | Removal of nose lesion | Y |  | R2 |  | 7.4474 | $308.33 | $308.33
30125 | Removal of nose lesion | Y |  | A2 | $446.00 | 39.8776 | $1,650.97 | $747.24
30130 | Excise inferior turbinate | Y |  | A2 | $510.00 | 16.3288 | $676.03 | $551.51
30140 | Resect inferior turbinate | Y |  | A2 | $446.00 | 23.9765 | $992.65 | $582.66
30150 | Partial removal of nose | Y |  | A2 | $510.00 | 39.8776 | $1,650.97 | $795.24
30160 | Removal of nose | Y |  | A2 | $630.00 | 39.8776 | $1,650.97 | $885.24
30200 | Injection treatment of nose | Y |  | P3 |  | 1.4975 | $62.00 | $62.00
30210 | Nasal sinus therapy | Y |  | P3 |  | 1.9009 | $78.70 | $78.70
30220 | Insert nasal septal button | Y |  | A2 | $464.15 | 7.4474 | $308.33 | $425.20
30300 | Remove nasal foreign body | N |  | P2 |  | 0.631 | $26.12 | $26.12
30310 | Remove nasal foreign body | Y |  | A2 | $333.00 | 16.3288 | $676.03 | $418.76
30320 | Remove nasal foreign body | Y |  | A2 | $446.00 | 16.3288 | $676.03 | $503.51
30400 | Reconstruction of nose | Y |  | A2 | $630.00 | 39.8776 | $1,650.97 | $885.24
30410 | Reconstruction of nose | Y |  | A2 | $717.00 | 39.8776 | $1,650.97 | $950.49
30420 | Reconstruction of nose | Y |  | A2 | $717.00 | 39.8776 | $1,650.97 | $950.49
30430 | Revision of nose | Y |  | A2 | $510.00 | 23.9765 | $992.65 | $630.66
30435 | Revision of nose | Y |  | A2 | $717.00 | 39.8776 | $1,650.97 | $950.49
30450 | Revision of nose | Y |  | A2 | $995.00 | 39.8776 | $1,650.97 | $1,158.99
30460 | Revision of nose | Y |  | A2 | $995.00 | 39.8776 | $1,650.97 | $1,158.99
30462 | Revision of nose | Y |  | A2 | $1,339.00 | 39.8776 | $1,650.97 | $1,416.99
30465 | Repair nasal stenosis | Y |  | A2 | $1,339.00 | 39.8776 | $1,650.97 | $1,416.99
30520 | Repair of nasal septum | Y |  | A2 | $630.00 | 23.9765 | $992.65 | $720.66
30540 | Repair nasal defect | Y |  | A2 | $717.00 | 39.8776 | $1,650.97 | $950.49
30545 | Repair nasal defect | Y |  | A2 | $717.00 | 39.8776 | $1,650.97 | $950.49
30560 | Release of nasal adhesions | Y |  | A2 | $150.72 | 2.5002 | $103.51 | $138.92
30580 | Repair upper jaw fistula | Y |  | A2 | $630.00 | 39.8776 | $1,650.97 | $885.24
30600 | Repair mouth/nose fistula | Y |  | A2 | $630.00 | 39.8776 | $1,650.97 | $885.24
30620 | Intranasal reconstruction | Y |  | A2 | $995.00 | 39.8776 | $1,650.97 | $1,158.99
30630 | Repair nasal septum defect | Y |  | A2 | $995.00 | 23.9765 | $992.65 | $994.41
30801 | Ablate inf turbinate, superf | Y |  | A2 | $333.00 | 7.4474 | $308.33 | $326.83
30802 | Cauterization, inner nose | Y |  | A2 | $333.00 | 7.4474 | $308.33 | $326.83
30901 | Control of nosebleed | Y |  | P3 |  | 1.0862 | $44.97 | $44.97
30903 | Control of nosebleed | Y |  | A2 | $72.48 | 1.1251 | $46.58 | $66.01
30905 | Control of nosebleed | Y |  | A2 | $72.48 | 1.1251 | $46.58 | $66.01
30906 | Repeat control of nosebleed | Y |  | A2 | $72.48 | 1.1251 | $46.58 | $66.01
30915 | Ligation, nasal sinus artery | Y |  | A2 | $446.00 | 25.841 | $1,069.84 | $601.96
30920 | Ligation, upper jaw artery | Y |  | A2 | $510.00 | 25.841 | $1,069.84 | $649.96
30930 | Ther fx, nasal inf turbinate | Y |  | A2 | $630.00 | 16.3288 | $676.03 | $641.51
31000 | Irrigation, maxillary sinus | Y |  | P3 |  | 2.4934 | $103.23 | $103.23
31002 | Irrigation, sphenoid sinus | Y |  | R2 |  | 7.4474 | $308.33 | $308.33
31020 | Exploration, maxillary sinus | Y |  | A2 | $446.00 | 23.9765 | $992.65 | $582.66
31030 | Exploration, maxillary sinus | Y |  | A2 | $510.00 | 39.8776 | $1,650.97 | $795.24
31032 | Explore sinus, remove polyps | Y |  | A2 | $630.00 | 39.8776 | $1,650.97 | $885.24
31040 | Exploration behind upper jaw | Y |  | R2 |  | 23.9765 | $992.65 | $992.65
31050 | Exploration, sphenoid sinus | Y |  | A2 | $446.00 | 39.8776 | $1,650.97 | $747.24
31051 | Sphenoid sinus surgery | Y |  | A2 | $630.00 | 39.8776 | $1,650.97 | $885.24
31070 | Exploration of frontal sinus | Y |  | A2 | $446.00 | 23.9765 | $992.65 | $582.66
31075 | Exploration of frontal sinus | Y |  | A2 | $630.00 | 39.8776 | $1,650.97 | $885.24
31080 | Removal of frontal sinus | Y |  | A2 | $630.00 | 39.8776 | $1,650.97 | $885.24
31081 | Removal of frontal sinus | Y |  | A2 | $630.00 | 39.8776 | $1,650.97 | $885.24
31084 | Removal of frontal sinus | Y |  | A2 | $630.00 | 39.8776 | $1,650.97 | $885.24
31085 | Removal of frontal sinus | Y |  | A2 | $630.00 | 39.8776 | $1,650.97 | $885.24
31086 | Removal of frontal sinus | Y |  | A2 | $630.00 | 39.8776 | $1,650.97 | $885.24
31087 | Removal of frontal sinus | Y |  | A2 | $630.00 | 39.8776 | $1,650.97 | $885.24
31090 | Exploration of sinuses | Y |  | A2 | $717.00 | 39.8776 | $1,650.97 | $950.49
31200 | Removal of ethmoid sinus | Y |  | A2 | $446.00 | 39.8776 | $1,650.97 | $747.24
31201 | Removal of ethmoid sinus | Y |  | A2 | $717.00 | 39.8776 | $1,650.97 | $950.49
31205 | Removal of ethmoid sinus | Y |  | A2 | $510.00 | 39.8776 | $1,650.97 | $795.24
31231 | Nasal endoscopy, dx | Y |  | P2 |  | 1.6115 | $66.72 | $66.72
31233 | Nasal/sinus endoscopy, dx | Y |  | A2 | $86.39 | 1.6115 | $66.72 | $81.47
31235 | Nasal/sinus endoscopy, dx | Y |  | A2 | $333.00 | 17.016 | $704.48 | $425.87
31237 | Nasal/sinus endoscopy, surg | Y |  | A2 | $446.00 | 17.016 | $704.48 | $510.62
31238 | Nasal/sinus endoscopy, surg | Y |  | A2 | $333.00 | 17.016 | $704.48 | $425.87
31239 | Nasal/sinus endoscopy, surg | Y |  | A2 | $630.00 | 22.7191 | $940.59 | $707.65
31240 | Nasal/sinus endoscopy, surg | Y |  | A2 | $446.00 | 17.016 | $704.48 | $510.62
31254 | Revision of ethmoid sinus | Y |  | A2 | $510.00 | 22.7191 | $940.59 | $617.65
31255 | Removal of ethmoid sinus | Y |  | A2 | $717.00 | 22.7191 | $940.59 | $772.90
31256 | Exploration maxillary sinus | Y |  | A2 | $510.00 | 22.7191 | $940.59 | $617.65
31267 | Endoscopy, maxillary sinus | Y |  | A2 | $510.00 | 22.7191 | $940.59 | $617.65
31276 | Sinus endoscopy, surgical | Y |  | A2 | $510.00 | 22.7191 | $940.59 | $617.65
31287 | Nasal/sinus endoscopy, surg | Y |  | A2 | $510.00 | 22.7191 | $940.59 | $617.65
31288 | Nasal/sinus endoscopy, surg | Y |  | A2 | $510.00 | 22.7191 | $940.59 | $617.65
31300 | Removal of larynx lesion | Y |  | A2 | $717.00 | 23.9765 | $992.65 | $785.91
31320 | Diagnostic incision, larynx | Y |  | A2 | $446.00 | 39.8776 | $1,650.97 | $747.24
31400 | Revision of larynx | Y |  | A2 | $446.00 | 39.8776 | $1,650.97 | $747.24
31420 | Removal of epiglottis | Y |  | A2 | $446.00 | 39.8776 | $1,650.97 | $747.24
31500 | Insert emergency airway | N |  | G2 |  | 2.459 | $101.81 | $101.81
31502 | Change of windpipe airway | N |  | G2 |  | 1.3362 | $55.32 | $55.32
31505 | Diagnostic laryngoscopy | Y |  | P2 |  | 0.8224 | $34.05 | $34.05
31510 | Laryngoscopy with biopsy | Y |  | A2 | $446.00 | 17.016 | $704.48 | $510.62
31511 | Remove foreign body, larynx | Y |  | A2 | $86.39 | 1.6115 | $66.72 | $81.47
31512 | Removal of larynx lesion | Y |  | A2 | $446.00 | 17.016 | $704.48 | $510.62
31513 | Injection into vocal cord | Y |  | A2 | $86.39 | 1.6115 | $66.72 | $81.47
31515 | Laryngoscopy for aspiration | Y |  | A2 | $333.00 | 17.016 | $704.48 | $425.87
31520 | Dx laryngoscopy, newborn | Y |  | G2 |  | 1.6115 | $66.72 | $66.72
31525 | Dx laryngoscopy excl nb | Y |  | A2 | $333.00 | 17.016 | $704.48 | $425.87
31526 | Dx laryngoscopy w/oper scope | Y |  | A2 | $446.00 | 22.7191 | $940.59 | $569.65
31527 | Laryngoscopy for treatment | Y |  | A2 | $333.00 | 22.7191 | $940.59 | $484.90
31528 | Laryngoscopy and dilation | Y |  | A2 | $446.00 | 17.016 | $704.48 | $510.62
31529 | Laryngoscopy and dilation | Y |  | A2 | $446.00 | 17.016 | $704.48 | $510.62
31530 | Laryngoscopy w/fb removal | Y |  | A2 | $446.00 | 22.7191 | $940.59 | $569.65
31531 | Laryngoscopy w/fb & op scope | Y |  | A2 | $510.00 | 22.7191 | $940.59 | $617.65
31535 | Laryngoscopy w/biopsy | Y |  | A2 | $446.00 | 22.7191 | $940.59 | $569.65
31536 | Laryngoscopy w/bx & op scope | Y |  | A2 | $510.00 | 22.7191 | $940.59 | $617.65
31540 | Laryngoscopy w/exc of tumor | Y |  | A2 | $510.00 | 22.7191 | $940.59 | $617.65
31541 | Larynscop w/tumr exc + scope | Y |  | A2 | $630.00 | 22.7191 | $940.59 | $707.65
31545 | Remove vc lesion w/scope | Y |  | A2 | $630.00 | 22.7191 | $940.59 | $707.65
31546 | Remove vc lesion scope/graft | Y |  | A2 | $630.00 | 22.7191 | $940.59 | $707.65
31560 | Laryngoscop w/arytenoidectom | Y |  | A2 | $717.00 | 22.7191 | $940.59 | $772.90
31561 | Larynscop, remve cart + scop | Y |  | A2 | $717.00 | 22.7191 | $940.59 | $772.90
31570 | Laryngoscope w/vc inj | Y |  | A2 | $446.00 | 17.016 | $704.48 | $510.62
31571 | Laryngoscop w/vc inj + scope | Y |  | A2 | $446.00 | 22.7191 | $940.59 | $569.65
31575 | Diagnostic laryngoscopy | Y |  | P3 |  | 1.4811 | $61.32 | $61.32
31576 | Laryngoscopy with biopsy | Y |  | A2 | $446.00 | 22.7191 | $940.59 | $569.65
31577 | Remove foreign body, larynx | Y |  | A2 | $236.42 | 3.994 | $165.36 | $218.66
31578 | Removal of larynx lesion | Y |  | A2 | $446.00 | 22.7191 | $940.59 | $569.65
31579 | Diagnostic laryngoscopy | Y |  | P3 |  | 2.7321 | $113.11 | $113.11
31580 | Revision of larynx | Y |  | A2 | $717.00 | 39.8776 | $1,650.97 | $950.49
31582 | Revision of larynx | Y |  | A2 | $717.00 | 39.8776 | $1,650.97 | $950.49
31588 | Revision of larynx | Y |  | A2 | $717.00 | 39.8776 | $1,650.97 | $950.49
31590 | Reinnervate larynx | Y |  | A2 | $717.00 | 39.8776 | $1,650.97 | $950.49
31595 | Larynx nerve surgery | Y |  | A2 | $446.00 | 39.8776 | $1,650.97 | $747.24
31603 | Incision of windpipe | Y |  | A2 | $333.00 | 7.4474 | $308.33 | $326.83
31605 | Incision of windpipe | Y |  | G2 |  | 7.4474 | $308.33 | $308.33
31611 | Surgery/speech prosthesis | Y |  | A2 | $510.00 | 23.9765 | $992.65 | $630.66
31612 | Puncture/clear windpipe | Y |  | A2 | $333.00 | 23.9765 | $992.65 | $497.91
31613 | Repair windpipe opening | Y |  | A2 | $446.00 | 23.9765 | $992.65 | $582.66
31614 | Repair windpipe opening | Y |  | A2 | $446.00 | 39.8776 | $1,650.97 | $747.24
31615 | Visualization of windpipe | Y |  | A2 | $333.00 | 9.9575 | $412.25 | $352.81
31620 | Endobronchial us add-on | N | CH | N1 |  |  |  |
31622 | Dx bronchoscope/wash | Y |  | A2 | $333.00 | 9.9575 | $412.25 | $352.81
31623 | Dx bronchoscope/brush | Y |  | A2 | $446.00 | 9.9575 | $412.25 | $437.56
31624 | Dx bronchoscope/lavage | Y |  | A2 | $446.00 | 9.9575 | $412.25 | $437.56
31625 | Bronchoscopy w/biopsy(s) | Y |  | A2 | $446.00 | 9.9575 | $412.25 | $437.56
31628 | Bronchoscopy/lung bx, each | Y |  | A2 | $446.00 | 9.9575 | $412.25 | $437.56
31629 | Bronchoscopy/needle bx, each | Y |  | A2 | $446.00 | 9.9575 | $412.25 | $437.56
31630 | Bronchoscopy dilate/fx repr | Y |  | A2 | $446.00 | 24.0654 | $996.33 | $583.58
31631 | Bronchoscopy, dilate w/stent | Y |  | A2 | $446.00 | 24.0654 | $996.33 | $583.58
31632 | Bronchoscopy/lung bx, add?l | Y |  | G2 |  | 9.9575 | $412.25 | $412.25
31633 | Bronchoscopy/needle bx add?l | Y |  | G2 |  | 9.9575 | $412.25 | $412.25
31635 | Bronchoscopy w/fb removal | Y |  | A2 | $446.00 | 9.9575 | $412.25 | $437.56
31636 | Bronchoscopy, bronch stents | Y |  | A2 | $446.00 | 24.0654 | $996.33 | $583.58
31637 | Bronchoscopy, stent add-on | Y |  | A2 | $333.00 | 9.9575 | $412.25 | $352.81
31638 | Bronchoscopy, revise stent | Y |  | A2 | $446.00 | 24.0654 | $996.33 | $583.58
31640 | Bronchoscopy w/tumor excise | Y |  | A2 | $446.00 | 24.0654 | $996.33 | $583.58
31641 | Bronchoscopy, treat blockage | Y |  | A2 | $446.00 | 24.0654 | $996.33 | $583.58
31643 | Diag bronchoscope/catheter | Y |  | A2 | $446.00 | 9.9575 | $412.25 | $437.56
31645 | Bronchoscopy, clear airways | Y |  | A2 | $333.00 | 9.9575 | $412.25 | $352.81
31646 | Bronchoscopy, reclear airway | Y |  | A2 | $333.00 | 9.9575 | $412.25 | $352.81
31656 | Bronchoscopy, inj for x-ray | Y |  | A2 | $333.00 | 9.9575 | $412.25 | $352.81
31715 | Injection for bronchus x-ray | N |  | N1 |  |  |  |
31717 | Bronchial brush biopsy | Y |  | A2 | $236.42 | 3.994 | $165.36 | $218.66
31720 | Clearance of airways | N |  | A2 | $47.32 | 0.3877 | $16.05 | $39.50
31730 | Intro, windpipe wire/tube | Y |  | A2 | $236.42 | 3.994 | $165.36 | $218.66
31750 | Repair of windpipe | Y |  | A2 | $717.00 | 39.8776 | $1,650.97 | $950.49
31755 | Repair of windpipe | Y |  | A2 | $446.00 | 39.8776 | $1,650.97 | $747.24
31820 | Closure of windpipe lesion | Y |  | A2 | $333.00 | 16.3288 | $676.03 | $418.76
31825 | Repair of windpipe defect | Y |  | A2 | $446.00 | 23.9765 | $992.65 | $582.66
31830 | Revise windpipe scar | Y |  | A2 | $446.00 | 23.9765 | $992.65 | $582.66
32000 | Drainage of chest | N | CH | D5 |  |  |  |
32002 | Treatment of collapsed lung | N | CH | D5 |  |  |  |
32019 | Insert pleural catheter | N | CH | D5 |  |  |  |
32400 | Needle biopsy chest lining | Y |  | A2 | $333.00 | 9.3354 | $386.49 | $346.37
32405 | Biopsy, lung or mediastinum | Y |  | A2 | $333.00 | 9.3354 | $386.49 | $346.37
32420 | Puncture/clear lung | Y |  | A2 | $222.78 | 5.2024 | $215.38 | $220.93
32421 | Thoracentesis for aspiration | Y | NI | A2 | $222.78 | 5.2024 | $215.38 | $220.93
32422 | Thoracentesis w/tube insert | Y | NI | G2 |  | 5.2024 | $215.38 | $215.38
32550 | Insert pleural cath | Y | NI | G2 |  | 30.7096 | $1,271.41 | $1,271.41
32960 | Therapeutic pneumothorax | Y |  | G2 |  | 5.2024 | $215.38 | $215.38
32998 | Perq rf ablate tx, pul tumor | Y | CH | G2 |  | 42.998 | $1,780.16 | $1,780.16
33010 | Drainage of heart sac | Y |  | A2 | $222.78 | 5.2024 | $215.38 | $220.93
33011 | Repeat drainage of heart sac | Y |  | A2 | $222.78 | 5.2024 | $215.38 | $220.93
33206 | Insertion of heart pacemaker | Y |  | J8 |  | 169.4628 | $7,015.93 | $7,015.93
33207 | Insertion of heart pacemaker | Y |  | J8 |  | 169.4628 | $7,015.93 | $7,015.93
33208 | Insertion of heart pacemaker | Y |  | J8 |  | 196.2967 | $8,126.88 | $8,126.88
33210 | Insertion of heart electrode | Y | CH | J8 |  | 90.579 | $3,750.06 | $3,750.06
33211 | Insertion of heart electrode | Y | CH | J8 |  | 90.579 | $3,750.06 | $3,750.06
33212 | Insertion of pulse generator | Y |  | H8 | $510.00 | 142.1043 | $5,883.26 | $5,514.64
33213 | Insertion of pulse generator | Y |  | H8 | $510.00 | 154.6733 | $6,403.63 | $6,010.06
33214 | Upgrade of pacemaker system | Y |  | J8 |  | 196.2967 | $8,126.88 | $8,126.88
33215 | Reposition pacing-defib lead | Y |  | G2 |  | 23.9802 | $992.80 | $992.80
33216 | Insert lead pace-defib, one | Y | CH | J8 |  | 90.579 | $3,750.06 | $3,750.06
33217 | Insert lead pace-defib, dual | Y | CH | J8 |  | 90.579 | $3,750.06 | $3,750.06
33218 | Repair lead pace-defib, one | Y |  | G2 |  | 23.9802 | $992.80 | $992.80
33220 | Repair lead pace-defib, dual | Y |  | G2 |  | 23.9802 | $992.80 | $992.80
33222 | Revise pocket, pacemaker | Y |  | A2 | $446.00 | 15.0458 | $622.91 | $490.23
33223 | Revise pocket, pacing-defib | Y |  | A2 | $446.00 | 15.0458 | $622.91 | $490.23
33224 | Insert pacing lead & connect | Y |  | J8 |  | 375.1658 | $15,532.24 | $15,532.24
33225 | L ventric pacing lead add-on | Y |  | J8 |  | 375.1658 | $15,532.24 | $15,532.24
33226 | Reposition l ventric lead | Y |  | G2 |  | 23.9802 | $992.80 | $992.80
33233 | Removal of pacemaker system | Y |  | A2 | $446.00 | 23.9802 | $992.80 | $582.70
33234 | Removal of pacemaker system | Y |  | G2 |  | 23.9802 | $992.80 | $992.80
33235 | Removal pacemaker electrode | Y |  | G2 |  | 23.9802 | $992.80 | $992.80
33240 | Insert pulse generator | Y | CH | J8 |  | 493.9803 | $20,451.28 | $20,451.28
33241 | Remove pulse generator | Y |  | G2 |  | 23.9802 | $992.80 | $992.80
33249 | Eltrd/insert pace-defib | Y | CH | J8 |  | 599.3974 | $24,815.65 | $24,815.65
33282 | Implant pat-active ht record | N |  | J8 |  | 98.4186 | $4,074.63 | $4,074.63
33284 | Remove pat-active ht record | Y |  | G2 |  | 8.685 | $359.57 | $359.57
33508 | Endoscopic vein harvest | N |  | N1 |  |  |  |
35188 | Repair blood vessel lesion | Y |  | A2 | $630.00 | 38.7673 | $1,605.00 | $873.75
35207 | Repair blood vessel lesion | Y |  | A2 | $630.00 | 38.7673 | $1,605.00 | $873.75
35473 | Repair arterial blockage | Y |  | G2 |  | 45.3845 | $1,878.96 | $1,878.96
35476 | Repair venous blockage | Y |  | G2 |  | 45.3845 | $1,878.96 | $1,878.96
35492 | Atherectomy, percutaneous | Y |  | G2 |  | 87.5137 | $3,623.15 | $3,623.15
35572 | Harvest femoropopliteal vein | N |  | N1 |  |  |  |
35761 | Exploration of artery/vein | Y |  | G2 |  | 29.6965 | $1,229.46 | $1,229.46
35875 | Removal of clot in graft | Y |  | A2 | $1,339.00 | 38.7673 | $1,605.00 | $1,405.50
35876 | Removal of clot in graft | Y |  | A2 | $1,339.00 | 38.7673 | $1,605.00 | $1,405.50
36000 | Place needle in vein | N |  | N1 |  |  |  |
36002 | Pseudoaneurysm injection trt | N |  | G2 |  | 2.3792 | $98.50 | $98.50
36005 | Injection ext venography | N |  | N1 |  |  |  |
36010 | Place catheter in vein | N |  | N1 |  |  |  |
36011 | Place catheter in vein | N |  | N1 |  |  |  |
36012 | Place catheter in vein | N |  | N1 |  |  |  |
36013 | Place catheter in artery | N |  | N1 |  |  |  |
36014 | Place catheter in artery | N |  | N1 |  |  |  |
36015 | Place catheter in artery | N |  | N1 |  |  |  |
36100 | Establish access to artery | N |  | N1 |  |  |  |
36120 | Establish access to artery | N |  | N1 |  |  |  |
36140 | Establish access to artery | N |  | N1 |  |  |  |
36145 | Artery to vein shunt | N |  | N1 |  |  |  |
36160 | Establish access to aorta | N |  | N1 |  |  |  |
36200 | Place catheter in aorta | N |  | N1 |  |  |  |
36215 | Place catheter in artery | N |  | N1 |  |  |  |
36216 | Place catheter in artery | N |  | N1 |  |  |  |
36217 | Place catheter in artery | N |  | N1 |  |  |  |
36218 | Place catheter in artery | N |  | N1 |  |  |  |
36245 | Place catheter in artery | N |  | N1 |  |  |  |
36246 | Place catheter in artery | N |  | N1 |  |  |  |
36247 | Place catheter in artery | N |  | N1 |  |  |  |
36248 | Place catheter in artery | N |  | N1 |  |  |  |
36260 | Insertion of infusion pump | Y |  | A2 | $510.00 | 28.8743 | $1,195.42 | $681.36
36261 | Revision of infusion pump | Y |  | A2 | $446.00 | 23.9802 | $992.80 | $582.70
36262 | Removal of infusion pump | Y |  | A2 | $333.00 | 23.9802 | $992.80 | $497.95
36400 | Bl draw < 3 yrs fem/jugular | N |  | N1 |  |  |  |
36405 | Bl draw < 3 yrs scalp vein | N |  | N1 |  |  |  |
36406 | Bl draw < 3 yrs other vein | N |  | N1 |  |  |  |
36410 | Non-routine bl draw > 3 yrs | N |  | N1 |  |  |  |
36416 | Capillary blood draw | N |  | N1 |  |  |  |
36420 | Vein access cutdown < 1 yr | Y |  | G2 |  | 0.2143 | $8.87 | $8.87
36425 | Vein access cutdown > 1 yr | Y |  | R2 |  | 0.2143 | $8.87 | $8.87
36430 | Blood transfusion service | N |  | P3 |  | 0.7983 | $33.05 | $33.05
36440 | Bl push transfuse, 2 yr or < | N |  | R2 |  | 3.3967 | $140.63 | $140.63
36450 | Bl exchange/transfuse, nb | N |  | R2 |  | 3.3967 | $140.63 | $140.63
36468 | Injection(s), spider veins | Y |  | R2 |  | 0.793 | $32.83 | $32.83
36469 | Injection(s), spider veins | Y | CH | R2 |  | 0.793 | $32.83 | $32.83
36470 | Injection therapy of vein | Y |  | P2 |  | 0.793 | $32.83 | $32.83
36471 | Injection therapy of veins | Y |  | P2 |  | 0.793 | $32.83 | $32.83
36475 | Endovenous rf, 1st vein | Y |  | A2 | $1,339.00 | 42.6114 | $1,764.15 | $1,445.29
36476 | Endovenous rf, vein add-on | Y |  | A2 | $1,339.00 | 25.841 | $1,069.84 | $1,271.71
36478 | Endovenous laser, 1st vein | Y |  | A2 | $1,339.00 | 25.841 | $1,069.84 | $1,271.71
36479 | Endovenous laser vein addon | Y |  | A2 | $1,339.00 | 25.841 | $1,069.84 | $1,271.71
36481 | Insertion of catheter, vein | N |  | N1 |  |  |  |
36500 | Insertion of catheter, vein | N |  | N1 |  |  |  |
36510 | Insertion of catheter, vein | N |  | N1 |  |  |  |
36511 | Apheresis wbc | N |  | G2 |  | 11.5058 | $476.35 | $476.35
36512 | Apheresis rbc | N |  | G2 |  | 11.5058 | $476.35 | $476.35
36513 | Apheresis platelets | N |  | G2 |  | 11.5058 | $476.35 | $476.35
36514 | Apheresis plasma | N |  | G2 |  | 11.5058 | $476.35 | $476.35
36515 | Apheresis, adsorp/reinfuse | N |  | G2 |  | 30.6035 | $1,267.02 | $1,267.02
36516 | Apheresis, selective | N |  | G2 |  | 30.6035 | $1,267.02 | $1,267.02
36522 | Photopheresis | N |  | G2 |  | 30.6035 | $1,267.02 | $1,267.02
36540 | Collect blood venous device | N | CH | D5 |  |  |  |
36550 | Declot vascular device | N | CH | D5 |  |  |  |
36555 | Insert non-tunnel cv cath | Y |  | A2 | $333.00 | 10.9092 | $451.65 | $362.66
36556 | Insert non-tunnel cv cath | Y |  | A2 | $333.00 | 10.9092 | $451.65 | $362.66
36557 | Insert tunneled cv cath | Y |  | A2 | $446.00 | 24.1069 | $998.05 | $584.01
36558 | Insert tunneled cv cath | Y |  | A2 | $446.00 | 24.1069 | $998.05 | $584.01
36560 | Insert tunneled cv cath | Y |  | A2 | $510.00 | 28.8743 | $1,195.42 | $681.36
36561 | Insert tunneled cv cath | Y |  | A2 | $510.00 | 28.8743 | $1,195.42 | $681.36
36563 | Insert tunneled cv cath | Y |  | A2 | $510.00 | 28.8743 | $1,195.42 | $681.36
36565 | Insert tunneled cv cath | Y |  | A2 | $510.00 | 28.8743 | $1,195.42 | $681.36
36566 | Insert tunneled cv cath | Y |  | H8 | $510.00 | 107.6665 | $4,457.50 | $3,796.23
36568 | Insert picc cath | Y |  | A2 | $333.00 | 10.9092 | $451.65 | $362.66
36569 | Insert picc cath | Y |  | A2 | $333.00 | 10.9092 | $451.65 | $362.66
36570 | Insert picvad cath | Y |  | A2 | $510.00 | 24.1069 | $998.05 | $632.01
36571 | Insert picvad cath | Y |  | A2 | $510.00 | 24.1069 | $998.05 | $632.01
36575 | Repair tunneled cv cath | Y |  | A2 | $446.00 | 5.6614 | $234.39 | $393.10
36576 | Repair tunneled cv cath | Y |  | A2 | $446.00 | 10.9092 | $451.65 | $447.41
36578 | Replace tunneled cv cath | Y |  | A2 | $446.00 | 24.1069 | $998.05 | $584.01
36580 | Replace cvad cath | Y |  | A2 | $333.00 | 10.9092 | $451.65 | $362.66
36581 | Replace tunneled cv cath | Y |  | A2 | $446.00 | 24.1069 | $998.05 | $584.01
36582 | Replace tunneled cv cath | Y |  | A2 | $510.00 | 28.8743 | $1,195.42 | $681.36
36583 | Replace tunneled cv cath | Y |  | A2 | $510.00 | 28.8743 | $1,195.42 | $681.36
36584 | Replace picc cath | Y |  | A2 | $333.00 | 10.9092 | $451.65 | $362.66
36585 | Replace picvad cath | Y |  | A2 | $510.00 | 24.1069 | $998.05 | $632.01
36589 | Removal tunneled cv cath | Y |  | A2 | $333.00 | 5.6614 | $234.39 | $308.35
36590 | Removal tunneled cv cath | Y |  | A2 | $333.00 | 10.9092 | $451.65 | $362.66
36591 | Draw blood off venous device | N | NI | N1 |  |  |  |
36592 | Collect blood from picc | N | NI | N1 |  |  |  |
36593 | Declot vascular device | Y | NI | P3 |  | 0.4937 | $20.44 | $20.44
36595 | Mech remov tunneled cv cath | Y |  | G2 |  | 24.1069 | $998.05 | $998.05
36596 | Mech remov tunneled cv cath | Y |  | G2 |  | 10.9092 | $451.65 | $451.65
36597 | Reposition venous catheter | Y |  | G2 |  | 10.9092 | $451.65 | $451.65
36598 | Inj w/fluor, eval cv device | Y | CH | P3 |  | 1.9997 | $82.79 | $82.79
36600 | Withdrawal of arterial blood | N |  | N1 |  |  |  |
36620 | Insertion catheter, artery | N |  | N1 |  |  |  |
36625 | Insertion catheter, artery | N |  | N1 |  |  |  |
36640 | Insertion catheter, artery | Y |  | A2 | $333.00 | 28.8743 | $1,195.42 | $548.61
36680 | Insert needle, bone cavity | Y |  | G2 |  | 1.1097 | $45.94 | $45.94
36800 | Insertion of cannula | Y |  | A2 | $510.00 | 29.6965 | $1,229.46 | $689.87
36810 | Insertion of cannula | Y |  | A2 | $510.00 | 29.6965 | $1,229.46 | $689.87
36815 | Insertion of cannula | Y |  | A2 | $510.00 | 29.6965 | $1,229.46 | $689.87
36818 | Av fuse, uppr arm, cephalic | Y |  | A2 | $510.00 | 38.7673 | $1,605.00 | $783.75
36819 | Av fuse, uppr arm, basilic | Y |  | A2 | $510.00 | 38.7673 | $1,605.00 | $783.75
36820 | Av fusion/forearm vein | Y |  | A2 | $510.00 | 38.7673 | $1,605.00 | $783.75
36821 | Av fusion direct any site | Y |  | A2 | $510.00 | 38.7673 | $1,605.00 | $783.75
36825 | Artery-vein autograft | Y |  | A2 | $630.00 | 38.7673 | $1,605.00 | $873.75
36830 | Artery-vein nonautograft | Y |  | A2 | $630.00 | 38.7673 | $1,605.00 | $873.75
36831 | Open thrombect av fistula | Y |  | A2 | $1,339.00 | 38.7673 | $1,605.00 | $1,405.50
36832 | Av fistula revision, open | Y |  | A2 | $630.00 | 38.7673 | $1,605.00 | $873.75
36833 | Av fistula revision | Y |  | A2 | $630.00 | 38.7673 | $1,605.00 | $873.75
36834 | Repair a-v aneurysm | Y |  | A2 | $510.00 | 38.7673 | $1,605.00 | $783.75
36835 | Artery to vein shunt | Y |  | A2 | $630.00 | 29.6965 | $1,229.46 | $779.87
36860 | External cannula declotting | Y |  | A2 | $127.40 | 2.4824 | $102.77 | $121.24
36861 | Cannula declotting | Y |  | A2 | $510.00 | 29.6965 | $1,229.46 | $689.87
36870 | Percut thrombect av fistula | Y |  | A2 | $1,339.00 | 40.4667 | $1,675.36 | $1,423.09
37184 | Prim art mech thrombectomy | Y |  | G2 |  | 38.7673 | $1,605.00 | $1,605.00
37185 | Prim art m-thrombect add-on | Y |  | G2 |  | 38.7673 | $1,605.00 | $1,605.00
37186 | Sec art m-thrombect add-on | Y |  | G2 |  | 38.7673 | $1,605.00 | $1,605.00
37187 | Venous mech thrombectomy | Y |  | G2 |  | 38.7673 | $1,605.00 | $1,605.00
37188 | Venous m-thrombectomy add-on | Y |  | G2 |  | 38.7673 | $1,605.00 | $1,605.00
37200 | Transcatheter biopsy | Y |  | G2 |  | 28.8743 | $1,195.42 | $1,195.42
37203 | Transcatheter retrieval | Y |  | G2 |  | 28.8743 | $1,195.42 | $1,195.42
37250 | Iv us first vessel add-on | N | CH | N1 |  |  |  |
37251 | Iv us each add vessel add-on | N | CH | N1 |  |  |  |
37500 | Endoscopy ligate perf veins | Y |  | A2 | $510.00 | 42.6114 | $1,764.15 | $823.54
37607 | Ligation of a-v fistula | Y |  | A2 | $510.00 | 25.841 | $1,069.84 | $649.96
37609 | Temporal artery procedure | Y |  | A2 | $446.00 | 16.1001 | $666.56 | $501.14
37650 | Revision of major vein | Y |  | A2 | $446.00 | 25.841 | $1,069.84 | $601.96
37700 | Revise leg vein | Y |  | A2 | $446.00 | 25.841 | $1,069.84 | $601.96
37718 | Ligate/strip short leg vein | Y |  | A2 | $510.00 | 25.841 | $1,069.84 | $649.96
37722 | Ligate/strip long leg vein | Y |  | A2 | $510.00 | 42.6114 | $1,764.15 | $823.54
37735 | Removal of leg veins/lesion | Y |  | A2 | $510.00 | 42.6114 | $1,764.15 | $823.54
37760 | Ligation, leg veins, open | Y |  | A2 | $510.00 | 25.841 | $1,069.84 | $649.96
37765 | Phleb veins extrem 10-20 | Y |  | R2 |  | 25.841 | $1,069.84 | $1,069.84
37766 | Phleb veins extrem 20+ | Y |  | R2 |  | 25.841 | $1,069.84 | $1,069.84
37780 | Revision of leg vein | Y |  | A2 | $510.00 | 25.841 | $1,069.84 | $649.96
37785 | Ligate/divide/excise vein | Y |  | A2 | $510.00 | 25.841 | $1,069.84 | $649.96
37790 | Penile venous occlusion | Y |  | A2 | $510.00 | 33.9306 | $1,404.76 | $733.69
38200 | Injection for spleen x-ray | N |  | N1 |  |  |  |
38204 | Bl donor search management | N |  | N1 |  |  |  |
38205 | Harvest allogenic stem cells | N |  | G2 |  | 11.5058 | $476.35 | $476.35
38206 | Harvest auto stem cells | N |  | G2 |  | 11.5058 | $476.35 | $476.35
38220 | Bone marrow aspiration | Y | CH | P3 |  | 2.6333 | $109.02 | $109.02
38221 | Bone marrow biopsy | Y | CH | P3 |  | 2.7649 | $114.47 | $114.47
38230 | Bone marrow collection | N |  | G2 |  | 30.6035 | $1,267.02 | $1,267.02
38241 | Bone marrow/stem transplant | N |  | G2 |  | 30.6035 | $1,267.02 | $1,267.02
38242 | Lymphocyte infuse transplant | N |  | R2 |  | 11.5058 | $476.35 | $476.35
38300 | Drainage, lymph node lesion | Y |  | A2 | $333.00 | 11.5594 | $478.57 | $369.39
38305 | Drainage, lymph node lesion | Y |  | A2 | $446.00 | 18.3197 | $758.45 | $524.11
38308 | Incision of lymph channels | Y |  | A2 | $446.00 | 22.9584 | $950.50 | $572.13
38500 | Biopsy/removal, lymph nodes | Y |  | A2 | $446.00 | 22.9584 | $950.50 | $572.13
38505 | Needle biopsy, lymph nodes | Y |  | A2 | $240.00 | 7.1147 | $294.56 | $253.64
38510 | Biopsy/removal, lymph nodes | Y |  | A2 | $446.00 | 22.9584 | $950.50 | $572.13
38520 | Biopsy/removal, lymph nodes | Y |  | A2 | $446.00 | 22.9584 | $950.50 | $572.13
38525 | Biopsy/removal, lymph nodes | Y |  | A2 | $446.00 | 22.9584 | $950.50 | $572.13
38530 | Biopsy/removal, lymph nodes | Y |  | A2 | $446.00 | 22.9584 | $950.50 | $572.13
38542 | Explore deep node(s), neck | Y |  | A2 | $446.00 | 44.324 | $1,835.06 | $793.27
38550 | Removal, neck/armpit lesion | Y |  | A2 | $510.00 | 22.9584 | $950.50 | $620.13
38555 | Removal, neck/armpit lesion | Y |  | A2 | $630.00 | 22.9584 | $950.50 | $710.13
38570 | Laparoscopy, lymph node biop | Y |  | A2 | $1,339.00 | 45.5317 | $1,885.06 | $1,475.52
38571 | Laparoscopy, lymphadenectomy | Y |  | A2 | $1,339.00 | 69.6652 | $2,884.21 | $1,725.30
38572 | Laparoscopy, lymphadenectomy | Y |  | A2 | $1,339.00 | 45.5317 | $1,885.06 | $1,475.52
38700 | Removal of lymph nodes, neck | Y |  | G2 |  | 22.9584 | $950.50 | $950.50
38740 | Remove armpit lymph nodes | Y |  | A2 | $446.00 | 44.324 | $1,835.06 | $793.27
38745 | Remove armpit lymph nodes | Y |  | A2 | $630.00 | 44.324 | $1,835.06 | $931.27
38760 | Remove groin lymph nodes | Y |  | A2 | $446.00 | 22.9584 | $950.50 | $572.13
38790 | Inject for lymphatic x-ray | N |  | N1 |  |  |  |
38792 | Identify sentinel node | N |  | N1 |  |  |  |
38794 | Access thoracic lymph duct | N |  | N1 |  |  |  |
40490 | Biopsy of lip | Y |  | P3 |  | 1.5224 | $63.03 | $63.03
40500 | Partial excision of lip | Y |  | A2 | $446.00 | 16.3288 | $676.03 | $503.51
40510 | Partial excision of lip | Y |  | A2 | $446.00 | 23.9765 | $992.65 | $582.66
40520 | Partial excision of lip | Y |  | A2 | $446.00 | 16.3288 | $676.03 | $503.51
40525 | Reconstruct lip with flap | Y |  | A2 | $446.00 | 23.9765 | $992.65 | $582.66
40527 | Reconstruct lip with flap | Y |  | A2 | $446.00 | 23.9765 | $992.65 | $582.66
40530 | Partial removal of lip | Y |  | A2 | $446.00 | 23.9765 | $992.65 | $582.66
40650 | Repair lip | Y |  | A2 | $464.15 | 7.4474 | $308.33 | $425.20
40652 | Repair lip | Y |  | A2 | $464.15 | 7.4474 | $308.33 | $425.20
40654 | Repair lip | Y |  | A2 | $464.15 | 7.4474 | $308.33 | $425.20
40700 | Repair cleft lip/nasal | Y |  | A2 | $995.00 | 39.8776 | $1,650.97 | $1,158.99
40701 | Repair cleft lip/nasal | Y |  | A2 | $995.00 | 39.8776 | $1,650.97 | $1,158.99
40702 | Repair cleft lip/nasal | Y |  | R2 |  | 39.8776 | $1,650.97 | $1,650.97
40720 | Repair cleft lip/nasal | Y |  | A2 | $995.00 | 39.8776 | $1,650.97 | $1,158.99
40761 | Repair cleft lip/nasal | Y |  | A2 | $510.00 | 39.8776 | $1,650.97 | $795.24
40800 | Drainage of mouth lesion | Y |  | P2 |  | 1.4066 | $58.23 | $58.23
40801 | Drainage of mouth lesion | Y |  | A2 | $446.00 | 7.4474 | $308.33 | $411.58
40804 | Removal, foreign body, mouth | N |  | P2 |  | 0.631 | $26.12 | $26.12
40805 | Removal, foreign body, mouth | Y |  | P3 |  | 3.9581 | $163.87 | $163.87
40806 | Incision of lip fold | Y |  | P3 |  | 1.7529 | $72.57 | $72.57
40808 | Biopsy of mouth lesion | Y |  | P2 |  | 2.5002 | $103.51 | $103.51
40810 | Excision of mouth lesion | Y |  | P3 |  | 2.7072 | $112.08 | $112.08
40812 | Excise/repair mouth lesion | Y |  | P3 |  | 3.3985 | $140.70 | $140.70
40814 | Excise/repair mouth lesion | Y |  | A2 | $446.00 | 16.3288 | $676.03 | $503.51
40816 | Excision of mouth lesion | Y |  | A2 | $446.00 | 23.9765 | $992.65 | $582.66
40818 | Excise oral mucosa for graft | Y |  | A2 | $150.72 | 2.5002 | $103.51 | $138.92
40819 | Excise lip or cheek fold | Y |  | A2 | $333.00 | 7.4474 | $308.33 | $326.83
40820 | Treatment of mouth lesion | Y |  | P3 |  | 3.8018 | $157.40 | $157.40
40830 | Repair mouth laceration | Y |  | G2 |  | 2.5002 | $103.51 | $103.51
40831 | Repair mouth laceration | Y |  | A2 | $333.00 | 7.4474 | $308.33 | $326.83
40840 | Reconstruction of mouth | Y |  | A2 | $446.00 | 23.9765 | $992.65 | $582.66
40842 | Reconstruction of mouth | Y |  | A2 | $510.00 | 23.9765 | $992.65 | $630.66
40843 | Reconstruction of mouth | Y |  | A2 | $510.00 | 23.9765 | $992.65 | $630.66
40844 | Reconstruction of mouth | Y |  | A2 | $717.00 | 39.8776 | $1,650.97 | $950.49
40845 | Reconstruction of mouth | Y |  | A2 | $717.00 | 39.8776 | $1,650.97 | $950.49
41000 | Drainage of mouth lesion | Y |  | P3 |  | 2.0079 | $83.13 | $83.13
41005 | Drainage of mouth lesion | Y |  | A2 | $150.72 | 2.5002 | $103.51 | $138.92
41006 | Drainage of mouth lesion | Y |  | A2 | $333.00 | 23.9765 | $992.65 | $497.91
41007 | Drainage of mouth lesion | Y |  | A2 | $333.00 | 16.3288 | $676.03 | $418.76
41008 | Drainage of mouth lesion | Y |  | A2 | $333.00 | 16.3288 | $676.03 | $418.76
41009 | Drainage of mouth lesion | Y |  | A2 | $150.72 | 2.5002 | $103.51 | $138.92
41010 | Incision of tongue fold | Y |  | A2 | $333.00 | 7.4474 | $308.33 | $326.83
41015 | Drainage of mouth lesion | Y |  | A2 | $150.72 | 2.5002 | $103.51 | $138.92
41016 | Drainage of mouth lesion | Y |  | A2 | $333.00 | 7.4474 | $308.33 | $326.83
41017 | Drainage of mouth lesion | Y |  | A2 | $333.00 | 7.4474 | $308.33 | $326.83
41018 | Drainage of mouth lesion | Y |  | A2 | $333.00 | 7.4474 | $308.33 | $326.83
41019 | Place needles h&n for rt | Y | NI | G2 |  | 23.9765 | $992.65 | $992.65
41100 | Biopsy of tongue | Y |  | P3 |  | 2.0983 | $86.87 | $86.87
41105 | Biopsy of tongue | Y |  | P3 |  | 2.049 | $84.83 | $84.83
41108 | Biopsy of floor of mouth | Y |  | P3 |  | 1.8927 | $78.36 | $78.36
41110 | Excision of tongue lesion | Y |  | P3 |  | 2.7321 | $113.11 | $113.11
41112 | Excision of tongue lesion | Y |  | A2 | $446.00 | 16.3288 | $676.03 | $503.51
41113 | Excision of tongue lesion | Y |  | A2 | $446.00 | 16.3288 | $676.03 | $503.51
41114 | Excision of tongue lesion | Y |  | A2 | $446.00 | 23.9765 | $992.65 | $582.66
41115 | Excision of tongue fold | Y |  | P3 |  | 3.0777 | $127.42 | $127.42
41116 | Excision of mouth lesion | Y |  | A2 | $333.00 | 16.3288 | $676.03 | $418.76
41120 | Partial removal of tongue | Y |  | A2 | $717.00 | 23.9765 | $992.65 | $785.91
41250 | Repair tongue laceration | Y |  | A2 | $150.72 | 2.5002 | $103.51 | $138.92
41251 | Repair tongue laceration | Y |  | A2 | $150.72 | 2.5002 | $103.51 | $138.92
41252 | Repair tongue laceration | Y |  | A2 | $446.00 | 7.4474 | $308.33 | $411.58
41500 | Fixation of tongue | Y |  | A2 | $333.00 | 23.9765 | $992.65 | $497.91
41510 | Tongue to lip surgery | Y |  | A2 | $333.00 | 16.3288 | $676.03 | $418.76
41520 | Reconstruction, tongue fold | Y |  | A2 | $446.00 | 7.4474 | $308.33 | $411.58
41800 | Drainage of gum lesion | Y |  | A2 | $88.46 | 1.4066 | $58.23 | $80.90
41805 | Removal foreign body, gum | Y |  | P3 |  | 3.0118 | $124.69 | $124.69
41806 | Removal foreign body,jawbone | Y |  | P3 |  | 3.8758 | $160.46 | $160.46
41820 | Excision, gum, each quadrant | Y |  | R2 |  | 7.4474 | $308.33 | $308.33
41821 | Excision of gum flap | Y |  | G2 |  | 7.4474 | $308.33 | $308.33
41822 | Excision of gum lesion | Y |  | P3 |  | 3.5796 | $148.20 | $148.20
41823 | Excision of gum lesion | Y |  | P3 |  | 4.9455 | $204.75 | $204.75
41825 | Excision of gum lesion | Y |  | P3 |  | 2.7813 | $115.15 | $115.15
41826 | Excision of gum lesion | Y |  | P3 |  | 3.0941 | $128.10 | $128.10
41827 | Excision of gum lesion | Y |  | A2 | $446.00 | 23.9765 | $992.65 | $582.66
41828 | Excision of gum lesion | Y |  | P3 |  | 3.2504 | $134.57 | $134.57
41830 | Removal of gum tissue | Y |  | P3 |  | 4.5011 | $186.35 | $186.35
41850 | Treatment of gum lesion | Y |  | R2 |  | 16.3288 | $676.03 | $676.03
41870 | Gum graft | Y |  | G2 |  | 23.9765 | $992.65 | $992.65
41872 | Repair gum | Y |  | P3 |  | 4.5506 | $188.40 | $188.40
41874 | Repair tooth socket | Y |  | P3 |  | 4.3202 | $178.86 | $178.86
42000 | Drainage mouth roof lesion | Y |  | A2 | $150.72 | 2.5002 | $103.51 | $138.92
42100 | Biopsy roof of mouth | Y |  | P3 |  | 1.7939 | $74.27 | $74.27
42104 | Excision lesion, mouth roof | Y |  | P3 |  | 2.5181 | $104.25 | $104.25
42106 | Excision lesion, mouth roof | Y |  | P3 |  | 3.1598 | $130.82 | $130.82
42107 | Excision lesion, mouth roof | Y |  | A2 | $446.00 | 23.9765 | $992.65 | $582.66
42120 | Remove palate/lesion | Y |  | A2 | $630.00 | 39.8776 | $1,650.97 | $885.24
42140 | Excision of uvula | Y |  | A2 | $446.00 | 7.4474 | $308.33 | $411.58
42145 | Repair palate, pharynx/uvula | Y |  | A2 | $717.00 | 23.9765 | $992.65 | $785.91
42160 | Treatment mouth roof lesion | Y |  | P3 |  | 3.2997 | $136.61 | $136.61
42180 | Repair palate | Y |  | A2 | $150.72 | 2.5002 | $103.51 | $138.92
42182 | Repair palate | Y |  | A2 | $446.00 | 39.8776 | $1,650.97 | $747.24
42200 | Reconstruct cleft palate | Y |  | A2 | $717.00 | 39.8776 | $1,650.97 | $950.49
42205 | Reconstruct cleft palate | Y |  | A2 | $717.00 | 39.8776 | $1,650.97 | $950.49
42210 | Reconstruct cleft palate | Y |  | A2 | $717.00 | 39.8776 | $1,650.97 | $950.49
42215 | Reconstruct cleft palate | Y |  | A2 | $995.00 | 39.8776 | $1,650.97 | $1,158.99
42220 | Reconstruct cleft palate | Y |  | A2 | $717.00 | 39.8776 | $1,650.97 | $950.49
42226 | Lengthening of palate | Y |  | A2 | $717.00 | 39.8776 | $1,650.97 | $950.49
42235 | Repair palate | Y |  | A2 | $717.00 | 16.3288 | $676.03 | $706.76
42260 | Repair nose to lip fistula | Y |  | A2 | $630.00 | 23.9765 | $992.65 | $720.66
42280 | Preparation, palate mold | Y |  | P3 |  | 1.728 | $71.54 | $71.54
42281 | Insertion, palate prosthesis | Y |  | G2 |  | 16.3288 | $676.03 | $676.03
42300 | Drainage of salivary gland | Y |  | A2 | $333.00 | 16.3288 | $676.03 | $418.76
42305 | Drainage of salivary gland | Y |  | A2 | $446.00 | 16.3288 | $676.03 | $503.51
42310 | Drainage of salivary gland | Y |  | A2 | $150.72 | 2.5002 | $103.51 | $138.92
42320 | Drainage of salivary gland | Y |  | A2 | $150.72 | 2.5002 | $103.51 | $138.92
42330 | Removal of salivary stone | Y |  | P3 |  | 2.699 | $111.74 | $111.74
42335 | Removal of salivary stone | Y |  | P3 |  | 4.3941 | $181.92 | $181.92
42340 | Removal of salivary stone | Y |  | A2 | $446.00 | 16.3288 | $676.03 | $503.51
42400 | Biopsy of salivary gland | Y |  | P3 |  | 1.4975 | $62.00 | $62.00
42405 | Biopsy of salivary gland | Y |  | A2 | $446.00 | 16.3288 | $676.03 | $503.51
42408 | Excision of salivary cyst | Y |  | A2 | $510.00 | 16.3288 | $676.03 | $551.51
42409 | Drainage of salivary cyst | Y |  | A2 | $510.00 | 16.3288 | $676.03 | $551.51
42410 | Excise parotid gland/lesion | Y |  | A2 | $510.00 | 39.8776 | $1,650.97 | $795.24
42415 | Excise parotid gland/lesion | Y |  | A2 | $995.00 | 39.8776 | $1,650.97 | $1,158.99
42420 | Excise parotid gland/lesion | Y |  | A2 | $995.00 | 39.8776 | $1,650.97 | $1,158.99
42425 | Excise parotid gland/lesion | Y |  | A2 | $995.00 | 39.8776 | $1,650.97 | $1,158.99
42440 | Excise submaxillary gland | Y |  | A2 | $510.00 | 39.8776 | $1,650.97 | $795.24
42450 | Excise sublingual gland | Y |  | A2 | $446.00 | 23.9765 | $992.65 | $582.66
42500 | Repair salivary duct | Y |  | A2 | $510.00 | 23.9765 | $992.65 | $630.66
42505 | Repair salivary duct | Y |  | A2 | $630.00 | 39.8776 | $1,650.97 | $885.24
42507 | Parotid duct diversion | Y |  | A2 | $510.00 | 39.8776 | $1,650.97 | $795.24
42508 | Parotid duct diversion | Y |  | A2 | $630.00 | 39.8776 | $1,650.97 | $885.24
42509 | Parotid duct diversion | Y |  | A2 | $630.00 | 39.8776 | $1,650.97 | $885.24
42510 | Parotid duct diversion | Y |  | A2 | $630.00 | 39.8776 | $1,650.97 | $885.24
42550 | Injection for salivary x-ray | N |  | N1 |  |  |  |
42600 | Closure of salivary fistula | Y |  | A2 | $333.00 | 16.3288 | $676.03 | $418.76
42650 | Dilation of salivary duct | Y |  | P3 |  | 0.9792 | $40.54 | $40.54
42660 | Dilation of salivary duct | Y |  | P3 |  | 1.1521 | $47.70 | $47.70
42665 | Ligation of salivary duct | Y |  | A2 | $995.00 | 23.9765 | $992.65 | $994.41
42700 | Drainage of tonsil abscess | Y |  | A2 | $150.72 | 2.5002 | $103.51 | $138.92
42720 | Drainage of throat abscess | Y |  | A2 | $333.00 | 16.3288 | $676.03 | $418.76
42725 | Drainage of throat abscess | Y |  | A2 | $446.00 | 39.8776 | $1,650.97 | $747.24
42800 | Biopsy of throat | Y |  | P3 |  | 1.9173 | $79.38 | $79.38
42802 | Biopsy of throat | Y |  | A2 | $333.00 | 16.3288 | $676.03 | $418.76
42804 | Biopsy of upper nose/throat | Y |  | A2 | $333.00 | 16.3288 | $676.03 | $418.76
42806 | Biopsy of upper nose/throat | Y |  | A2 | $446.00 | 23.9765 | $992.65 | $582.66
42808 | Excise pharynx lesion | Y |  | A2 | $446.00 | 16.3288 | $676.03 | $503.51
42809 | Remove pharynx foreign body | N |  | G2 |  | 0.631 | $26.12 | $26.12
42810 | Excision of neck cyst | Y |  | A2 | $510.00 | 23.9765 | $992.65 | $630.66
42815 | Excision of neck cyst | Y |  | A2 | $717.00 | 39.8776 | $1,650.97 | $950.49
42820 | Remove tonsils and adenoids | Y |  | A2 | $510.00 | 22.2557 | $921.41 | $612.85
42821 | Remove tonsils and adenoids | Y |  | A2 | $717.00 | 22.2557 | $921.41 | $768.10
42825 | Removal of tonsils | Y |  | A2 | $630.00 | 22.2557 | $921.41 | $702.85
42826 | Removal of tonsils | Y |  | A2 | $630.00 | 22.2557 | $921.41 | $702.85
42830 | Removal of adenoids | Y |  | A2 | $630.00 | 22.2557 | $921.41 | $702.85
42831 | Removal of adenoids | Y |  | A2 | $630.00 | 22.2557 | $921.41 | $702.85
42835 | Removal of adenoids | Y |  | A2 | $630.00 | 22.2557 | $921.41 | $702.85
42836 | Removal of adenoids | Y |  | A2 | $630.00 | 22.2557 | $921.41 | $702.85
42860 | Excision of tonsil tags | Y |  | A2 | $510.00 | 22.2557 | $921.41 | $612.85
42870 | Excision of lingual tonsil | Y |  | A2 | $510.00 | 22.2557 | $921.41 | $612.85
42890 | Partial removal of pharynx | Y |  | A2 | $995.00 | 39.8776 | $1,650.97 | $1,158.99
42892 | Revision of pharyngeal walls | Y |  | A2 | $995.00 | 39.8776 | $1,650.97 | $1,158.99
42900 | Repair throat wound | Y |  | A2 | $333.00 | 7.4474 | $308.33 | $326.83
42950 | Reconstruction of throat | Y |  | A2 | $446.00 | 23.9765 | $992.65 | $582.66
42955 | Surgical opening of throat | Y |  | A2 | $446.00 | 23.9765 | $992.65 | $582.66
42960 | Control throat bleeding | Y |  | A2 | $72.48 | 1.1251 | $46.58 | $66.01
42962 | Control throat bleeding | Y |  | A2 | $446.00 | 39.8776 | $1,650.97 | $747.24
42970 | Control nose/throat bleeding | Y |  | R2 |  | 1.1251 | $46.58 | $46.58
42972 | Control nose/throat bleeding | Y |  | A2 | $510.00 | 16.3288 | $676.03 | $551.51
43030 | Throat muscle surgery | Y |  | G2 |  | 16.3288 | $676.03 | $676.03
43200 | Esophagus endoscopy | Y |  | A2 | $333.00 | 8.503 | $352.03 | $337.76
43201 | Esoph scope w/submucous inj | Y |  | A2 | $333.00 | 8.503 | $352.03 | $337.76
43202 | Esophagus endoscopy, biopsy | Y |  | A2 | $333.00 | 8.503 | $352.03 | $337.76
43204 | Esoph scope w/sclerosis inj | Y |  | A2 | $333.00 | 8.503 | $352.03 | $337.76
43205 | Esophagus endoscopy/ligation | Y |  | A2 | $333.00 | 8.503 | $352.03 | $337.76
43215 | Esophagus endoscopy | Y |  | A2 | $333.00 | 8.503 | $352.03 | $337.76
43216 | Esophagus endoscopy/lesion | Y |  | A2 | $333.00 | 8.503 | $352.03 | $337.76
43217 | Esophagus endoscopy | Y |  | A2 | $333.00 | 8.503 | $352.03 | $337.76
43219 | Esophagus endoscopy | Y |  | A2 | $333.00 | 24.9814 | $1,034.25 | $508.31
43220 | Esoph endoscopy, dilation | Y |  | A2 | $333.00 | 8.503 | $352.03 | $337.76
43226 | Esoph endoscopy, dilation | Y |  | A2 | $333.00 | 8.503 | $352.03 | $337.76
43227 | Esoph endoscopy, repair | Y |  | A2 | $446.00 | 8.503 | $352.03 | $422.51
43228 | Esoph endoscopy, ablation | Y |  | A2 | $446.00 | 25.3233 | $1,048.41 | $596.60
43231 | Esoph endoscopy w/us exam | Y |  | A2 | $446.00 | 8.503 | $352.03 | $422.51
43232 | Esoph endoscopy w/us fn bx | Y |  | A2 | $446.00 | 8.503 | $352.03 | $422.51
43234 | Upper gi endoscopy, exam | Y |  | A2 | $333.00 | 8.503 | $352.03 | $337.76
43235 | Uppr gi endoscopy, diagnosis | Y |  | A2 | $333.00 | 8.503 | $352.03 | $337.76
43236 | Uppr gi scope w/submuc inj | Y |  | A2 | $446.00 | 8.503 | $352.03 | $422.51
43237 | Endoscopic us exam, esoph | Y |  | A2 | $446.00 | 8.503 | $352.03 | $422.51
43238 | Uppr gi endoscopy w/us fn bx | Y |  | A2 | $446.00 | 8.503 | $352.03 | $422.51
43239 | Upper gi endoscopy, biopsy | Y |  | A2 | $446.00 | 8.503 | $352.03 | $422.51
43240 | Esoph endoscope w/drain cyst | Y |  | A2 | $446.00 | 8.503 | $352.03 | $422.51
43241 | Upper gi endoscopy with tube | Y |  | A2 | $446.00 | 8.503 | $352.03 | $422.51
43242 | Uppr gi endoscopy w/us fn bx | Y |  | A2 | $446.00 | 8.503 | $352.03 | $422.51
43243 | Upper gi endoscopy & inject | Y |  | A2 | $446.00 | 8.503 | $352.03 | $422.51
43244 | Upper gi endoscopy/ligation | Y |  | A2 | $446.00 | 8.503 | $352.03 | $422.51
43245 | Uppr gi scope dilate strictr | Y |  | A2 | $446.00 | 8.503 | $352.03 | $422.51
43246 | Place gastrostomy tube | Y |  | A2 | $446.00 | 8.503 | $352.03 | $422.51
43247 | Operative upper gi endoscopy | Y |  | A2 | $446.00 | 8.503 | $352.03 | $422.51
43248 | Uppr gi endoscopy/guide wire | Y |  | A2 | $446.00 | 8.503 | $352.03 | $422.51
43249 | Esoph endoscopy, dilation | Y |  | A2 | $446.00 | 8.503 | $352.03 | $422.51
43250 | Upper gi endoscopy/tumor | Y |  | A2 | $446.00 | 8.503 | $352.03 | $422.51
43251 | Operative upper gi endoscopy | Y |  | A2 | $446.00 | 8.503 | $352.03 | $422.51
43255 | Operative upper gi endoscopy | Y |  | A2 | $446.00 | 8.503 | $352.03 | $422.51
43256 | Uppr gi endoscopy w/stent | Y |  | A2 | $510.00 | 24.9814 | $1,034.25 | $641.06
43257 | Uppr gi scope w/thrml txmnt | Y |  | A2 | $510.00 | 25.3233 | $1,048.41 | $644.60
43258 | Operative upper gi endoscopy | Y |  | A2 | $510.00 | 8.503 | $352.03 | $470.51
43259 | Endoscopic ultrasound exam | Y |  | A2 | $510.00 | 8.503 | $352.03 | $470.51
43260 | Endo cholangiopancreatograph | Y |  | A2 | $446.00 | 20.951 | $867.39 | $551.35
43261 | Endo cholangiopancreatograph | Y |  | A2 | $446.00 | 20.951 | $867.39 | $551.35
43262 | Endo cholangiopancreatograph | Y |  | A2 | $446.00 | 20.951 | $867.39 | $551.35
43263 | Endo cholangiopancreatograph | Y |  | A2 | $446.00 | 20.951 | $867.39 | $551.35
43264 | Endo cholangiopancreatograph | Y |  | A2 | $446.00 | 20.951 | $867.39 | $551.35
43265 | Endo cholangiopancreatograph | Y |  | A2 | $446.00 | 20.951 | $867.39 | $551.35
43267 | Endo cholangiopancreatograph | Y |  | A2 | $446.00 | 20.951 | $867.39 | $551.35
43268 | Endo cholangiopancreatograph | Y |  | A2 | $446.00 | 24.9814 | $1,034.25 | $593.06
43269 | Endo cholangiopancreatograph | Y |  | A2 | $446.00 | 24.9814 | $1,034.25 | $593.06
43271 | Endo cholangiopancreatograph | Y |  | A2 | $446.00 | 20.951 | $867.39 | $551.35
43272 | Endo cholangiopancreatograph | Y |  | A2 | $446.00 | 20.951 | $867.39 | $551.35
43450 | Dilate esophagus | Y |  | A2 | $333.00 | 5.8431 | $241.91 | $310.23
43453 | Dilate esophagus | Y |  | A2 | $333.00 | 5.8431 | $241.91 | $310.23
43456 | Dilate esophagus | Y |  | A2 | $335.41 | 5.8431 | $241.91 | $312.04
43458 | Dilate esophagus | Y |  | A2 | $335.41 | 8.503 | $352.03 | $339.57
43600 | Biopsy of stomach | Y |  | A2 | $333.00 | 8.503 | $352.03 | $337.76
43653 | Laparoscopy, gastrostomy | Y |  | A2 | $1,339.00 | 45.5317 | $1,885.06 | $1,475.52
43750 | Place gastrostomy tube | N | CH | D5 |  |  |  |
43760 | Change gastrostomy tube | Y |  | A2 | $144.98 | 3.2383 | $134.07 | $142.25
43761 | Reposition gastrostomy tube | Y |  | A2 | $333.00 | 8.503 | $352.03 | $337.76
43870 | Repair stomach opening | Y |  | A2 | $333.00 | 8.503 | $352.03 | $337.76
43886 | Revise gastric port, open | Y |  | G2 |  | 20.2069 | $836.59 | $836.59
43887 | Remove gastric port, open | Y |  | G2 |  | 4.5263 | $187.39 | $187.39
43888 | Change gastric port, open | Y |  | G2 |  | 20.2069 | $836.59 | $836.59
44100 | Biopsy of bowel | Y |  | A2 | $333.00 | 8.503 | $352.03 | $337.76
44312 | Revision of ileostomy | Y |  | A2 | $333.00 | 20.2069 | $836.59 | $458.90
44340 | Revision of colostomy | Y |  | A2 | $510.00 | 20.2069 | $836.59 | $591.65
44360 | Small bowel endoscopy | Y |  | A2 | $446.00 | 9.5292 | $394.52 | $433.13
44361 | Small bowel endoscopy/biopsy | Y |  | A2 | $446.00 | 9.5292 | $394.52 | $433.13
44363 | Small bowel endoscopy | Y |  | A2 | $446.00 | 9.5292 | $394.52 | $433.13
44364 | Small bowel endoscopy | Y |  | A2 | $446.00 | 9.5292 | $394.52 | $433.13
44365 | Small bowel endoscopy | Y |  | A2 | $446.00 | 9.5292 | $394.52 | $433.13
44366 | Small bowel endoscopy | Y |  | A2 | $446.00 | 9.5292 | $394.52 | $433.13
44369 | Small bowel endoscopy | Y |  | A2 | $446.00 | 9.5292 | $394.52 | $433.13
44370 | Small bowel endoscopy/stent | Y |  | A2 | $1,339.00 | 24.9814 | $1,034.25 | $1,262.81
44372 | Small bowel endoscopy | Y |  | A2 | $446.00 | 9.5292 | $394.52 | $433.13
44373 | Small bowel endoscopy | Y |  | A2 | $446.00 | 9.5292 | $394.52 | $433.13
44376 | Small bowel endoscopy | Y |  | A2 | $446.00 | 9.5292 | $394.52 | $433.13
44377 | Small bowel endoscopy/biopsy | Y |  | A2 | $446.00 | 9.5292 | $394.52 | $433.13
44378 | Small bowel endoscopy | Y |  | A2 | $446.00 | 9.5292 | $394.52 | $433.13
44379 | S bowel endoscope w/stent | Y |  | A2 | $1,339.00 | 24.9814 | $1,034.25 | $1,262.81
44380 | Small bowel endoscopy | Y |  | A2 | $333.00 | 9.5292 | $394.52 | $348.38
44382 | Small bowel endoscopy | Y |  | A2 | $333.00 | 9.5292 | $394.52 | $348.38
44383 | Ileoscopy w/stent | Y |  | A2 | $1,339.00 | 24.9814 | $1,034.25 | $1,262.81
44385 | Endoscopy of bowel pouch | Y |  | A2 | $333.00 | 8.8486 | $366.34 | $341.34
44386 | Endoscopy, bowel pouch/biop | Y |  | A2 | $333.00 | 8.8486 | $366.34 | $341.34
44388 | Colonoscopy | Y |  | A2 | $333.00 | 8.8486 | $366.34 | $341.34
44389 | Colonoscopy with biopsy | Y |  | A2 | $333.00 | 8.8486 | $366.34 | $341.34
44390 | Colonoscopy for foreign body | Y |  | A2 | $333.00 | 8.8486 | $366.34 | $341.34
44391 | Colonoscopy for bleeding | Y |  | A2 | $333.00 | 8.8486 | $366.34 | $341.34
44392 | Colonoscopy & polypectomy | Y |  | A2 | $333.00 | 8.8486 | $366.34 | $341.34
44393 | Colonoscopy, lesion removal | Y |  | A2 | $333.00 | 8.8486 | $366.34 | $341.34
44394 | Colonoscopy w/snare | Y |  | A2 | $333.00 | 8.8486 | $366.34 | $341.34
44397 | Colonoscopy w/stent | Y |  | A2 | $333.00 | 24.9814 | $1,034.25 | $508.31
44500 | Intro, gastrointestinal tube | Y | CH | G2 |  | 3.2383 | $134.07 | $134.07
44701 | Intraop colon lavage add-on | N |  | N1 |  |  |  |
45000 | Drainage of pelvic abscess | Y |  | A2 | $312.07 | 10.9132 | $451.82 | $347.01
45005 | Drainage of rectal abscess | Y |  | A2 | $446.00 | 10.9132 | $451.82 | $447.46
45020 | Drainage of rectal abscess | Y |  | A2 | $446.00 | 10.9132 | $451.82 | $447.46
45100 | Biopsy of rectum | Y |  | A2 | $333.00 | 22.7451 | $941.67 | $485.17
45108 | Removal of anorectal lesion | Y |  | A2 | $446.00 | 22.7451 | $941.67 | $569.92
45150 | Excision of rectal stricture | Y |  | A2 | $446.00 | 22.7451 | $941.67 | $569.92
45160 | Excision of rectal lesion | Y |  | A2 | $446.00 | 22.7451 | $941.67 | $569.92
45170 | Excision of rectal lesion | Y |  | A2 | $446.00 | 22.7451 | $941.67 | $569.92
45190 | Destruction, rectal tumor | Y |  | A2 | $1,339.00 | 22.7451 | $941.67 | $1,239.67
45300 | Proctosigmoidoscopy dx | Y |  | P3 |  | 1.4318 | $59.28 | $59.28
45303 | Proctosigmoidoscopy dilate | Y |  | P2 |  | 8.7031 | $360.32 | $360.32
45305 | Proctosigmoidoscopy w/bx | Y |  | A2 | $333.00 | 8.7031 | $360.32 | $339.83
45307 | Proctosigmoidoscopy fb | Y |  | A2 | $333.00 | 21.4632 | $888.60 | $471.90
45308 | Proctosigmoidoscopy removal | Y |  | A2 | $333.00 | 8.7031 | $360.32 | $339.83
45309 | Proctosigmoidoscopy removal | Y |  | A2 | $333.00 | 8.7031 | $360.32 | $339.83
45315 | Proctosigmoidoscopy removal | Y |  | A2 | $333.00 | 8.7031 | $360.32 | $339.83
45317 | Proctosigmoidoscopy bleed | Y |  | A2 | $333.00 | 8.7031 | $360.32 | $339.83
45320 | Proctosigmoidoscopy ablate | Y |  | A2 | $333.00 | 21.4632 | $888.60 | $471.90
45321 | Proctosigmoidoscopy volvul | Y |  | A2 | $333.00 | 21.4632 | $888.60 | $471.90
45327 | Proctosigmoidoscopy w/stent | Y |  | A2 | $333.00 | 24.9814 | $1,034.25 | $508.31
45330 | Diagnostic sigmoidoscopy | Y |  | P3 |  | 1.9748 | $81.76 | $81.76
45331 | Sigmoidoscopy and biopsy | Y |  | A2 | $299.24 | 5.0972 | $211.03 | $277.19
45332 | Sigmoidoscopy w/fb removal | Y |  | A2 | $299.24 | 5.0972 | $211.03 | $277.19
45333 | Sigmoidoscopy & polypectomy | Y |  | A2 | $333.00 | 8.7031 | $360.32 | $339.83
45334 | Sigmoidoscopy for bleeding | Y |  | A2 | $333.00 | 8.7031 | $360.32 | $339.83
45335 | Sigmoidoscopy w/submuc inj | Y |  | A2 | $299.24 | 5.0972 | $211.03 | $277.19
45337 | Sigmoidoscopy & decompress | Y |  | A2 | $299.24 | 5.0972 | $211.03 | $277.19
45338 | Sigmoidoscopy w/tumr remove | Y |  | A2 | $333.00 | 8.7031 | $360.32 | $339.83
45339 | Sigmoidoscopy w/ablate tumr | Y |  | A2 | $333.00 | 8.7031 | $360.32 | $339.83
45340 | Sig w/balloon dilation | Y |  | A2 | $333.00 | 8.7031 | $360.32 | $339.83
45341 | Sigmoidoscopy w/ultrasound | Y |  | A2 | $333.00 | 8.7031 | $360.32 | $339.83
45342 | Sigmoidoscopy w/us guide bx | Y |  | A2 | $333.00 | 8.7031 | $360.32 | $339.83
45345 | Sigmoidoscopy w/stent | Y |  | A2 | $333.00 | 24.9814 | $1,034.25 | $508.31
45355 | Surgical colonoscopy | Y |  | A2 | $333.00 | 8.8486 | $366.34 | $341.34
45378 | Diagnostic colonoscopy | Y |  | A2 | $446.00 | 8.8486 | $366.34 | $426.09
45379 | Colonoscopy w/fb removal | Y |  | A2 | $446.00 | 8.8486 | $366.34 | $426.09
45380 | Colonoscopy and biopsy | Y |  | A2 | $446.00 | 8.8486 | $366.34 | $426.09
45381 | Colonoscopy, submucous inj | Y |  | A2 | $446.00 | 8.8486 | $366.34 | $426.09
45382 | Colonoscopy/control bleeding | Y |  | A2 | $446.00 | 8.8486 | $366.34 | $426.09
45383 | Lesion removal colonoscopy | Y |  | A2 | $446.00 | 8.8486 | $366.34 | $426.09
45384 | Lesion remove colonoscopy | Y |  | A2 | $446.00 | 8.8486 | $366.34 | $426.09
45385 | Lesion removal colonoscopy | Y |  | A2 | $446.00 | 8.8486 | $366.34 | $426.09
45386 | Colonoscopy dilate stricture | Y |  | A2 | $446.00 | 8.8486 | $366.34 | $426.09
45387 | Colonoscopy w/stent | Y |  | A2 | $333.00 | 24.9814 | $1,034.25 | $508.31
45391 | Colonoscopy w/endoscope us | Y |  | A2 | $446.00 | 8.8486 | $366.34 | $426.09
45392 | Colonoscopy w/endoscopic fnb | Y |  | A2 | $446.00 | 8.8486 | $366.34 | $426.09
45500 | Repair of rectum | Y |  | A2 | $446.00 | 22.7451 | $941.67 | $569.92
45505 | Repair of rectum | Y |  | A2 | $446.00 | 30.1606 | $1,248.68 | $646.67
45520 | Treatment of rectal prolapse | Y |  | P2 |  | 0.793 | $32.83 | $32.83
45560 | Repair of rectocele | Y |  | A2 | $446.00 | 30.1606 | $1,248.68 | $646.67
45900 | Reduction of rectal prolapse | Y |  | A2 | $312.07 | 4.7935 | $198.46 | $283.67
45905 | Dilation of anal sphincter | Y |  | A2 | $333.00 | 22.7451 | $941.67 | $485.17
45910 | Dilation of rectal narrowing | Y |  | A2 | $333.00 | 22.7451 | $941.67 | $485.17
45915 | Remove rectal obstruction | Y |  | A2 | $312.07 | 10.9132 | $451.82 | $347.01
45990 | Surg dx exam, anorectal | Y |  | A2 | $312.07 | 22.7451 | $941.67 | $469.47
46020 | Placement of seton | Y |  | A2 | $510.00 | 22.7451 | $941.67 | $617.92
46030 | Removal of rectal marker | Y |  | A2 | $312.07 | 4.7935 | $198.46 | $283.67
46040 | Incision of rectal abscess | Y |  | A2 | $510.00 | 22.7451 | $941.67 | $617.92
46045 | Incision of rectal abscess | Y |  | A2 | $446.00 | 22.7451 | $941.67 | $569.92
46050 | Incision of anal abscess | Y |  | A2 | $312.07 | 10.9132 | $451.82 | $347.01
46060 | Incision of rectal abscess | Y |  | A2 | $446.00 | 22.7451 | $941.67 | $569.92
46070 | Incision of anal septum | Y |  | G2 |  | 10.9132 | $451.82 | $451.82
46080 | Incision of anal sphincter | Y |  | A2 | $510.00 | 22.7451 | $941.67 | $617.92
46083 | Incise external hemorrhoid | Y |  | P2 |  | 2.0077 | $83.12 | $83.12
46200 | Removal of anal fissure | Y |  | A2 | $446.00 | 22.7451 | $941.67 | $569.92
46210 | Removal of anal crypt | Y |  | A2 | $446.00 | 22.7451 | $941.67 | $569.92
46211 | Removal of anal crypts | Y |  | A2 | $446.00 | 22.7451 | $941.67 | $569.92
46220 | Removal of anal tag | Y |  | A2 | $333.00 | 22.7451 | $941.67 | $485.17
46221 | Ligation of hemorrhoid(s) | Y |  | P3 |  | 2.6251 | $108.68 | $108.68
46230 | Removal of anal tags | Y |  | A2 | $333.00 | 22.7451 | $941.67 | $485.17
46250 | Hemorrhoidectomy | Y |  | A2 | $510.00 | 22.7451 | $941.67 | $617.92
46255 | Hemorrhoidectomy | Y |  | A2 | $510.00 | 22.7451 | $941.67 | $617.92
46257 | Remove hemorrhoids & fissure | Y |  | A2 | $510.00 | 22.7451 | $941.67 | $617.92
46258 | Remove hemorrhoids & fistula | Y |  | A2 | $510.00 | 22.7451 | $941.67 | $617.92
46260 | Hemorrhoidectomy | Y |  | A2 | $510.00 | 22.7451 | $941.67 | $617.92
46261 | Remove hemorrhoids & fissure | Y |  | A2 | $630.00 | 22.7451 | $941.67 | $707.92
46262 | Remove hemorrhoids & fistula | Y |  | A2 | $630.00 | 22.7451 | $941.67 | $707.92
46270 | Removal of anal fistula | Y |  | A2 | $510.00 | 22.7451 | $941.67 | $617.92
46275 | Removal of anal fistula | Y |  | A2 | $510.00 | 22.7451 | $941.67 | $617.92
46280 | Removal of anal fistula | Y |  | A2 | $630.00 | 22.7451 | $941.67 | $707.92
46285 | Removal of anal fistula | Y |  | A2 | $333.00 | 22.7451 | $941.67 | $485.17
46288 | Repair anal fistula | Y |  | A2 | $630.00 | 22.7451 | $941.67 | $707.92
46320 | Removal of hemorrhoid clot | Y |  | P3 |  | 1.8678 | $77.33 | $77.33
46500 | Injection into hemorrhoid(s) | Y |  | P3 |  | 2.3536 | $97.44 | $97.44
46505 | Chemodenervation anal musc | Y |  | G2 |  | 4.7935 | $198.46 | $198.46
46600 | Diagnostic anoscopy | N |  | P2 |  | 0.631 | $26.12 | $26.12
46604 | Anoscopy and dilation | Y |  | P2 |  | 8.7031 | $360.32 | $360.32
46606 | Anoscopy and biopsy | Y |  | P3 |  | 3.1516 | $130.48 | $130.48
46608 | Anoscopy, remove for body | Y |  | A2 | $333.00 | 8.7031 | $360.32 | $339.83
46610 | Anoscopy, remove lesion | Y |  | A2 | $333.00 | 21.4632 | $888.60 | $471.90
46611 | Anoscopy | Y |  | A2 | $333.00 | 8.7031 | $360.32 | $339.83
46612 | Anoscopy, remove lesions | Y |  | A2 | $333.00 | 21.4632 | $888.60 | $471.90
46614 | Anoscopy, control bleeding | Y |  | P3 |  | 1.7529 | $72.57 | $72.57
46615 | Anoscopy | Y |  | A2 | $446.00 | 21.4632 | $888.60 | $556.65
46700 | Repair of anal stricture | Y |  | A2 | $510.00 | 22.7451 | $941.67 | $617.92
46706 | Repr of anal fistula w/glue | Y |  | A2 | $333.00 | 30.1606 | $1,248.68 | $561.92
46750 | Repair of anal sphincter | Y |  | A2 | $510.00 | 30.1606 | $1,248.68 | $694.67
46753 | Reconstruction of anus | Y |  | A2 | $510.00 | 22.7451 | $941.67 | $617.92
46754 | Removal of suture from anus | Y |  | A2 | $446.00 | 22.7451 | $941.67 | $569.92
46760 | Repair of anal sphincter | Y |  | A2 | $446.00 | 30.1606 | $1,248.68 | $646.67
46761 | Repair of anal sphincter | Y |  | A2 | $510.00 | 30.1606 | $1,248.68 | $694.67
46762 | Implant artificial sphincter | Y |  | A2 | $995.00 | 30.1606 | $1,248.68 | $1,058.42
46900 | Destruction, anal lesion(s) | Y |  | P3 |  | 2.5673 | $106.29 | $106.29
46910 | Destruction, anal lesion(s) | Y |  | P3 |  | 2.7895 | $115.49 | $115.49
46916 | Cryosurgery, anal lesion(s) | Y |  | P2 |  | 1.4595 | $60.42 | $60.42
46917 | Laser surgery, anal lesions | Y |  | A2 | $333.00 | 19.9041 | $824.05 | $455.76
46922 | Excision of anal lesion(s) | Y |  | A2 | $333.00 | 19.9041 | $824.05 | $455.76
46924 | Destruction, anal lesion(s) | Y |  | A2 | $333.00 | 19.9041 | $824.05 | $455.76
46934 | Destruction of hemorrhoids | Y |  | P3 |  | 4.3777 | $181.24 | $181.24
46935 | Destruction of hemorrhoids | Y |  | P3 |  | 3.0118 | $124.69 | $124.69
46936 | Destruction of hemorrhoids | Y |  | P3 |  | 4.5753 | $189.42 | $189.42
46937 | Cryotherapy of rectal lesion | Y |  | A2 | $446.00 | 22.7451 | $941.67 | $569.92
46938 | Cryotherapy of rectal lesion | Y |  | A2 | $446.00 | 30.1606 | $1,248.68 | $646.67
46940 | Treatment of anal fissure | Y |  | P3 |  | 1.9915 | $82.45 | $82.45
46942 | Treatment of anal fissure | Y |  | P3 |  | 1.9091 | $79.04 | $79.04
46945 | Ligation of hemorrhoids | Y |  | P3 |  | 3.3161 | $137.29 | $137.29
46946 | Ligation of hemorrhoids | Y |  | A2 | $333.00 | 10.9132 | $451.82 | $362.71
46947 | Hemorrhoidopexy by stapling | Y |  | A2 | $995.00 | 30.1606 | $1,248.68 | $1,058.42
47000 | Needle biopsy of liver | Y |  | A2 | $333.00 | 9.3354 | $386.49 | $346.37
47001 | Needle biopsy, liver add-on | N |  | N1 |  |  |  |
47382 | Percut ablate liver rf | Y |  | G2 |  | 42.998 | $1,780.16 | $1,780.16
47500 | Injection for liver x-rays | N |  | N1 |  |  |  |
47505 | Injection for liver x-rays | N |  | N1 |  |  |  |
47510 | Insert catheter, bile duct | Y |  | A2 | $446.00 | 28.6884 | $1,187.73 | $631.43
47511 | Insert bile duct drain | Y |  | A2 | $1,245.85 | 28.6884 | $1,187.73 | $1,231.32
47525 | Change bile duct catheter | Y |  | A2 | $333.00 | 15.3545 | $635.69 | $408.67
47530 | Revise/reinsert bile tube | Y |  | A2 | $333.00 | 15.3545 | $635.69 | $408.67
47552 | Biliary endoscopy thru skin | Y |  | A2 | $446.00 | 28.6884 | $1,187.73 | $631.43
47553 | Biliary endoscopy thru skin | Y |  | A2 | $510.00 | 28.6884 | $1,187.73 | $679.43
47554 | Biliary endoscopy thru skin | Y |  | A2 | $510.00 | 28.6884 | $1,187.73 | $679.43
47555 | Biliary endoscopy thru skin | Y |  | A2 | $510.00 | 28.6884 | $1,187.73 | $679.43
47556 | Biliary endoscopy thru skin | Y |  | A2 | $1,245.85 | 28.6884 | $1,187.73 | $1,231.32
47560 | Laparoscopy w/cholangio | Y |  | A2 | $510.00 | 34.3958 | $1,424.02 | $738.51
47561 | Laparo w/cholangio/biopsy | Y |  | A2 | $510.00 | 34.3958 | $1,424.02 | $738.51
47562 | Laparoscopic cholecystectomy | Y |  | G2 |  | 45.5317 | $1,885.06 | $1,885.06
47563 | Laparo cholecystectomy/graph | Y |  | G2 |  | 45.5317 | $1,885.06 | $1,885.06
47564 | Laparo cholecystectomy/explr | Y |  | G2 |  | 45.5317 | $1,885.06 | $1,885.06
47630 | Remove bile duct stone | Y |  | A2 | $510.00 | 28.6884 | $1,187.73 | $679.43
48102 | Needle biopsy, pancreas | Y |  | A2 | $333.00 | 9.3354 | $386.49 | $346.37
49080 | Puncture, peritoneal cavity | Y |  | A2 | $222.78 | 5.2024 | $215.38 | $220.93
49081 | Removal of abdominal fluid | Y |  | A2 | $222.78 | 5.2024 | $215.38 | $220.93
49180 | Biopsy, abdominal mass | Y |  | A2 | $333.00 | 9.3354 | $386.49 | $346.37
49250 | Excision of umbilicus | Y |  | A2 | $630.00 | 25.6947 | $1,063.79 | $738.45
49320 | Diag laparo separate proc | Y |  | A2 | $510.00 | 34.3958 | $1,424.02 | $738.51
49321 | Laparoscopy, biopsy | Y |  | A2 | $630.00 | 34.3958 | $1,424.02 | $828.51
49322 | Laparoscopy, aspiration | Y |  | A2 | $630.00 | 34.3958 | $1,424.02 | $828.51
49400 | Air injection into abdomen | N |  | N1 |  |  |  |
49402 | Remove foreign body, adbomen | Y |  | A2 | $446.00 | 25.6947 | $1,063.79 | $600.45
49419 | Insrt abdom cath for chemotx | Y |  | A2 | $333.00 | 29.6965 | $1,229.46 | $557.12
49420 | Insert abdom drain, temp | Y |  | A2 | $333.00 | 30.7096 | $1,271.41 | $567.60
49421 | Insert abdom drain, perm | Y |  | A2 | $333.00 | 30.7096 | $1,271.41 | $567.60
49422 | Remove perm cannula/catheter | Y |  | A2 | $333.00 | 23.9802 | $992.80 | $497.95
49423 | Exchange drainage catheter | Y |  | G2 |  | 15.3545 | $635.69 | $635.69
49424 | Assess cyst, contrast inject | N |  | N1 |  |  |  |
49426 | Revise abdomen-venous shunt | Y |  | A2 | $446.00 | 25.6947 | $1,063.79 | $600.45
49427 | Injection, abdominal shunt | N |  | N1 |  |  |  |
49429 | Removal of shunt | Y |  | G2 |  | 23.9802 | $992.80 | $992.80
49440 | Place gastrostomy tube perc | Y | NI | G2 |  | 8.503 | $352.03 | $352.03
49441 | Place duod/jej tube perc | Y | NI | G2 |  | 8.503 | $352.03 | $352.03
49446 | Change g-tube to g-j perc | Y | NI | G2 |  | 8.503 | $352.03 | $352.03
49450 | Replace g/c tube perc | Y | NI | G2 |  | 3.2383 | $134.07 | $134.07
49451 | Replace duod/jej tube perc | Y | NI | G2 |  | 3.2383 | $134.07 | $134.07
49452 | Replace g-j tube perc | Y | NI | G2 |  | 3.2383 | $134.07 | $134.07
49460 | Fix g/colon tube w/device | Y | NI | G2 |  | 3.2383 | $134.07 | $134.07
49465 | Fluoro exam of g/colon tube | N | NI | N1 |  |  |  |
49495 | Rpr ing hernia baby, reduc | Y |  | A2 | $630.00 | 30.6788 | $1,270.13 | $790.03
49496 | Rpr ing hernia baby, blocked | Y |  | A2 | $630.00 | 30.6788 | $1,270.13 | $790.03
49500 | Rpr ing hernia, init, reduce | Y |  | A2 | $630.00 | 30.6788 | $1,270.13 | $790.03
49501 | Rpr ing hernia, init blocked | Y |  | A2 | $1,339.00 | 30.6788 | $1,270.13 | $1,321.78
49505 | Prp i/hern init reduc >5 yr | Y |  | A2 | $630.00 | 30.6788 | $1,270.13 | $790.03
49507 | Prp i/hern init block >5 yr | Y |  | A2 | $1,339.00 | 30.6788 | $1,270.13 | $1,321.78
49520 | Rerepair ing hernia, reduce | Y |  | A2 | $995.00 | 30.6788 | $1,270.13 | $1,063.78
49521 | Rerepair ing hernia, blocked | Y |  | A2 | $1,339.00 | 30.6788 | $1,270.13 | $1,321.78
49525 | Repair ing hernia, sliding | Y |  | A2 | $630.00 | 30.6788 | $1,270.13 | $790.03
49540 | Repair lumbar hernia | Y |  | A2 | $446.00 | 30.6788 | $1,270.13 | $652.03
49550 | Rpr rem hernia, init, reduce | Y |  | A2 | $717.00 | 30.6788 | $1,270.13 | $855.28
49553 | Rpr fem hernia, init blocked | Y |  | A2 | $1,339.00 | 30.6788 | $1,270.13 | $1,321.78
49555 | Rerepair fem hernia, reduce | Y |  | A2 | $717.00 | 30.6788 | $1,270.13 | $855.28
49557 | Rerepair fem hernia, blocked | Y |  | A2 | $1,339.00 | 30.6788 | $1,270.13 | $1,321.78
49560 | Rpr ventral hern init, reduc | Y |  | A2 | $630.00 | 30.6788 | $1,270.13 | $790.03
49561 | Rpr ventral hern init, block | Y |  | A2 | $1,339.00 | 30.6788 | $1,270.13 | $1,321.78
49565 | Rerepair ventrl hern, reduce | Y |  | A2 | $630.00 | 30.6788 | $1,270.13 | $790.03
49566 | Rerepair ventrl hern, block | Y |  | A2 | $1,339.00 | 30.6788 | $1,270.13 | $1,321.78
49568 | Hernia repair w/mesh | Y |  | A2 | $995.00 | 30.6788 | $1,270.13 | $1,063.78
49570 | Rpr epigastric hern, reduce | Y |  | A2 | $630.00 | 30.6788 | $1,270.13 | $790.03
49572 | Rpr epigastric hern, blocked | Y |  | A2 | $1,339.00 | 30.6788 | $1,270.13 | $1,321.78
49580 | Rpr umbil hern, reduc < 5 yr | Y |  | A2 | $630.00 | 30.6788 | $1,270.13 | $790.03
49582 | Rpr umbil hern, block < 5 yr | Y |  | A2 | $1,339.00 | 30.6788 | $1,270.13 | $1,321.78
49585 | Rpr umbil hern, reduc > 5 yr | Y |  | A2 | $630.00 | 30.6788 | $1,270.13 | $790.03
49587 | Rpr umbil hern, block > 5 yr | Y |  | A2 | $1,339.00 | 30.6788 | $1,270.13 | $1,321.78
49590 | Repair spigelian hernia | Y |  | A2 | $510.00 | 30.6788 | $1,270.13 | $700.03
49600 | Repair umbilical lesion | Y |  | A2 | $630.00 | 30.6788 | $1,270.13 | $790.03
49650 | Laparo hernia repair initial | Y |  | A2 | $630.00 | 45.5317 | $1,885.06 | $943.77
49651 | Laparo hernia repair recur | Y |  | A2 | $995.00 | 45.5317 | $1,885.06 | $1,217.52
50200 | Biopsy of kidney | Y |  | A2 | $333.00 | 9.3354 | $386.49 | $346.37
50382 | Change ureter stent, percut | Y |  | G2 |  | 24.7749 | $1,025.71 | $1,025.71
50384 | Remove ureter stent, percut | Y |  | G2 |  | 17.942 | $742.82 | $742.82
50385 | Change stent via transureth | Y | NI | G2 |  | 17.942 | $742.82 | $742.82
50386 | Remove stent via transureth | Y | NI | G2 |  | 5.9735 | $247.31 | $247.31
50387 | Change ext/int ureter stent | Y |  | G2 |  | 15.3545 | $635.69 | $635.69
50389 | Remove renal tube w/fluoro | Y |  | G2 |  | 5.9735 | $247.31 | $247.31
50390 | Drainage of kidney lesion | Y |  | A2 | $333.00 | 9.3354 | $386.49 | $346.37
50391 | Instll rx agnt into rnal tub | Y |  | P2 |  | 1.0356 | $42.87 | $42.87
50392 | Insert kidney drain | Y |  | A2 | $333.00 | 17.942 | $742.82 | $435.46
50393 | Insert ureteral tube | Y |  | A2 | $333.00 | 24.7749 | $1,025.71 | $506.18
50394 | Injection for kidney x-ray | N |  | N1 |  |  |  |
50395 | Create passage to kidney | Y |  | A2 | $333.00 | 17.942 | $742.82 | $435.46
50396 | Measure kidney pressure | Y |  | A2 | $131.50 | 2.0077 | $83.12 | $119.41
50398 | Change kidney tube | Y |  | A2 | $333.00 | 15.3545 | $635.69 | $408.67
50551 | Kidney endoscopy | Y |  | A2 | $333.00 | 5.9735 | $247.31 | $311.58
50553 | Kidney endoscopy | Y |  | A2 | $333.00 | 24.7749 | $1,025.71 | $506.18
50555 | Kidney endoscopy & biopsy | Y |  | A2 | $333.00 | 5.9735 | $247.31 | $311.58
50557 | Kidney endoscopy & treatment | Y |  | A2 | $333.00 | 24.7749 | $1,025.71 | $506.18
50561 | Kidney endoscopy & treatment | Y |  | A2 | $333.00 | 24.7749 | $1,025.71 | $506.18
50562 | Renal scope w/tumor resect | Y |  | G2 |  | 5.9735 | $247.31 | $247.31
50570 | Kidney endoscopy | Y |  | G2 |  | 5.9735 | $247.31 | $247.31
50572 | Kidney endoscopy | Y |  | G2 |  | 5.9735 | $247.31 | $247.31
50574 | Kidney endoscopy & biopsy | Y |  | G2 |  | 5.9735 | $247.31 | $247.31
50575 | Kidney endoscopy | Y |  | G2 |  | 36.0774 | $1,493.64 | $1,493.64
50576 | Kidney endoscopy & treatment | Y |  | G2 |  | 17.942 | $742.82 | $742.82
50580 | Kidney endoscopy & treatment | Y | CH | G2 |  | 17.942 | $742.82 | $742.82
50590 | Fragmenting of kidney stone | Y |  | G2 |  | 41.5299 | $1,719.38 | $1,719.38
50592 | Perc rf ablate renal tumor | Y |  | G2 |  | 42.998 | $1,780.16 | $1,780.16
50684 | Injection for ureter x-ray | N |  | N1 |  |  |  |
50686 | Measure ureter pressure | Y |  | P2 |  | 1.0356 | $42.87 | $42.87
50688 | Change of ureter tube/stent | Y |  | A2 | $333.00 | 15.3545 | $635.69 | $408.67
50690 | Injection for ureter x-ray | N |  | N1 |  |  |  |
50947 | Laparo new ureter/bladder | Y |  | A2 | $1,339.00 | 45.5317 | $1,885.06 | $1,475.52
50948 | Laparo new ureter/bladder | Y |  | A2 | $1,339.00 | 45.5317 | $1,885.06 | $1,475.52
50951 | Endoscopy of ureter | Y |  | A2 | $333.00 | 5.9735 | $247.31 | $311.58
50953 | Endoscopy of ureter | Y |  | A2 | $333.00 | 5.9735 | $247.31 | $311.58
50955 | Ureter endoscopy & biopsy | Y |  | A2 | $333.00 | 24.7749 | $1,025.71 | $506.18
50957 | Ureter endoscopy & treatment | Y |  | A2 | $333.00 | 24.7749 | $1,025.71 | $506.18
50961 | Ureter endoscopy & treatment | Y |  | A2 | $333.00 | 24.7749 | $1,025.71 | $506.18
50970 | Ureter endoscopy | Y |  | A2 | $333.00 | 5.9735 | $247.31 | $311.58
50972 | Ureter endoscopy & catheter | Y |  | A2 | $333.00 | 5.9735 | $247.31 | $311.58
50974 | Ureter endoscopy & biopsy | Y |  | A2 | $333.00 | 17.942 | $742.82 | $435.46
50976 | Ureter endoscopy & treatment | Y |  | A2 | $333.00 | 17.942 | $742.82 | $435.46
50980 | Ureter endoscopy & treatment | Y |  | A2 | $333.00 | 24.7749 | $1,025.71 | $506.18
51000 | Drainage of bladder | N | CH | D5 |  |  |  |
51005 | Drainage of bladder | N | CH | D5 |  |  |  |
51010 | Drainage of bladder | N | CH | D5 |  |  |  |
51020 | Incise & treat bladder | Y |  | A2 | $630.00 | 24.7749 | $1,025.71 | $728.93
51030 | Incise & treat bladder | Y |  | A2 | $630.00 | 24.7749 | $1,025.71 | $728.93
51040 | Incise & drain bladder | Y |  | A2 | $630.00 | 24.7749 | $1,025.71 | $728.93
51045 | Incise bladder/drain ureter | Y |  | A2 | $399.24 | 5.9735 | $247.31 | $361.26
51050 | Removal of bladder stone | Y |  | A2 | $630.00 | 24.7749 | $1,025.71 | $728.93
51065 | Remove ureter calculus | Y |  | A2 | $630.00 | 24.7749 | $1,025.71 | $728.93
51080 | Drainage of bladder abscess | Y |  | A2 | $333.00 | 18.3197 | $758.45 | $439.36
51100 | Drain bladder by needle | Y | NI | P3 |  | 0.757 | $31.34 | $31.34
51101 | Drain bladder by trocar/cath | Y | NI | P2 |  | 1.0356 | $42.87 | $42.87
51102 | Drain bl w/cath insertion | Y | NI | A2 | $333.00 | 19.3414 | $800.75 | $449.94
51500 | Removal of bladder cyst | Y |  | A2 | $630.00 | 30.6788 | $1,270.13 | $790.03
51520 | Removal of bladder lesion | Y |  | A2 | $630.00 | 24.7749 | $1,025.71 | $728.93
51600 | Injection for bladder x-ray | N |  | N1 |  |  |  |
51605 | Preparation for bladder xray | N |  | N1 |  |  |  |
51610 | Injection for bladder x-ray | N |  | N1 |  |  |  |
51700 | Irrigation of bladder | Y |  | P3 |  | 1.2756 | $52.81 | $52.81
51701 | Insert bladder catheter | N |  | P2 |  | 0.631 | $26.12 | $26.12
51702 | Insert temp bladder cath | N |  | P2 |  | 0.631 | $26.12 | $26.12
51703 | Insert bladder cath, complex | Y |  | P2 |  | 1.0356 | $42.87 | $42.87
51705 | Change of bladder tube | Y |  | P3 |  | 1.7693 | $73.25 | $73.25
51710 | Change of bladder tube | Y |  | A2 | $333.00 | 15.3545 | $635.69 | $408.67
51715 | Endoscopic injection/implant | Y |  | A2 | $510.00 | 29.7864 | $1,233.19 | $690.80
51720 | Treatment of bladder lesion | Y |  | P3 |  | 1.3823 | $57.23 | $57.23
51725 | Simple cystometrogram | Y |  | P2 |  | 3.0469 | $126.14 | $126.14
51726 | Complex cystometrogram | Y |  | A2 | $209.48 | 3.0469 | $126.14 | $188.65
51736 | Urine flow measurement | Y |  | P3 |  | 0.4444 | $18.40 | $18.40
51741 | Electro-uroflowmetry, first | Y |  | P3 |  | 0.5101 | $21.12 | $21.12
51772 | Urethra pressure profile | Y |  | A2 | $131.50 | 2.0077 | $83.12 | $119.41
51784 | Anal/urinary muscle study | Y |  | P2 |  | 1.0356 | $42.87 | $42.87
51785 | Anal/urinary muscle study | Y |  | A2 | $66.92 | 2.0077 | $83.12 | $70.97
51792 | Urinary reflex study | Y |  | P2 |  | 1.0356 | $42.87 | $42.87
51795 | Urine voiding pressure study | Y |  | P2 |  | 2.0077 | $83.12 | $83.12
51797 | Intraabdominal pressure test | Y |  | P2 |  | 2.0077 | $83.12 | $83.12
51798 | Us urine capacity measure | N |  | P3 |  | 0.3867 | $16.01 | $16.01
51880 | Repair of bladder opening | Y |  | A2 | $333.00 | 24.7749 | $1,025.71 | $506.18
51992 | Laparo sling operation | Y |  | A2 | $717.00 | 45.5317 | $1,885.06 | $1,009.02
52000 | Cystoscopy | Y |  | A2 | $333.00 | 5.9735 | $247.31 | $311.58
52001 | Cystoscopy, removal of clots | Y |  | A2 | $399.24 | 17.942 | $742.82 | $485.14
52005 | Cystoscopy & ureter catheter | Y |  | A2 | $446.00 | 17.942 | $742.82 | $520.21
52007 | Cystoscopy and biopsy | Y |  | A2 | $446.00 | 24.7749 | $1,025.71 | $590.93
52010 | Cystoscopy & duct catheter | Y |  | A2 | $399.24 | 5.9735 | $247.31 | $361.26
52204 | Cystoscopy w/biopsy(s) | Y |  | A2 | $446.00 | 17.942 | $742.82 | $520.21
52214 | Cystoscopy and treatment | Y |  | A2 | $446.00 | 24.7749 | $1,025.71 | $590.93
52224 | Cystoscopy and treatment | Y |  | A2 | $446.00 | 24.7749 | $1,025.71 | $590.93
52234 | Cystoscopy and treatment | Y |  | A2 | $446.00 | 24.7749 | $1,025.71 | $590.93
52235 | Cystoscopy and treatment | Y |  | A2 | $510.00 | 24.7749 | $1,025.71 | $638.93
52240 | Cystoscopy and treatment | Y |  | A2 | $510.00 | 24.7749 | $1,025.71 | $638.93
52250 | Cystoscopy and radiotracer | Y |  | A2 | $630.00 | 24.7749 | $1,025.71 | $728.93
52260 | Cystoscopy and treatment | Y |  | A2 | $446.00 | 17.942 | $742.82 | $520.21
52265 | Cystoscopy and treatment | Y |  | P2 |  | 5.9735 | $247.31 | $247.31
52270 | Cystoscopy & revise urethra | Y |  | A2 | $446.00 | 17.942 | $742.82 | $520.21
52275 | Cystoscopy & revise urethra | Y |  | A2 | $446.00 | 24.7749 | $1,025.71 | $590.93
52276 | Cystoscopy and treatment | Y |  | A2 | $510.00 | 24.7749 | $1,025.71 | $638.93
52277 | Cystoscopy and treatment | Y |  | A2 | $446.00 | 24.7749 | $1,025.71 | $590.93
52281 | Cystoscopy and treatment | Y |  | A2 | $446.00 | 17.942 | $742.82 | $520.21
52282 | Cystoscopy, implant stent | Y |  | A2 | $1,339.00 | 36.0774 | $1,493.64 | $1,377.66
52283 | Cystoscopy and treatment | Y |  | A2 | $446.00 | 24.7749 | $1,025.71 | $590.93
52285 | Cystoscopy and treatment | Y |  | A2 | $446.00 | 17.942 | $742.82 | $520.21
52290 | Cystoscopy and treatment | Y |  | A2 | $446.00 | 17.942 | $742.82 | $520.21
52300 | Cystoscopy and treatment | Y |  | A2 | $446.00 | 24.7749 | $1,025.71 | $590.93
52301 | Cystoscopy and treatment | Y |  | A2 | $510.00 | 24.7749 | $1,025.71 | $638.93
52305 | Cystoscopy and treatment | Y |  | A2 | $446.00 | 24.7749 | $1,025.71 | $590.93
52310 | Cystoscopy and treatment | Y |  | A2 | $399.24 | 17.942 | $742.82 | $485.14
52315 | Cystoscopy and treatment | Y |  | A2 | $446.00 | 24.7749 | $1,025.71 | $590.93
52317 | Remove bladder stone | Y |  | A2 | $333.00 | 24.7749 | $1,025.71 | $506.18
52318 | Remove bladder stone | Y |  | A2 | $446.00 | 24.7749 | $1,025.71 | $590.93
52320 | Cystoscopy and treatment | Y |  | A2 | $717.00 | 24.7749 | $1,025.71 | $794.18
52325 | Cystoscopy, stone removal | Y |  | A2 | $630.00 | 24.7749 | $1,025.71 | $728.93
52327 | Cystoscopy, inject material | Y |  | A2 | $446.00 | 24.7749 | $1,025.71 | $590.93
52330 | Cystoscopy and treatment | Y |  | A2 | $446.00 | 24.7749 | $1,025.71 | $590.93
52332 | Cystoscopy and treatment | Y |  | A2 | $446.00 | 24.7749 | $1,025.71 | $590.93
52334 | Create passage to kidney | Y |  | A2 | $510.00 | 24.7749 | $1,025.71 | $638.93
52341 | Cysto w/ureter stricture tx | Y |  | A2 | $510.00 | 24.7749 | $1,025.71 | $638.93
52342 | Cysto w/up stricture tx | Y |  | A2 | $510.00 | 24.7749 | $1,025.71 | $638.93
52343 | Cysto w/renal stricture tx | Y |  | A2 | $510.00 | 24.7749 | $1,025.71 | $638.93
52344 | Cysto/uretero, stricture tx | Y |  | A2 | $510.00 | 24.7749 | $1,025.71 | $638.93
52345 | Cysto/uretero w/up stricture | Y |  | A2 | $510.00 | 24.7749 | $1,025.71 | $638.93
52346 | Cystouretero w/renal strict | Y |  | A2 | $510.00 | 24.7749 | $1,025.71 | $638.93
52351 | Cystouretero & or pyeloscope | Y |  | A2 | $510.00 | 24.7749 | $1,025.71 | $638.93
52352 | Cystouretero w/stone remove | Y |  | A2 | $630.00 | 24.7749 | $1,025.71 | $728.93
52353 | Cystouretero w/lithotripsy | Y |  | A2 | $630.00 | 36.0774 | $1,493.64 | $845.91
52354 | Cystouretero w/biopsy | Y |  | A2 | $630.00 | 24.7749 | $1,025.71 | $728.93
52355 | Cystouretero w/excise tumor | Y |  | A2 | $630.00 | 24.7749 | $1,025.71 | $728.93
52400 | Cystouretero w/congen repr | Y |  | A2 | $510.00 | 24.7749 | $1,025.71 | $638.93
52402 | Cystourethro cut ejacul duct | Y |  | A2 | $510.00 | 24.7749 | $1,025.71 | $638.93
52450 | Incision of prostate | Y |  | A2 | $510.00 | 24.7749 | $1,025.71 | $638.93
52500 | Revision of bladder neck | Y |  | A2 | $510.00 | 24.7749 | $1,025.71 | $638.93
52510 | Dilation prostatic urethra | N | CH | D5 |  |  |  |
52601 | Prostatectomy (turp) | Y |  | A2 | $630.00 | 36.0774 | $1,493.64 | $845.91
52606 | Control postop bleeding | Y |  | A2 | $333.00 | 24.7749 | $1,025.71 | $506.18
52612 | Prostatectomy, first stage | Y |  | A2 | $446.00 | 36.0774 | $1,493.64 | $707.91
52614 | Prostatectomy, second stage | Y |  | A2 | $333.00 | 36.0774 | $1,493.64 | $623.16
52620 | Remove residual prostate | Y |  | A2 | $333.00 | 36.0774 | $1,493.64 | $623.16
52630 | Remove prostate regrowth | Y |  | A2 | $446.00 | 36.0774 | $1,493.64 | $707.91
52640 | Relieve bladder contracture | Y |  | A2 | $446.00 | 24.7749 | $1,025.71 | $590.93
52647 | Laser surgery of prostate | Y |  | A2 | $1,339.00 | 45.2042 | $1,871.50 | $1,472.13
52648 | Laser surgery of prostate | Y |  | A2 | $1,339.00 | 45.2042 | $1,871.50 | $1,472.13
52700 | Drainage of prostate abscess | Y |  | A2 | $446.00 | 24.7749 | $1,025.71 | $590.93
53000 | Incision of urethra | Y |  | A2 | $333.00 | 19.1505 | $792.85 | $447.96
53010 | Incision of urethra | Y |  | A2 | $333.00 | 19.1505 | $792.85 | $447.96
53020 | Incision of urethra | Y |  | A2 | $333.00 | 19.1505 | $792.85 | $447.96
53025 | Incision of urethra | Y |  | R2 |  | 19.1505 | $792.85 | $792.85
53040 | Drainage of urethra abscess | Y |  | A2 | $446.00 | 19.1505 | $792.85 | $532.71
53060 | Drainage of urethra abscess | Y |  | P3 |  | 1.7198 | $71.20 | $71.20
53080 | Drainage of urinary leakage | Y |  | A2 | $510.00 | 19.1505 | $792.85 | $580.71
53085 | Drainage of urinary leakage | Y |  | G2 |  | 19.1505 | $792.85 | $792.85
53200 | Biopsy of urethra | Y |  | A2 | $333.00 | 19.1505 | $792.85 | $447.96
53210 | Removal of urethra | Y |  | A2 | $717.00 | 29.7864 | $1,233.19 | $846.05
53215 | Removal of urethra | Y |  | A2 | $717.00 | 19.1505 | $792.85 | $735.96
53220 | Treatment of urethra lesion | Y |  | A2 | $446.00 | 29.7864 | $1,233.19 | $642.80
53230 | Removal of urethra lesion | Y |  | A2 | $446.00 | 29.7864 | $1,233.19 | $642.80
53235 | Removal of urethra lesion | Y |  | A2 | $510.00 | 19.1505 | $792.85 | $580.71
53240 | Surgery for urethra pouch | Y |  | A2 | $446.00 | 29.7864 | $1,233.19 | $642.80
53250 | Removal of urethra gland | Y |  | A2 | $446.00 | 19.1505 | $792.85 | $532.71
53260 | Treatment of urethra lesion | Y |  | A2 | $446.00 | 19.1505 | $792.85 | $532.71
53265 | Treatment of urethra lesion | Y |  | A2 | $446.00 | 19.1505 | $792.85 | $532.71
53270 | Removal of urethra gland | Y |  | A2 | $446.00 | 19.1505 | $792.85 | $532.71
53275 | Repair of urethra defect | Y |  | A2 | $446.00 | 19.1505 | $792.85 | $532.71
53400 | Revise urethra, stage 1 | Y |  | A2 | $510.00 | 29.7864 | $1,233.19 | $690.80
53405 | Revise urethra, stage 2 | Y |  | A2 | $446.00 | 29.7864 | $1,233.19 | $642.80
53410 | Reconstruction of urethra | Y |  | A2 | $446.00 | 29.7864 | $1,233.19 | $642.80
53420 | Reconstruct urethra, stage 1 | Y |  | A2 | $510.00 | 29.7864 | $1,233.19 | $690.80
53425 | Reconstruct urethra, stage 2 | Y |  | A2 | $446.00 | 29.7864 | $1,233.19 | $642.80
53430 | Reconstruction of urethra | Y |  | A2 | $446.00 | 29.7864 | $1,233.19 | $642.80
53431 | Reconstruct urethra/bladder | Y |  | A2 | $446.00 | 29.7864 | $1,233.19 | $642.80
53440 | Male sling procedure | N | CH | H8 | $446.00 | 106.8568 | $4,423.98 | $3,500.50
53442 | Remove/revise male sling | Y |  | A2 | $333.00 | 29.7864 | $1,233.19 | $558.05
53444 | Insert tandem cuff | N | CH | H8 | $446.00 | 106.8568 | $4,423.98 | $3,500.50
53445 | Insert uro/ves nck sphincter | N |  | H8 | $333.00 | 193.4277 | $8,008.10 | $6,625.75
53446 | Remove uro sphincter | Y |  | A2 | $333.00 | 29.7864 | $1,233.19 | $558.05
53447 | Remove/replace ur sphincter | N |  | H8 | $333.00 | 193.4277 | $8,008.10 | $6,625.75
53449 | Repair uro sphincter | Y |  | A2 | $333.00 | 29.7864 | $1,233.19 | $558.05
53450 | Revision of urethra | Y |  | A2 | $333.00 | 29.7864 | $1,233.19 | $558.05
53460 | Revision of urethra | Y |  | A2 | $333.00 | 19.1505 | $792.85 | $447.96
53502 | Repair of urethra injury | Y |  | A2 | $446.00 | 19.1505 | $792.85 | $532.71
53505 | Repair of urethra injury | Y |  | A2 | $446.00 | 29.7864 | $1,233.19 | $642.80
53510 | Repair of urethra injury | Y |  | A2 | $446.00 | 19.1505 | $792.85 | $532.71
53515 | Repair of urethra injury | Y |  | A2 | $446.00 | 29.7864 | $1,233.19 | $642.80
53520 | Repair of urethra defect | Y |  | A2 | $446.00 | 29.7864 | $1,233.19 | $642.80
53600 | Dilate urethra stricture | Y |  | P3 |  | 0.9381 | $38.84 | $38.84
53601 | Dilate urethra stricture | Y | CH | P2 |  | 1.0356 | $42.87 | $42.87
53605 | Dilate urethra stricture | Y |  | A2 | $446.00 | 17.942 | $742.82 | $520.21
53620 | Dilate urethra stricture | Y |  | P3 |  | 1.5224 | $63.03 | $63.03
53621 | Dilate urethra stricture | Y |  | P3 |  | 1.5963 | $66.09 | $66.09
53660 | Dilation of urethra | Y | CH | P2 |  | 1.0356 | $42.87 | $42.87
53661 | Dilation of urethra | Y | CH | P2 |  | 1.0356 | $42.87 | $42.87
53665 | Dilation of urethra | Y |  | A2 | $333.00 | 19.1505 | $792.85 | $447.96
53850 | Prostatic microwave thermotx | Y |  | P2 |  | 45.2042 | $1,871.50 | $1,871.50
53852 | Prostatic rf thermotx | Y |  | P2 |  | 45.2042 | $1,871.50 | $1,871.50
53853 | Prostatic water thermother | Y |  | P2 |  | 24.7749 | $1,025.71 | $1,025.71
54000 | Slitting of prepuce | Y |  | A2 | $446.00 | 19.1505 | $792.85 | $532.71
54001 | Slitting of prepuce | Y |  | A2 | $446.00 | 19.1505 | $792.85 | $532.71
54015 | Drain penis lesion | Y |  | A2 | $630.00 | 18.3197 | $758.45 | $662.11
54050 | Destruction, penis lesion(s) | Y |  | P2 |  | 1.4595 | $60.42 | $60.42
54055 | Destruction, penis lesion(s) | Y |  | P3 |  | 1.4565 | $60.30 | $60.30
54056 | Cryosurgery, penis lesion(s) | Y |  | P2 |  | 0.793 | $32.83 | $32.83
54057 | Laser surg, penis lesion(s) | Y |  | A2 | $333.00 | 19.9041 | $824.05 | $455.76
54060 | Excision of penis lesion(s) | Y |  | A2 | $333.00 | 19.9041 | $824.05 | $455.76
54065 | Destruction, penis lesion(s) | Y |  | A2 | $333.00 | 19.9041 | $824.05 | $455.76
54100 | Biopsy of penis | Y |  | A2 | $333.00 | 16.1001 | $666.56 | $416.39
54105 | Biopsy of penis | Y |  | A2 | $333.00 | 21.1098 | $873.97 | $468.24
54110 | Treatment of penis lesion | Y |  | A2 | $446.00 | 33.9306 | $1,404.76 | $685.69
54111 | Treat penis lesion, graft | Y |  | A2 | $446.00 | 33.9306 | $1,404.76 | $685.69
54112 | Treat penis lesion, graft | Y |  | A2 | $446.00 | 33.9306 | $1,404.76 | $685.69
54115 | Treatment of penis lesion | Y |  | A2 | $333.00 | 18.3197 | $758.45 | $439.36
54120 | Partial removal of penis | Y |  | A2 | $446.00 | 33.9306 | $1,404.76 | $685.69
54150 | Circumcision w/regionl block | Y |  | A2 | $333.00 | 22.3251 | $924.28 | $480.82
54160 | Circumcision, neonate | Y |  | A2 | $446.00 | 22.3251 | $924.28 | $565.57
54161 | Circum 28 days or older | Y |  | A2 | $446.00 | 22.3251 | $924.28 | $565.57
54162 | Lysis penil circumic lesion | Y |  | A2 | $446.00 | 22.3251 | $924.28 | $565.57
54163 | Repair of circumcision | Y |  | A2 | $446.00 | 22.3251 | $924.28 | $565.57
54164 | Frenulotomy of penis | Y |  | A2 | $446.00 | 22.3251 | $924.28 | $565.57
54200 | Treatment of penis lesion | Y |  | P3 |  | 1.5717 | $65.07 | $65.07
54205 | Treatment of penis lesion | Y |  | A2 | $630.00 | 33.9306 | $1,404.76 | $823.69
54220 | Treatment of penis lesion | Y |  | A2 | $131.50 | 2.0077 | $83.12 | $119.41
54230 | Prepare penis study | N |  | N1 |  |  |  |
54231 | Dynamic cavernosometry | Y |  | P3 |  | 1.3741 | $56.89 | $56.89
54235 | Penile injection | Y |  | P3 |  | 0.9628 | $39.86 | $39.86
54240 | Penis study | Y |  | P3 |  | 0.6667 | $27.60 | $27.60
54250 | Penis study | Y |  | P3 |  | 0.2304 | $9.54 | $9.54
54300 | Revision of penis | Y |  | A2 | $510.00 | 33.9306 | $1,404.76 | $733.69
54304 | Revision of penis | Y |  | A2 | $510.00 | 33.9306 | $1,404.76 | $733.69
54308 | Reconstruction of urethra | Y |  | A2 | $510.00 | 33.9306 | $1,404.76 | $733.69
54312 | Reconstruction of urethra | Y |  | A2 | $510.00 | 33.9306 | $1,404.76 | $733.69
54316 | Reconstruction of urethra | Y |  | A2 | $510.00 | 33.9306 | $1,404.76 | $733.69
54318 | Reconstruction of urethra | Y |  | A2 | $510.00 | 33.9306 | $1,404.76 | $733.69
54322 | Reconstruction of urethra | Y |  | A2 | $510.00 | 33.9306 | $1,404.76 | $733.69
54324 | Reconstruction of urethra | Y |  | A2 | $510.00 | 33.9306 | $1,404.76 | $733.69
54326 | Reconstruction of urethra | Y |  | A2 | $510.00 | 33.9306 | $1,404.76 | $733.69
54328 | Revise penis/urethra | Y |  | A2 | $510.00 | 33.9306 | $1,404.76 | $733.69
54340 | Secondary urethral surgery | Y |  | A2 | $510.00 | 33.9306 | $1,404.76 | $733.69
54344 | Secondary urethral surgery | Y |  | A2 | $510.00 | 33.9306 | $1,404.76 | $733.69
54348 | Secondary urethral surgery | Y |  | A2 | $510.00 | 33.9306 | $1,404.76 | $733.69
54352 | Reconstruct urethra/penis | Y |  | A2 | $510.00 | 33.9306 | $1,404.76 | $733.69
54360 | Penis plastic surgery | Y |  | A2 | $510.00 | 33.9306 | $1,404.76 | $733.69
54380 | Repair penis | Y |  | A2 | $510.00 | 33.9306 | $1,404.76 | $733.69
54385 | Repair penis | Y |  | A2 | $510.00 | 33.9306 | $1,404.76 | $733.69
54400 | Insert semi-rigid prosthesis | N | CH | H8 | $510.00 | 106.8568 | $4,423.98 | $3,548.50
54401 | Insert self-contd prosthesis | N |  | H8 | $510.00 | 193.4277 | $8,008.10 | $6,758.50
54405 | Insert multi-comp penis pros | N |  | H8 | $510.00 | 193.4277 | $8,008.10 | $6,758.50
54406 | Remove muti-comp penis pros | Y |  | A2 | $510.00 | 33.9306 | $1,404.76 | $733.69
54408 | Repair multi-comp penis pros | Y |  | A2 | $510.00 | 33.9306 | $1,404.76 | $733.69
54410 | Remove/replace penis prosth | N |  | H8 | $510.00 | 193.4277 | $8,008.10 | $6,758.50
54415 | Remove self-contd penis pros | Y |  | A2 | $510.00 | 33.9306 | $1,404.76 | $733.69
54416 | Remv/repl penis contain pros | N |  | H8 | $510.00 | 193.4277 | $8,008.10 | $6,758.50
54420 | Revision of penis | Y |  | A2 | $630.00 | 33.9306 | $1,404.76 | $823.69
54435 | Revision of penis | Y |  | A2 | $630.00 | 33.9306 | $1,404.76 | $823.69
54440 | Repair of penis | Y |  | A2 | $630.00 | 33.9306 | $1,404.76 | $823.69
54450 | Preputial stretching | Y |  | A2 | $209.48 | 3.0469 | $126.14 | $188.65
54500 | Biopsy of testis | Y |  | A2 | $333.00 | 13.5764 | $562.08 | $390.27
54505 | Biopsy of testis | Y |  | A2 | $333.00 | 22.3251 | $924.28 | $480.82
54512 | Excise lesion testis | Y |  | A2 | $446.00 | 22.3251 | $924.28 | $565.57
54520 | Removal of testis | Y |  | A2 | $510.00 | 22.3251 | $924.28 | $613.57
54522 | Orchiectomy, partial | Y |  | A2 | $510.00 | 22.3251 | $924.28 | $613.57
54530 | Removal of testis | Y |  | A2 | $630.00 | 30.6788 | $1,270.13 | $790.03
54550 | Exploration for testis | Y |  | A2 | $630.00 | 30.6788 | $1,270.13 | $790.03
54560 | Exploration for testis | Y |  | G2 |  | 22.3251 | $924.28 | $924.28
54600 | Reduce testis torsion | Y |  | A2 | $630.00 | 22.3251 | $924.28 | $703.57
54620 | Suspension of testis | Y |  | A2 | $510.00 | 22.3251 | $924.28 | $613.57
54640 | Suspension of testis | Y |  | A2 | $630.00 | 30.6788 | $1,270.13 | $790.03
54660 | Revision of testis | Y |  | A2 | $446.00 | 22.3251 | $924.28 | $565.57
54670 | Repair testis injury | Y |  | A2 | $510.00 | 22.3251 | $924.28 | $613.57
54680 | Relocation of testis(es) | Y |  | A2 | $510.00 | 22.3251 | $924.28 | $613.57
54690 | Laparoscopy, orchiectomy | Y |  | A2 | $1,339.00 | 45.5317 | $1,885.06 | $1,475.52
54692 | Laparoscopy, orchiopexy | Y |  | G2 |  | 69.6652 | $2,884.21 | $2,884.21
54700 | Drainage of scrotum | Y |  | A2 | $446.00 | 22.3251 | $924.28 | $565.57
54800 | Biopsy of epididymis | Y |  | A2 | $127.16 | 4.327 | $179.14 | $140.16
54830 | Remove epididymis lesion | Y |  | A2 | $510.00 | 22.3251 | $924.28 | $613.57
54840 | Remove epididymis lesion | Y |  | A2 | $630.00 | 22.3251 | $924.28 | $703.57
54860 | Removal of epididymis | Y |  | A2 | $510.00 | 22.3251 | $924.28 | $613.57
54861 | Removal of epididymis | Y |  | A2 | $630.00 | 22.3251 | $924.28 | $703.57
54865 | Explore epididymis | Y |  | A2 | $333.00 | 22.3251 | $924.28 | $480.82
54900 | Fusion of spermatic ducts | Y |  | A2 | $630.00 | 22.3251 | $924.28 | $703.57
54901 | Fusion of spermatic ducts | Y |  | A2 | $630.00 | 22.3251 | $924.28 | $703.57
55000 | Drainage of hydrocele | Y |  | P3 |  | 1.6128 | $66.77 | $66.77
55040 | Removal of hydrocele | Y |  | A2 | $510.00 | 30.6788 | $1,270.13 | $700.03
55041 | Removal of hydroceles | Y |  | A2 | $717.00 | 30.6788 | $1,270.13 | $855.28
55060 | Repair of hydrocele | Y |  | A2 | $630.00 | 22.3251 | $924.28 | $703.57
55100 | Drainage of scrotum abscess | Y |  | A2 | $333.00 | 11.5594 | $478.57 | $369.39
55110 | Explore scrotum | Y |  | A2 | $446.00 | 22.3251 | $924.28 | $565.57
55120 | Removal of scrotum lesion | Y |  | A2 | $446.00 | 22.3251 | $924.28 | $565.57
55150 | Removal of scrotum | Y |  | A2 | $333.00 | 22.3251 | $924.28 | $480.82
55175 | Revision of scrotum | Y |  | A2 | $333.00 | 22.3251 | $924.28 | $480.82
55180 | Revision of scrotum | Y |  | A2 | $446.00 | 22.3251 | $924.28 | $565.57
55200 | Incision of sperm duct | Y |  | A2 | $446.00 | 22.3251 | $924.28 | $565.57
55250 | Removal of sperm duct(s) | Y |  | A2 | $446.00 | 22.3251 | $924.28 | $565.57
55300 | Prepare, sperm duct x-ray | N |  | N1 |  |  |  |
55400 | Repair of sperm duct | Y |  | A2 | $333.00 | 22.3251 | $924.28 | $480.82
55450 | Ligation of sperm duct | Y |  | P3 |  | 5.1264 | $212.24 | $212.24
55500 | Removal of hydrocele | Y |  | A2 | $510.00 | 22.3251 | $924.28 | $613.57
55520 | Removal of sperm cord lesion | Y |  | A2 | $630.00 | 22.3251 | $924.28 | $703.57
55530 | Revise spermatic cord veins | Y |  | A2 | $630.00 | 22.3251 | $924.28 | $703.57
55535 | Revise spermatic cord veins | Y |  | A2 | $630.00 | 30.6788 | $1,270.13 | $790.03
55540 | Revise hernia & sperm veins | Y |  | A2 | $717.00 | 30.6788 | $1,270.13 | $855.28
55550 | Laparo ligate spermatic vein | Y |  | A2 | $1,339.00 | 45.5317 | $1,885.06 | $1,475.52
55600 | Incise sperm duct pouch | Y |  | R2 |  | 22.3251 | $924.28 | $924.28
55680 | Remove sperm pouch lesion | Y |  | A2 | $333.00 | 22.3251 | $924.28 | $480.82
55700 | Biopsy of prostate | Y |  | A2 | $345.83 | 11.0338 | $456.81 | $373.58
55705 | Biopsy of prostate | Y |  | A2 | $345.83 | 11.0338 | $456.81 | $373.58
55720 | Drainage of prostate abscess | Y |  | A2 | $333.00 | 24.7749 | $1,025.71 | $506.18
55725 | Drainage of prostate abscess | Y |  | A2 | $446.00 | 24.7749 | $1,025.71 | $590.93
55860 | Surgical exposure, prostate | Y |  | G2 |  | 19.3414 | $800.75 | $800.75
55870 | Electroejaculation | Y |  | P3 |  | 1.6541 | $68.48 | $68.48
55873 | Cryoablate prostate | Y |  | H8 | $1,339.00 | 162.5379 | $6,729.23 | $6,219.63
55875 | Transperi needle place, pros | N |  | A2 | $1,339.00 | 36.0774 | $1,493.64 | $1,377.66
55876 * | Place rt device/marker, pros | Y |  | P3 |  | 1.7033 | $70.52 | $70.52
55920 | Place needles pelvic for rt | Y | NI | G2 |  | 25.6947 | $1,063.79 | $1,063.79
56405 | I & d of vulva/perineum | Y |  | P3 |  | 1.0287 | $42.59 | $42.59
56420 | Drainage of gland abscess | Y |  | P2 |  | 1.352 | $55.97 | $55.97
56440 | Surgery for vulva lesion | Y |  | A2 | $446.00 | 19.0203 | $787.46 | $531.37
56441 | Lysis of labial lesion(s) | Y |  | A2 | $333.00 | 19.0203 | $787.46 | $446.62
56442 | Hymenotomy | Y |  | A2 | $333.00 | 19.0203 | $787.46 | $446.62
56501 | Destroy, vulva lesions, sim | Y |  | P3 |  | 1.4072 | $58.26 | $58.26
56515 | Destroy vulva lesion/s compl | Y |  | A2 | $510.00 | 19.9041 | $824.05 | $588.51
56605 | Biopsy of vulva/perineum | Y |  | P3 |  | 0.8229 | $34.07 | $34.07
56606 | Biopsy of vulva/perineum | Y |  | P3 |  | 0.3539 | $14.65 | $14.65
56620 | Partial removal of vulva | Y |  | A2 | $717.00 | 19.0203 | $787.46 | $734.62
56625 | Complete removal of vulva | Y |  | A2 | $995.00 | 19.0203 | $787.46 | $943.12
56700 | Partial removal of hymen | Y |  | A2 | $333.00 | 19.0203 | $787.46 | $446.62
56740 | Remove vagina gland lesion | Y |  | A2 | $510.00 | 19.0203 | $787.46 | $579.37
56800 | Repair of vagina | Y |  | A2 | $510.00 | 19.0203 | $787.46 | $579.37
56805 | Repair clitoris | Y |  | G2 |  | 19.0203 | $787.46 | $787.46
56810 | Repair of perineum | Y |  | A2 | $717.00 | 19.0203 | $787.46 | $734.62
56820 | Exam of vulva w/scope | Y |  | P3 |  | 1.0287 | $42.59 | $42.59
56821 | Exam/biopsy of vulva w/scope | Y |  | P2 |  | 1.352 | $55.97 | $55.97
57000 | Exploration of vagina | Y |  | A2 | $333.00 | 19.0203 | $787.46 | $446.62
57010 | Drainage of pelvic abscess | Y |  | A2 | $446.00 | 19.0203 | $787.46 | $531.37
57020 | Drainage of pelvic fluid | Y |  | A2 | $409.33 | 6.0783 | $251.65 | $369.91
57022 | I & d vaginal hematoma, pp | Y |  | G2 |  | 11.5594 | $478.57 | $478.57
57023 | I & d vag hematoma, non-ob | Y |  | A2 | $333.00 | 18.3197 | $758.45 | $439.36
57061 | Destroy vag lesions, simple | Y |  | P3 |  | 1.3084 | $54.17 | $54.17
57065 | Destroy vag lesions, complex | Y |  | A2 | $333.00 | 19.0203 | $787.46 | $446.62
57100 | Biopsy of vagina | Y |  | P3 |  | 0.8394 | $34.75 | $34.75
57105 | Biopsy of vagina | Y |  | A2 | $446.00 | 19.0203 | $787.46 | $531.37
57130 | Remove vagina lesion | Y |  | A2 | $446.00 | 19.0203 | $787.46 | $531.37
57135 | Remove vagina lesion | Y |  | A2 | $446.00 | 19.0203 | $787.46 | $531.37
57150 | Treat vagina infection | Y | CH | P3 |  | 0.6913 | $28.62 | $28.62
57155 | Insert uteri tandems/ovoids | Y |  | A2 | $409.33 | 6.0783 | $251.65 | $369.91
57160 | Insert pessary/other device | Y |  | P3 |  | 0.8476 | $35.09 | $35.09
57170 | Fitting of diaphragm/cap | Y |  | P2 |  | 0.1309 | $5.42 | $5.42
57180 | Treat vaginal bleeding | Y |  | A2 | $178.05 | 1.352 | $55.97 | $147.53
57200 | Repair of vagina | Y |  | A2 | $333.00 | 19.0203 | $787.46 | $446.62
57210 | Repair vagina/perineum | Y |  | A2 | $446.00 | 19.0203 | $787.46 | $531.37
57220 | Revision of urethra | Y |  | A2 | $510.00 | 42.7099 | $1,768.23 | $824.56
57230 | Repair of urethral lesion | Y |  | A2 | $510.00 | 32.4237 | $1,342.37 | $718.09
57240 | Repair bladder & vagina | Y |  | A2 | $717.00 | 32.4237 | $1,342.37 | $873.34
57250 | Repair rectum & vagina | Y |  | A2 | $717.00 | 32.4237 | $1,342.37 | $873.34
57260 | Repair of vagina | Y |  | A2 | $717.00 | 32.4237 | $1,342.37 | $873.34
57265 | Extensive repair of vagina | Y |  | A2 | $995.00 | 42.7099 | $1,768.23 | $1,188.31
57267 | Insert mesh/pelvic flr addon | Y |  | A2 | $995.00 | 32.4237 | $1,342.37 | $1,081.84
57268 | Repair of bowel bulge | Y |  | A2 | $510.00 | 32.4237 | $1,342.37 | $718.09
57287 | Revise/remove sling repair | Y |  | G2 |  | 32.4237 | $1,342.37 | $1,342.37
57288 | Repair bladder defect | Y |  | A2 | $717.00 | 42.7099 | $1,768.23 | $979.81
57289 | Repair bladder & vagina | Y |  | A2 | $717.00 | 32.4237 | $1,342.37 | $873.34
57291 | Construction of vagina | Y |  | A2 | $717.00 | 32.4237 | $1,342.37 | $873.34
57300 | Repair rectum-vagina fistula | Y |  | A2 | $510.00 | 32.4237 | $1,342.37 | $718.09
57320 | Repair bladder-vagina lesion | Y |  | G2 |  | 32.4237 | $1,342.37 | $1,342.37
57400 | Dilation of vagina | Y |  | A2 | $446.00 | 19.0203 | $787.46 | $531.37
57410 | Pelvic examination | Y |  | A2 | $446.00 | 19.0203 | $787.46 | $531.37
57415 | Remove vaginal foreign body | Y |  | A2 | $446.00 | 19.0203 | $787.46 | $531.37
57420 | Exam of vagina w/scope | Y |  | P3 |  | 1.0616 | $43.95 | $43.95
57421 | Exam/biopsy of vag w/scope | Y |  | P3 |  | 1.4154 | $58.60 | $58.60
57452 | Exam of cervix w/scope | Y |  | P3 |  | 1.0121 | $41.90 | $41.90
57454 | Bx/curett of cervix w/scope | Y |  | P3 |  | 1.2507 | $51.78 | $51.78
57455 | Biopsy of cervix w/scope | Y |  | P3 |  | 1.3248 | $54.85 | $54.85
57456 | Endocerv curettage w/scope | Y |  | P3 |  | 1.2756 | $52.81 | $52.81
57460 | Bx of cervix w/scope, leep | Y |  | P3 |  | 4.1639 | $172.39 | $172.39
57461 | Conz of cervix w/scope, leep | Y |  | P3 |  | 4.3941 | $181.92 | $181.92
57500 | Biopsy of cervix | Y |  | P3 |  | 1.8763 | $77.68 | $77.68
57505 | Endocervical curettage | Y |  | P3 |  | 1.1437 | $47.35 | $47.35
57510 | Cauterization of cervix | Y |  | P3 |  | 1.1768 | $48.72 | $48.72
57511 | Cryocautery of cervix | Y |  | P2 |  | 1.352 | $55.97 | $55.97
57513 | Laser surgery of cervix | Y |  | A2 | $446.00 | 19.0203 | $787.46 | $531.37
57520 | Conization of cervix | Y |  | A2 | $446.00 | 19.0203 | $787.46 | $531.37
57522 | Conization of cervix | Y |  | A2 | $446.00 | 19.0203 | $787.46 | $531.37
57530 | Removal of cervix | Y |  | A2 | $510.00 | 32.4237 | $1,342.37 | $718.09
57550 | Removal of residual cervix | Y |  | A2 | $510.00 | 32.4237 | $1,342.37 | $718.09
57556 | Remove cervix, repair bowel | Y |  | A2 | $717.00 | 42.7099 | $1,768.23 | $979.81
57558 | D&c of cervical stump | Y |  | A2 | $510.00 | 19.0203 | $787.46 | $579.37
57700 | Revision of cervix | Y |  | A2 | $333.00 | 19.0203 | $787.46 | $446.62
57720 | Revision of cervix | Y |  | A2 | $510.00 | 19.0203 | $787.46 | $579.37
57800 | Dilation of cervical canal | Y |  | P3 |  | 0.6089 | $25.21 | $25.21
58100 | Biopsy of uterus lining | Y |  | P3 |  | 1.0121 | $41.90 | $41.90
58110 | Bx done w/colposcopy add-on | N | CH | N1 |  |  |  |
58120 | Dilation and curettage | Y |  | A2 | $446.00 | 19.0203 | $787.46 | $531.37
58145 | Myomectomy vag method | Y |  | A2 | $717.00 | 32.4237 | $1,342.37 | $873.34
58301 | Remove intrauterine device | Y |  | P3 |  | 0.971 | $40.20 | $40.20
58321 | Artificial insemination | Y |  | P3 |  | 0.8558 | $35.43 | $35.43
58322 | Artificial insemination | Y |  | P3 |  | 0.9217 | $38.16 | $38.16
58323 | Sperm washing | Y |  | P3 |  | 0.2797 | $11.58 | $11.58
58340 | Catheter for hysterography | N |  | N1 |  |  |  |
58345 | Reopen fallopian tube | Y |  | R2 |  | 19.0203 | $787.46 | $787.46
58346 | Insert heyman uteri capsule | Y |  | A2 | $446.00 | 19.0203 | $787.46 | $531.37
58350 | Reopen fallopian tube | Y |  | A2 | $510.00 | 32.4237 | $1,342.37 | $718.09
58353 | Endometr ablate, thermal | Y |  | A2 | $995.00 | 32.4237 | $1,342.37 | $1,081.84
58356 | Endometrial cryoablation | Y |  | P2 |  | 42.7099 | $1,768.23 | $1,768.23
58545 | Laparoscopic myomectomy | Y |  | A2 | $1,339.00 | 34.3958 | $1,424.02 | $1,360.26
58546 | Laparo-myomectomy, complex | Y |  | A2 | $1,339.00 | 45.5317 | $1,885.06 | $1,475.52
58550 | Laparo-asst vag hysterectomy | Y |  | A2 | $1,339.00 | 69.6652 | $2,884.21 | $1,725.30
58552 | Laparo-vag hyst incl t/o | Y |  | G2 |  | 45.5317 | $1,885.06 | $1,885.06
58555 | Hysteroscopy, dx, sep proc | Y |  | A2 | $333.00 | 21.6576 | $896.65 | $473.91
58558 | Hysteroscopy, biopsy | Y |  | A2 | $510.00 | 21.6576 | $896.65 | $606.66
58559 | Hysteroscopy, lysis | Y |  | A2 | $446.00 | 21.6576 | $896.65 | $558.66
58560 | Hysteroscopy, resect septum | Y |  | A2 | $510.00 | 34.2048 | $1,416.11 | $736.53
58561 | Hysteroscopy, remove myoma | Y |  | A2 | $510.00 | 34.2048 | $1,416.11 | $736.53
58562 | Hysteroscopy, remove fb | Y |  | A2 | $510.00 | 21.6576 | $896.65 | $606.66
58563 | Hysteroscopy, ablation | Y |  | A2 | $1,339.00 | 34.2048 | $1,416.11 | $1,358.28
58565 | Hysteroscopy, sterilization | Y |  | A2 | $1,339.00 | 42.7099 | $1,768.23 | $1,446.31
58600 | Division of fallopian tube | Y |  | G2 |  | 32.4237 | $1,342.37 | $1,342.37
58615 | Occlude fallopian tube(s) | Y |  | G2 |  | 19.0203 | $787.46 | $787.46
58660 | Laparoscopy, lysis | Y |  | A2 | $717.00 | 45.5317 | $1,885.06 | $1,009.02
58661 | Laparoscopy, remove adnexa | Y |  | A2 | $717.00 | 45.5317 | $1,885.06 | $1,009.02
58662 | Laparoscopy, excise lesions | Y |  | A2 | $717.00 | 45.5317 | $1,885.06 | $1,009.02
58670 | Laparoscopy, tubal cautery | Y |  | A2 | $510.00 | 45.5317 | $1,885.06 | $853.77
58671 | Laparoscopy, tubal block | Y |  | A2 | $510.00 | 45.5317 | $1,885.06 | $853.77
58672 | Laparoscopy, fimbrioplasty | Y |  | A2 | $717.00 | 45.5317 | $1,885.06 | $1,009.02
58673 | Laparoscopy, salpingostomy | Y |  | A2 | $717.00 | 45.5317 | $1,885.06 | $1,009.02
58800 | Drainage of ovarian cyst(s) | Y |  | A2 | $510.00 | 19.0203 | $787.46 | $579.37
58805 | Drainage of ovarian cyst(s) | Y | CH | G2 |  | 32.4237 | $1,342.37 | $1,342.37
58820 | Drain ovary abscess, open | Y |  | A2 | $510.00 | 32.4237 | $1,342.37 | $718.09
58900 | Biopsy of ovary(s) | Y |  | A2 | $510.00 | 19.0203 | $787.46 | $579.37
58970 | Retrieval of oocyte | Y |  | A2 | $245.92 | 2.7584 | $114.20 | $212.99
58974 | Transfer of embryo | Y |  | A2 | $245.92 | 2.7584 | $114.20 | $212.99
58976 | Transfer of embryo | Y |  | A2 | $245.92 | 2.7584 | $114.20 | $212.99
59000 | Amniocentesis, diagnostic | Y | CH | P3 |  | 1.5717 | $65.07 | $65.07
59001 | Amniocentesis, therapeutic | Y |  | R2 |  | 6.0783 | $251.65 | $251.65
59012 | Fetal cord puncture, prenatal | Y |  | G2 |  | 2.7584 | $114.20 | $114.20
59015 | Chorion biopsy | Y |  | P3 |  | 1.2178 | $50.42 | $50.42
59020 | Fetal contract stress test | Y |  | P3 |  | 0.5761 | $23.85 | $23.85
59025 | Fetal non-stress test | Y |  | P3 |  | 0.2961 | $12.26 | $12.26
59070 | Transabdom amnioinfus w/us | Y |  | G2 |  | 2.7584 | $114.20 | $114.20
59072 | Umbilical cord occlud w/us | Y |  | G2 |  | 2.7584 | $114.20 | $114.20
59076 | Fetal shunt placement, w/us | Y |  | G2 |  | 2.7584 | $114.20 | $114.20
59100 | Remove uterus lesion | Y |  | R2 |  | 32.4237 | $1,342.37 | $1,342.37
59150 | Treat ectopic pregnancy | Y |  | G2 |  | 45.5317 | $1,885.06 | $1,885.06
59151 | Treat ectopic pregnancy | Y |  | G2 |  | 45.5317 | $1,885.06 | $1,885.06
59160 | D & c after delivery | Y |  | A2 | $510.00 | 19.0203 | $787.46 | $579.37
59200 | Insert cervical dilator | Y |  | P3 |  | 0.8722 | $36.11 | $36.11
59300 | Episiotomy or vaginal repair | Y |  | P3 |  | 1.7939 | $74.27 | $74.27
59320 | Revision of cervix | Y |  | A2 | $333.00 | 19.0203 | $787.46 | $446.62
59412 | Antepartum manipulation | Y |  | G2 |  | 19.0203 | $787.46 | $787.46
59414 | Deliver placenta | Y |  | G2 |  | 19.0203 | $787.46 | $787.46
59812 | Treatment of miscarriage | Y |  | A2 | $717.00 | 19.0203 | $787.46 | $734.62
59820 | Care of miscarriage | Y |  | A2 | $717.00 | 19.0203 | $787.46 | $734.62
59821 | Treatment of miscarriage | Y |  | A2 | $717.00 | 19.0203 | $787.46 | $734.62
59840 | Abortion | Y |  | A2 | $717.00 | 19.0203 | $787.46 | $734.62
59841 | Abortion | Y |  | A2 | $717.00 | 19.0203 | $787.46 | $734.62
59866 | Abortion (mpr) | Y |  | G2 |  | 2.7584 | $114.20 | $114.20
59870 | Evacuate mole of uterus | Y |  | A2 | $717.00 | 19.0203 | $787.46 | $734.62
59871 | Remove cerclage suture | Y |  | A2 | $717.00 | 19.0203 | $787.46 | $734.62
60000 | Drain thyroid/tongue cyst | Y |  | A2 | $333.00 | 7.4474 | $308.33 | $326.83
60001 | Aspirate/inject thyriod cyst | N | CH | D5 |  |  |  |
60100 | Biopsy of thyroid | Y |  | P3 |  | 1.1191 | $46.33 | $46.33
60200 | Remove thyroid lesion | Y |  | A2 | $446.00 | 44.324 | $1,835.06 | $793.27
60280 | Remove thyroid duct lesion | Y |  | A2 | $630.00 | 44.324 | $1,835.06 | $931.27
60281 | Remove thyroid duct lesion | Y |  | A2 | $630.00 | 44.324 | $1,835.06 | $931.27
60300 | Aspir/inj thyroid cyst | Y | NI | P3 |  | 1.3741 | $56.89 | $56.89
61000 | Remove cranial cavity fluid | Y |  | R2 |  | 8.5263 | $353.00 | $353.00
61001 | Remove cranial cavity fluid | Y |  | R2 |  | 8.5263 | $353.00 | $353.00
61020 | Remove brain cavity fluid | Y |  | A2 | $183.83 | 8.5263 | $353.00 | $226.12
61026 | Injection into brain canal | Y |  | A2 | $183.83 | 8.5263 | $353.00 | $226.12
61050 | Remove brain canal fluid | Y |  | A2 | $183.83 | 8.5263 | $353.00 | $226.12
61055 | Injection into brain canal | Y |  | A2 | $183.83 | 8.5263 | $353.00 | $226.12
61070 | Brain canal shunt procedure | Y |  | A2 | $183.83 | 3.2383 | $134.07 | $171.39
61215 | Insert brain-fluid device | Y |  | A2 | $510.00 | 36.2768 | $1,501.90 | $757.98
61330 | Decompress eye socket | Y |  | G2 |  | 39.8776 | $1,650.97 | $1,650.97
61334 | Explore orbit/remove object | Y |  | G2 |  | 39.8776 | $1,650.97 | $1,650.97
61790 | Treat trigeminal nerve | Y |  | A2 | $510.00 | 18.0518 | $747.36 | $569.34
61791 | Treat trigeminal tract | Y |  | A2 | $351.92 | 14.4879 | $599.81 | $413.89
61795 | Brain surgery using computer | N | CH | N1 |  |  |  |
61880 | Revise/remove neuroelectrode | Y |  | G2 |  | 22.4734 | $930.42 | $930.42
61885 | Insrt/redo neurostim 1 array | N |  | H8 | $446.00 | 269.543 | $11,159.35 | $10,493.89
61886 | Implant neurostim arrays | N |  | H8 | $510.00 | 395.2777 | $16,364.89 | $15,586.16
61888 | Revise/remove neuroreceiver | Y |  | A2 | $333.00 | 34.4166 | $1,424.88 | $605.97
62194 | Replace/irrigate catheter | Y |  | A2 | $333.00 | 8.5263 | $353.00 | $338.00
62225 | Replace/irrigate catheter | Y |  | A2 | $333.00 | 15.3545 | $635.69 | $408.67
62230 | Replace/revise brain shunt | Y |  | A2 | $446.00 | 36.2768 | $1,501.90 | $709.98
62252 | Csf shunt reprogram | N |  | P3 |  | 1.0698 | $44.29 | $44.29
62263 | Epidural lysis mult sessions | Y |  | A2 | $333.00 | 14.4879 | $599.81 | $399.70
62264 | Epidural lysis on single day | Y |  | A2 | $333.00 | 14.4879 | $599.81 | $399.70
62268 | Drain spinal cord cyst | Y |  | A2 | $183.83 | 8.5263 | $353.00 | $226.12
62269 | Needle biopsy, spinal cord | Y |  | A2 | $333.00 | 9.3354 | $386.49 | $346.37
62270 | Spinal fluid tap, diagnostic | Y |  | A2 | $139.00 | 4.0964 | $169.60 | $146.65
62272 | Drain cerebro spinal fluid | Y |  | A2 | $139.00 | 4.0964 | $169.60 | $146.65
62273 | Inject epidural patch | Y |  | A2 | $333.00 | 4.0964 | $169.60 | $292.15
62280 | Treat spinal cord lesion | Y |  | A2 | $333.00 | 7.0546 | $292.07 | $322.77
62281 | Treat spinal cord lesion | Y |  | A2 | $333.00 | 7.0546 | $292.07 | $322.77
62282 | Treat spinal canal lesion | Y |  | A2 | $333.00 | 7.0546 | $292.07 | $322.77
62284 | Injection for myelogram | N |  | N1 |  |  |  |
62287 | Percutaneous diskectomy | Y |  | A2 | $1,339.00 | 33.2707 | $1,377.44 | $1,348.61
62290 | Inject for spine disk x-ray | N |  | N1 |  |  |  |
62291 | Inject for spine disk x-ray | N |  | N1 |  |  |  |
62292 | Injection into disk lesion | Y | CH | R2 |  | 8.5263 | $353.00 | $353.00
62294 | Injection into spinal artery | Y |  | A2 | $183.83 | 8.5263 | $353.00 | $226.12
62310 | Inject spine c/t | Y |  | A2 | $333.00 | 7.0546 | $292.07 | $322.77
62311 | Inject spine l/s (cd) | Y |  | A2 | $333.00 | 7.0546 | $292.07 | $322.77
62318 | Inject spine w/cath, c/t | Y |  | A2 | $333.00 | 7.0546 | $292.07 | $322.77
62319 | Inject spine w/cath l/s (cd) | Y |  | A2 | $333.00 | 7.0546 | $292.07 | $322.77
62350 | Implant spinal canal cath | Y |  | A2 | $446.00 | 36.2768 | $1,501.90 | $709.98
62355 | Remove spinal canal catheter | Y |  | A2 | $446.00 | 14.4879 | $599.81 | $484.45
62360 | Insert spine infusion device | Y |  | A2 | $446.00 | 36.2768 | $1,501.90 | $709.98
62361 | Implant spine infusion pump | Y |  | H8 | $446.00 | 263.8315 | $10,922.89 | $10,157.07
62362 | Implant spine infusion pump | Y |  | H8 | $446.00 | 263.8315 | $10,922.89 | $10,157.07
62365 | Remove spine infusion device | Y |  | A2 | $446.00 | 33.2707 | $1,377.44 | $678.86
62367 | Analyze spine infusion pump | N |  | P3 |  | 0.428 | $17.72 | $17.72
62368 | Analyze spine infusion pump | N |  | P3 |  | 0.5183 | $21.46 | $21.46
63600 | Remove spinal cord lesion | Y |  | A2 | $446.00 | 18.0518 | $747.36 | $521.34
63610 | Stimulation of spinal cord | Y |  | A2 | $333.00 | 18.0518 | $747.36 | $436.59
63615 | Remove lesion of spinal cord | Y |  | R2 |  | 18.0518 | $747.36 | $747.36
63650 | Implant neuroelectrodes | N |  | H8 | $446.00 | 83.1135 | $3,440.98 | $2,909.36
63655 | Implant neuroelectrodes | N |  | J8 |  | 109.8976 | $4,549.87 | $4,549.87
63660 | Revise/remove neuroelectrode | Y |  | A2 | $333.00 | 22.4734 | $930.42 | $482.36
63685 | Insrt/redo spine n generator | N |  | H8 | $446.00 | 350.8302 | $14,524.72 | $13,727.20
63688 | Revise/remove neuroreceiver | Y |  | A2 | $333.00 | 34.4166 | $1,424.88 | $605.97
63744 | Revision of spinal shunt | Y |  | A2 | $510.00 | 36.2768 | $1,501.90 | $757.98
63746 | Removal of spinal shunt | Y |  | A2 | $446.00 | 5.6614 | $234.39 | $393.10
64400 | N block inj, trigeminal | Y |  | P3 |  | 1.3659 | $56.55 | $56.55
64402 | N block inj, facial | Y |  | P3 |  | 1.2425 | $51.44 | $51.44
64405 | N block inj, occipital | Y |  | P3 |  | 1.078 | $44.63 | $44.63
64408 | N block inj, vagus | Y |  | P3 |  | 1.2425 | $51.44 | $51.44
64410 | N block inj, phrenic | Y |  | A2 | $333.00 | 7.0546 | $292.07 | $322.77
64412 | N block inj, spinal accessor | Y |  | P3 |  | 1.9666 | $81.42 | $81.42
64413 | N block inj, cervical plexus | Y |  | P3 |  | 1.3002 | $53.83 | $53.83
64415 | N block inj, brachial plexus | Y |  | A2 | $139.00 | 4.0964 | $169.60 | $146.65
64416 | N block cont infuse, b plex | Y |  | G2 |  | 7.0546 | $292.07 | $292.07
64417 | N block inj, axillary | Y |  | A2 | $139.00 | 4.0964 | $169.60 | $146.65
64418 | N block inj, suprascapular | Y |  | P3 |  | 1.8596 | $76.99 | $76.99
64420 | N block inj, intercost, sng | Y |  | A2 | $139.00 | 4.0964 | $169.60 | $146.65
64421 | N block inj, intercost, mlt | Y |  | A2 | $333.00 | 4.0964 | $169.60 | $292.15
64425 | N block inj, ilio-ing/hypogi | Y |  | P3 |  | 1.2096 | $50.08 | $50.08
64430 | N block inj, pudendal | Y |  | A2 | $139.00 | 7.0546 | $292.07 | $177.27
64435 | N block inj, paracervical | Y |  | P3 |  | 1.8596 | $76.99 | $76.99
64445 | N block inj, sciatic, sng | Y |  | P3 |  | 1.7693 | $73.25 | $73.25
64446 | N blk inj, sciatic, cont inf | Y |  | G2 |  | 14.4879 | $599.81 | $599.81
64447 | N block inj fem, single | Y | CH | R2 |  | 4.0964 | $169.60 | $169.60
64450 | N block, other peripheral | Y |  | P3 |  | 1.0369 | $42.93 | $42.93
64470 | Inj paravertebral c/t | Y |  | A2 | $333.00 | 7.0546 | $292.07 | $322.77
64472 | Inj paravertebral c/t add-on | Y |  | A2 | $333.00 | 4.0964 | $169.60 | $292.15
64475 | Inj paravertebral l/s | Y |  | A2 | $333.00 | 7.0546 | $292.07 | $322.77
64476 | Inj paravertebral l/s add-on | Y |  | A2 | $333.00 | 2.3213 | $96.10 | $273.78
64479 | Inj foramen epidural c/t | Y |  | A2 | $333.00 | 7.0546 | $292.07 | $322.77
64480 | Inj foramen epidural add-on | Y |  | A2 | $333.00 | 4.0964 | $169.60 | $292.15
64483 | Inj foramen epidural l/s | Y |  | A2 | $333.00 | 7.0546 | $292.07 | $322.77
64484 | Inj foramen epidural add-on | Y |  | A2 | $333.00 | 4.0964 | $169.60 | $292.15
64505 | N block, spenopalatine gangl | Y |  | P3 |  | 0.971 | $40.20 | $40.20
64508 | N block, carotid sinus s/p | Y |  | P3 |  | 2.2053 | $91.30 | $91.30
64510 | N block, stellate ganglion | Y |  | A2 | $333.00 | 7.0546 | $292.07 | $322.77
64517 | N block inj, hypogas plxs | Y |  | A2 | $139.00 | 7.0546 | $292.07 | $177.27
64520 | N block, lumbar/thoracic | Y |  | A2 | $333.00 | 7.0546 | $292.07 | $322.77
64530 | N block inj, celiac pelus | Y |  | A2 | $333.00 | 7.0546 | $292.07 | $322.77
64553 | Implant neuroelectrodes | N |  | H8 | $333.00 | 316.5407 | $13,105.10 | $12,022.95
64555 | Implant neuroelectrodes | N |  | J8 |  | 83.1135 | $3,440.98 | $3,440.98
64560 | Implant neuroelectrodes | N |  | J8 |  | 83.1135 | $3,440.98 | $3,440.98
64561 | Implant neuroelectrodes | N |  | H8 | $510.00 | 83.1135 | $3,440.98 | $2,957.36
64565 | Implant neuroelectrodes | N |  | J8 |  | 83.1135 | $3,440.98 | $3,440.98
64573 | Implant neuroelectrodes | N |  | H8 | $333.00 | 316.5407 | $13,105.10 | $12,022.95
64575 | Implant neuroelectrodes | N |  | H8 | $333.00 | 109.8976 | $4,549.87 | $3,785.92
64577 | Implant neuroelectrodes | N |  | H8 | $333.00 | 109.8976 | $4,549.87 | $3,785.92
64580 | Implant neuroelectrodes | N |  | H8 | $333.00 | 109.8976 | $4,549.87 | $3,785.92
64581 | Implant neuroelectrodes | N |  | H8 | $510.00 | 109.8976 | $4,549.87 | $3,918.67
64585 | Revise/remove neuroelectrode | Y |  | A2 | $333.00 | 22.4734 | $930.42 | $482.36
64590 | Insrt/redo pn/gastr stimul | N |  | H8 | $446.00 | 269.543 | $11,159.35 | $10,493.89
64595 | Revise/rmv pn/gastr stimul | Y |  | A2 | $333.00 | 34.4166 | $1,424.88 | $605.97
64600 | Injection treatment of nerve | Y |  | A2 | $333.00 | 14.4879 | $599.81 | $399.70
64605 | Injection treatment of nerve | Y |  | A2 | $333.00 | 14.4879 | $599.81 | $399.70
64610 | Injection treatment of nerve | Y |  | A2 | $333.00 | 14.4879 | $599.81 | $399.70
64612 | Destroy nerve, face muscle | Y |  | P3 |  | 1.6705 | $69.16 | $69.16
64613 | Destroy nerve, neck muscle | Y |  | P3 |  | 1.7693 | $73.25 | $73.25
64614 | Destroy nerve, extrem musc | Y |  | P3 |  | 1.9915 | $82.45 | $82.45
64620 | Injection treatment of nerve | Y |  | A2 | $333.00 | 7.0546 | $292.07 | $322.77
64622 | Destr paravertebrl nerve l/s | Y |  | A2 | $333.00 | 14.4879 | $599.81 | $399.70
64623 | Destr paravertebral n add-on | Y |  | A2 | $333.00 | 7.0546 | $292.07 | $322.77
64626 | Destr paravertebrl nerve c/t | Y |  | A2 | $333.00 | 14.4879 | $599.81 | $399.70
64627 | Destr paravertebral n add-on | Y |  | A2 | $333.00 | 2.3213 | $96.10 | $273.78
64630 | Injection treatment of nerve | Y |  | A2 | $351.92 | 7.0546 | $292.07 | $336.96
64640 | Injection treatment of nerve | Y |  | P3 |  | 2.7156 | $112.43 | $112.43
64650 | Chemodenerv eccrine glands | Y | CH | P3 |  | 0.65 | $26.91 | $26.91
64653 | Chemodenerv eccrine glands | Y | CH | P3 |  | 0.6831 | $28.28 | $28.28
64680 | Injection treatment of nerve | Y |  | A2 | $390.95 | 14.4879 | $599.81 | $443.17
64681 | Injection treatment of nerve | Y |  | A2 | $446.00 | 14.4879 | $599.81 | $484.45
64702 | Revise finger/toe nerve | Y |  | A2 | $333.00 | 18.0518 | $747.36 | $436.59
64704 | Revise hand/foot nerve | Y |  | A2 | $333.00 | 18.0518 | $747.36 | $436.59
64708 | Revise arm/leg nerve | Y |  | A2 | $446.00 | 18.0518 | $747.36 | $521.34
64712 | Revision of sciatic nerve | Y |  | A2 | $446.00 | 18.0518 | $747.36 | $521.34
64713 | Revision of arm nerve(s) | Y |  | A2 | $446.00 | 18.0518 | $747.36 | $521.34
64714 | Revise low back nerve(s) | Y |  | A2 | $446.00 | 18.0518 | $747.36 | $521.34
64716 | Revision of cranial nerve | Y |  | A2 | $510.00 | 18.0518 | $747.36 | $569.34
64718 | Revise ulnar nerve at elbow | Y |  | A2 | $446.00 | 18.0518 | $747.36 | $521.34
64719 | Revise ulnar nerve at wrist | Y |  | A2 | $446.00 | 18.0518 | $747.36 | $521.34
64721 | Carpal tunnel surgery | Y |  | A2 | $446.00 | 18.0518 | $747.36 | $521.34
64722 | Relieve pressure on nerve(s) | Y |  | A2 | $333.00 | 18.0518 | $747.36 | $436.59
64726 | Release foot/toe nerve | Y |  | A2 | $333.00 | 18.0518 | $747.36 | $436.59
64727 | Internal nerve revision | Y |  | A2 | $333.00 | 18.0518 | $747.36 | $436.59
64732 | Incision of brow nerve | Y |  | A2 | $446.00 | 18.0518 | $747.36 | $521.34
64734 | Incision of cheek nerve | Y |  | A2 | $446.00 | 18.0518 | $747.36 | $521.34
64736 | Incision of chin nerve | Y |  | A2 | $446.00 | 18.0518 | $747.36 | $521.34
64738 | Incision of jaw nerve | Y |  | A2 | $446.00 | 18.0518 | $747.36 | $521.34
64740 | Incision of tongue nerve | Y |  | A2 | $446.00 | 18.0518 | $747.36 | $521.34
64742 | Incision of facial nerve | Y |  | A2 | $446.00 | 18.0518 | $747.36 | $521.34
64744 | Incise nerve, back of head | Y |  | A2 | $446.00 | 18.0518 | $747.36 | $521.34
64746 | Incise diaphragm nerve | Y |  | A2 | $446.00 | 18.0518 | $747.36 | $521.34
64761 | Incision of pelvis nerve | Y |  | G2 |  | 18.0518 | $747.36 | $747.36
64763 | Incise hip/thigh nerve | Y |  | G2 |  | 18.0518 | $747.36 | $747.36
64766 | Incise hip/thigh nerve | Y |  | G2 |  | 33.2707 | $1,377.44 | $1,377.44
64771 | Sever cranial nerve | Y |  | A2 | $446.00 | 18.0518 | $747.36 | $521.34
64772 | Incision of spinal nerve | Y |  | A2 | $446.00 | 18.0518 | $747.36 | $521.34
64774 | Remove skin nerve lesion | Y |  | A2 | $446.00 | 18.0518 | $747.36 | $521.34
64776 | Remove digit nerve lesion | Y |  | A2 | $510.00 | 18.0518 | $747.36 | $569.34
64778 | Digit nerve surgery add-on | Y |  | A2 | $446.00 | 18.0518 | $747.36 | $521.34
64782 | Remove limb nerve lesion | Y |  | A2 | $510.00 | 18.0518 | $747.36 | $569.34
64783 | Limb nerve surgery add-on | Y |  | A2 | $446.00 | 18.0518 | $747.36 | $521.34
64784 | Remove nerve lesion | Y |  | A2 | $510.00 | 18.0518 | $747.36 | $569.34
64786 | Remove sciatic nerve lesion | Y |  | A2 | $510.00 | 33.2707 | $1,377.44 | $726.86
64787 | Implant nerve end | Y |  | A2 | $446.00 | 18.0518 | $747.36 | $521.34
64788 | Remove skin nerve lesion | Y |  | A2 | $510.00 | 18.0518 | $747.36 | $569.34
64790 | Removal of nerve lesion | Y |  | A2 | $510.00 | 18.0518 | $747.36 | $569.34
64792 | Removal of nerve lesion | Y |  | A2 | $510.00 | 33.2707 | $1,377.44 | $726.86
64795 | Biopsy of nerve | Y |  | A2 | $446.00 | 18.0518 | $747.36 | $521.34
64802 | Remove sympathetic nerves | Y |  | A2 | $446.00 | 18.0518 | $747.36 | $521.34
64820 | Remove sympathetic nerves | Y |  | G2 |  | 18.0518 | $747.36 | $747.36
64821 | Remove sympathetic nerves | Y |  | A2 | $630.00 | 26.3105 | $1,089.28 | $744.82
64822 | Remove sympathetic nerves | Y |  | G2 |  | 26.3105 | $1,089.28 | $1,089.28
64823 | Remove sympathetic nerves | Y |  | G2 |  | 26.3105 | $1,089.28 | $1,089.28
64831 | Repair of digit nerve | Y |  | A2 | $630.00 | 33.2707 | $1,377.44 | $816.86
64832 | Repair nerve add-on | Y |  | A2 | $333.00 | 33.2707 | $1,377.44 | $594.11
64834 | Repair of hand or foot nerve | Y |  | A2 | $446.00 | 33.2707 | $1,377.44 | $678.86
64835 | Repair of hand or foot nerve | Y |  | A2 | $510.00 | 33.2707 | $1,377.44 | $726.86
64836 | Repair of hand or foot nerve | Y |  | A2 | $510.00 | 33.2707 | $1,377.44 | $726.86
64837 | Repair nerve add-on | Y |  | A2 | $333.00 | 33.2707 | $1,377.44 | $594.11
64840 | Repair of leg nerve | Y |  | A2 | $446.00 | 33.2707 | $1,377.44 | $678.86
64856 | Repair/transpose nerve | Y |  | A2 | $446.00 | 33.2707 | $1,377.44 | $678.86
64857 | Repair arm/leg nerve | Y |  | A2 | $446.00 | 33.2707 | $1,377.44 | $678.86
64858 | Repair sciatic nerve | Y |  | A2 | $446.00 | 33.2707 | $1,377.44 | $678.86
64859 | Nerve surgery | Y |  | A2 | $333.00 | 33.2707 | $1,377.44 | $594.11
64861 | Repair of arm nerves | Y |  | A2 | $510.00 | 33.2707 | $1,377.44 | $726.86
64862 | Repair of low back nerves | Y |  | A2 | $510.00 | 33.2707 | $1,377.44 | $726.86
64864 | Repair of facial nerve | Y |  | A2 | $510.00 | 33.2707 | $1,377.44 | $726.86
64865 | Repair of facial nerve | Y |  | A2 | $630.00 | 33.2707 | $1,377.44 | $816.86
64870 | Fusion of facial/other nerve | Y |  | A2 | $630.00 | 33.2707 | $1,377.44 | $816.86
64872 | Subsequent repair of nerve | Y |  | A2 | $446.00 | 33.2707 | $1,377.44 | $678.86
64874 | Repair & revise nerve add-on | Y |  | A2 | $510.00 | 33.2707 | $1,377.44 | $726.86
64876 | Repair nerve/shorten bone | Y |  | A2 | $510.00 | 33.2707 | $1,377.44 | $726.86
64885 | Nerve graft, head or neck | Y |  | A2 | $446.00 | 33.2707 | $1,377.44 | $678.86
64886 | Nerve graft, head or neck | Y |  | A2 | $446.00 | 33.2707 | $1,377.44 | $678.86
64890 | Nerve graft, hand or foot | Y |  | A2 | $446.00 | 33.2707 | $1,377.44 | $678.86
64891 | Nerve graft, hand or foot | Y |  | A2 | $446.00 | 33.2707 | $1,377.44 | $678.86
64892 | Nerve graft, arm or leg | Y |  | A2 | $446.00 | 33.2707 | $1,377.44 | $678.86
64893 | Nerve graft, arm or leg | Y |  | A2 | $446.00 | 33.2707 | $1,377.44 | $678.86
64895 | Nerve graft, hand or foot | Y |  | A2 | $510.00 | 33.2707 | $1,377.44 | $726.86
64896 | Nerve graft, hand or foot | Y |  | A2 | $510.00 | 33.2707 | $1,377.44 | $726.86
64897 | Nerve graft, arm or leg | Y |  | A2 | $510.00 | 33.2707 | $1,377.44 | $726.86
64898 | Nerve graft, arm or leg | Y |  | A2 | $510.00 | 33.2707 | $1,377.44 | $726.86
64901 | Nerve graft add-on | Y |  | A2 | $446.00 | 33.2707 | $1,377.44 | $678.86
64902 | Nerve graft add-on | Y |  | A2 | $446.00 | 33.2707 | $1,377.44 | $678.86
64905 | Nerve pedicle transfer | Y |  | A2 | $446.00 | 33.2707 | $1,377.44 | $678.86
64907 | Nerve pedicle transfer | Y |  | A2 | $333.00 | 33.2707 | $1,377.44 | $594.11
64910 | Nerve repair w/allograft | Y | CH | G2 |  | 18.0518 | $747.36 | $747.36
65091 | Revise eye | Y |  | A2 | $510.00 | 37.7243 | $1,561.82 | $772.96
65093 | Revise eye with implant | Y |  | A2 | $510.00 | 37.7243 | $1,561.82 | $772.96
65101 | Removal of eye | Y |  | A2 | $510.00 | 37.7243 | $1,561.82 | $772.96
65103 | Remove eye/insert implant | Y |  | A2 | $510.00 | 37.7243 | $1,561.82 | $772.96
65105 | Remove eye/attach implant | Y |  | A2 | $630.00 | 37.7243 | $1,561.82 | $862.96
65110 | Removal of eye | Y |  | A2 | $717.00 | 37.7243 | $1,561.82 | $928.21
65112 | Remove eye/revise socket | Y |  | A2 | $995.00 | 37.7243 | $1,561.82 | $1,136.71
65114 | Remove eye/revise socket | Y |  | A2 | $995.00 | 37.7243 | $1,561.82 | $1,136.71
65125 | Revise ocular implant | Y |  | G2 |  | 18.7307 | $775.47 | $775.47
65130 | Insert ocular implant | Y |  | A2 | $510.00 | 24.3077 | $1,006.36 | $634.09
65135 | Insert ocular implant | Y |  | A2 | $446.00 | 24.3077 | $1,006.36 | $586.09
65140 | Attach ocular implant | Y |  | A2 | $510.00 | 37.7243 | $1,561.82 | $772.96
65150 | Revise ocular implant | Y |  | A2 | $446.00 | 24.3077 | $1,006.36 | $586.09
65155 | Reinsert ocular implant | Y |  | A2 | $510.00 | 37.7243 | $1,561.82 | $772.96
65175 | Removal of ocular implant | Y |  | A2 | $333.00 | 18.7307 | $775.47 | $443.62
65205 | Remove foreign body from eye | N |  | P3 |  | 0.4937 | $20.44 | $20.44
65210 | Remove foreign body from eye | N |  | P3 |  | 0.6253 | $25.89 | $25.89
65220 | Remove foreign body from eye | N |  | G2 |  | 0.8696 | $36.00 | $36.00
65222 | Remove foreign body from eye | N |  | P3 |  | 0.6831 | $28.28 | $28.28
65235 | Remove foreign body from eye | Y |  | A2 | $446.00 | 16.171 | $669.50 | $501.88
65260 | Remove foreign body from eye | Y |  | A2 | $510.00 | 18.235 | $754.95 | $571.24
65265 | Remove foreign body from eye | Y |  | A2 | $630.00 | 27.845 | $1,152.81 | $760.70
65270 | Repair of eye wound | Y |  | A2 | $446.00 | 18.7307 | $775.47 | $528.37
65272 | Repair of eye wound | Y |  | A2 | $446.00 | 23.1758 | $959.50 | $574.38
65275 | Repair of eye wound | Y |  | A2 | $630.00 | 23.1758 | $959.50 | $712.38
65280 | Repair of eye wound | Y |  | A2 | $630.00 | 18.235 | $754.95 | $661.24
65285 | Repair of eye wound | Y |  | A2 | $630.00 | 37.2078 | $1,540.44 | $857.61
65286 | Repair of eye wound | Y |  | P2 |  | 5.1169 | $211.84 | $211.84
65290 | Repair of eye socket wound | Y |  | A2 | $510.00 | 24.1291 | $998.97 | $632.24
65400 | Removal of eye lesion | Y |  | A2 | $333.00 | 16.171 | $669.50 | $417.13
65410 | Biopsy of cornea | Y |  | A2 | $446.00 | 16.171 | $669.50 | $501.88
65420 | Removal of eye lesion | Y |  | A2 | $446.00 | 16.171 | $669.50 | $501.88
65426 | Removal of eye lesion | Y |  | A2 | $717.00 | 23.1758 | $959.50 | $777.63
65430 | Corneal smear | N | CH | P2 |  | 0.8696 | $36.00 | $36.00
65435 | Curette/treat cornea | Y |  | P3 |  | 0.7652 | $31.68 | $31.68
65436 | Curette/treat cornea | Y |  | G2 |  | 16.171 | $669.50 | $669.50
65450 | Treatment of corneal lesion | N |  | G2 |  | 2.179 | $90.21 | $90.21
65600 | Revision of cornea | Y |  | P3 |  | 3.884 | $160.80 | $160.80
65710 | Corneal transplant | Y |  | A2 | $995.00 | 37.4896 | $1,552.11 | $1,134.28
65730 | Corneal transplant | Y |  | A2 | $995.00 | 37.4896 | $1,552.11 | $1,134.28
65750 | Corneal transplant | Y |  | A2 | $995.00 | 37.4896 | $1,552.11 | $1,134.28
65755 | Corneal transplant | Y |  | A2 | $995.00 | 37.4896 | $1,552.11 | $1,134.28
65770 | Revise cornea with implant | Y |  | A2 | $995.00 | 84.8039 | $3,510.97 | $1,623.99
65772 | Correction of astigmatism | Y |  | A2 | $630.00 | 16.171 | $669.50 | $639.88
65775 | Correction of astigmatism | Y |  | A2 | $630.00 | 16.171 | $669.50 | $639.88
65780 | Ocular reconst, transplant | Y |  | A2 | $717.00 | 37.4896 | $1,552.11 | $925.78
65781 | Ocular reconst, transplant | Y |  | A2 | $717.00 | 37.4896 | $1,552.11 | $925.78
65782 | Ocular reconst, transplant | Y |  | A2 | $717.00 | 37.4896 | $1,552.11 | $925.78
65800 | Drainage of eye | Y |  | A2 | $333.00 | 16.171 | $669.50 | $417.13
65805 | Drainage of eye | Y |  | A2 | $333.00 | 16.171 | $669.50 | $417.13
65810 | Drainage of eye | Y |  | A2 | $510.00 | 23.1758 | $959.50 | $622.38
65815 | Drainage of eye | Y |  | A2 | $446.00 | 23.1758 | $959.50 | $574.38
65820 | Relieve inner eye pressure | Y |  | A2 | $333.00 | 5.1169 | $211.84 | $302.71
65850 | Incision of eye | Y |  | A2 | $630.00 | 23.1758 | $959.50 | $712.38
65855 | Laser surgery of eye | Y |  | P3 |  | 3.2093 | $132.87 | $132.87
65860 | Incise inner eye adhesions | Y |  | P3 |  | 3.0036 | $124.35 | $124.35
65865 | Incise inner eye adhesions | Y |  | A2 | $333.00 | 16.171 | $669.50 | $417.13
65870 | Incise inner eye adhesions | Y |  | A2 | $630.00 | 23.1758 | $959.50 | $712.38
65875 | Incise inner eye adhesions | Y |  | A2 | $630.00 | 23.1758 | $959.50 | $712.38
65880 | Incise inner eye adhesions | Y |  | A2 | $630.00 | 16.171 | $669.50 | $639.88
65900 | Remove eye lesion | Y |  | A2 | $717.00 | 16.171 | $669.50 | $705.13
65920 | Remove implant of eye | Y |  | A2 | $995.00 | 23.1758 | $959.50 | $986.13
65930 | Remove blood clot from eye | Y |  | A2 | $717.00 | 23.1758 | $959.50 | $777.63
66020 | Injection treatment of eye | Y |  | A2 | $333.00 | 16.171 | $669.50 | $417.13
66030 | Injection treatment of eye | Y |  | A2 | $333.00 | 5.1169 | $211.84 | $302.71
66130 | Remove eye lesion | Y |  | A2 | $995.00 | 23.1758 | $959.50 | $986.13
66150 | Glaucoma surgery | Y |  | A2 | $630.00 | 23.1758 | $959.50 | $712.38
66155 | Glaucoma surgery | Y |  | A2 | $630.00 | 23.1758 | $959.50 | $712.38
66160 | Glaucoma surgery | Y |  | A2 | $446.00 | 23.1758 | $959.50 | $574.38
66165 | Glaucoma surgery | Y |  | A2 | $630.00 | 23.1758 | $959.50 | $712.38
66170 | Glaucoma surgery | Y |  | A2 | $630.00 | 23.1758 | $959.50 | $712.38
66172 | Incision of eye | Y |  | A2 | $630.00 | 23.1758 | $959.50 | $712.38
66180 | Implant eye shunt | Y |  | A2 | $717.00 | 39.7101 | $1,644.04 | $948.76
66185 | Revise eye shunt | Y |  | A2 | $446.00 | 39.7101 | $1,644.04 | $745.51
66220 | Repair eye lesion | Y |  | A2 | $510.00 | 37.2078 | $1,540.44 | $767.61
66225 | Repair/graft eye lesion | Y |  | A2 | $630.00 | 39.7101 | $1,644.04 | $883.51
66250 | Follow-up surgery of eye | Y |  | A2 | $446.00 | 16.171 | $669.50 | $501.88
66500 | Incision of iris | Y |  | A2 | $333.00 | 5.1169 | $211.84 | $302.71
66505 | Incision of iris | Y |  | A2 | $333.00 | 5.1169 | $211.84 | $302.71
66600 | Remove iris and lesion | Y |  | A2 | $510.00 | 23.1758 | $959.50 | $622.38
66605 | Removal of iris | Y |  | A2 | $510.00 | 23.1758 | $959.50 | $622.38
66625 | Removal of iris | Y |  | A2 | $372.94 | 5.1169 | $211.84 | $332.67
66630 | Removal of iris | Y |  | A2 | $510.00 | 23.1758 | $959.50 | $622.38
66635 | Removal of iris | Y |  | A2 | $510.00 | 23.1758 | $959.50 | $622.38
66680 | Repair iris & ciliary body | Y |  | A2 | $510.00 | 23.1758 | $959.50 | $622.38
66682 | Repair iris & ciliary body | Y |  | A2 | $446.00 | 23.1758 | $959.50 | $574.38
66700 | Destruction, ciliary body | Y |  | A2 | $446.00 | 16.171 | $669.50 | $501.88
66710 | Ciliary transsleral therapy | Y |  | A2 | $446.00 | 16.171 | $669.50 | $501.88
66711 | Ciliary endoscopic ablation | Y |  | A2 | $446.00 | 16.171 | $669.50 | $501.88
66720 | Destruction, ciliary body | Y |  | A2 | $446.00 | 16.171 | $669.50 | $501.88
66740 | Destruction, ciliary body | Y |  | A2 | $446.00 | 23.1758 | $959.50 | $574.38
66761 | Revision of iris | Y |  | P3 |  | 4.3695 | $180.90 | $180.90
66762 | Revision of iris | Y |  | P3 |  | 4.4272 | $183.29 | $183.29
66770 | Removal of inner eye lesion | Y |  | P3 |  | 4.781 | $197.94 | $197.94
66820 | Incision, secondary cataract | Y |  | G2 |  | 5.1169 | $211.84 | $211.84
66821 | After cataract laser surgery | Y |  | A2 | $312.50 | 5.2001 | $215.29 | $288.20
66825 | Reposition intraocular lens | Y |  | A2 | $630.00 | 23.1758 | $959.50 | $712.38
66830 | Removal of lens lesion | Y |  | A2 | $372.94 | 5.1169 | $211.84 | $332.67
66840 | Removal of lens material | Y |  | A2 | $630.00 | 14.9171 | $617.58 | $626.90
66850 | Removal of lens material | Y |  | A2 | $995.00 | 28.7035 | $1,188.35 | $1,043.34
66852 | Removal of lens material | Y |  | A2 | $630.00 | 28.7035 | $1,188.35 | $769.59
66920 | Extraction of lens | Y |  | A2 | $630.00 | 28.7035 | $1,188.35 | $769.59
66930 | Extraction of lens | Y |  | A2 | $717.00 | 28.7035 | $1,188.35 | $834.84
66940 | Extraction of lens | Y |  | A2 | $717.00 | 14.9171 | $617.58 | $692.15
66982 | Cataract surgery, complex | Y |  | A2 | $973.00 | 23.8649 | $988.03 | $976.76
66983 | Cataract surg w/iol, 1 stage | Y |  | A2 | $973.00 | 23.8649 | $988.03 | $976.76
66984 | Cataract surg w/iol, 1 stage | Y |  | A2 | $973.00 | 23.8649 | $988.03 | $976.76
66985 | Insert lens prosthesis | Y |  | A2 | $826.00 | 23.8649 | $988.03 | $866.51
66986 | Exchange lens prosthesis | Y |  | A2 | $826.00 | 23.8649 | $988.03 | $866.51
66990 | Ophthalmic endoscope add-on | N |  | N1 |  |  |  |
67005 | Partial removal of eye fluid | Y |  | A2 | $630.00 | 27.845 | $1,152.81 | $760.70
67010 | Partial removal of eye fluid | Y |  | A2 | $630.00 | 27.845 | $1,152.81 | $760.70
67015 | Release of eye fluid | Y |  | A2 | $333.00 | 27.845 | $1,152.81 | $537.95
67025 | Replace eye fluid | Y |  | A2 | $333.00 | 27.845 | $1,152.81 | $537.95
67027 | Implant eye drug system | Y |  | A2 | $630.00 | 37.2078 | $1,540.44 | $857.61
67028 | Injection eye drug | N |  | P3 |  | 1.9997 | $82.79 | $82.79
67030 | Incise inner eye strands | Y |  | A2 | $333.00 | 18.235 | $754.95 | $438.49
67031 | Laser surgery, eye strands | Y |  | A2 | $312.50 | 5.2001 | $215.29 | $288.20
67036 | Removal of inner eye fluid | Y |  | A2 | $630.00 | 37.2078 | $1,540.44 | $857.61
67038 | Strip retinal membrane | N | CH | D5 |  |  |  |
67039 | Laser treatment of retina | Y |  | A2 | $995.00 | 37.2078 | $1,540.44 | $1,131.36
67040 | Laser treatment of retina | Y |  | A2 | $995.00 | 37.2078 | $1,540.44 | $1,131.36
67041 | Vit for macular pucker | Y | NI | G2 |  | 37.2078 | $1,540.44 | $1,540.44
67042 | Vit for macular hole | Y | NI | G2 |  | 37.2078 | $1,540.44 | $1,540.44
67043 | Vit for membrane dissect | Y | NI | G2 |  | 37.2078 | $1,540.44 | $1,540.44
67101 | Repair detached retina | Y |  | P3 |  | 7.2496 | $300.14 | $300.14
67105 | Repair detached retina | Y |  | P2 |  | 5.2001 | $215.29 | $215.29
67107 | Repair detached retina | Y |  | A2 | $717.00 | 37.2078 | $1,540.44 | $922.86
67108 | Repair detached retina | Y |  | A2 | $995.00 | 37.2078 | $1,540.44 | $1,131.36
67110 | Repair detached retina | Y |  | P3 |  | 7.8831 | $326.37 | $326.37
67112 | Rerepair detached retina | Y |  | A2 | $995.00 | 37.2078 | $1,540.44 | $1,131.36
67113 | Repair retinal detach, cplx | Y | NI | G2 |  | 37.2078 | $1,540.44 | $1,540.44
67115 | Release encircling material | Y |  | A2 | $446.00 | 18.235 | $754.95 | $523.24
67120 | Remove eye implant material | Y |  | A2 | $446.00 | 18.235 | $754.95 | $523.24
67121 | Remove eye implant material | Y |  | A2 | $446.00 | 27.845 | $1,152.81 | $622.70
67141 | Treatment of retina | Y |  | A2 | $241.77 | 4.1331 | $171.11 | $224.11
67145 | Treatment of retina | Y |  | P3 |  | 4.5506 | $188.40 | $188.40
67208 | Treatment of retinal lesion | Y |  | P3 |  | 4.8467 | $200.66 | $200.66
67210 | Treatment of retinal lesion | Y | CH | P3 |  | 5.1349 | $212.59 | $212.59
67218 | Treatment of retinal lesion | Y |  | A2 | $717.00 | 18.235 | $754.95 | $726.49
67220 | Treatment of choroid lesion | Y |  | P2 |  | 4.1331 | $171.11 | $171.11
67221 | Ocular photodynamic ther | Y |  | P3 |  | 2.9789 | $123.33 | $123.33
67225 | Eye photodynamic ther add-on | Y |  | P3 |  | 0.1976 | $8.18 | $8.18
67227 | Treatment of retinal lesion | Y |  | A2 | $333.00 | 27.845 | $1,152.81 | $537.95
67228 | Treatment of retinal lesion | Y |  | P2 |  | 5.2001 | $215.29 | $215.29
67229 * | Tr retinal les preterm inf | Y | NI | R2 |  | 5.2001 | $215.29 | $215.29
67250 | Reinforce eye wall | Y |  | A2 | $510.00 | 18.7307 | $775.47 | $576.37
67255 | Reinforce/graft eye wall | Y |  | A2 | $510.00 | 27.845 | $1,152.81 | $670.70
67311 | Revise eye muscle | Y |  | A2 | $510.00 | 24.1291 | $998.97 | $632.24
67312 | Revise two eye muscles | Y |  | A2 | $630.00 | 24.1291 | $998.97 | $722.24
67314 | Revise eye muscle | Y |  | A2 | $630.00 | 24.1291 | $998.97 | $722.24
67316 | Revise two eye muscles | Y |  | A2 | $630.00 | 24.1291 | $998.97 | $722.24
67318 | Revise eye muscle(s) | Y |  | A2 | $630.00 | 24.1291 | $998.97 | $722.24
67320 | Revise eye muscle(s) add-on | Y |  | A2 | $630.00 | 24.1291 | $998.97 | $722.24
67331 | Eye surgery follow-up add-on | Y |  | A2 | $630.00 | 24.1291 | $998.97 | $722.24
67332 | Rerevise eye muscles add-on | Y |  | A2 | $630.00 | 24.1291 | $998.97 | $722.24
67334 | Revise eye muscle w/suture | Y |  | A2 | $630.00 | 24.1291 | $998.97 | $722.24
67335 | Eye suture during surgery | Y |  | A2 | $630.00 | 24.1291 | $998.97 | $722.24
67340 | Revise eye muscle add-on | Y |  | A2 | $630.00 | 24.1291 | $998.97 | $722.24
67343 | Release eye tissue | Y |  | A2 | $995.00 | 24.1291 | $998.97 | $995.99
67345 | Destroy nerve of eye muscle | Y |  | P3 |  | 1.9584 | $81.08 | $81.08
67346 | Biopsy, eye muscle | Y |  | A2 | $333.00 | 13.7453 | $569.07 | $392.02
67400 | Explore/biopsy eye socket | Y |  | A2 | $510.00 | 24.3077 | $1,006.36 | $634.09
67405 | Explore/drain eye socket | Y |  | A2 | $630.00 | 24.3077 | $1,006.36 | $724.09
67412 | Explore/treat eye socket | Y |  | A2 | $717.00 | 24.3077 | $1,006.36 | $789.34
67413 | Explore/treat eye socket | Y |  | A2 | $717.00 | 24.3077 | $1,006.36 | $789.34
67414 | Explr/decompress eye socket | Y |  | G2 |  | 37.7243 | $1,561.82 | $1,561.82
67415 | Aspiration, orbital contents | Y |  | A2 | $333.00 | 18.7307 | $775.47 | $443.62
67420 | Explore/treat eye socket | Y |  | A2 | $717.00 | 37.7243 | $1,561.82 | $928.21
67430 | Explore/treat eye socket | Y |  | A2 | $717.00 | 37.7243 | $1,561.82 | $928.21
67440 | Explore/drain eye socket | Y |  | A2 | $717.00 | 37.7243 | $1,561.82 | $928.21
67445 | Explr/decompress eye socket | Y |  | A2 | $717.00 | 37.7243 | $1,561.82 | $928.21
67450 | Explore/biopsy eye socket | Y |  | A2 | $717.00 | 37.7243 | $1,561.82 | $928.21
67500 | Inject/treat eye socket | N |  | G2 |  | 2.179 | $90.21 | $90.21
67505 | Inject/treat eye socket | Y |  | G2 |  | 2.9022 | $120.15 | $120.15
67515 | Inject/treat eye socket | Y |  | P3 |  | 0.5596 | $23.17 | $23.17
67550 | Insert eye socket implant | Y |  | A2 | $630.00 | 37.7243 | $1,561.82 | $862.96
67560 | Revise eye socket implant | Y |  | A2 | $446.00 | 24.3077 | $1,006.36 | $586.09
67570 | Decompress optic nerve | Y |  | A2 | $630.00 | 37.7243 | $1,561.82 | $862.96
67700 | Drainage of eyelid abscess | Y |  | P2 |  | 2.9022 | $120.15 | $120.15
67710 | Incision of eyelid | Y |  | P3 |  | 3.7359 | $154.67 | $154.67
67715 | Incision of eyelid fold | Y |  | A2 | $333.00 | 18.7307 | $775.47 | $443.62
67800 | Remove eyelid lesion | Y |  | P3 |  | 1.2343 | $51.10 | $51.10
67801 | Remove eyelid lesions | Y |  | P3 |  | 1.4975 | $62.00 | $62.00
67805 | Remove eyelid lesions | Y |  | P3 |  | 1.9338 | $80.06 | $80.06
67808 | Remove eyelid lesion(s) | Y |  | A2 | $446.00 | 18.7307 | $775.47 | $528.37
67810 | Biopsy of eyelid | Y |  | P2 |  | 2.9022 | $120.15 | $120.15
67820 | Revise eyelashes | N |  | P3 |  | 0.428 | $17.72 | $17.72
67825 | Revise eyelashes | Y |  | P3 |  | 1.292 | $53.49 | $53.49
67830 | Revise eyelashes | Y |  | A2 | $446.00 | 7.2847 | $301.59 | $409.90
67835 | Revise eyelashes | Y |  | A2 | $446.00 | 18.7307 | $775.47 | $528.37
67840 | Remove eyelid lesion | Y |  | P3 |  | 3.8593 | $159.78 | $159.78
67850 | Treat eyelid lesion | Y |  | P3 |  | 2.7403 | $113.45 | $113.45
67875 | Closure of eyelid by suture | Y |  | G2 |  | 7.2847 | $301.59 | $301.59
67880 | Revision of eyelid | Y |  | A2 | $510.00 | 16.171 | $669.50 | $549.88
67882 | Revision of eyelid | Y |  | A2 | $510.00 | 18.7307 | $775.47 | $576.37
67900 | Repair brow defect | Y |  | A2 | $630.00 | 18.7307 | $775.47 | $666.37
67901 | Repair eyelid defect | Y |  | A2 | $717.00 | 18.7307 | $775.47 | $731.62
67902 | Repair eyelid defect | Y |  | A2 | $717.00 | 18.7307 | $775.47 | $731.62
67903 | Repair eyelid defect | Y |  | A2 | $630.00 | 18.7307 | $775.47 | $666.37
67904 | Repair eyelid defect | Y |  | A2 | $630.00 | 18.7307 | $775.47 | $666.37
67906 | Repair eyelid defect | Y |  | A2 | $717.00 | 18.7307 | $775.47 | $731.62
67908 | Repair eyelid defect | Y |  | A2 | $630.00 | 18.7307 | $775.47 | $666.37
67909 | Revise eyelid defect | Y |  | A2 | $630.00 | 18.7307 | $775.47 | $666.37
67911 | Revise eyelid defect | Y |  | A2 | $510.00 | 18.7307 | $775.47 | $576.37
67912 | Correction eyelid w/implant | Y |  | A2 | $510.00 | 18.7307 | $775.47 | $576.37
67914 | Repair eyelid defect | Y |  | A2 | $510.00 | 18.7307 | $775.47 | $576.37
67915 | Repair eyelid defect | Y |  | P3 |  | 4.2378 | $175.45 | $175.45
67916 | Repair eyelid defect | Y |  | A2 | $630.00 | 18.7307 | $775.47 | $666.37
67917 | Repair eyelid defect | Y |  | A2 | $630.00 | 18.7307 | $775.47 | $666.37
67921 | Repair eyelid defect | Y |  | A2 | $510.00 | 18.7307 | $775.47 | $576.37
67922 | Repair eyelid defect | Y |  | P3 |  | 4.1472 | $171.70 | $171.70
67923 | Repair eyelid defect | Y |  | A2 | $630.00 | 18.7307 | $775.47 | $666.37
67924 | Repair eyelid defect | Y |  | A2 | $630.00 | 18.7307 | $775.47 | $666.37
67930 | Repair eyelid wound | Y |  | P3 |  | 4.1472 | $171.70 | $171.70
67935 | Repair eyelid wound | Y |  | A2 | $446.00 | 18.7307 | $775.47 | $528.37
67938 | Remove eyelid foreign body | N |  | P2 |  | 2.179 | $90.21 | $90.21
67950 | Revision of eyelid | Y |  | A2 | $446.00 | 18.7307 | $775.47 | $528.37
67961 | Revision of eyelid | Y |  | A2 | $510.00 | 18.7307 | $775.47 | $576.37
67966 | Revision of eyelid | Y |  | A2 | $510.00 | 18.7307 | $775.47 | $576.37
67971 | Reconstruction of eyelid | Y |  | A2 | $510.00 | 24.3077 | $1,006.36 | $634.09
67973 | Reconstruction of eyelid | Y |  | A2 | $510.00 | 24.3077 | $1,006.36 | $634.09
67974 | Reconstruction of eyelid | Y |  | A2 | $510.00 | 24.3077 | $1,006.36 | $634.09
67975 | Reconstruction of eyelid | Y |  | A2 | $510.00 | 18.7307 | $775.47 | $576.37
68020 | Incise/drain eyelid lining | Y |  | P3 |  | 1.0862 | $44.97 | $44.97
68040 | Treatment of eyelid lesions | N |  | P3 |  | 0.5432 | $22.49 | $22.49
68100 | Biopsy of eyelid lining | Y |  | P3 |  | 2.3123 | $95.73 | $95.73
68110 | Remove eyelid lining lesion | Y |  | P3 |  | 2.954 | $122.30 | $122.30
68115 | Remove eyelid lining lesion | Y |  | A2 | $446.00 | 18.7307 | $775.47 | $528.37
68130 | Remove eyelid lining lesion | Y |  | A2 | $446.00 | 16.171 | $669.50 | $501.88
68135 | Remove eyelid lining lesion | Y |  | P3 |  | 1.399 | $57.92 | $57.92
68200 | Treat eyelid by injection | N |  | P3 |  | 0.4031 | $16.69 | $16.69
68320 | Revise/graft eyelid lining | Y |  | A2 | $630.00 | 18.7307 | $775.47 | $666.37
68325 | Revise/graft eyelid lining | Y |  | A2 | $630.00 | 24.3077 | $1,006.36 | $724.09
68326 | Revise/graft eyelid lining | Y |  | A2 | $630.00 | 24.3077 | $1,006.36 | $724.09
68328 | Revise/graft eyelid lining | Y |  | A2 | $630.00 | 24.3077 | $1,006.36 | $724.09
68330 | Revise eyelid lining | Y |  | A2 | $630.00 | 23.1758 | $959.50 | $712.38
68335 | Revise/graft eyelid lining | Y |  | A2 | $630.00 | 24.3077 | $1,006.36 | $724.09
68340 | Separate eyelid adhesions | Y |  | A2 | $630.00 | 18.7307 | $775.47 | $666.37
68360 | Revise eyelid lining | Y |  | A2 | $446.00 | 23.1758 | $959.50 | $574.38
68362 | Revise eyelid lining | Y |  | A2 | $446.00 | 23.1758 | $959.50 | $574.38
68371 | Harvest eye tissue, alograft | Y |  | A2 | $446.00 | 16.171 | $669.50 | $501.88
68400 | Incise/drain tear gland | Y |  | P2 |  | 2.9022 | $120.15 | $120.15
68420 | Incise/drain tear sac | Y |  | P3 |  | 4.4354 | $183.63 | $183.63
68440 | Incise tear duct opening | Y |  | P3 |  | 1.3741 | $56.89 | $56.89
68500 | Removal of tear gland | Y |  | A2 | $510.00 | 24.3077 | $1,006.36 | $634.09
68505 | Partial removal, tear gland | Y |  | A2 | $510.00 | 24.3077 | $1,006.36 | $634.09
68510 | Biopsy of tear gland | Y |  | A2 | $333.00 | 18.7307 | $775.47 | $443.62
68520 | Removal of tear sac | Y |  | A2 | $510.00 | 24.3077 | $1,006.36 | $634.09
68525 | Biopsy of tear sac | Y |  | A2 | $333.00 | 18.7307 | $775.47 | $443.62
68530 | Clearance of tear duct | Y |  | P3 |  | 5.6697 | $234.73 | $234.73
68540 | Remove tear gland lesion | Y |  | A2 | $510.00 | 24.3077 | $1,006.36 | $634.09
68550 | Remove tear gland lesion | Y |  | A2 | $510.00 | 24.3077 | $1,006.36 | $634.09
68700 | Repair tear ducts | Y |  | A2 | $446.00 | 24.3077 | $1,006.36 | $586.09
68705 | Revise tear duct opening | Y |  | P2 |  | 2.9022 | $120.15 | $120.15
68720 | Create tear sac drain | Y |  | A2 | $630.00 | 24.3077 | $1,006.36 | $724.09
68745 | Create tear duct drain | Y |  | A2 | $630.00 | 24.3077 | $1,006.36 | $724.09
68750 | Create tear duct drain | Y |  | A2 | $630.00 | 24.3077 | $1,006.36 | $724.09
68760 | Close tear duct opening | N |  | P2 |  | 2.179 | $90.21 | $90.21
68761 | Close tear duct opening | N |  | P3 |  | 1.6869 | $69.84 | $69.84
68770 | Close tear system fistula | Y |  | A2 | $630.00 | 18.7307 | $775.47 | $666.37
68801 | Dilate tear duct opening | N |  | P2 |  | 0.8696 | $36.00 | $36.00
68810 | Probe nasolacrimal duct | N |  | A2 | $131.86 | 2.179 | $90.21 | $121.45
68811 | Probe nasolacrimal duct | Y |  | A2 | $446.00 | 18.7307 | $775.47 | $528.37
68815 | Probe nasolacrimal duct | Y |  | A2 | $446.00 | 18.7307 | $775.47 | $528.37
68816 * | Probe nl duct w/balloon | Y | NI | P3 |  | 10.4918 | $434.37 | $434.37
68840 | Explore/irrigate tear ducts | N | CH | P3 |  | 1.2756 | $52.81 | $52.81
68850 | Injection for tear sac x-ray | N |  | N1 |  |  |  |
69000 | Drain external ear lesion | Y |  | P2 |  | 1.4066 | $58.23 | $58.23
69005 | Drain external ear lesion | Y |  | P3 |  | 2.4357 | $100.84 | $100.84
69020 | Drain outer ear canal lesion | Y |  | P2 |  | 1.4066 | $58.23 | $58.23
69100 | Biopsy of external ear | Y |  | P3 |  | 1.4647 | $60.64 | $60.64
69105 | Biopsy of external ear canal | Y |  | P3 |  | 2.049 | $84.83 | $84.83
69110 | Remove external ear, partial | Y |  | A2 | $333.00 | 16.1001 | $666.56 | $416.39
69120 | Removal of external ear | Y |  | A2 | $446.00 | 23.9765 | $992.65 | $582.66
69140 | Remove ear canal lesion(s) | Y |  | A2 | $446.00 | 23.9765 | $992.65 | $582.66
69145 | Remove ear canal lesion(s) | Y |  | A2 | $446.00 | 16.1001 | $666.56 | $501.14
69150 | Extensive ear canal surgery | Y |  | A2 | $464.15 | 7.4474 | $308.33 | $425.20
69200 | Clear outer ear canal | N |  | P2 |  | 0.631 | $26.12 | $26.12
69205 | Clear outer ear canal | Y |  | A2 | $333.00 | 21.1098 | $873.97 | $468.24
69210 | Remove impacted ear wax | N |  | P3 |  | 0.4937 | $20.44 | $20.44
69220 | Clean out mastoid cavity | Y |  | P2 |  | 0.793 | $32.83 | $32.83
69222 | Clean out mastoid cavity | Y |  | P3 |  | 3.2176 | $133.21 | $133.21
69300 | Revise external ear | Y |  | A2 | $510.00 | 23.9765 | $992.65 | $630.66
69310 | Rebuild outer ear canal | Y |  | A2 | $510.00 | 39.8776 | $1,650.97 | $795.24
69320 | Rebuild outer ear canal | Y |  | A2 | $995.00 | 39.8776 | $1,650.97 | $1,158.99
69400 | Inflate middle ear canal | Y |  | P3 |  | 2.049 | $84.83 | $84.83
69401 | Inflate middle ear canal | Y |  | P3 |  | 1.1355 | $47.01 | $47.01
69405 | Catheterize middle ear canal | Y |  | P3 |  | 2.9458 | $121.96 | $121.96
69420 | Incision of eardrum | Y |  | P2 |  | 2.5002 | $103.51 | $103.51
69421 | Incision of eardrum | Y |  | A2 | $510.00 | 16.3288 | $676.03 | $551.51
69424 | Remove ventilating tube | Y |  | P3 |  | 1.8596 | $76.99 | $76.99
69433 | Create eardrum opening | Y |  | P3 |  | 2.6415 | $109.36 | $109.36
69436 | Create eardrum opening | Y |  | A2 | $510.00 | 16.3288 | $676.03 | $551.51
69440 | Exploration of middle ear | Y |  | A2 | $510.00 | 23.9765 | $992.65 | $630.66
69450 | Eardrum revision | Y |  | A2 | $333.00 | 39.8776 | $1,650.97 | $662.49
69501 | Mastoidectomy | Y |  | A2 | $995.00 | 39.8776 | $1,650.97 | $1,158.99
69502 | Mastoidectomy | Y |  | A2 | $995.00 | 23.9765 | $992.65 | $994.41
69505 | Remove mastoid structures | Y |  | A2 | $995.00 | 39.8776 | $1,650.97 | $1,158.99
69511 | Extensive mastoid surgery | Y |  | A2 | $995.00 | 39.8776 | $1,650.97 | $1,158.99
69530 | Extensive mastoid surgery | Y |  | A2 | $995.00 | 39.8776 | $1,650.97 | $1,158.99
69540 | Remove ear lesion | Y |  | P3 |  | 3.1434 | $130.14 | $130.14
69550 | Remove ear lesion | Y |  | A2 | $717.00 | 39.8776 | $1,650.97 | $950.49
69552 | Remove ear lesion | Y |  | A2 | $995.00 | 39.8776 | $1,650.97 | $1,158.99
69601 | Mastoid surgery revision | Y |  | A2 | $995.00 | 39.8776 | $1,650.97 | $1,158.99
69602 | Mastoid surgery revision | Y |  | A2 | $995.00 | 39.8776 | $1,650.97 | $1,158.99
69603 | Mastoid surgery revision | Y |  | A2 | $995.00 | 39.8776 | $1,650.97 | $1,158.99
69604 | Mastoid surgery revision | Y |  | A2 | $995.00 | 39.8776 | $1,650.97 | $1,158.99
69605 | Mastoid surgery revision | Y |  | A2 | $995.00 | 39.8776 | $1,650.97 | $1,158.99
69610 | Repair of eardrum | Y |  | P3 |  | 4.312 | $178.52 | $178.52
69620 | Repair of eardrum | Y |  | A2 | $446.00 | 23.9765 | $992.65 | $582.66
69631 | Repair eardrum structures | Y |  | A2 | $717.00 | 39.8776 | $1,650.97 | $950.49
69632 | Rebuild eardrum structures | Y |  | A2 | $717.00 | 39.8776 | $1,650.97 | $950.49
69633 | Rebuild eardrum structures | Y |  | A2 | $717.00 | 39.8776 | $1,650.97 | $950.49
69635 | Repair eardrum structures | Y |  | A2 | $995.00 | 39.8776 | $1,650.97 | $1,158.99
69636 | Rebuild eardrum structures | Y |  | A2 | $995.00 | 39.8776 | $1,650.97 | $1,158.99
69637 | Rebuild eardrum structures | Y |  | A2 | $995.00 | 39.8776 | $1,650.97 | $1,158.99
69641 | Revise middle ear & mastoid | Y |  | A2 | $995.00 | 39.8776 | $1,650.97 | $1,158.99
69642 | Revise middle ear & mastoid | Y |  | A2 | $995.00 | 39.8776 | $1,650.97 | $1,158.99
69643 | Revise middle ear & mastoid | Y |  | A2 | $995.00 | 39.8776 | $1,650.97 | $1,158.99
69644 | Revise middle ear & mastoid | Y |  | A2 | $995.00 | 39.8776 | $1,650.97 | $1,158.99
69645 | Revise middle ear & mastoid | Y |  | A2 | $995.00 | 39.8776 | $1,650.97 | $1,158.99
69646 | Revise middle ear & mastoid | Y |  | A2 | $995.00 | 39.8776 | $1,650.97 | $1,158.99
69650 | Release middle ear bone | Y |  | A2 | $995.00 | 23.9765 | $992.65 | $994.41
69660 | Revise middle ear bone | Y |  | A2 | $717.00 | 39.8776 | $1,650.97 | $950.49
69661 | Revise middle ear bone | Y |  | A2 | $717.00 | 39.8776 | $1,650.97 | $950.49
69662 | Revise middle ear bone | Y |  | A2 | $717.00 | 39.8776 | $1,650.97 | $950.49
69666 | Repair middle ear structures | Y |  | A2 | $630.00 | 39.8776 | $1,650.97 | $885.24
69667 | Repair middle ear structures | Y |  | A2 | $630.00 | 39.8776 | $1,650.97 | $885.24
69670 | Remove mastoid air cells | Y |  | A2 | $510.00 | 39.8776 | $1,650.97 | $795.24
69676 | Remove middle ear nerve | Y |  | A2 | $510.00 | 39.8776 | $1,650.97 | $795.24
69700 | Close mastoid fistula | Y |  | A2 | $510.00 | 39.8776 | $1,650.97 | $795.24
69711 | Remove/repair hearing aid | Y |  | A2 | $333.00 | 39.8776 | $1,650.97 | $662.49
69714 | Implant temple bone w/stimul | Y |  | A2 | $1,339.00 | 39.8776 | $1,650.97 | $1,416.99
69715 | Temple bne implnt w/stimulat | Y |  | A2 | $1,339.00 | 39.8776 | $1,650.97 | $1,416.99
69717 | Temple bone implant revision | Y |  | A2 | $1,339.00 | 39.8776 | $1,650.97 | $1,416.99
69718 | Revise temple bone implant | Y |  | A2 | $1,339.00 | 39.8776 | $1,650.97 | $1,416.99
69720 | Release facial nerve | Y |  | A2 | $717.00 | 39.8776 | $1,650.97 | $950.49
69740 | Repair facial nerve | Y |  | A2 | $717.00 | 39.8776 | $1,650.97 | $950.49
69745 | Repair facial nerve | Y |  | A2 | $717.00 | 39.8776 | $1,650.97 | $950.49
69801 | Incise inner ear | Y |  | A2 | $717.00 | 39.8776 | $1,650.97 | $950.49
69802 | Incise inner ear | Y |  | A2 | $995.00 | 39.8776 | $1,650.97 | $1,158.99
69805 | Explore inner ear | Y |  | A2 | $995.00 | 39.8776 | $1,650.97 | $1,158.99
69806 | Explore inner ear | Y |  | A2 | $995.00 | 39.8776 | $1,650.97 | $1,158.99
69820 | Establish inner ear window | Y |  | A2 | $717.00 | 39.8776 | $1,650.97 | $950.49
69840 | Revise inner ear window | Y |  | A2 | $717.00 | 39.8776 | $1,650.97 | $950.49
69905 | Remove inner ear | Y |  | A2 | $995.00 | 39.8776 | $1,650.97 | $1,158.99
69910 | Remove inner ear & mastoid | Y |  | A2 | $995.00 | 39.8776 | $1,650.97 | $1,158.99
69915 | Incise inner ear nerve | Y |  | A2 | $995.00 | 39.8776 | $1,650.97 | $1,158.99
69930 | Implant cochlear device | Y |  | H8 | $995.00 | 568.8394 | $23,550.52 | $22,213.76
69990 | Microsurgery add-on | N |  | N1 |  |  |  |
C9716 | Radiofrequency energy to anu | Y |  | G2 |  | 30.1606 | $1,248.68 | $1,248.68
C9724 | EPS gast cardia plic | Y |  | G2 |  | 25.3233 | $1,048.41 | $1,048.41
C9725 | Place endorectal app | N |  | G2 |  | 8.6351 | $357.50 | $357.50
C9726 | Rxt breast appl place/remov | N |  | G2 |  | 10.2051 | $422.50 | $422.50
C9727 | Insert palate implants | N |  | G2 |  | 13.3451 | $552.50 | $552.50
C9728 | Place device/marker, non pro | Y | CH | R2 |  | 3.0469 | $126.14 | $126.14
G0104 | CA screen;flexi sigmoidscope | N |  | P3 |  | 1.9748 | $81.76 | $81.76
G0105 | Colorectal scrn; hi risk ind | Y |  | A2 | $446.00 | 7.8504 | $325.01 | $415.75
G0121 | Colon ca scrn not hi rsk ind | Y |  | A2 | $446.00 | 7.8504 | $325.01 | $415.75
G0127 | Trim nail(s) | Y |  | P3 |  | 0.2633 | $10.90 | $10.90
G0186 | Dstry eye lesn,fdr vssl tech | Y |  | R2 |  | 4.1331 | $171.11 | $171.11
G0247 | Routine footcare pt w lops | Y |  | P3 |  | 0.4937 | $20.44 | $20.44
G0259 | Inject for sacroiliac joint | N |  | N1 |  |  |  |
G0260 | Inj for sacroiliac jt anesth | Y |  | A2 | $333.00 | 7.0546 | $292.07 | $322.77
G0268 | Removal of impacted wax md | N | CH | N1 |  |  |  |
G0269 | Occlusive device in vein art | N |  | N1 |  |  |  |
G0289 | Arthro, loose body + chondro | N |  | N1 |  |  |  |
G0364 | Bone marrow aspirate & biopsy | Y |  | P3 |  | 0.1234 | $5.11 | $5.11
G0392 | AV fistula or graft arterial | Y |  | A2 | $1,339.00 | 45.3845 | $1,878.96 | $1,473.99
G0393 | AV fistula or graft venous | Y |  | A2 | $1,339.00 | 45.3845 | $1,878.96 | $1,473.99
Note: The Medicare program payment is 80 percent of the total payment amount and beneficiary coinsurance is 20 percent of the total payment amount, except for screening flexible sigmoidoscopies and screening colonoscopies for which the program payment is 75 percent and the beneficiary coinsurance is 25 percent.
* Refers to codes designated as “office-based,” whose designation as office-based is temporary because we have insufficient claims data. We will reconsider this designation when new claims data become available.

Addendum BB.—ASC Covered Ancillary Services Integral to Covered Surgical Procedures for CY 2008
[Including Ancillary Services for Which Payment Is Packaged]
HCPCS code | Short descriptor | Comment indicator | Payment indicator | CY 2008 payment weight | CY 2008 payment
0028T | Dexa body composition study |  | N1 |  |
0042T | Ct perfusion w/contrast, cbf |  | N1 |  |
0054T | Bone surgery using computer | CH | D5 |  |
0055T | Bone surgery using computer | CH | D5 |  |
0056T | Bone surgery using computer | CH | D5 |  |
0067T | Ct colonography;dx |  | Z2 | 3.0109 | $124.65
0071T | U/s leiomyomata ablate <200 |  | Z2 | 61.6965 | $2,554.30
0072T | U/s leiomyomata ablate >200 |  | Z2 | 61.6965 | $2,554.30
0073T | Delivery, comp imrt |  | Z2 | 5.4582 | $225.97
0126T | Chd risk imt study |  | N1 |  |
0144T | Ct heart wo dye; qual calc |  | Z2 | 1.5839 | $65.58
0145T | Ct heart w/wo dye funct |  | Z2 | 4.7005 | $194.61
0146T | Ccta w/wo dye |  | Z2 | 4.7005 | $194.61
0147T | Ccta w/wo, quan calcium |  | Z2 | 4.7005 | $194.61
0148T | Ccta w/wo, strxr |  | Z2 | 4.7005 | $194.61
0149T | Ccta w/wo, strxr quan calc |  | Z2 | 4.7005 | $194.61
0150T | Ccta w/wo, disease strxr |  | Z2 | 4.7005 | $194.61
0151T | Ct heart funct add-on |  | Z2 | 1.5839 | $65.58
0159T | Cad breast mri |  | N1 |  |
0174T | Cad cxr with interp |  | N1 |  |
0175T | Cad cxr remote |  | N1 |  |
0182T | Hdr elect brachytherapy | CH | Z2 | 27.4752 | $1,137.50
0185T | Comptr probability analysis | NI | N1 |  |
70010 | Contrast x-ray of brain | CH | N1 |  |
70015 | Contrast x-ray of brain | CH | N1 |  |
70030 | X-ray eye for foreign body |  | Z3 | 0.3949 | $16.35
70100 | X-ray exam of jaw |  | Z3 | 0.4526 | $18.74
70110 | X-ray exam of jaw |  | Z3 | 0.5514 | $22.83
70120 | X-ray exam of mastoids |  | Z3 | 0.5183 | $21.46
70130 | X-ray exam of mastoids |  | Z2 | 0.6954 | $28.79
70134 | X-ray exam of middle ear |  | Z3 | 0.6253 | $25.89
70140 | X-ray exam of facial bones |  | Z3 | 0.4609 | $19.08
70150 | X-ray exam of facial bones |  | Z3 | 0.6336 | $26.23
70160 | X-ray exam of nasal bones |  | Z3 | 0.4773 | $19.76
70170 | X-ray exam of tear duct | CH | N1 |  |
70190 | X-ray exam of eye sockets |  | Z3 | 0.5266 | $21.80
70200 | X-ray exam of eye sockets |  | Z3 | 0.6418 | $26.57
70210 | X-ray exam of sinuses |  | Z3 | 0.4691 | $19.42
70220 | X-ray exam of sinuses |  | Z3 | 0.5925 | $24.53
70240 | X-ray exam, pituitary saddle |  | Z3 | 0.3949 | $16.35
70250 | X-ray exam of skull |  | Z3 | 0.5101 | $21.12
70260 | X-ray exam of skull |  | Z3 | 0.6831 | $28.28
70300 | X-ray exam of teeth |  | Z3 | 0.1894 | $7.84
70310 | X-ray exam of teeth |  | Z3 | 0.4855 | $20.10
70320 | Full mouth x-ray of teeth |  | Z2 | 0.5749 | $23.80
70328 | X-ray exam of jaw joint |  | Z3 | 0.4362 | $18.06
70330 | X-ray exam of jaw joints | CH | Z2 | 0.6954 | $28.79
70332 | X-ray exam of jaw joint | CH | N1 |  |
70336 | Magnetic image, jaw joint |  | Z2 | 4.883 | $202.16
70350 | X-ray head for orthodontia |  | Z3 | 0.2715 | $11.24
70355 | Panoramic x-ray of jaws |  | Z3 | 0.3292 | $13.63
70360 | X-ray exam of neck |  | Z3 | 0.3785 | $15.67
70370 | Throat x-ray & fluoroscopy |  | Z3 | 1.1768 | $48.72
70371 | Speech evaluation, complex |  | Z2 | 1.3271 | $54.94
70373 | Contrast x-ray of larynx | CH | N1 |  |
70380 | X-ray exam of salivary gland |  | Z3 | 0.5925 | $24.53
70390 | X-ray exam of salivary duct | CH | N1 |  |
70450 | Ct head/brain w/o dye |  | Z2 | 3.0109 | $124.65
70460 | Ct head/brain w/dye |  | Z2 | 4.3564 | $180.36
70470 | Ct head/brain w/o & w/dye |  | Z2 | 5.1125 | $211.66
70480 | Ct orbit/ear/fossa w/o dye |  | Z2 | 3.0109 | $124.65
70481 | Ct orbit/ear/fossa w/dye |  | Z2 | 4.3564 | $180.36
70482 | Ct orbit/ear/fossa w/o & w/dye |  | Z2 | 5.1125 | $211.66
70486 | Ct maxillofacial w/o dye |  | Z2 | 3.0109 | $124.65
70487 | Ct maxillofacial w/dye |  | Z2 | 4.3564 | $180.36
70488 | Ct maxillofacial w/o & w/dye |  | Z2 | 5.1125 | $211.66
70490 | Ct soft tissue neck w/o dye |  | Z2 | 3.0109 | $124.65
70491 | Ct soft tissue neck w/dye |  | Z2 | 4.3564 | $180.36
70492 | Ct sft tsue nck w/o & w/dye |  | Z2 | 5.1125 | $211.66
70496 | Ct angiography, head |  | Z2 | 5.1641 | $213.80
70498 | Ct angiography, neck |  | Z2 | 5.1641 | $213.80
70540 | Mri orbit/face/neck w/o dye |  | Z2 | 5.3933 | $223.29
70542 | Mri orbit/face/neck w/dye |  | Z2 | 6.235 | $258.14
70543 | Mri orbt/fac/nck w/o & w/dye |  | Z2 | 8.2463 | $341.41
70544 | Mr angiography head w/o dye |  | Z2 | 5.3933 | $223.29
70545 | Mr angiography head w/dye |  | Z2 | 6.235 | $258.14
70546 | Mr angiograph head w/o & w/dye |  | Z2 | 8.2463 | $341.41
70547 | Mr angiography neck w/o dye |  | Z2 | 5.3933 | $223.29
70548 | Mr angiography neck w/dye |  | Z2 | 6.235 | $258.14
70549 | Mr angiograph neck w/o & w/dye |  | Z2 | 8.2463 | $341.41
70551 | Mri brain w/o dye |  | Z2 | 5.3933 | $223.29
70552 | Mri brain w/dye |  | Z2 | 6.235 | $258.14
70553 | Mri brain w/o & w/dye |  | Z2 | 8.2463 | $341.41
70554 | Fmri brain by tech |  | Z2 | 5.3933 | $223.29
70555 | Fmri brain by phys/psych |  | Z2 | 5.3933 | $223.29
70557 | Mri brain w/o dye |  | Z2 | 5.3933 | $223.29
70558 | Mri brain w/dye |  | Z2 | 6.235 | $258.14
70559 | Mri brain w/o & w/dye |  | Z2 | 8.2463 | $341.41
71010 | Chest x-ray |  | Z3 | 0.3456 | $14.31
71015 | Chest x-ray |  | Z3 | 0.4196 | $17.37
71020 | Chest x-ray |  | Z3 | 0.4609 | $19.08
71021 | Chest x-ray |  | Z3 | 0.5596 | $23.17
71022 | Chest x-ray |  | Z3 | 0.6253 | $25.89
71023 | Chest x-ray and fluoroscopy |  | Z3 | 0.8968 | $37.13
71030 | Chest x-ray |  | Z3 | 0.6582 | $27.25
71034 | Chest x-ray and fluoroscopy |  | Z2 | 1.3271 | $54.94
71035 | Chest x-ray |  | Z3 | 0.5101 | $21.12
71040 | Contrast x-ray of bronchi | CH | N1 |  |
71060 | Contrast x-ray of bronchi | CH | N1 |  |
71090 | X-ray & pacemaker insertion | CH | N1 |  |
71100 | X-ray exam of ribs |  | Z3 | 0.4609 | $19.08
71101 | X-ray exam of ribs/chest |  | Z3 | 0.5514 | $22.83
71110 | X-ray exam of ribs |  | Z3 | 0.6007 | $24.87
71111 | X-ray exam of ribs/chest |  | Z3 | 0.7652 | $31.68
71120 | X-ray exam of breastbone |  | Z3 | 0.5019 | $20.78
71130 | X-ray exam of breastbone |  | Z3 | 0.5679 | $23.51
71250 | Ct thorax w/o dye |  | Z2 | 3.0109 | $124.65
71260 | Ct thorax w/dye |  | Z2 | 4.3564 | $180.36
71270 | Ct thorax w/o & w/dye |  | Z2 | 5.1125 | $211.66
71275 | Ct angiography, chest |  | Z2 | 5.1641 | $213.80
71550 | Mri chest w/o dye |  | Z2 | 5.3933 | $223.29
71551 | Mri chest w/dye |  | Z2 | 6.235 | $258.14
71552 | Mri chest w/o & w/dye |  | Z2 | 8.2463 | $341.41
72010 | X-ray exam of spine |  | Z2 | 0.6954 | $28.79
72020 | X-ray exam of spine |  | Z3 | 0.3456 | $14.31
72040 | X-ray exam of neck spine |  | Z3 | 0.5348 | $22.14
72050 | X-ray exam of neck spine |  | Z3 | 0.7652 | $31.68
72052 | X-ray exam of neck spine |  | Z3 | 0.9874 | $40.88
72069 | X-ray exam of trunk spine |  | Z3 | 0.4773 | $19.76
72070 | X-ray exam of thoracic spine |  | Z3 | 0.5019 | $20.78
72072 | X-ray exam of thoracic spine |  | Z3 | 0.5843 | $24.19
72074 | X-ray exam of thoracic spine | CH | Z2 | 0.6954 | $28.79
72080 | X-ray exam of trunk spine |  | Z3 | 0.5266 | $21.80
72090 | X-ray exam of trunk spine |  | Z3 | 0.65 | $26.91
72100 | X-ray exam of lower spine |  | Z3 | 0.5761 | $23.85
72110 | X-ray exam of lower spine |  | Z3 | 0.7983 | $33.05
72114 | X-ray exam of lower spine |  | Z3 | 1.078 | $44.63
72120 | X-ray exam of lower spine |  | Z3 | 0.7734 | $32.02
72125 | Ct neck spine w/o dye |  | Z2 | 3.0109 | $124.65
72126 | Ct neck spine w/dye |  | Z2 | 4.3564 | $180.36
72127 | Ct neck spine w/o & w/dye |  | Z2 | 5.1125 | $211.66
72128 | Ct chest spine w/o dye |  | Z2 | 3.0109 | $124.65
72129 | Ct chest spine w/dye |  | Z2 | 4.3564 | $180.36
72130 | Ct chest spine w/o & w/dye |  | Z2 | 5.1125 | $211.66
72131 | Ct lumbar spine w/o dye |  | Z2 | 3.0109 | $124.65
72132 | Ct lumbar spine w/dye |  | Z2 | 4.3564 | $180.36
72133 | Ct lumbar spine w/o & w/dye |  | Z2 | 5.1125 | $211.66
72141 | Mri neck spine w/o dye |  | Z2 | 5.3933 | $223.29
72142 | Mri neck spine w/dye |  | Z2 | 6.235 | $258.14
72146 | Mri chest spine w/o dye |  | Z2 | 5.3933 | $223.29
72147 | Mri chest spine w/dye |  | Z2 | 6.235 | $258.14
72148 | Mri lumbar spine w/o dye |  | Z2 | 5.3933 | $223.29
72149 | Mri lumbar spine w/dye |  | Z2 | 6.235 | $258.14
72156 | Mri neck spine w/o & w/dye |  | Z2 | 8.2463 | $341.41
72157 | Mri chest spine w/o & w/dye |  | Z2 | 8.2463 | $341.41
72158 | Mri lumbar spine w/o & w/dye |  | Z2 | 8.2463 | $341.41
72170 | X-ray exam of pelvis |  | Z3 | 0.3949 | $16.35
72190 | X-ray exam of pelvis |  | Z3 | 0.5925 | $24.53
72191 | Ct angiograph pelv w/o & w/dye |  | Z2 | 5.1641 | $213.80
72192 | Ct pelvis w/o dye |  | Z2 | 3.0109 | $124.65
72193 | Ct pelvis w/dye |  | Z2 | 4.3564 | $180.36
72194 | Ct pelvis w/o & w/dye |  | Z2 | 5.1125 | $211.66
72195 | Mri pelvis w/o dye |  | Z2 | 5.3933 | $223.29
72196 | Mri pelvis w/dye |  | Z2 | 6.235 | $258.14
72197 | Mri pelvis w/o & w/dye |  | Z2 | 8.2463 | $341.41
72200 | X-ray exam sacroiliac joints |  | Z3 | 0.4362 | $18.06
72202 | X-ray exam sacroiliac joints |  | Z3 | 0.5348 | $22.14
72220 | X-ray exam of tailbone |  | Z3 | 0.4526 | $18.74
72240 | Contrast x-ray of neck spine | CH | N1 |  |
72255 | Contrast x-ray, thorax spine | CH | N1 |  |
72265 | Contrast x-ray, lower spine | CH | N1 |  |
72270 | Contrast x-ray, spine | CH | N1 |  |
72275 | Epidurography | CH | N1 |  |
72285 | X-ray c/t spine disk | CH | N1 |  |
72291 | Perq vertebroplasty, fluor | CH | N1 |  |
72292 | Perq vertebroplasty, ct | CH | N1 |  |
72295 | X-ray of lower spine disk | CH | N1 |  |
73000 | X-ray exam of collar bone |  | Z3 | 0.4196 | $17.37
73010 | X-ray exam of shoulder blade |  | Z3 | 0.428 | $17.72
73020 | X-ray exam of shoulder |  | Z3 | 0.3539 | $14.65
73030 | X-ray exam of shoulder |  | Z3 | 0.4444 | $18.40
73040 | Contrast x-ray of shoulder | CH | N1 |  |
73050 | X-ray exam of shoulders |  | Z3 | 0.5432 | $22.49
73060 | X-ray exam of humerus |  | Z3 | 0.4444 | $18.40
73070 | X-ray exam of elbow |  | Z3 | 0.4196 | $17.37
73080 | X-ray exam of elbow |  | Z3 | 0.5183 | $21.46
73085 | Contrast x-ray of elbow | CH | N1 |  |
73090 | X-ray exam of forearm |  | Z3 | 0.4196 | $17.37
73092 | X-ray exam of arm, infant |  | Z3 | 0.4196 | $17.37
73100 | X-ray exam of wrist |  | Z3 | 0.428 | $17.72
73110 | X-ray exam of wrist |  | Z3 | 0.5101 | $21.12
73115 | Contrast x-ray of wrist | CH | N1 |  |
73120 | X-ray exam of hand |  | Z3 | 0.4113 | $17.03
73130 | X-ray exam of hand |  | Z3 | 0.4691 | $19.42
73140 | X-ray exam of finger(s) |  | Z3 | 0.4362 | $18.06
73200 | Ct upper extremity w/o dye |  | Z2 | 3.0109 | $124.65
73201 | Ct upper extremity w/dye |  | Z2 | 4.3564 | $180.36
73202 | Ct uppr extremity w/o & w/dye |  | Z2 | 5.1125 | $211.66
73206 | Ct angio upr extrm w/o & w/dye |  | Z2 | 5.1641 | $213.80
73218 | Mri upper extremity w/o dye |  | Z2 | 5.3933 | $223.29
73219 | Mri upper extremity w/dye |  | Z2 | 6.235 | $258.14
73220 | Mri uppr extremity w/o & w/dye |  | Z2 | 8.2463 | $341.41
73221 | Mri joint upr extrem w/o dye |  | Z2 | 5.3933 | $223.29
73222 | Mri joint upr extrem w/dye |  | Z2 | 6.235 | $258.14
73223 | Mri joint upr extr w/o & w/dye |  | Z2 | 8.2463 | $341.41
73500 | X-ray exam of hip |  | Z3 | 0.3703 | $15.33
73510 | X-ray exam of hip |  | Z3 | 0.5266 | $21.80
73520 | X-ray exam of hips |  | Z3 | 0.5596 | $23.17
73525 | Contrast x-ray of hip | CH | N1 |  |
73530 | X-ray exam of hip | CH | N1 |  |
73540 | X-ray exam of pelvis & hips |  | Z3 | 0.5348 | $22.14
73542 | X-ray exam, sacroiliac joint | CH | N1 |  |
73550 | X-ray exam of thigh |  | Z3 | 0.4362 | $18.06
73560 | X-ray exam of knee, 1 or 2 |  | Z3 | 0.428 | $17.72
73562 | X-ray exam of knee, 3 |  | Z3 | 0.5101 | $21.12
73564 | X-ray exam, knee, 4 or more |  | Z3 | 0.5761 | $23.85
73565 | X-ray exam of knees |  | Z3 | 0.4444 | $18.40
73580 | Contrast x-ray of knee joint | CH | N1 |  |
73590 | X-ray exam of lower leg |  | Z3 | 0.4113 | $17.03
73592 | X-ray exam of leg, infant |  | Z3 | 0.4196 | $17.37
73600 | X-ray exam of ankle |  | Z3 | 0.4113 | $17.03
73610 | X-ray exam of ankle |  | Z3 | 0.4691 | $19.42
73615 | Contrast x-ray of ankle | CH | N1 |  |
73620 | X-ray exam of foot |  | Z3 | 0.4031 | $16.69
73630 | X-ray exam of foot |  | Z3 | 0.4691 | $19.42
73650 | X-ray exam of heel |  | Z3 | 0.3949 | $16.35
73660 | X-ray exam of toe(s) |  | Z3 | 0.4196 | $17.37
73700 | Ct lower extremity w/o dye |  | Z2 | 3.0109 | $124.65
73701 | Ct lower extremity w/dye |  | Z2 | 4.3564 | $180.36
73702 | Ct lwr extremity w/o & w/dye |  | Z2 | 5.1125 | $211.66
73706 | Ct angio lwr extr w/o & w/dye |  | Z2 | 5.1641 | $213.80
73718 | Mri lower extremity w/o dye |  | Z2 | 5.3933 | $223.29
73719 | Mri lower extremity w/dye |  | Z2 | 6.235 | $258.14
73720 | Mri lwr extremity w/o & w/dye |  | Z2 | 8.2463 | $341.41
73721 | Mri jnt of lwr extre w/o dye |  | Z2 | 5.3933 | $223.29
73722 | Mri joint of lwr extr w/dye |  | Z2 | 6.235 | $258.14
73723 | Mri joint lwr extr w/o & w/dye |  | Z2 | 8.2463 | $341.41
74000 | X-ray exam of abdomen |  | Z3 | 0.3785 | $15.67
74010 | X-ray exam of abdomen |  | Z3 | 0.5266 | $21.80
74020 | X-ray exam of abdomen |  | Z3 | 0.5514 | $22.83
74022 | X-ray exam series, abdomen |  | Z3 | 0.6582 | $27.25
74150 | Ct abdomen w/o dye |  | Z2 | 3.0109 | $124.65
74160 | Ct abdomen w/dye |  | Z2 | 4.3564 | $180.36
74170 | Ct abdomen w/o & w/dye |  | Z2 | 5.1125 | $211.66
74175 | Ct angio abdom w/o & w/dye |  | Z2 | 5.1641 | $213.80
74181 | Mri abdomen w/o dye |  | Z2 | 5.3933 | $223.29
74182 | Mri abdomen w/dye |  | Z2 | 6.235 | $258.14
74183 | Mri abdomen w/o & w/dye |  | Z2 | 8.2463 | $341.41
74190 | X-ray exam of peritoneum | CH | N1 |  |
74210 | Contrst x-ray exam of throat |  | Z3 | 1.1686 | $48.38
74220 | Contrast x-ray, esophagus |  | Z3 | 1.2507 | $51.78
74230 | Cine/vid x-ray, throat/esoph |  | Z3 | 1.2674 | $52.47
74235 | Remove esophagus obstruction | CH | N1 |  |
74240 | X-ray exam, upper gi tract | CH | Z2 | 1.3834 | $57.27
74241 | X-ray exam, upper gi tract |  | Z2 | 1.3834 | $57.27
74245 | X-ray exam, upper gi tract |  | Z2 | 2.2222 | $92.00
74246 | Contrst x-ray uppr gi tract |  | Z2 | 1.3834 | $57.27
74247 | Contrst x-ray uppr gi tract |  | Z2 | 1.3834 | $57.27
74249 | Contrst x-ray uppr gi tract |  | Z2 | 2.2222 | $92.00
74250 | X-ray exam of small bowel | CH | Z2 | 1.3834 | $57.27
74251 | X-ray exam of small bowel |  | Z2 | 2.2222 | $92.00
74260 | X-ray exam of small bowel |  | Z2 | 1.3834 | $57.27
74270 | Contrast x-ray exam of colon |  | Z2 | 1.3834 | $57.27
74280 | Contrast x-ray exam of colon |  | Z2 | 2.2222 | $92.00
74283 | Contrast x-ray exam of colon |  | Z2 | 1.3834 | $57.27
74290 | Contrast x-ray, gallbladder |  | Z3 | 0.9053 | $37.48
74291 | Contrast x-rays, gallbladder |  | Z3 | 0.7816 | $32.36
74300 | X-ray bile ducts/pancreas | CH | N1 |  |
74301 | X-rays at surgery add-on | CH | N1 |  |
74305 | X-ray bile ducts/pancreas | CH | N1 |  |
74320 | Contrast x-ray of bile ducts | CH | N1 |  |
74327 | X-ray bile stone removal | CH | N1 |  |
74328 | X-ray bile duct endoscopy |  | N1 |  |
74329 | X-ray for pancreas endoscopy |  | N1 |  |
74330 | X-ray bile/panc endoscopy |  | N1 |  |
74340 | X-ray guide for gi tube | CH | N1 |  |
74350 | X-ray guide, stomach tube | CH | D5 |  |
74355 | X-ray guide, intestinal tube | CH | N1 |  |
74360 | X-ray guide, gi dilation | CH | N1 |  |
74363 | X-ray, bile duct dilation | CH | N1 |  |
74400 | Contrst x-ray, urinary tract |  | Z3 | 1.6869 | $69.84
74410 | Contrst x-ray, urinary tract |  | Z3 | 1.835 | $75.97
74415 | Contrst x-ray, urinary tract |  | Z3 | 2.1478 | $88.92
74420 | Contrst x-ray, urinary tract |  | Z2 | 2.6121 | $108.14
74425 | Contrst x-ray, urinary tract | CH | N1 |  |
74430 | Contrast x-ray, bladder | CH | N1 |  |
74440 | X-ray, male genital tract | CH | N1 |  |
74445 | X-ray exam of penis | CH | N1 |  |
74450 | X-ray, urethra/bladder | CH | N1 |  |
74455 | X-ray, urethra/bladder | CH | N1 |  |
74470 | X-ray exam of kidney lesion | CH | N1 |  |
74475 | X-ray control, cath insert | CH | N1 |  |
74480 | X-ray control, cath insert | CH | N1 |  |
74485 | X-ray guide, gu dilation | CH | N1 |  |
74710 | X-ray measurement of pelvis |  | Z3 | 0.65 | $26.91
74740 | X-ray, female genital tract | CH | N1 |  |
74742 | X-ray, fallopian tube | CH | N1 |  |
74775 | X-ray exam of perineum |  | Z2 | 2.6121 | $108.14
75552 | Heart mri for morph w/o dye | CH | D5 |  |
75553 | Heart mri for morph w/dye | CH | D5 |  |
75554 | Cardiac MRI/function | CH | D5 |  |
75555 | Cardiac MRI/limited study | CH | D5 |  |
75557 | Cardiac mri for morph | NI | Z2 | 5.3933 | $223.29
75559 | Cardiac mri w/stress img | NI | Z2 | 5.3933 | $223.29
75561 | Cardiac mri for morph w/dye | NI | Z2 | 8.2463 | $341.41
75563 | Card mri w/stress img & dye | NI | Z2 | 8.2463 | $341.41
75600 | Contrast x-ray exam of aorta | CH | N1 |  |
75605 | Contrast x-ray exam of aorta | CH | N1 |  |
75625 | Contrast x-ray exam of aorta | CH | N1 |  |
75630 | X-ray aorta, leg arteries | CH | N1 |  |
75635 | Ct angio abdominal arteries | CH | N1 |  |
75650 | Artery x-rays, head & neck | CH | N1 |  |
75658 | Artery x-rays, arm | CH | N1 |  |
75660 | Artery x-rays, head & neck | CH | N1 |  |
75662 | Artery x-rays, head & neck | CH | N1 |  |
75665 | Artery x-rays, head & neck | CH | N1 |  |
75671 | Artery x-rays, head & neck | CH | N1 |  |
75676 | Artery x-rays, neck | CH | N1 |  |
75680 | Artery x-rays, neck | CH | N1 |  |
75685 | Artery x-rays, spine | CH | N1 |  |
75705 | Artery x-rays, spine | CH | N1 |  |
75710 | Artery x-rays, arm/leg | CH | N1 |  |
75716 | Artery x-rays, arms/legs | CH | N1 |  |
75722 | Artery x-rays, kidney | CH | N1 |  |
75724 | Artery x-rays, kidneys | CH | N1 |  |
75726 | Artery x-rays, abdomen | CH | N1 |  |
75731 | Artery x-rays, adrenal gland | CH | N1 |  |
75733 | Artery x-rays, adrenals | CH | N1 |  |
75736 | Artery x-rays, pelvis | CH | N1 |  |
75741 | Artery x-rays, lung | CH | N1 |  |
75743 | Artery x-rays, lungs | CH | N1 |  |
75746 | Artery x-rays, lung | CH | N1 |  |
75756 | Artery x-rays, chest | CH | N1 |  |
75774 | Artery x-ray, each vessel | CH | N1 |  |
75790 | Visualize a-v shunt | CH | N1 |  |
75801 | Lymph vessel x-ray, arm/leg | CH | N1 |  |
75803 | Lymph vessel x-ray,arms/legs | CH | N1 |  |
75805 | Lymph vessel x-ray, trunk | CH | N1 |  |
75807 | Lymph vessel x-ray, trunk | CH | N1 |  |
75809 | Nonvascular shunt, x-ray | CH | N1 |  |
75810 | Vein x-ray, spleen/liver | CH | N1 |  |
75820 | Vein x-ray, arm/leg | CH | N1 |  |
75822 | Vein x-ray, arms/legs | CH | N1 |  |
75825 | Vein x-ray, trunk | CH | N1 |  |
75827 | Vein x-ray, chest | CH | N1 |  |
75831 | Vein x-ray, kidney | CH | N1 |  |
75833 | Vein x-ray, kidneys | CH | N1 |  |
75840 | Vein x-ray, adrenal gland | CH | N1 |  |
75842 | Vein x-ray, adrenal glands | CH | N1 |  |
75860 | Vein x-ray, neck | CH | N1 |  |
75870 | Vein x-ray, skull | CH | N1 |  |
75872 | Vein x-ray, skull | CH | N1 |  |
75880 | Vein x-ray, eye socket | CH | N1 |  |
75885 | Vein x-ray, liver | CH | N1 |  |
75887 | Vein x-ray, liver | CH | N1 |  |
75889 | Vein x-ray, liver | CH | N1 |  |
75891 | Vein x-ray, liver | CH | N1 |  |
75893 | Venous sampling by catheter |  | N1 |  |
75894 | X-rays, transcath therapy | CH | N1 |  |
75896 | X-rays, transcath therapy | CH | N1 |  |
75898 | Follow-up angiography | CH | N1 |  |
75901 | Remove cva device obstruct | CH | N1 |  |
75902 | Remove cva lumen obstruct | CH | N1 |  |
75940 | X-ray placement, vein filter | CH | N1 |  |
75945 | Intravascular us | CH | N1 |  |
75946 | Intravascular us add-on | CH | N1 |  |
75960 | Transcath iv stent rs & i | CH | N1 |  |
75961 | Retrieval, broken catheter | CH | N1 |  |
75962 | Repair arterial blockage | CH | N1 |  |
75964 | Repair artery blockage, each | CH | N1 |  |
75966 | Repair arterial blockage | CH | N1 |  |
75968 | Repair artery blockage, each | CH | N1 |  |
75970 | Vascular biopsy | CH | N1 |  |
75978 | Repair venous blockage | CH | N1 |  |
75980 | Contrast xray exam bile duct | CH | N1 |  |
75982 | Contrast xray exam bile duct | CH | N1 |  |
75984 | Xray control catheter change | CH | N1 |  |
75989 | Abscess drainage under x-ray |  | N1 |  |
75992 | Atherectomy, x-ray exam | CH | N1 |  |
75993 | Atherectomy, x-ray exam | CH | N1 |  |
75994 | Atherectomy, x-ray exam | CH | N1 |  |
75995 | Atherectomy, x-ray exam | CH | N1 |  |
75996 | Atherectomy, x-ray exam | CH | N1 |  |
76000 | Fluoroscope examination | CH | N1 |  |
76001 | Fluoroscope exam, extensive |  | N1 |  |
76010 | X-ray, nose to rectum |  | Z3 | 0.4113 | $17.03
76080 | X-ray exam of fistula | CH | N1 |  |
76098 | X-ray exam, breast specimen |  | Z3 | 0.2797 | $11.58
76100 | X-ray exam of body section |  | Z2 | 1.157 | $47.90
76101 | Complex body section x-ray |  | Z2 | 2.6838 | $111.11
76102 | Complex body section x-rays |  | Z2 | 2.6838 | $111.11
76120 | Cine/video x-rays |  | Z3 | 1.1521 | $47.70
76125 | Cine/video x-rays add-on | CH | N1 |  |
76150 | X-ray exam, dry process |  | Z3 | 0.4526 | $18.74
76350 | Special x-ray contrast study |  | N1 |  |
76376 | 3d render w/o postprocess | CH | N1 |  |
76377 | 3d rendering w/postprocess | CH | N1 |  |
76380 | Cat scan follow-up study |  | Z2 | 1.5839 | $65.58
76496 | Fluoroscopic procedure |  | Z2 | 1.3271 | $54.94
76497 | Ct procedure |  | Z2 | 1.5839 | $65.58
76498 | Mri procedure |  | Z2 | 4.883 | $202.16
76499 | Radiographic procedure |  | Z2 | 0.6954 | $28.79
76506 | Echo exam of head |  | Z2 | 0.957 | $39.62
76510 | Ophth us, b & quant a | CH | Z3 | 1.5963 | $66.09
76511 | Ophth us, quant a only |  | Z3 | 1.2589 | $52.12
76512 | Ophth us, b w/non-quant a |  | Z3 | 1.0862 | $44.97
76513 | Echo exam of eye, water bath |  | Z3 | 1.1604 | $48.04
76514 | Echo exam of eye, thickness |  | Z3 | 0.0659 | $2.73
76516 | Echo exam of eye |  | Z3 | 0.9053 | $37.48
76519 | Echo exam of eye |  | Z3 | 0.9874 | $40.88
76529 | Echo exam of eye |  | Z3 | 0.8558 | $35.43
76536 | Us exam of head and neck | CH | Z2 | 1.5094 | $62.49
76604 | Us exam, chest |  | Z2 | 0.957 | $39.62
76645 | Us exam, breast(s) |  | Z2 | 0.957 | $39.62
76700 | Us exam, abdom, complete |  | Z2 | 1.5094 | $62.49
76705 | Echo exam of abdomen |  | Z3 | 1.4647 | $60.64
76770 | Us exam abdo back wall, comp |  | Z2 | 1.5094 | $62.49
76775 | Us exam abdo back wall, lim |  | Z3 | 1.4893 | $61.66
76776 | Us exam k transpl w/doppler |  | Z2 | 1.5094 | $62.49
76800 | Us exam, spinal canal |  | Z3 | 1.4154 | $58.60
76801 | Ob us < 14 wks, single fetus |  | Z2 | 1.5094 | $62.49
76802 | Ob us < 14 wks, add?l fetus |  | Z3 | 0.7241 | $29.98
76805 | Ob us >/= 14 wks, sngl fetus |  | Z2 | 1.5094 | $62.49
76810 | Ob us >/= 14 wks, addl fetus |  | Z3 | 0.9874 | $40.88
76811 | Ob us, detailed, sngl fetus | CH | Z2 | 2.3792 | $98.50
76812 | Ob us, detailed, addl fetus |  | Z2 | 0.957 | $39.62
76813 | Ob us nuchal meas, 1 gest |  | Z3 | 1.4893 | $61.66
76814 | Ob us nuchal meas, add-on |  | Z3 | 0.7077 | $29.30
76815 | Ob us, limited, fetus(s) |  | Z2 | 0.957 | $39.62
76816 | Ob us, follow-up, per fetus |  | Z2 | 0.957 | $39.62
76817 | Transvaginal us, obstetric |  | Z2 | 0.957 | $39.62
76818 | Fetal biophys profile w/nst |  | Z3 | 1.4483 | $59.96
76819 | Fetal biophys profil w/o nst |  | Z3 | 1.2343 | $51.10
76820 | Umbilical artery echo |  | Z3 | 0.8311 | $34.41
76821 | Middle cerebral artery echo |  | Z3 | 1.3495 | $55.87
76825 | Echo exam of fetal heart |  | Z2 | 1.5094 | $62.49
76826 | Echo exam of fetal heart | CH | Z2 | 0.957 | $39.62
76827 | Echo exam of fetal heart | CH | Z2 | 0.957 | $39.62
76828 | Echo exam of fetal heart |  | Z3 | 0.65 | $26.91
76830 | Transvaginal us, non-ob |  | Z2 | 1.5094 | $62.49
76831 | Echo exam, uterus |  | Z3 | 1.6623 | $68.82
76856 | Us exam, pelvic, complete |  | Z2 | 1.5094 | $62.49
76857 | Us exam, pelvic, limited |  | Z2 | 0.957 | $39.62
76870 | Us exam, scrotum |  | Z2 | 1.5094 | $62.49
76872 | Us, transrectal |  | Z2 | 1.5094 | $62.49
76873 | Echograp trans r, pros study |  | Z2 | 1.5094 | $62.49
76880 | Us exam, extremity |  | Z2 | 1.5094 | $62.49
76885 | Us exam infant hips, dynamic |  | Z2 | 0.957 | $39.62
76886 | Us exam infant hips, static |  | Z2 | 0.957 | $39.62
76930 | Echo guide, cardiocentesis | CH | N1 |  |
76932 | Echo guide for heart biopsy | CH | N1 |  |
76936 | Echo guide for artery repair | CH | N1 |  |
76937 | Us guide, vascular access |  | N1 |  |
76940 | Us guide, tissue ablation | CH | N1 |  |
76941 | Echo guide for transfusion | CH | N1 |  |
76942 | Echo guide for biopsy | CH | N1 |  |
76945 | Echo guide, villus sampling | CH | N1 |  |
76946 | Echo guide for amniocentesis | CH | N1 |  |
76948 | Echo guide, ova aspiration | CH | N1 |  |
76950 | Echo guidance radiotherapy | CH | N1 |  |
76965 | Echo guidance radiotherapy | CH | N1 |  |
76970 | Ultrasound exam follow-up |  | Z2 | 0.957 | $39.62
76975 | Gi endoscopic ultrasound | CH | N1 |  |
76977 | Us bone density measure |  | Z3 | 0.3785 | $15.67
76998 | Us guide, intraop | CH | N1 |  |
76999 | Echo examination procedure |  | Z2 | 0.957 | $39.62
77001 | Fluoroguide for vein device |  | N1 |  |
77002 | Needle localization by xray |  | N1 |  |
77003 | Fluoroguide for spine inject |  | N1 |  |
77011 | Ct scan for localization | CH | N1 |  |
77012 | Ct scan for needle biopsy | CH | N1 |  |
77013 | Ct guide for tissue ablation | CH | N1 |  |
77014 | Ct scan for therapy guide | CH | N1 |  |
77021 | Mr guidance for needle place | CH | N1 |  |
77022 | Mri for tissue ablation | CH | N1 |  |
77031 | Stereotact guide for brst bx | CH | N1 |  |
77032 | Guidance for needle, breast | CH | N1 |  |
77053 | X-ray of mammary duct | CH | N1 |  |
77054 | X-ray of mammary ducts | CH | N1 |  |
77071 | X-ray stress view |  | Z3 | 0.3949 | $16.35
77072 | X-rays for bone age |  | Z3 | 0.2961 | $12.26
77073 | X-rays, bone length studies |  | Z3 | 0.5596 | $23.17
77074 | X-rays, bone survey, limited |  | Z3 | 0.9381 | $38.84
77075 | X-rays, bone survey complete |  | Z2 | 1.157 | $47.90
77076 | X-rays, bone survey, infant |  | Z2 | 0.6954 | $28.79
77077 | Joint survey, single view |  | Z3 | 0.6831 | $28.28
77078 | Ct bone density, axial |  | Z2 | 1.1384 | $47.13
77079 | Ct bone density, peripheral |  | Z3 | 1.5224 | $63.03
77080 | Dxa bone density, axial |  | Z2 | 1.1384 | $47.13
77081 | Dxa bone density/peripheral | CH | Z3 | 0.4773 | $19.76
77082 | Dxa bone density, vert fx |  | Z3 | 0.5019 | $20.78
77083 | Radiographic absorptiometry |  | Z3 | 0.4362 | $18.06
77084 | Magnetic image, bone marrow |  | Z2 | 4.883 | $202.16
77280 | Set radiation therapy field |  | Z2 | 1.5576 | $64.49
77285 | Set radiation therapy field |  | Z2 | 3.9276 | $162.61
77290 | Set radiation therapy field |  | Z2 | 3.9276 | $162.61
77295 | Set radiation therapy field | CH | Z2 | 13.5621 | $561.48
77299 | Radiation therapy planning |  | Z2 | 1.5576 | $64.49
77300 | Radiation therapy dose plan |  | Z3 | 0.9546 | $39.52
77301 | Radiotherapy dose plan, imrt |  | Z2 | 13.5621 | $561.48
77305 | Teletx isodose plan simple |  | Z3 | 1.0451 | $43.27
77310 | Teletx isodose plan intermed |  | Z3 | 1.3331 | $55.19
77315 | Teletx isodose plan complex |  | Z3 | 1.7444 | $72.22
77321 | Special teletx port plan |  | Z3 | 2.156 | $89.26
77326 | Brachytx isodose calc simp |  | Z2 | 1.5576 | $64.49
77327 | Brachytx isodose calc interm |  | Z3 | 2.9294 | $121.28
77328 | Brachytx isodose plan compl |  | Z3 | 3.9168 | $162.16
77331 | Special radiation dosimetry |  | Z3 | 0.4196 | $17.37
77332 | Radiation treatment aid(s) |  | Z3 | 1.1191 | $46.33
77333 | Radiation treatment aid(s) |  | Z3 | 0.8804 | $36.45
77334 | Radiation treatment aid(s) |  | Z3 | 2.2876 | $94.71
77336 | Radiation physics consult |  | Z2 | 1.5576 | $64.49
77370 | Radiation physics consult |  | Z2 | 1.5576 | $64.49
77371 | Srs, multisource |  | Z3 | 24.7769 | $1,025.79
77399 | External radiation dosimetry |  | Z2 | 1.5576 | $64.49
77401 | Radiation treatment delivery |  | Z3 | 0.9217 | $38.16
77402 | Radiation treatment delivery |  | Z2 | 1.4229 | $58.91
77403 | Radiation treatment delivery |  | Z2 | 1.4229 | $58.91
77404 | Radiation treatment delivery |  | Z2 | 1.4229 | $58.91
77406 | Radiation treatment delivery |  | Z2 | 1.4229 | $58.91
77407 | Radiation treatment delivery |  | Z2 | 1.4229 | $58.91
77408 | Radiation treatment delivery |  | Z2 | 1.4229 | $58.91
77409 | Radiation treatment delivery |  | Z2 | 1.4229 | $58.91
77411 | Radiation treatment delivery |  | Z2 | 2.2167 | $91.77
77412 | Radiation treatment delivery |  | Z2 | 2.2167 | $91.77
77413 | Radiation treatment delivery |  | Z2 | 2.2167 | $91.77
77414 | Radiation treatment delivery |  | Z2 | 2.2167 | $91.77
77416 | Radiation treatment delivery |  | Z2 | 2.2167 | $91.77
77417 | Radiology port film(s) | CH | N1 |  |
77418 | Radiation tx delivery, imrt |  | Z2 | 5.4582 | $225.97
77421 | Stereoscopic x-ray guidance | CH | N1 |  |
77422 | Neutron beam tx, simple |  | Z2 | 2.2167 | $91.77
77423 | Neutron beam tx, complex |  | Z2 | 2.2167 | $91.77
77435 | Sbrt management |  | N1 |  |
77470 | Special radiation treatment |  | Z3 | 5.1018 | $211.22
77520 | Proton trmt, simple w/o comp |  | Z2 | 12.8205 | $530.78
77522 | Proton trmt, simple w/comp |  | Z2 | 12.8205 | $530.78
77523 | Proton trmt, intermediate |  | Z2 | 15.3404 | $635.11
77525 | Proton treatment, complex |  | Z2 | 15.3404 | $635.11
77600 | Hyperthermia treatment | CH | Z3 | 5.2665 | $218.04
77605 | Hyperthermia treatment |  | Z2 | 5.7996 | $240.11
77610 | Hyperthermia treatment |  | Z2 | 5.7996 | $240.11
77615 | Hyperthermia treatment |  | Z2 | 5.7996 | $240.11
77620 | Hyperthermia treatment | CH | Z3 | 5.4146 | $224.17
77750 | Infuse radioactive materials |  | Z3 | 1.7529 | $72.57
77761 | Apply intrcav radiat simple |  | Z3 | 3.127 | $129.46
77762 | Apply intrcav radiat interm |  | Z3 | 3.8511 | $159.44
77763 | Apply intrcav radiat compl |  | Z3 | 4.9455 | $204.75
77776 | Apply interstit radiat simpl |  | Z3 | 3.2833 | $135.93
77777 | Apply interstit radiat inter |  | Z3 | 3.991 | $165.23
77778 | Apply interstit radiat compl |  | Z3 | 5.2501 | $217.36
77781 | High intensity brachytherapy |  | Z3 | 10.0063 | $414.27
77782 | High intensity brachytherapy |  | Z2 | 11.6779 | $483.48
77783 | High intensity brachytherapy |  | Z2 | 11.6779 | $483.48
77784 | High intensity brachytherapy |  | Z2 | 11.6779 | $483.48
77789 | Apply surface radiation |  | Z3 | 0.8558 | $35.43
77790 | Radiation handling |  | N1 |  |
77799 | Radium/radioisotope therapy |  | Z2 | 8.514 | $352.49
78000 | Thyroid, single uptake |  | Z3 | 1.1355 | $47.01
78001 | Thyroid, multiple uptakes |  | Z3 | 1.4483 | $59.96
78003 | Thyroid suppress/stimul |  | Z3 | 1.1437 | $47.35
78006 | Thyroid imaging with uptake |  | Z2 | 3.4513 | $142.89
78007 | Thyroid image, mult uptakes |  | Z3 | 2.2466 | $93.01
78010 | Thyroid imaging | CH | Z2 | 2.0471 | $84.75
78011 | Thyroid imaging with flow |  | Z2 | 2.0471 | $84.75
78015 | Thyroid met imaging |  | Z3 | 3.168 | $131.16
78016 | Thyroid met imaging/studies | CH | Z3 | 4.8303 | $199.98
78018 | Thyroid met imaging, body |  | Z2 | 5.0681 | $209.82
78020 | Thyroid met uptake | CH | N1 |  |
78070 | Parathyroid nuclear imaging | CH | Z3 | 3.0777 | $127.42
78075 | Adrenal nuclear imaging | CH | Z3 | 6.9122 | $286.17
78099 | Endocrine nuclear procedure |  | Z2 | 2.0471 | $84.75
78102 | Bone marrow imaging, ltd |  | Z3 | 2.4852 | $102.89
78103 | Bone marrow imaging, mult |  | Z3 | 3.4398 | $142.41
78104 | Bone marrow imaging, body |  | Z2 | 3.9293 | $162.68
78110 | Plasma volume, single |  | Z3 | 1.2425 | $51.44
78111 | Plasma volume, multiple |  | Z3 | 1.9091 | $79.04
78120 | Red cell mass, single |  | Z3 | 1.5471 | $64.05
78121 | Red cell mass, multiple |  | Z3 | 2.0654 | $85.51
78122 | Blood volume |  | Z3 | 2.7567 | $114.13
78130 | Red cell survival study |  | Z3 | 2.5263 | $104.59
78135 | Red cell survival kinetics | CH | Z3 | 5.4885 | $227.23
78140 | Red cell sequestration |  | Z3 | 2.7403 | $113.45
78185 | Spleen imaging |  | Z3 | 3.0528 | $126.39
78190 | Platelet survival, kinetics |  | Z2 | 2.9022 | $120.15
78191 | Platelet survival |  | Z2 | 2.9022 | $120.15
78195 | Lymph system imaging |  | Z2 | 3.9293 | $162.68
78199 | Blood/lymph nuclear exam |  | Z2 | 3.9293 | $162.68
78201 | Liver imaging |  | Z3 | 2.8142 | $116.51
78202 | Liver imaging with flow |  | Z3 | 3.3161 | $137.29
78205 | Liver imaging (3d) | CH | Z2 | 4.4603 | $184.66
78206 | Liver image (3d) with flow |  | Z2 | 4.4603 | $184.66
78215 | Liver and spleen imaging |  | Z3 | 3.127 | $129.46
78216 | Liver & spleen image/flow |  | Z3 | 2.5263 | $104.59
78220 | Liver function study |  | Z3 | 2.7321 | $113.11
78223 | Hepatobiliary imaging |  | Z2 | 4.4603 | $184.66
78230 | Salivary gland imaging |  | Z3 | 2.5509 | $105.61
78231 | Serial salivary imaging |  | Z3 | 2.3864 | $98.80
78232 | Salivary gland function exam |  | Z3 | 2.5345 | $104.93
78258 | Esophageal motility study |  | Z3 | 3.3492 | $138.66
78261 | Gastric mucosa imaging |  | Z2 | 3.7911 | $156.96
78262 | Gastroesophageal reflux exam |  | Z2 | 3.7911 | $156.96
78264 | Gastric emptying study |  | Z2 | 3.7911 | $156.96
78270 | Vit b-12 absorption exam |  | Z3 | 1.4072 | $58.26
78271 | Vit b-12 absrp exam, int fac |  | Z3 | 1.4318 | $59.28
78272 | Vit b-12 absorp, combined |  | Z3 | 1.7775 | $73.59
78278 | Acute gi blood loss imaging |  | Z2 | 3.7911 | $156.96
78282 | Gi protein loss exam |  | Z2 | 3.7911 | $156.96
78290 | Meckel?s divert exam |  | Z2 | 3.7911 | $156.96
78291 | Leveen/shunt patency exam |  | Z3 | 3.67 | $151.94
78299 | Gi nuclear procedure |  | Z2 | 3.7911 | $156.96
78300 | Bone imaging, limited area |  | Z3 | 2.6743 | $110.72
78305 | Bone imaging, multiple areas |  | Z3 | 3.6453 | $150.92
78306 | Bone imaging, whole body | CH | Z2 | 3.8039 | $157.49
78315 | Bone imaging, 3 phase |  | Z2 | 3.8039 | $157.49
78320 | Bone imaging (3d) |  | Z2 | 3.8039 | $157.49
78399 | Musculoskeletal nuclear exam |  | Z2 | 3.8039 | $157.49
78414 | Non-imaging heart function |  | Z2 | 4.862 | $201.29
78428 | Cardiac shunt imaging |  | Z3 | 2.9458 | $121.96
78445 | Vascular flow imaging | CH | Z3 | 2.5427 | $105.27
78456 | Acute venous thrombus image |  | Z2 | 3.1433 | $130.14
78457 | Venous thrombosis imaging | CH | Z3 | 2.913 | $120.60
78458 | Ven thrombosis images, bilat |  | Z2 | 3.1433 | $130.14
78459 | Heart muscle imaging (pet) |  | Z2 | 21.9955 | $910.64
78460 | Heart muscle blood, single |  | Z3 | 2.7567 | $114.13
78461 | Heart muscle blood, multiple |  | Z3 | 3.4313 | $142.06
78464 | Heart image (3d), single | CH | Z3 | 5.1182 | $211.90
78465 | Heart image (3d), multiple | CH | Z3 | 9.2739 | $383.95
78466 | Heart infarct image |  | Z3 | 2.8473 | $117.88
78468 | Heart infarct image (ef) |  | Z3 | 3.7605 | $155.69
78469 | Heart infarct image (3d) | CH | Z3 | 4.5588 | $188.74
78472 | Gated heart, planar, single | CH | Z3 | 4.5835 | $189.76
78473 | Gated heart, multiple |  | Z2 | 4.862 | $201.29
78478 | Heart wall motion add-on | CH | N1 |  |
78480 | Heart function add-on | CH | N1 |  |
78481 | Heart first pass, single |  | Z3 | 4.032 | $166.93
78483 | Heart first pass, multiple |  | Z2 | 4.862 | $201.29
78491 | Heart image (pet), single |  | Z2 | 21.9955 | $910.64
78492 | Heart image (pet), multiple |  | Z2 | 21.9955 | $910.64
78494 | Heart image, spect |  | Z2 | 4.862 | $201.29
78496 | Heart first pass add-on | CH | N1 |  |
78499 | Cardiovascular nuclear exam |  | Z2 | 4.862 | $201.29
78580 | Lung perfusion imaging |  | Z2 | 3.3954 | $140.57
78584 | Lung v/q image single breath |  | Z3 | 2.4193 | $100.16
78585 | Lung v/q imaging |  | Z2 | 4.9509 | $204.97
78586 | Aerosol lung image, single |  | Z3 | 2.7238 | $112.77
78587 | Aerosol lung image, multiple |  | Z3 | 3.3246 | $137.64
78588 | Perfusion lung image |  | Z3 | 4.7233 | $195.55
78591 | Vent image, 1 breath, 1 proj |  | Z3 | 2.8306 | $117.19
78593 | Vent image, 1 proj, gas |  | Z3 | 3.3328 | $137.98
78594 | Vent image, mult proj, gas |  | Z2 | 3.3954 | $140.57
78596 | Lung differential function |  | Z2 | 4.9509 | $204.97
78599 | Respiratory nuclear exam |  | Z2 | 3.3954 | $140.57
78600 | Brain image < 4 views |  | Z3 | 2.9294 | $121.28
78601 | Brain image w/flow < 4 views | CH | Z2 | 3.2295 | $133.70
78605 | Brain image 4+ views | CH | Z2 | 3.2295 | $133.70
78606 | Brain image w/flow 4 + views | CH | Z3 | 5.0197 | $207.82
78607 | Brain imaging (3d) | CH | Z3 | 6.081 | $251.76
78608 | Brain imaging (pet) |  | Z2 | 16.6001 | $687.26
78610 | Brain flow imaging only |  | Z3 | 3.382 | $140.02
78615 | Cerebral vascular flow image | CH | D5 |  |
78630 | Cerebrospinal fluid scan | CH | Z3 | 5.538 | $229.28
78635 | Csf ventriculography | CH | Z3 | 4.5835 | $189.76
78645 | Csf shunt evaluation |  | Z2 | 3.2295 | $133.70
78647 | Cerebrospinal fluid scan | CH | Z3 | 5.8259 | $241.20
78650 | Csf leakage imaging | CH | Z3 | 5.3487 | $221.44
78660 | Nuclear exam of tear flow |  | Z3 | 2.5509 | $105.61
78699 | Nervous system nuclear exam |  | Z2 | 3.2295 | $133.70
78700 | Kidney imaging, morphol |  | Z3 | 2.9953 | $124.01
78701 | Kidney imaging with flow |  | Z3 | 3.6125 | $149.56
78707 | K flow/funct image w/o drug | CH | Z3 | 3.9581 | $163.87
78708 | K flow/funct image w/drug |  | Z3 | 3.0941 | $128.10
78709 | K flow/funct image, multiple |  | Z2 | 5.0824 | $210.42
78710 | Kidney imaging (3d) | CH | Z3 | 4.5175 | $187.03
78725 | Kidney function study | CH | Z3 | 1.6541 | $68.48
78730 | Urinary bladder retention | CH | Z3 | 1.3908 | $57.58
78740 | Ureteral reflux study |  | Z3 | 3.1188 | $129.12
78761 | Testicular imaging w/flow |  | Z3 | 3.2915 | $136.27
78799 | Genitourinary nuclear exam |  | Z2 | 5.0824 | $210.42
78800 | Tumor imaging, limited area |  | Z3 | 3.1023 | $128.44
78801 | Tumor imaging, mult areas |  | Z3 | 4.1144 | $170.34
78802 | Tumor imaging, whole body | CH | Z3 | 5.5052 | $227.92
78803 | Tumor imaging (3d) | CH | Z3 | 6.0564 | $250.74
78804 | Tumor imaging, whole body | CH | Z3 | 10.5082 | $435.05
78805 | Abscess imaging, ltd area |  | Z3 | 3.0364 | $125.71
78806 | Abscess imaging, whole body | CH | Z3 | 5.9658 | $246.99
78807 | Nuclear localization/abscess | CH | Z3 | 6.0482 | $250.40
78811 | Pet image, ltd area |  | Z2 | 16.6001 | $687.26
78812 | Pet image, skull-thigh |  | Z2 | 16.6001 | $687.26
78813 | Pet image, full body |  | Z2 | 16.6001 | $687.26
78814 | Pet image w/ct, lmtd |  | Z2 | 16.6001 | $687.26
78815 | Pet image w/ct, skull-thigh |  | Z2 | 16.6001 | $687.26
78816 | Pet image w/ct, full body |  | Z2 | 16.6001 | $687.26
78890 | Nuclear medicine data proc |  | N1 |  |
78891 | Nuclear med data proc |  | N1 |  |
78999 | Nuclear diagnostic exam |  | Z2 | 1.819 | $75.31
79005 | Nuclear rx, oral admin |  | Z3 | 1.6046 | $66.43
79101 | Nuclear rx, iv admin |  | Z3 | 1.6705 | $69.16
79200 | Nuclear rx, intracav admin |  | Z3 | 1.728 | $71.54
79300 | Nuclr rx, interstit colloid |  | Z2 | 3.302 | $136.71
79403 | Hematopoietic nuclear tx |  | Z3 | 2.6497 | $109.70
79440 | Nuclear rx, intra-articular |  | Z3 | 1.5553 | $64.39
79445 | Nuclear rx, intra-arterial |  | Z2 | 3.302 | $136.71
79999 | Nuclear medicine therapy |  | Z2 | 3.302 | $136.71
90296 | Diphtheria antitoxin | CH | N1 |  |
90371 | Hep b ig, im |  | K2 |  | $122.02
90375 | Rabies ig, im/sc |  | K2 |  | $68.22
90376 | Rabies ig, heat treated |  | K2 |  | $71.69
90385 | Rh ig, minidose, im | CH | N1 |  |
90393 | Vaccina ig, im | CH | N1 |  |
90396 | Varicella-zoster ig, im |  | K2 |  | $122.74
90476 | Adenovirus vaccine, type 4 | CH | N1 |  |
90477 | Adenovirus vaccine, type 7 | CH | N1 |  |
90581 | Anthrax vaccine, sc | CH | N1 |  |
90585 | Bcg vaccine, percut |  | K2 |  | $118.98
90632 | Hep a vaccine, adult im | CH | N1 |  |
90633 | Hep a vacc, ped/adol, 2 dose | CH | N1 |  |
90634 | Hep a vacc, ped/adol, 3 dose | CH | N1 |  |
90636 | Hep a/hep b vacc, adult im | CH | N1 |  |
90645 | Hib vaccine, hboc, im | CH | N1 |  |
90646 | Hib vaccine, prp-d, im | CH | N1 |  |
90647 | Hib vaccine, prp-omp, im | CH | N1 |  |
90648 | Hib vaccine, prp-t, im | CH | N1 |  |
90665 | Lyme disease vaccine, im | CH | N1 |  |
90675 | Rabies vaccine, im |  | K2 |  | $150.80
90676 | Rabies vaccine, id |  | K2 |  | $119.86
90680 | Rotovirus vacc 3 dose, oral | CH | N1 |  |
90690 | Typhoid vaccine, oral | CH | N1 |  |
90691 | Typhoid vaccine, im | CH | N1 |  |
90692 | Typhoid vaccine, h-p, sc/id | CH | N1 |  |
90698 | Dtap-hib-ip vaccine, im | CH | N1 |  |
90700 | Dtap vaccine, < 7 yrs, im | CH | N1 |  |
90701 | Dtp vaccine, im | CH | N1 |  |
90702 | Dt vaccine < 7, im | CH | N1 |  |
90703 | Tetanus vaccine, im | CH | N1 |  |
90704 | Mumps vaccine, sc | CH | N1 |  |
90705 | Measles vaccine, sc | CH | N1 |  |
90706 | Rubella vaccine, sc | CH | N1 |  |
90707 | Mmr vaccine, sc | CH | N1 |  |
90708 | Measles-rubella vaccine, sc |  | K2 |  | $45.53
90710 | Mmrv vaccine, sc | CH | N1 |  |
90712 | Oral poliovirus vaccine | CH | N1 |  |
90713 | Poliovirus, ipv, sc/im | CH | N1 |  |
90714 | Td vaccine no prsrv >/= 7 im | CH | N1 |  |
90715 | Tdap vaccine >7 im | CH | N1 |  |
90717 | Yellow fever vaccine, sc | CH | N1 |  |
90718 | Td vaccine > 7, im | CH | N1 |  |
90719 | Diphtheria vaccine, im | CH | N1 |  |
90720 | Dtp/hib vaccine, im | CH | N1 |  |
90721 | Dtap/hib vaccine, im | CH | N1 |  |
90725 | Cholera vaccine, injectable | CH | N1 |  |
90727 | Plague vaccine, im | CH | N1 |  |
90733 | Meningococcal vaccine, sc |  | K2 |  | $85.29
90734 | Meningococcal vaccine, im |  | K2 |  | $82.00
90735 | Encephalitis vaccine, sc |  | K2 |  | $98.17
90749 | Vaccine toxoid | CH | N1 |  |
A4218 | Sterile saline or water |  | N1 |  |
A4220 | Infusion pump refill kit |  | N1 |  |
A4248 | Chlorhexidine antisept |  | N1 |  |
A4262 | Temporary tear duct plug |  | N1 |  |
A4263 | Permanent tear duct plug |  | N1 |  |
A4270 | Disposable endoscope sheath |  | N1 |  |
A4300 | Cath impl vasc access portal |  | N1 |  |
A4301 | Implantable access syst perc |  | N1 |  |
A4305 | Drug delivery system >=50 ML |  | N1 |  |
A4306 | Drug delivery system <=50 ml |  | N1 |  |
A4648 | Implantable tissue marker | NI | N1 |  |
A4650 | Implant radiation dosimeter | NI | N1 |  |
A9527 | Iodine I-125 sodium iodide | CH | H2 | 0.4325 | $27.55
A9535 | Injection, methylene blue | CH | N1 |  |
A9576 | Inj prohance multipack | NI | N1 |  |
A9577 | Inj multihance | NI | N1 |  |
A9578 | Inj multihance multipack | NI | N1 |  |
A9579 | Gad-base MR contrast NOS,1ml | NI | N1 |  |
A9698 | Non-rad contrast materialNOC |  | N1 |  |
C1713 | Anchor/screw bn/bn,tis/bn |  | N1 |  |
C1714 | Cath, trans atherectomy, dir |  | N1 |  |
C1715 | Brachytherapy needle |  | N1 |  |
C1716 | Brachytx, non-str, Gold-198 | CH | H2 | 0.5228 | $33.30
C1717 | Brachytx, non-str,HDR Ir-192 | CH | H2 | 2.7505 | $175.19
C1719 | Brachytx, NS, Non-HDRIr-192 | CH | H2 | 1.0226 | $65.13
C1721 | AICD, dual chamber |  | N1 |  |
C1722 | AICD, single chamber |  | N1 |  |
C1724 | Cath, trans atherec,rotation |  | N1 |  |
C1725 | Cath, translumin non-laser |  | N1 |  |
C1726 | Cath, bal dil, non-vascular |  | N1 |  |
C1727 | Cath, bal tis dis, non-vas |  | N1 |  |
C1728 | Cath, brachytx seed adm |  | N1 |  |
C1729 | Cath, drainage |  | N1 |  |
C1730 | Cath, EP, 19 or few elect |  | N1 |  |
C1731 | Cath, EP, 20 or more elec |  | N1 |  |
C1732 | Cath, EP, diag/abl, 3D/vect |  | N1 |  |
C1733 | Cath, EP, othr than cool-tip |  | N1 |  |
C1750 | Cath, hemodialysis,long-term |  | N1 |  |
C1751 | Cath, inf, per/cent/midline |  | N1 |  |
C1752 | Cath,hemodialysis,short-term |  | N1 |  |
C1753 | Cath, intravas ultrasound |  | N1 |  |
C1754 | Catheter, intradiscal |  | N1 |  |
C1755 | Catheter, intraspinal |  | N1 |  |
C1756 | Cath, pacing, transesoph |  | N1 |  |
C1757 | Cath, thrombectomy/embolect |  | N1 |  |
C1758 | Catheter, ureteral |  | N1 |  |
C1759 | Cath, intra echocardiography |  | N1 |  |
C1760 | Closure dev, vasc |  | N1 |  |
C1762 | Conn tiss, human(inc fascia) |  | N1 |  |
C1763 | Conn tiss, non-human |  | N1 |  |
C1764 | Event recorder, cardiac |  | N1 |  |
C1765 | Adhesion barrier |  | N1 |  |
C1766 | Intro/sheath,strble,non-peel |  | N1 |  |
C1767 | Generator, neuro non-recharg |  | N1 |  |
C1768 | Graft, vascular |  | N1 |  |
C1769 | Guide wire |  | N1 |  |
C1770 | Imaging coil, MR, insertable |  | N1 |  |
C1771 | Rep dev, urinary, w/sling |  | N1 |  |
C1772 | Infusion pump, programmable |  | N1 |  |
C1773 | Ret dev, insertable |  | N1 |  |
C1776 | Joint device (implantable) |  | N1 |  |
C1777 | Lead, AICD, endo single coil |  | N1 |  |
C1778 | Lead, neurostimulator |  | N1 |  |
C1779 | Lead, pmkr, transvenous VDD |  | N1 |  |
C1780 | Lens, intraocular (new tech) |  | N1 |  |
C1781 | Mesh (implantable) |  | N1 |  |
C1782 | Morcellator |  | N1 |  |
C1783 | Ocular imp, aqueous drain de |  | N1 |  |
C1784 | Ocular dev, intraop, det ret |  | N1 |  |
C1785 | Pmkr, dual, rate-resp |  | N1 |  |
C1786 | Pmkr, single, rate-resp |  | N1 |  |
C1787 | Patient progr, neurostim |  | N1 |  |
C1788 | Port, indwelling, imp |  | N1 |  |
C1789 | Prosthesis, breast, imp |  | N1 |  |
C1813 | Prosthesis, penile, inflatab |  | N1 |  |
C1814 | Retinal tamp, silicone oil |  | N1 |  |
C1815 | Pros, urinary sph, imp |  | N1 |  |
C1816 | Receiver/transmitter, neuro |  | N1 |  |
C1817 | Septal defect imp sys |  | N1 |  |
C1818 | Integrated keratoprosthesis |  | N1 |  |
C1819 | Tissue localization-excision |  | N1 |  |
C1820 | Generator neuro rechg bat sy | CH | N1 |  |
C1821 | Interspinous implant |  | J7 |  |
C1874 | Stent, coated/cov w/del sys |  | N1 |  |
C1875 | Stent, coated/cov w/o del sy |  | N1 |  |
C1876 | Stent, non-coa/non-cov w/del |  | N1 |  |
C1877 | Stent, non-coat/cov w/o del |  | N1 |  |
C1878 | Matrl for vocal cord |  | N1 |  |
C1879 | Tissue marker, implantable |  | N1 |  |
C1880 | Vena cava filter |  | N1 |  |
C1881 | Dialysis access system |  | N1 |  |
C1882 | AICD, other than sing/dual |  | N1 |  |
C1883 | Adapt/ext, pacing/neuro lead |  | N1 |  |
C1884 | Embolization Protect syst |  | N1 |  |
C1885 | Cath, translumin angio laser |  | N1 |  |
C1887 | Catheter, guiding |  | N1 |  |
C1888 | Endovas non-cardiac abl cath |  | N1 |  |
C1891 | Infusion pump,non-prog, perm |  | N1 |  |
C1892 | Intro/sheath,fixed,peel-away |  | N1 |  |
C1893 | Intro/sheath, fixed,non-peel |  | N1 |  |
C1894 | Intro/sheath, non-laser |  | N1 |  |
C1895 | Lead, AICD, endo dual coil |  | N1 |  |
C1896 | Lead, AICD, non sing/dual |  | N1 |  |
C1897 | Lead, neurostim test kit |  | N1 |  |
C1898 | Lead, pmkr, other than trans |  | N1 |  |
C1899 | Lead, pmkr/AICD combination |  | N1 |  |
C1900 | Lead, coronary venous |  | N1 |  |
C2614 | Probe, perc lumb disc |  | N1 |  |
C2615 | Sealant, pulmonary, liquid |  | N1 |  |
C2616 | Brachytx, non-str,Yttrium-90 | CH | H2 | 184.7105 | $11,764.95
C2617 | Stent, non-cor, tem w/o del |  | N1 |  |
C2618 | Probe, cryoablation |  | N1 |  |
C2619 | Pmkr, dual, non rate-resp |  | N1 |  |
C2620 | Pmkr, single, non rate-resp |  | N1 |  |
C2621 | Pmkr, other than sing/dual |  | N1 |  |
C2622 | Prosthesis, penile, non-inf |  | N1 |  |
C2625 | Stent, non-cor, tem w/del sy |  | N1 |  |
C2626 | Infusion pump, non-prog,temp |  | N1 |  |
C2627 | Cath, suprapubic/cystoscopic |  | N1 |  |
C2628 | Catheter, occlusion |  | N1 |  |
C2629 | Intro/sheath, laser |  | N1 |  |
C2630 | Cath, EP, cool-tip |  | N1 |  |
C2631 | Rep dev, urinary, w/o sling |  | N1 |  |
C2634 | Brachytx, non-str, HA, I-125 | CH | H2 | 0.4858 | $30.94
C2635 | Brachytx, non-str, HA, P-103 | CH | H2 | 0.7366 | $46.92
C2636 | Brachy linear, non-str,P-103 | CH | H2 | 0.66 | $42.04
C2638 | Brachytx, stranded, I-125 | CH | H2 | 0.7113 | $45.31
C2639 | Brachytx, non-stranded,I-125 | CH | H2 | 0.5039 | $32.10
C2640 | Brachytx, stranded, P-103 | CH | H2 | 1.0308 | $65.66
C2641 | Brachytx, non-stranded,P-103 | CH | H2 | 0.8077 | $51.45
C2642 | Brachytx, stranded, C-131 | CH | H2 | 1.5342 | $97.72
C2643 | Brachytx, non-stranded,C-131 | CH | H2 | 1.006 | $64.08
C2698 | Brachytx, stranded, NOS | CH | H2 | 0.7113 | $45.31
C2699 | Brachytx, non-stranded, NOS | CH | H2 | 0.4858 | $30.94
C8900 | MRA w/cont, abd |  | Z2 | 6.235 | $258.14
C8901 | MRA w/o cont, abd |  | Z2 | 5.3933 | $223.29
C8902 | MRA w/o fol w/cont, abd |  | Z2 | 8.2463 | $341.41
C8903 | MRI w/cont, breast, uni |  | Z2 | 6.235 | $258.14
C8904 | MRI w/o cont, breast, uni |  | Z2 | 5.3933 | $223.29
C8905 | MRI w/o fol w/cont, brst, un |  | Z2 | 8.2463 | $341.41
C8906 | MRI w/cont, breast, bi |  | Z2 | 6.235 | $258.14
C8907 | MRI w/o cont, breast, bi |  | Z2 | 5.3933 | $223.29
C8908 | MRI w/o fol w/cont, breast, |  | Z2 | 8.2463 | $341.41
C8909 | MRA w/cont, chest |  | Z2 | 6.235 | $258.14
C8910 | MRA w/o cont, chest |  | Z2 | 5.3933 | $223.29
C8911 | MRA w/o fol w/cont, chest |  | Z2 | 8.2463 | $341.41
C8912 | MRA w/cont, lwr ext |  | Z2 | 6.235 | $258.14
C8913 | MRA w/o cont, lwr ext |  | Z2 | 5.3933 | $223.29
C8914 | MRA w/o fol w/cont, lwr ext |  | Z2 | 8.2463 | $341.41
C8918 | MRA w/cont, pelvis |  | Z2 | 6.235 | $258.14
C8919 | MRA w/o cont, pelvis |  | Z2 | 5.3933 | $223.29
C8920 | MRA w/o fol w/cont, pelvis |  | Z2 | 8.2463 | $341.41
C9003 | Palivizumab, per 50 mg |  | K2 |  | $810.67
C9113 | Inj pantoprazole sodium, via |  | N1 |  |
C9121 | Injection, argatroban |  | K2 |  | $18.96
C9232 | Injection, idursulfase | CH | D5 |  |
C9233 | Injection, ranibizumab | CH | D5 |  |
C9234 | Inj, alglucosidase alfa | CH | D5 |  |
C9235 | Injection, panitumumab | CH | D5 |  |
C9238 | Inj, levetiracetam | NI | K2 |  | $6.30
C9239 | Inj, temsirolimus | NI | K2 |  | $48.41
C9350 | Porous collagen tube per cm | CH | D5 |  |
C9351 | Acellular derm tissue percm2 | CH | D5 |  |
C9352 | Neuragen nerve guide, per cm | NI | K2 |  | $482.56
C9353 | Neurawrap nerve protector,cm | NI | K2 |  | $482.56
C9399 | Unclassified drugs or biolog |  | K7 |  |
E0616 | Cardiac event recorder |  | N1 |  |
E0749 | Elec osteogen stim implanted |  | N1 |  |
E0782 | Non-programble infusion pump |  | N1 |  |
E0783 | Programmable infusion pump |  | N1 |  |
E0785 | Replacement impl pump cathet |  | N1 |  |
E0786 | Implantable pump replacement |  | N1 |  |
G0130 | Single energy x-ray study |  | Z3 | 0.5348 | $22.14
G0173 | Linear acc stereo radsur com |  | Z2 | 61.6965 | $2,554.30
G0251 | Linear acc based stero radio |  | Z2 | 16.5911 | $686.89
G0288 | Recon, CTA for surg plan | CH | N1 |  |
G0339 | Robot lin-radsurg com, first |  | Z2 | 61.6965 | $2,554.30
G0340 | Robt lin-radsurg fractx 2-5 |  | Z2 | 45.0693 | $1,865.91
J0120 | Tetracyclin injection |  | N1 |  |
J0128 | Abarelix injection |  | K2 |  | $67.97
J0129 | Abatacept injection |  | K2 |  | $18.69
J0130 | Abciximab injection |  | K2 |  | $420.17
J0132 | Acetylcysteine injection | CH | N1 |  |
J0133 | Acyclovir injection |  | N1 |  |
J0135 | Adalimumab injection |  | K2 |  | $329.58
J0150 | Injection adenosine 6 MG |  | K2 |  | $25.10
J0152 | Adenosine injection |  | K2 |  | $67.89
J0170 | Adrenalin epinephrin inject |  | N1 |  |
J0180 | Agalsidase beta injection |  | K2 |  | $126.00
J0190 | Inj biperiden lactate/5 mg |  | K2 |  | $88.15
J0200 | Alatrofloxacin mesylate |  | N1 |  |
J0205 | Alglucerase injection |  | K2 |  | $38.85
J0207 | Amifostine |  | K2 |  | $490.93
J0210 | Methyldopate hcl injection |  | K2 |  | $13.04
J0215 | Alefacept |  | K2 |  | $26.47
J0220 | Aglucosidase alfa injection | NI | K2 |  | $126.00
J0256 | Alpha 1 proteinase inhibitor |  | K2 |  | $3.28
J0278 | Amikacin sulfate injection |  | N1 |  |
J0280 | Aminophyllin 250 MG inj |  | N1 |  |
J0282 | Amiodarone HCl |  | N1 |  |
J0285 | Amphotericin B |  | N1 |  |
J0287 | Amphotericin b lipid complex |  | K2 |  | $10.40
J0288 | Ampho b cholesteryl sulfate |  | K2 |  | $11.89
J0289 | Amphotericin b liposome inj |  | K2 |  | $16.21
J0290 | Ampicillin 500 MG inj |  | N1 |  |
J0295 | Ampicillin sodium per 1.5 gm |  | N1 |  |
J0300 | Amobarbital 125 MG inj |  | N1 |  |
J0330 | Succinycholine chloride inj |  | N1 |  |
J0348 | Anadulafungin injection |  | K2 |  | $1.91
J0350 | Injection anistreplase 30 u |  | K2 |  | $2,693.80
J0360 | Hydralazine hcl injection |  | N1 |  |
J0364 | Apomorphine hydrochloride | CH | N1 |  |
J0365 | Aprotonin, 10,000 kiu |  | K2 |  | $2.66
J0380 | Inj metaraminol bitartrate | CH | N1 |  |
J0390 | Chloroquine injection |  | N1 |  |
J0395 | Arbutamine HCl injection | CH | N1 |  |
J0400 | Aripiprazole injection | NI | K2 |  | $0.28
J0456 | Azithromycin |  | N1 |  |
J0460 | Atropine sulfate injection |  | N1 |  |
J0470 | Dimecaprol injection |  | N1 |  |
J0475 | Baclofen 10 MG injection |  | K2 |  | $193.29
J0476 | Baclofen intrathecal trial |  | K2 |  | $69.73
J0480 | Basiliximab |  | K2 |  | $1,541.03
J0500 | Dicyclomine injection |  | N1 |  |
J0515 | Inj benztropine mesylate |  | N1 |  |
J0520 | Bethanechol chloride inject |  | N1 |  |
J0530 | Penicillin g benzathine inj |  | N1 |  |
J0540 | Penicillin g benzathine inj |  | N1 |  |
J0550 | Penicillin g benzathine inj |  | N1 |  |
J0560 | Penicillin g benzathine inj |  | N1 |  |
J0570 | Penicillin g benzathine inj |  | N1 |  |
J0580 | Penicillin g benzathine inj |  | N1 |  |
J0583 | Bivalirudin |  | K2 |  | $1.84
J0585 | Botulinum toxin a per unit |  | K2 |  | $5.21
J0587 | Botulinum toxin type B |  | K2 |  | $8.63
J0592 | Buprenorphine hydrochloride |  | N1 |  |
J0594 | Busulfan injection |  | K2 |  | $9.17
J0595 | Butorphanol tartrate 1 mg |  | N1 |  |
J0600 | Edetate calcium disodium inj |  | K2 |  | $49.64
J0610 | Calcium gluconate injection |  | N1 |  |
J0620 | Calcium glycer & lact/10 ML |  | N1 |  |
J0630 | Calcitonin salmon injection |  | N1 |  |
J0636 | Inj calcitriol per 0.1 mcg |  | N1 |  |
J0637 | Caspofungin acetate |  | K2 |  | $24.05
J0640 | Leucovorin calcium injection |  | N1 |  |
J0670 | Inj mepivacaine HCL/10 ml |  | N1 |  |
J0690 | Cefazolin sodium injection |  | N1 |  |
J0692 | Cefepime HCl for injection |  | N1 |  |
J0694 | Cefoxitin sodium injection |  | N1 |  |
J0696 | Ceftriaxone sodium injection |  | N1 |  |
J0697 | Sterile cefuroxime injection |  | N1 |  |
J0698 | Cefotaxime sodium injection |  | N1 |  |
J0702 | Betamethasone acet & sod phosp |  | N1 |  |
J0704 | Betamethasone sod phosp/4 MG |  | N1 |  |
J0706 | Caffeine citrate injection | CH | N1 |  |
J0710 | Cephapirin sodium injection |  | N1 |  |
J0713 | Inj ceftazidime per 500 mg |  | N1 |  |
J0715 | Ceftizoxime sodium/500 MG |  | N1 |  |
J0720 | Chloramphenicol sodium injec |  | N1 |  |
J0725 | Chorionic gonadotropin/1000u |  | N1 |  |
J0735 | Clonidine hydrochloride |  | K2 |  | $62.78
J0740 | Cidofovir injection |  | K2 |  | $754.39
J0743 | Cilastatin sodium injection |  | N1 |  |
J0744 | Ciprofloxacin iv |  | N1 |  |
J0745 | Inj codeine phosphate /30 MG |  | N1 |  |
J0760 | Colchicine injection |  | N1 |  |
J0770 | Colistimethate sodium inj |  | N1 |  |
J0780 | Prochlorperazine injection |  | N1 |  |
J0795 | Corticorelin ovine triflutal |  | K2 |  | $4.43
J0800 | Corticotropin injection |  | K2 |  | $169.77
J0835 | Inj cosyntropin per 0.25 MG |  | K2 |  | $64.01
J0850 | Cytomegalovirus imm IV /vial |  | K2 |  | $870.53
J0878 | Daptomycin injection |  | K2 |  | $0.35
J0881 | Darbepoetin alfa, non-esrd |  | K2 |  | $2.88
J0885 | Epoetin alfa, non-esrd |  | K2 |  | $8.97
J0894 | Decitabine injection |  | K2 |  | $26.48
J0895 | Deferoxamine mesylate inj | CH | N1 |  |
J0900 | Testosterone enanthate inj |  | N1 |  |
J0945 | Brompheniramine maleate inj |  | N1 |  |
J0970 | Estradiol valerate injection |  | N1 |  |
J1000 | Depo-estradiol cypionate inj |  | N1 |  |
J1020 | Methylprednisolone 20 MG inj |  | N1 |  |
J1030 | Methylprednisolone 40 MG inj |  | N1 |  |
J1040 | Methylprednisolone 80 MG inj |  | N1 |  |
J1051 | Medroxyprogesterone inj |  | N1 |  |
J1060 | Testosterone cypionate 1 ML |  | N1 |  |
J1070 | Testosterone cypionat 100 MG |  | N1 |  |
J1080 | Testosterone cypionat 200 MG |  | N1 |  |
J1094 | Inj dexamethasone acetate |  | N1 |  |
J1100 | Dexamethasone sodium phos |  | N1 |  |
J1110 | Inj dihydroergotamine mesylt |  | N1 |  |
J1120 | Acetazolamid sodium injectio |  | N1 |  |
J1160 | Digoxin injection |  | N1 |  |
J1162 | Digoxin immune fab (ovine) |  | K2 |  | $478.88
J1165 | Phenytoin sodium injection |  | N1 |  |
J1170 | Hydromorphone injection |  | N1 |  |
J1180 | Dyphylline injection |  | N1 |  |
J1190 | Dexrazoxane HCl injection |  | K2 |  | $162.11
J1200 | Diphenhydramine hcl injectio |  | N1 |  |
J1205 | Chlorothiazide sodium inj |  | K2 |  | $141.07
J1212 | Dimethyl sulfoxide 50% 50 ML |  | N1 |  |
J1230 | Methadone injection |  | N1 |  |
J1240 | Dimenhydrinate injection |  | N1 |  |
J1245 | Dipyridamole injection |  | N1 |  |
J1250 | Inj dobutamine HCL/250 mg |  | N1 |  |
J1260 | Dolasetron mesylate |  | K2 |  | $4.66
J1265 | Dopamine injection |  | N1 |  |
J1270 | Injection, doxercalciferol |  | N1 |  |
J1300 | Eculizumab injection | NI | K2 |  | $176.38
J1320 | Amitriptyline injection |  | N1 |  |
J1324 | Enfuvirtide injection |  | K2 |  | $0.40
J1325 | Epoprostenol injection |  | N1 |  |
J1327 | Eptifibatide injection |  | K2 |  | $17.67
J1330 | Ergonovine maleate injection | CH | N1 |  |
J1335 | Ertapenem injection |  | N1 |  |
J1364 | Erythro lactobionate /500 MG |  | N1 |  |
J1380 | Estradiol valerate 10 MG inj |  | N1 |  |
J1390 | Estradiol valerate 20 MG inj |  | N1 |  |
J1410 | Inj estrogen conjugate 25 MG |  | K2 |  | $66.64
J1430 | Ethanolamine oleate 100 mg |  | K2 |  | $79.23
J1435 | Injection estrone per 1 MG |  | N1 |  |
J1436 | Etidronate disodium inj |  | K2 |  | $70.73
J1438 | Etanercept injection |  | K2 |  | $167.12
J1440 | Filgrastim 300 mcg injection |  | K2 |  | $193.79
J1441 | Filgrastim 480 mcg injection |  | K2 |  | $298.39
J1450 | Fluconazole |  | N1 |  |
J1451 | Fomepizole, 15 mg |  | K2 |  | $12.80
J1452 | Intraocular Fomivirsen na | CH | N1 |  |
J1455 | Foscarnet sodium injection | CH | N1 |  |
J1457 | Gallium nitrate injection | CH | K2 |  | $1.61
J1458 | Galsulfase injection |  | K2 |  | $306.88
J1460 | Gamma globulin 1 CC inj |  | K2 |  | $11.91
J1470 | Gamma globulin 2 CC inj | CH | K2 |  | $23.82
J1480 | Gamma globulin 3 CC inj | CH | K2 |  | $35.72
J1490 | Gamma globulin 4 CC inj | CH | K2 |  | $47.64
J1500 | Gamma globulin 5 CC inj | CH | K2 |  | $59.54
J1510 | Gamma globulin 6 CC inj | CH | K2 |  | $71.50
J1520 | Gamma globulin 7 CC inj | CH | K2 |  | $83.30
J1530 | Gamma globulin 8 CC inj | CH | K2 |  | $95.27
J1540 | Gamma globulin 9 CC inj | CH | K2 |  | $107.25
J1550 | Gamma globulin 10 CC inj | CH | K2 |  | $119.09
J1560 | Gamma globulin > 10 CC inj | CH | K2 |  | $119.09
J1561 | Gamunex injection | NI | K2 |  | $32.06
J1562 | Vivaglobin, inj |  | K2 |  | $7.01
J1565 | RSV-ivig |  | K2 |  | $16.02
J1566 | Immune globulin, powder |  | K2 |  | $26.89
J1567 | Immune globulin, liquid | CH | D5 |  |
J1568 | Octagam injection | NI | K2 |  | $33.19
J1569 | Gammagard liquid injection | NI | K2 |  | $31.06
J1570 | Ganciclovir sodium injection |  | N1 |  |
J1571 | Hepagam B IM injection | NI | K2 |  | $63.51
J1572 | Flebogamma injection | NI | K2 |  | $32.27
J1573 | Hepagam B intravenous, inj | NI | K2 |  | $63.51
J1580 | Garamycin gentamicin inj |  | N1 |  |
J1590 | Gatifloxacin injection |  | N1 |  |
J1595 | Injection glatiramer acetate | CH | K2 |  | $52.04
J1600 | Gold sodium thiomaleate inj |  | N1 |  |
J1610 | Glucagon hydrochloride/1 MG |  | K2 |  | $68.84
J1620 | Gonadorelin hydroch/ 100 mcg |  | K2 |  | $178.59
J1626 | Granisetron HCl injection |  | K2 |  | $5.74
J1630 | Haloperidol injection |  | N1 |  |
J1631 | Haloperidol decanoate inj |  | N1 |  |
J1640 | Hemin, 1 mg |  | K2 |  | $7.08
J1642 | Inj heparin sodium per 10 u |  | N1 |  |
J1644 | Inj heparin sodium per 1000u |  | N1 |  |
J1645 | Dalteparin sodium |  | N1 |  |
J1650 | Inj enoxaparin sodium |  | N1 |  |
J1652 | Fondaparinux sodium | CH | K2 |  | $5.92
J1655 | Tinzaparin sodium injection | CH | N1 |  |
J1670 | Tetanus immune globulin inj |  | K2 |  | $103.46
J1700 | Hydrocortisone acetate inj |  | N1 |  |
J1710 | Hydrocortisone sodium ph inj |  | N1 |  |
J1720 | Hydrocortisone sodium succ i |  | N1 |  |
J1730 | Diazoxide injection |  | K2 |  | $113.24
J1740 | Ibandronate sodium injection |  | K2 |  | $138.96
J1742 | Ibutilide fumarate injection |  | K2 |  | $287.15
J1743 | Idursulfase injection | NI | K2 |  | $455.03
J1745 | Infliximab injection |  | K2 |  | $54.42
J1751 | Iron dextran 165 injection |  | K2 |  | $11.82
J1752 | Iron dextran 267 injection |  | K2 |  | $10.30
J1756 | Iron sucrose injection |  | K2 |  | $0.36
J1785 | Injection imiglucerase /unit |  | K2 |  | $3.89
J1790 | Droperidol injection |  | N1 |  |
J1800 | Propranolol injection |  | N1 |  |
J1815 | Insulin injection |  | N1 |  |
J1817 | Insulin for insulin pump use |  | N1 |  |
J1830 | Interferon beta-1b/.25 MG |  | K2 |  | $106.57
J1835 | Itraconazole injection |  | K2 |  | $39.68
J1840 | Kanamycin sulfate 500 MG inj |  | N1 |  |
J1850 | Kanamycin sulfate 75 MG inj |  | N1 |  |
J1885 | Ketorolac tromethamine inj |  | N1 |  |
J1890 | Cephalothin sodium injection |  | N1 |  |
J1931 | Laronidase injection |  | K2 |  | $23.64
J1940 | Furosemide injection |  | N1 |  |
J1945 | Lepirudin |  | K2 |  | $159.44
J1950 | Leuprolide acetate /3.75 MG |  | K2 |  | $452.58
J1956 | Levofloxacin injection |  | N1 |  |
J1960 | Levorphanol tartrate inj |  | N1 |  |
J1980 | Hyoscyamine sulfate inj |  | N1 |  |
J1990 | Chlordiazepoxide injection |  | N1 |  |
J2001 | Lidocaine injection |  | N1 |  |
J2010 | Lincomycin injection |  | N1 |  |
J2020 | Linezolid injection |  | K2 |  | $25.17
J2060 | Lorazepam injection |  | N1 |  |
J2150 | Mannitol injection |  | N1 |  |
J2170 | Mecasermin injection |  | K2 |  | $15.62
J2175 | Meperidine hydrochl /100 MG |  | N1 |  |
J2180 | Meperidine/promethazine inj |  | N1 |  |
J2185 | Meropenem | CH | N1 |  |
J2210 | Methylergonovin maleate inj |  | N1 |  |
J2248 | Micafungin sodium injection |  | K2 |  | $1.44
J2250 | Inj midazolam hydrochloride |  | N1 |  |
J2260 | Inj milrinone lactate/5 MG |  | N1 |  |
J2270 | Morphine sulfate injection |  | N1 |  |
J2271 | Morphine so4 injection 100mg |  | N1 |  |
J2275 | Morphine sulfate injection |  | N1 |  |
J2278 | Ziconotide injection |  | K2 |  | $6.46
J2280 | Inj, moxifloxacin 100 mg |  | N1 |  |
J2300 | Inj nalbuphine hydrochloride |  | N1 |  |
J2310 | Inj naloxone hydrochloride |  | N1 |  |
J2315 | Naltrexone, depot form |  | K2 |  | $1.87
J2320 | Nandrolone decanoate 50 MG |  | N1 |  |
J2321 | Nandrolone decanoate 100 MG |  | N1 |  |
J2322 | Nandrolone decanoate 200 MG |  | N1 |  |
J2323 | Natalizumab injection | NI | K2 |  | $7.51
J2325 | Nesiritide injection |  | K2 |  | $32.95
J2353 | Octreotide injection, depot |  | K2 |  | $99.04
J2354 | Octreotide inj, non-depot |  | N1 |  |
J2355 | Oprelvekin injection |  | K2 |  | $247.02
J2357 | Omalizumab injection |  | K2 |  | $17.12
J2360 | Orphenadrine injection |  | N1 |  |
J2370 | Phenylephrine hcl injection |  | N1 |  |
J2400 | Chloroprocaine hcl injection |  | N1 |  |
J2405 | Ondansetron hcl injection |  | K2 |  | $0.26
J2410 | Oxymorphone hcl injection |  | N1 |  |
J2425 | Palifermin injection |  | K2 |  | $11.24
J2430 | Pamidronate disodium /30 MG |  | K2 |  | $28.31
J2440 | Papaverin hcl injection |  | N1 |  |
J2460 | Oxytetracycline injection |  | N1 |  |
J2469 | Palonosetron HCl |  | K2 |  | $16.45
J2501 | Paricalcitol |  | N1 |  |
J2503 | Pegaptanib sodium injection |  | K2 |  | $1,035.69
J2504 | Pegademase bovine, 25 iu |  | K2 |  | $197.51
J2505 | Injection, pegfilgrastim 6mg |  | K2 |  | $2,145.12
J2510 | Penicillin g procaine inj |  | N1 |  |
J2513 | Pentastarch 10% solution | CH | K2 |  | $21.98
J2515 | Pentobarbital sodium inj |  | N1 |  |
J2540 | Penicillin g potassium inj |  | N1 |  |
J2543 | Piperacillin/tazobactam |  | N1 |  |
J2550 | Promethazine hcl injection |  | N1 |  |
J2560 | Phenobarbital sodium inj |  | N1 |  |
J2590 | Oxytocin injection |  | N1 |  |
J2597 | Inj desmopressin acetate |  | N1 |  |
J2650 | Prednisolone acetate inj |  | N1 |  |
J2670 | Totazoline hcl injection |  | N1 |  |
J2675 | Inj progesterone per 50 MG |  | N1 |  |
J2680 | Fluphenazine decanoate 25 MG |  | N1 |  |
J2690 | Procainamide hcl injection |  | N1 |  |
J2700 | Oxacillin sodium injeciton |  | N1 |  |
J2710 | Neostigmine methylslfte inj |  | N1 |  |
J2720 | Inj protamine sulfate/10 MG |  | N1 |  |
J2724 | Protein C concentrate | NI | K2 |  | $12.08
J2725 | Inj protirelin per 250 mcg |  | N1 |  |
J2730 | Pralidoxime chloride inj | CH | K2 |  | $35.20
J2760 | Phentolaine mesylate inj |  | N1 |  |
J2765 | Metoclopramide hcl injection |  | N1 |  |
J2770 | Quinupristin/dalfopristin |  | K2 |  | $126.44
J2778 | Ranibizumab injection | NI | K2 |  | $2,030.23
J2780 | Ranitidine hydrochloride inj |  | N1 |  |
J2783 | Rasburicase |  | K2 |  | $144.43
J2788 | Rho d immune globulin 50 mcg |  | K2 |  | $26.41
J2790 | Rho d immune globulin inj |  | K2 |  | $80.79
J2791 | Rhophylac injection | NI | K2 |  | $5.29
J2792 | Rho(D) immune globulin h, sd |  | K2 |  | $15.62
J2794 | Risperidone, long acting |  | K2 |  | $4.86
J2795 | Ropivacaine HCl injection |  | N1 |  |
J2800 | Methocarbamol injection |  | N1 |  |
J2805 | Sincalide injection |  | N1 |  |
J2810 | Inj theophylline per 40 MG |  | N1 |  |
J2820 | Sargramostim injection |  | K2 |  | $24.86
J2850 | Inj secretin synthetic human |  | K2 |  | $20.12
J2910 | Aurothioglucose injeciton |  | N1 |  |
J2916 | Na ferric gluconate complex |  | N1 |  |
J2920 | Methylprednisolone injection |  | N1 |  |
J2930 | Methylprednisolone injection |  | N1 |  |
J2940 | Somatrem injection |  | K2 |  | $168.90
J2941 | Somatropin injection |  | K2 |  | $48.52
J2950 | Promazine hcl injection |  | N1 |  |
J2993 | Reteplase injection |  | K2 |  | $841.28
J2995 | Inj streptokinase /250000 IU |  | K2 |  | $129.75
J2997 | Alteplase recombinant |  | K2 |  | $33.39
J3000 | Streptomycin injection |  | N1 |  |
J3010 | Fentanyl citrate injeciton |  | N1 |  |
J3030 | Sumatriptan succinate/6 MG |  | K2 |  | $61.27
J3070 | Pentazocine injection |  | N1 |  |
J3100 | Tenecteplase injection |  | K2 |  | $2,034.65
J3105 | Terbutaline sulfate inj |  | N1 |  |
J3120 | Testosterone enanthate inj |  | N1 |  |
J3130 | Testosterone enanthate inj |  | N1 |  |
J3140 | Testosterone suspension inj |  | N1 |  |
J3150 | Testosteron propionate inj |  | N1 |  |
J3230 | Chlorpromazine hcl injection |  | N1 |  |
J3240 | Thyrotropin injection |  | K2 |  | $834.18
J3243 | Tigecycline injection |  | K2 |  | $0.96
J3246 | Tirofiban HCl |  | K2 |  | $7.56
J3250 | Trimethobenzamide hcl inj |  | N1 |  |
J3260 | Tobramycin sulfate injection |  | N1 |  |
J3265 | Injection torsemide 10 mg/ml |  | N1 |  |
J3280 | Thiethylperazine maleate inj |  | N1 |  |
J3285 | Treprostinil injection |  | K2 |  | $55.36
J3301 | Triamcinolone acetonide inj |  | N1 |  |
J3302 | Triamcinolone diacetate inj |  | N1 |  |
J3303 | Triamcinolone hexacetonl inj |  | N1 |  |
J3305 | Inj trimetrexate glucoronate |  | K2 |  | $148.30
J3310 | Perphenazine injeciton |  | N1 |  |
J3315 | Triptorelin pamoate |  | K2 |  | $159.38
J3320 | Spectinomycn di-hcl inj | CH | N1 |  |
J3350 | Urea injection |  | K2 |  | $74.16
J3355 | Urofollitropin, 75 iu |  | K2 |  | $50.22
J3360 | Diazepam injection |  | N1 |  |
J3364 | Urokinase 5000 IU injection |  | N1 |  |
J3365 | Urokinase 250,000 IU inj |  | K2 |  | $453.41
J3370 | Vancomycin hcl injection |  | N1 |  |
J3396 | Verteporfin injection |  | K2 |  | $8.99
J3400 | Triflupromazine hcl inj |  | N1 |  |
J3410 | Hydroxyzine hcl injection |  | N1 |  |
J3411 | Thiamine hcl 100 mg |  | N1 |  |
J3415 | Pyridoxine hcl 100 mg |  | N1 |  |
J3420 | Vitamin b12 injection |  | N1 |  |
J3430 | Vitamin k phytonadione inj |  | N1 |  |
J3465 | Injection, voriconazole |  | K2 |  | $4.93
J3470 | Hyaluronidase injection |  | N1 |  |
J3471 | Ovine, up to 999 USP units |  | N1 |  |
J3472 | Ovine, 1000 USP units |  | K2 |  | $133.77
J3473 | Hyaluronidase recombinant |  | K2 |  | $0.40
J3475 | Inj magnesium sulfate |  | N1 |  |
J3480 | Inj potassium chloride |  | N1 |  |
J3485 | Zidovudine |  | N1 |  |
J3486 | Ziprasidone mesylate |  | N1 |  |
J3487 | Zoledronic acid |  | K2 |  | $205.76
J3488 | Reclast injection | NI | K2 |  | $220.81
J3490 | Drugs unclassified injection |  | N1 |  |
J3530 | Nasal vaccine inhalation |  | N1 |  |
J3590 | Unclassified biologics |  | N1 |  |
J7030 | Normal saline solution infus |  | N1 |  |
J7040 | Normal saline solution infus |  | N1 |  |
J7042 | 5% dextrose/normal saline |  | N1 |  |
J7050 | Normal saline solution infus |  | N1 |  |
J7060 | 5% dextrose/water |  | N1 |  |
J7070 | D5w infusion |  | N1 |  |
J7100 | Dextran 40 infusion |  | N1 |  |
J7110 | Dextran 75 infusion |  | N1 |  |
J7120 | Ringers lactate infusion |  | N1 |  |
J7130 | Hypertonic saline solution |  | N1 |  |
J7187 | Humate-P, inj |  | K2 |  | $0.88
J7189 | Factor viia |  | K2 |  | $1.15
J7190 | Factor viii |  | K2 |  | $0.75
J7191 | Factor VIII (porcine) | CH | N1 |  |
J7192 | Factor viii recombinant |  | K2 |  | $1.07
J7193 | Factor IX non-recombinant |  | K2 |  | $0.89
J7194 | Factor ix complex |  | K2 |  | $0.80
J7195 | Factor IX recombinant |  | K2 |  | $0.99
J7197 | Antithrombin iii injection |  | K2 |  | $1.82
J7198 | Anti-inhibitor |  | K2 |  | $1.42
J7308 | Aminolevulinic acid hcl top |  | K2 |  | $109.92
J7310 | Ganciclovir long act implant |  | K2 |  | $4,707.90
J7311 | Fluocinolone acetonide implt |  | K2 |  | $19,162.50
J7321 | Hyalgan/supartz inj per dose | NI | K2 |  | $101.81
J7322 | Synvisc inj per dose | NI | K2 |  | $178.11
J7323 | Euflexxa inj per dose | NI | K2 |  | $110.95
J7324 | Orthovisc inj per dose | NI | K2 |  | $174.50
J7340 | Metabolic active D/E tissue |  | K2 |  | $28.45
J7341 | Non-human, metabolic tissue | CH | N1 |  |
J7342 | Metabolically active tissue |  | K2 |  | $36.40
J7343 | Nonmetabolic act d/e tissue |  | K2 |  | $20.22
J7344 | Nonmetabolic active tissue |  | K2 |  | $94.53
J7345 | Non-human, non-metab tissue | CH | D5 |  |
J7346 | Injectable human tissue |  | K2 |  | $774.46
J7347 | Integra matrix tissue | NI | K2 |  | $33.14
J7348 | Tissuemend tissue | NI | K2 |  | $67.96
J7349 | Primatrix tissue | NI | K2 |  | $67.96
J7500 | Azathioprine oral 50mg |  | N1 |  |
J7501 | Azathioprine parenteral |  | K2 |  | $47.88
J7502 | Cyclosporine oral 100 mg |  | K2 |  | $3.52
J7504 | Lymphocyte immune globulin |  | K2 |  | $336.10
J7505 | Monoclonal antibodies |  | K2 |  | $977.75
J7506 | Prednisone oral |  | N1 |  |
J7507 | Tacrolimus oral per 1 MG |  | K2 |  | $3.69
J7509 | Methylprednisolone oral |  | N1 |  |
J7510 | Prednisolone oral per 5 mg |  | N1 |  |
J7511 | Antithymocyte globuln rabbit |  | K2 |  | $337.82
J7513 | Daclizumab, parenteral |  | K2 |  | $322.28
J7515 | Cyclosporine oral 25 mg |  | N1 |  |
J7516 | Cyclosporin parenteral 250mg |  | N1 |  |
J7517 | Mycophenolate mofetil oral |  | K2 |  | $2.66
J7518 | Mycophenolic acid |  | K2 |  | $2.41
J7520 | Sirolimus, oral |  | K2 |  | $7.50
J7525 | Tacrolimus injection |  | K2 |  | $138.64
J7599 | Immunosuppressive drug noc |  | N1 |  |
J7674 | Methacholine chloride, neb |  | N1 |  |
J7799 | Non-inhalation drug for DME |  | N1 |  |
J8501 | Oral aprepitant |  | K2 |  | $4.99
J8510 | Oral busulfan |  | K2 |  | $2.26
J8520 | Capecitabine, oral, 150 mg |  | K2 |  | $4.28
J8521 | Capecitabine, oral, 500 mg | CH | K2 |  | $14.19
J8530 | Cyclophosphamide oral 25 MG |  | N1 |  |
J8540 | Oral dexamethasone |  | N1 |  |
J8560 | Etoposide oral 50 MG |  | K2 |  | $29.46
J8597 | Antiemetic drug oral NOS |  | N1 |  |
J8600 | Melphalan oral 2 MG | CH | K2 |  | $4.14
J8610 | Methotrexate oral 2.5 MG |  | N1 |  |
J8650 | Nabilone oral |  | K2 |  | $16.80
J8700 | Temozolomide |  | K2 |  | $7.49
J9000 | Doxorubic hcl 10 MG vl chemo | CH | N1 |  |
J9001 | Doxorubicin hcl liposome inj |  | K2 |  | $396.15
J9010 | Alemtuzumab injection |  | K2 |  | $549.77
J9015 | Aldesleukin/single use vial |  | K2 |  | $788.84
J9017 | Arsenic trioxide |  | K2 |  | $34.44
J9020 | Asparaginase injection |  | K2 |  | $54.26
J9025 | Azacitidine injection |  | K2 |  | $4.35
J9027 | Clofarabine injection |  | K2 |  | $114.41
J9031 | Bcg live intravesical vac |  | K2 |  | $113.75
J9035 | Bevacizumab injection |  | K2 |  | $56.93
J9040 | Bleomycin sulfate injection |  | K2 |  | $42.93
J9041 | Bortezomib injection |  | K2 |  | $33.20
J9045 | Carboplatin injection |  | K2 |  | $7.44
J9050 | Carmus bischl nitro inj |  | K2 |  | $152.24
J9055 | Cetuximab injection |  | K2 |  | $49.43
J9060 | Cisplatin 10 MG injection |  | N1 |  |
J9062 | Cisplatin 50 MG injection | CH | N1 |  |
J9065 | Inj cladribine per 1 MG |  | K2 |  | $32.04
J9070 | Cyclophosphamide 100 MG inj |  | N1 |  |
J9080 | Cyclophosphamide 200 MG inj | CH | N1 |  |
J9090 | Cyclophosphamide 500 MG inj | CH | N1 |  |
J9091 | Cyclophosphamide 1.0 grm inj | CH | N1 |  |
J9092 | Cyclophosphamide 2.0 grm inj | CH | N1 |  |
J9093 | Cyclophosphamide lyophilized | CH | N1 |  |
J9094 | Cyclophosphamide lyophilized | CH | N1 |  |
J9095 | Cyclophosphamide lyophilized | CH | N1 |  |
J9096 | Cyclophosphamide lyophilized | CH | N1 |  |
J9097 | Cyclophosphamide lyophilized | CH | N1 |  |
J9098 | Cytarabine liposome |  | K2 |  | $412.21
J9100 | Cytarabine hcl 100 MG inj |  | N1 |  |
J9110 | Cytarabine hcl 500 MG inj | CH | N1 |  |
J9120 | Dactinomycin actinomycin d |  | K2 |  | $488.78
J9130 | Dacarbazine 100 mg inj | CH | N1 |  |
J9140 | Dacarbazine 200 MG inj | CH | N1 |  |
J9150 | Daunorubicin |  | K2 |  | $19.33
J9151 | Daunorubicin citrate liposom |  | K2 |  | $55.23
J9160 | Denileukin diftitox, 300 mcg |  | K2 |  | $1,386.59
J9165 | Diethylstilbestrol injection |  | N1 |  |
J9170 | Docetaxel |  | K2 |  | $310.85
J9175 | Elliotts b solution per ml |  | N1 |  |
J9178 | Inj, epirubicin hcl, 2 mg |  | K2 |  | $19.79
J9181 | Etoposide 10 MG inj |  | N1 |  |
J9182 | Etoposide 100 MG inj | CH | N1 |  |
J9185 | Fludarabine phosphate inj |  | K2 |  | $226.67
J9190 | Fluorouracil injection |  | N1 |  |
J9200 | Floxuridine injection |  | K2 |  | $54.63
J9201 | Gemcitabine HCl |  | K2 |  | $127.31
J9202 | Goserelin acetate implant |  | K2 |  | $192.29
J9206 | Irinotecan injection |  | K2 |  | $124.61
J9208 | Ifosfomide injection |  | K2 |  | $38.13
J9209 | Mesna injection |  | K2 |  | $7.97
J9211 | Idarubicin hcl injection |  | K2 |  | $302.42
J9212 | Interferon alfacon-1 |  | K2 |  | $4.62
J9213 | Interferon alfa-2a inj |  | K2 |  | $41.37
J9214 | Interferon alfa-2b inj |  | K2 |  | $13.92
J9215 | Interferon alfa-n3 inj |  | K2 |  | $9.03
J9216 | Interferon gamma 1-b inj |  | K2 |  | $306.66
J9217 | Leuprolide acetate suspnsion |  | K2 |  | $236.06
J9218 | Leuprolide acetate injeciton |  | K2 |  | $7.98
J9219 | Leuprolide acetate implant |  | K2 |  | $1,648.41
J9225 | Vantas implant |  | K2 |  | $1,412.46
J9226 | Supprelin LA implant | NI | K7 |  |
J9230 | Mechlorethamine hcl inj |  | K2 |  | $143.08
J9245 | Inj melphalan hydrochl 50 MG |  | K2 |  | $1,548.88
J9250 | Methotrexate sodium inj |  | N1 |  |
J9260 | Methotrexate sodium inj | CH | N1 |  |
J9261 | Nelarabine injection |  | K2 |  | $86.84
J9263 | Oxaliplatin |  | K2 |  | $9.15
J9264 | Paclitaxel protein bound |  | K2 |  | $8.79
J9265 | Paclitaxel injection |  | K2 |  | $14.57
J9266 | Pegaspargase/singl dose vial |  | K2 |  | $2,080.19
J9268 | Pentostatin injection |  | K2 |  | $2,051.68
J9270 | Plicamycin (mithramycin) inj |  | K2 |  | $172.41
J9280 | Mitomycin 5 MG inj |  | K2 |  | $14.39
J9290 | Mitomycin 20 MG inj | CH | K2 |  | $57.56
J9291 | Mitomycin 40 MG inj | CH | K2 |  | $115.11
J9293 | Mitoxantrone hydrochl/5 MG |  | K2 |  | $107.96
J9300 | Gemtuzumab ozogamicin |  | K2 |  | $2,411.98
J9303 | Panitumumab injection | NI | K2 |  | $83.15
J9305 | Pemetrexed injection |  | K2 |  | $44.49
J9310 | Rituximab cancer treatment |  | K2 |  | $504.40
J9320 | Streptozocin injection |  | K2 |  | $146.93
J9340 | Thiotepa injection |  | K2 |  | $41.12
J9350 | Topotecan |  | K2 |  | $859.62
J9355 | Trastuzumab |  | K2 |  | $58.51
J9357 | Valrubicin, 200 mg |  | K2 |  | $77.96
J9360 | Vinblastine sulfate inj |  | N1 |  |
J9370 | Vincristine sulfate 1 MG inj |  | N1 |  |
J9375 | Vincristine sulfate 2 MG inj | CH | N1 |  |
J9380 | Vincristine sulfate 5 MG inj | CH | N1 |  |
J9390 | Vinorelbine tartrate/10 mg |  | K2 |  | $21.41
J9395 | Injection, Fulvestrant |  | K2 |  | $80.60
J9600 | Porfimer sodium |  | K2 |  | $2,532.53
J9999 | Chemotherapy drug |  | N1 |  |
L8600 | Implant breast silicone/eq |  | N1 |  |
L8603 | Collagen imp urinary 2.5 ml |  | N1 |  |
L8606 | Synthetic implnt urinary 1ml |  | N1 |  |
L8609 | Artificial cornea |  | N1 |  |
L8610 | Ocular implant |  | N1 |  |
L8612 | Aqueous shunt prosthesis |  | N1 |  |
L8613 | Ossicular implant |  | N1 |  |
L8614 | Cochlear device |  | N1 |  |
L8630 | Metacarpophalangeal implant |  | N1 |  |
L8631 | MCP joint repl 2 pc or more |  | N1 |  |
L8641 | Metatarsal joint implant |  | N1 |  |
L8642 | Hallux implant |  | N1 |  |
L8658 | Interphalangeal joint spacer |  | N1 |  |
L8659 | Interphalangeal joint repl |  | N1 |  |
L8670 | Vascular graft, synthetic |  | N1 |  |
L8682 | Implt neurostim radiofq rec |  | N1 |  |
L8690 | Aud osseo dev, int/ext comp |  | J7 |  |
L8699 | Prosthetic implant NOS |  | N1 |  |
P9041 | Albumin (human),5%, 50ml | CH | K2 | 0.3413 | $21.74
P9045 | Albumin (human), 5%, 250 ml | CH | K2 | 1.0987 | $69.98
P9046 | Albumin (human), 25%, 20 ml | CH | K2 | 0.4118 | $26.23
P9047 | Albumin (human), 25%, 50ml | CH | K2 | 1.1362 | $72.37
Q0163 | Diphenhydramine HCl 50mg |  | N1 |  |
Q0164 | Prochlorperazine maleate 5mg |  | N1 |  |
Q0166 | Granisetron HCl 1 mg oral |  | K2 |  | $49.96
Q0167 | Dronabinol 2.5mg oral |  | N1 |  |
Q0169 | Promethazine HCl 12.5mg oral |  | N1 |  |
Q0171 | Chlorpromazine HCl 10mg oral |  | N1 |  |
Q0173 | Trimethobenzamide HCl 250mg |  | N1 |  |
Q0174 | Thiethylperazine maleate 10mg |  | N1 |  |
Q0175 | Perphenazine 4mg oral |  | N1 |  |
Q0177 | Hydroxyzine pamoate 25mg |  | N1 |  |
Q0179 | Ondansetron HCl 8mg oral |  | K2 |  | $18.37
Q0180 | Dolasetron mesylate oral |  | K2 |  | $43.77
Q0515 | Sermorelin acetate injection |  | K2 |  | $1.74
Q1003 | Ntiol category 3 |  | L6 |  | $50.00
Q2004 | Bladder calculi irrig sol |  | N1 |  |
Q2009 | Fosphenytoin, 50 mg |  | K2 |  | $5.76
Q2017 | Teniposide, 50 mg |  | K2 |  | $280.26
Q3025 | IM inj interferon beta 1-a |  | K2 |  | $118.84
Q4079 | Natalizumab injection | CH | D5 |  |
Q4083 | Hyalgan/supartz inj per dose | CH | D5 |  |
Q4084 | Synvisc inj per dose | CH | D5 |  |
Q4085 | Euflexxa inj per dose | CH | D5 |  |
Q4086 | Orthovisc inj per dose | CH | D5 |  |
Q4087 | Octagam injection | CH | D5 |  |
Q4088 | Gammagard liquid injection | CH | D5 |  |
Q4089 | Rhophylac injection | CH | D5 |  |
Q4090 | Hepagam B IM injection | CH | D5 |  |
Q4091 | Flebogamma injection | CH | D5 |  |
Q4092 | Gamunex injection | CH | D5 |  |
Q4095 | Reclast injection | CH | D5 |  |
Q9945 | LOCM <=149 mg/ml iodine, 1ml | CH | D5 |  |
Q9946 | LOCM 150-199mg/ml iodine,1ml | CH | D5 |  |
Q9947 | LOCM 200-249mg/ml iodine,1ml | CH | D5 |  |
Q9948 | LOCM 250-299mg/ml iodine,1ml | CH | D5 |  |
Q9949 | LOCM 300-349mg/ml iodine,1ml | CH | D5 |  |
Q9950 | LOCM 350-399mg/ml iodine,1ml | CH | D5 |  |
Q9951 | LOCM >= 400 mg/ml iodine,1ml | CH | N1 |  |
Q9952 | Inj Gad-base MR contrast,1ml | CH | D5 |  |
Q9953 | Inj Fe-based MR contrast,1ml | CH | N1 |  |
Q9954 | Oral MR contrast, 100 ml | CH | N1 |  |
Q9955 | Inj perflexane lip micros,ml | CH | N1 |  |
Q9956 | Inj octafluoropropane mic,ml | CH | N1 |  |
Q9957 | Inj perflutren lip micros,ml | CH | N1 |  |
Q9958 | HOCM <=149 mg/ml iodine, 1ml |  | N1 |  |
Q9959 | HOCM 150-199mg/ml iodine,1ml |  | N1 |  |
Q9960 | HOCM 200-249mg/ml iodine,1ml |  | N1 |  |
Q9961 | HOCM 250-299mg/ml iodine,1ml |  | N1 |  |
Q9962 | HOCM 300-349mg/ml iodine,1ml |  | N1 |  |
Q9963 | HOCM 350-399mg/ml iodine,1ml |  | N1 |  |
Q9964 | HOCM>= 400mg/ml iodine, 1ml |  | N1 |  |
Q9965 | LOCM 100-199mg/ml iodine,1ml | NI | N1 |  |
Q9966 | LOCM 200-299mg/ml iodine,1ml | NI | N1 |  |
Q9967 | LOCM 300-399mg/ml iodine,1ml | NI | N1 |  |
V2630 | Anter chamber intraocul lens |  | N1 |  |
V2631 | Iris support intraoclr lens |  | N1 |  |
V2632 | Post chmbr intraocular lens |  | N1 |  |
V2785 | Corneal tissue processing |  | F4 |  |
V2790 | Amniotic membrane |  | N1 |  |
Note: The Medicare program payment is 80 percent of the total payment amount and beneficiary coinsurance is 20 percent of the total payment amount, except for screening flexible sigmoidoscopies and screening colonoscopies for which the program payment is 75 percent and the beneficiary coinsurance is 25 percent.

[FR Doc. 08-671 Filed 2-19-08; 8:45 am]

BILLING CODE 4120-01-P